DEPARTMENT OF COMMERCE

National Oceanic and Atmospheric Administration

15 CFR Part 902

50 CFR Parts 622 and 640

[Docket No. 120403251-3290-01]

RIN 0648-BB70

Fisheries of the Caribbean, Gulf of Mexico, and South Atlantic

AGENCY: National Marine Fisheries Service (NMFS), National Oceanic and Atmospheric Administration (NOAA), Commerce.

ACTION: Interim final rule; request for comments.

SUMMARY: NMFS hereby reorganizes the regulations implementing the fishery management plans (FMPs) for the following domestic fisheries in the Caribbean, Gulf of Mexico, and South Atlantic: Caribbean coral, Caribbean reef fish, Caribbean spiny lobster, Caribbean queen conch, Gulf red drum, Gulf reef fish, Gulf shrimp, Gulf coral, Gulf and South Atlantic coastal migratory pelagics, Gulf and South Atlantic spiny lobster, South Atlantic coral, South Atlantic snapper-grouper, South Atlantic shrimp, Atlantic dolphin and wahoo, South Atlantic golden crab, and South Atlantic pelagic sargassum. This interim final rule does not create any new rights or obligations; it reorganizes the existing regulatory requirements in the Code of Federal Regulations in a more logical format, i.e., by fishery, so constituents and other interested parties can locate regulatory requirements applicable to them more easily. As a part of this reorganization, the implementing regulations for the Gulf and South Atlantic spiny lobster FMP have been consolidated into the same CFR part as all other regulations implementing FMPs in the Caribbean, Gulf of Mexico, and South Atlantic. This interim final rule also amends references to Paperwork Reduction Act (PRA) collection-of-information requirements to reflect the reorganization. Additionally, this interim final rule also amends references to incorporation by reference (IBR) to reflect updated regulatory references for the Florida Administrative Code. The intended effect of this interim final rule is to improve the organization of these regulations and make them easier for constituents and others to use.

DATES: This interim final rule is effective April 17, 2013, except:

1. The addition of §§ 622.39(a)(1)(vii) and 622.41(q), and the suspension of §§ 622.39(a)(1)(vi) and 622.41(b), are effective April 17, 2013 through May 15, 2013.

2. The addition of § 622.193(n)(3) and the suspension of § 622.193(n)(1) are effective April 17, 2013 through May 6, 2013.

3. The addition of § 622.39(c)(3) and the suspension of § 622.39(c)(1) are effective April 17, 2013 through September 23, 2013.

4. In § 622.2, the addition of definitions for “Off Alabama”, “Off Louisiana”, and “Off Mississippi” is effective April 17, 2013 through September 23, 2013.

Comments may be submitted through May 17, 2013. The IBR of certain publications listed in the rule is approved by the Director of the Federal Register as of April 17, 2013.

ADDRESSES: You may submit comments on this document, identified by “NOAA-NMFS-2012-0250”, by any of the following methods:

• Electronic Submission: Submit all electronic public comments via the Federal e-Rulemaking Portal. Go to www.regulations.gov/#!docketDetail;D=NOAA-NMFS-2012-0250, click the “Comment Now!” icon, complete the required fields, and enter or attach your comments.

• Mail: Submit written comments to Scott Sandorf, Southeast Regional Office, NMFS, 263 13th Avenue South, St. Petersburg, FL 33701.

Instructions: Comments are specificaly sought on the structure and format of the reorganization, not the regulations currently in effect, which are outside the scope of this rulemaking. Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of documents supporting this interim final rule may be obtained from the Southeast Regional Office Web site at http://sero.nmfs.noaa.gov.

FOR FURTHER INFORMATION CONTACT: Scott Sandorf, telephone: 727-824-5305 or email: Scott.Sandorf@noaa.gov.

SUPPLEMENTARY INFORMATION:

Background

The regulations implementing the FMPs approved under the Magnuson-Stevens Fishery Conservation and Management Act (Magnuson-Stevens Act) for the domestic fisheries in the Caribbean, Gulf of Mexico, and South Atlantic were last reorganized by NMFS in 1996 (61 FR 47821, September 11, 1996). Since then, Federal regulations for most fisheries have become more complex, and new fisheries have come under Federal management. This has significantly increased the length of the overall regulations and has made it more difficult for constituents and other users to locate applicable provisions of the regulations and to use the regulations most effectively. Currently, these regulations are organized by the categories of management measures applicable to all or most fisheries. For example, bag and possession limits for all of these fisheries are located under a single regulatory section heading, and the same is true for other categories of management measures, e.g., minimum size limits, seasonal harvest limitations etc. In some cases, even after finding the appropriate regulatory section heading, a user must sort through numerous pages of regulatory text to find the regulatory provision specific to his or her fishery. This can be time consuming and confusing. In addition, some of the current regulatory headings are not sufficiently descriptive, e.g., “Species specific limitations”, or are rather broad, e.g., “Limitations on traps or pots.” NMFS has determined that the current regulations need to be reorganized to make them more user-friendly.

This interim final rule reorganizes the regulations for the 15 fisheries currently in part 622 and reorganizes and incorporates the part 640 regulations (Gulf and South Atlantic spiny lobster) into part 622. With this incorporation, all Magnuson-Stevens Act fisheries regulations applicable to the Caribbean, Gulf of Mexico, and South Atlantic are now located in a single location, part 622.

This interim final rule reorganizes the part 622 regulations by fishery rather than by category of management measures. Regulations specific to each fishery are contained in a separate subpart within part 622. This allows a constituent interested in the regulations for a specific fishery to go directly to a subpart of the regulations that contains all regulations specific to that fishery without sorting through regulations applicable to the other 15 fisheries. NMFS has determined that this organization will be much more efficient for the majority of constituents as well as other users. It should be noted that, as is the case with the current regulations, some regulations that apply broadly to numerous fisheries, e.g., purpose and scope, vessel identification, etc., are located in “General Provisions” within subpart A and, and where applicable, are in addition to the regulations contained in the specific fishery subparts. This was necessary to avoid unnecessary duplication.

To further improve the regulations, this interim final rule uses more section headings to guide the users, makes some section headings more descriptive, and eliminates some outdated regulatory text. In some cases, minor revisions to regulatory text have been made for consistency or to improve clarity. This interim final rule does not add any regulatory requirements.

Periodically NMFS reviews the regulations and removes outdated regulatory text that is no longer relevant. In this interim final rule, the following outdated text, referenced here as to its section locations within the prior version of part 622, has been removed: In § 622.4, text related to South Atlantic rock shrimp provisions that expired in 2010 and text related to Eastern Gulf reef fish bottom longline endorsement initial eligibility, issuance, and appeals that is no longer relevant; in § 622.19, text regarding South Atlantic rock shrimp limited access endorsements and special permit application provisions that expired in 2010; in § 622.20 outdated text related to initial Gulf grouper and tilefishes IFQ account set up information for initial shareholders and dealers; in § 622.37, a black sea bass size limit that expired after 2007; and in § 622.49, text related to annual catch limits and accountability measures that expired in 2010 or 2011.

This interim final rule also slightly revises some terminology to provide consistency and clarity and to reduce redundancy. As a consequence of incorporating part 640 regulations into part 622, it was necessary to slightly revise the definitions of “Carapace length” and “Off Florida” to resolve minor differences between these definitions in the two parts, and account for the two definitions of “Import”. This interim final rule uses the definition of “Carapace length” previously found in part 640 because that definition was recently updated to conform with Florida law and is less technical and easier for most users to understand. Although the defining coordinates for the two definitions of “Off Florida” are identical, this interim rule retains the part 622 definition for clarity. In this interim final rule the two definitions of “Import” are combined into one definition that maintains the geographical distinctions of the two separate definitions, with one applicable to subpart R, Spiny Lobster Fishery of the Gulf of Mexico and South Atlantic, and the other applicable to Subpart T, Spiny Lobster Fishery of Puerto Rico and U.S. Virgin Islands.

Additionally, this rule revises a number of IBRs within the Federal regulations. The Florida Administrative Code has been reorganized and this rule updates the existing references in 50 CFR part 622 to reflect the renumbering. This interim final rule revises the location of the existing IBR.

This interim final rule also resolves two minor errors that occurred in prior rulemakings. First, prior to this reorganization of part 622, § 622.48, “Adjustment of management measures”, contained two paragraphs listing items for Caribbean corals that could be adjusted via framework procedures, §§ 622.48(a) and 622.48(o), that were mostly redundant. As part of a prior rulemaking (76 FR 82414, December 30, 2011), § 622.48(a) was supposed to have been removed but was inadvertently retained. This interim final rule resolves that error by removing that old paragraph, § 622.48(a) and has incorporated the old § 622.48(o) as § 622.474(a) in this newly reorganized part 622. Second, in the 1996 reorganization of part 622 (61 FR 34930, July 3, 1996), § 622.46(a), relating to prevention of gear conflict, was applied to all fisheries governed by part 622. Prior to the 1996 reorganization, the paragraph applied only to the Gulf shrimp fishery. This interim final rule corrects the error made in the 1996 reorganization by restricting application of that paragraph to the Gulf shrimp fishery in newly reorganized § 622.59(a). This interim rule's resolution of these two errors results in a slightly less restrictive regulatory effect.

NMFS previously published in the Federal Register a temporary rule implementing management measures for Gulf of Mexico gray triggerfish (77 FR 67303, November 9, 2012), an emergency rule implementing management measures for South Atlantic yellowtail snapper (77 FR 66744, November 7, 2012), and an emergency rule implementing management measures for Gulf of Mexico red snapper (78 FR 17882, March 25, 2013). Those rules added and suspended certain paragraphs within part 622 (see DATES section). Both added and suspended paragraphs are included in the regulatory text in this temporary final rule within instruction number 3, which revises part 622. Then the paragraphs that are suspended through these emergency and temporary rules are suspended in the regulatory text in this temporary final rule within instruction number 4.

Classification

This interim final rule has been determined to be not significant for purposes of Executive Order 12866.

This interim final rule contains collection-of-information requirements subject to the PRA. These collection-of-information requirements have already been approved by the Office of Management and Budget (OMB) and are not changed by this rule. This interim final rule does not implement any new regulatory requirements; it reorganizes existing regulatory requirements, including collection-of-information requirements, within part 622. Section 3507(c)(B)(i) of the PRA requires that agencies inventory and display a current control number assigned by the Director, OMB, for each agency information collection. 15 CFR 902.1(b) identifies the location of NOAA regulations for which OMB approval numbers have been issued. Because this rule reorganizes 50 CFR part 622 and, therefore, changes the location of NOAA regulations for which OMB numbers have been issued, 15 CFR 902.1(b) is revised to reference correctly the new sections resulting from the reorganization.

Notwithstanding any other provision of the law, no person is required to respond to, nor shall any person be subject to a penalty for failure to comply with a collection of information, subject to the requirement of the PRA, unless that collection of information displays a currently valid OMB control number.

This interim final rule does not add or create any new rights or obligations; it only reorganizes existing regulatory requirements into a format that makes the regulations easier for constituents and others, including agency personnel, to use. The Assistant Administrator for Fisheries, NOAA, (AA), finds good cause under 5 U.S.C. 553(b)(B) to waive prior notice and the opportunity for public comment. Providing prior notice and the opportunity for public comment would be contrary to the public interest as delaying its implementation would delay implementation of a reorganization of existing regulations into a format that enhances the public's ability to locate and understand the regulatory requirements applicable to them. Providing prior notice and the opportunity for public comment would also be impracticable, because rulemaking would continue under the old organization of the regulations during the comment period and could cause confusion for constituents and for fishery managers. For the same reasons, the AA, under 5 U.S.C. 553(d)(3), for good cause waives the requirement to delay for 30 days the effectiveness of this rule.

Because prior notice and opportunity for public comment are not required for this rule by 5 U.S.C. 553 or any other law, the analytical requirements of the Regulatory Flexibility Act, 5 U.S.C. 601 et seq. are inapplicable. Accordingly, no Regulatory Flexibility Analysis is required and none has been prepared.

If any significant, inadvertent regulatory effects are identified during public comment, appropriate changes will be made in the final rule.

List of Subjects

15 CFR Part 902

Reporting and recordkeeping requirements.

50 CFR Part 622

Fisheries, Fishing, Incorporation by reference, Puerto Rico, Reporting and recordkeeping requirements, Virgin Islands.

50 CFR Part 640

Fisheries, Fishing, Reporting and recordkeeping requirements.

Dated: April 3, 2013.
Alan D. Risenhoover,
Director, Office of Sustainable Fisheries, performing the functions and duties of the Deputy Assistant Administrator for Regulatory Programs, National Marine Fisheries Service.

For the reasons set out in the preamble, 15 CFR chapter IX and 50 CFR chapter VI are amended as follows:

15 CFR Chapter IX—[Amended]

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, paragraph (b) table, in the entries for 50 CFR, the entries “640.4” and “640.6” column are removed; the entries “622.4”, “622.5”, “622.6”, and “622.20” are revised; and new entries “622.21”, “622.22”, “622.26”, “622.27”, “622.28”, “622.50, “622.51”, “622.51(a)(2)”, “622.51(a)(3)”, “622.51(b)”, “622.52”, “622.53”, “622.70”, “622.71”, “622.75”, “622.90(a)”, “622.170”, “622.170(c)”, “622.171”, “622.172”, “622.176”, “622.176”(a)(2)”, “622.176(b)(2)”, “622.176(c)”, “622.176(d)”, “622.177”, “622.178”, “622.192(h)”, “622.200”, “622.200(c)”, “622.201”, “622.203”, “622.203(a)”, “622.203(b)”, “622.204”, “622.205”, “622.207”, “622.220”, “622.221”, “622.225”, “622.240”, “622.240(b)”, “622.241”, “622.242”, “622.242(b)”, “622.243”, “622.244”, “622.270”, “622.270(d)”, “622.271”, “622.271(c)”, “622.300”, “622.370”, “622.371”, “622.372”, “622.373”, “622.374”, “622.374(c)”, “622.376”, “622.400”, “622.402”, “622.430”, “622.450”, “622.470”, “622.473” are added in numerical order to read as follows:

§ 902.1 OMB control numbers assigned pursuant to the Paperwork Reduction Act.

* * * * *

(b) * * *

CFR part or section where the information collection requirement is located | Current OMB control number (all numbers begin with 0648-)
| * * * * *
50 CFR
| * * * * *
622.4 | −0013 and −0205
622.5 | −0016
622.6 | −0358
622.20 | −0205
622.21 | −0551
622.22 | −0551
622.26 | −0013 and −0016
622.27 | −0593
622.28 | −0544
622.50 | −0205
622.51 | −0016
622.51(a)(2) | −0543
622.51(a)(3) | −0542
622.51(b) | −0013
622.52 | −0593
622.53 | −0345
622.70 | −0205
622.71 | −0016
622.75 | −0205
622.90(a) | −0013
622.170 | −0205
622.170(c) | −0013
622.171 | −0205
622.172 | −0013 and −0551
622.176 | −0016
622.176(a)(2) | −0593
622.176(b)(2) | −0593
622.176(c) | −0013
622.176(d) | −0593
622.177 | −0359
622.178 | −0603
622.192(h) | −0365
622.200 | −0205
622.200(c) | −0013
622.201 | −0205
622.203 | −0016
622.203(a) | −0591
622.203(b) | −0013
622.204 | −0593
622.205 | −0544
622.207 | −0345
622.220 | −0205
622.221 | −0016
622.225 | −0205
622.240 | −0205
622.240(b) | −0013
622.241 | −0205
622.242 | −0016
622.242(b) | −0013
622.243 | −0359
622.244 | −0593
622.270 | −0205
622.270(d) | −0013
622.271 | −0016
622.271(c) | −0013
622.300 | −0593
622.370 | −0205
622.371 | −0205
622.372 | −0205
622.373 | −0205
622.374 | −0016
622.374(c) | −0013
622.376 | −0359
622.400 | −0205
622.402 | −0358 and −0359
622.430 | −0359
622.450 | −0359
622.470 | −0205
622.473 | −0013
| * * * * *

50 CFR Chapter VI—[Amended]

3. Part 622 is revised to read as follows:

PART 622—FISHERIES OF THE CARIBBEAN, GULF OF MEXICO, AND SOUTH ATLANTIC

Subpart A—General Provisions
Sec.
622.1 Purpose and scope.
622.2 Definitions and acronyms.
622.3 Relation to other laws and regulations.
622.4 Permits and fees—general.
622.5 Recordkeeping and reporting—general.
622.6 Vessel identification.
622.7 Fishing years.
622.8 Quotas—general.
622.9 Prohibited gear and methods—general.
622.10 Landing fish intact—-general.
622.11 Bag and possession limits—general applicability.
622.12 Annual catch limits (ACLs) and accountability measures (AMs) for Caribbean island management areas/Caribbean EEZ.
622.13 Prohibitions—general.
622.14 Area closures related to the Deepwater Horizon oil spill.
622.15 Notice regarding area closures to protect corals.
622.16 Notice regarding South Atlantic special management zones (SMZs).
622.17 Notice regarding seasonal/area closures to protect Gulf reef fish.
Subpart B—Reef Fish Resources of the Gulf of Mexico
622.20 Permits and endorsements.
622.21 Individual fishing quota (IFQ) program for Gulf red snapper.
622.22 Individual fishing quota (IFQ) program for Gulf groupers and tilefishes.
622.23-622.24 [Reserved]
622.25 Exemptions for the Gulf groundfish trawl fishery.
622.26 Recordkeeping and reporting.
622.27 At-sea observer coverage.
622.28 Vessel monitoring systems (VMSs).
622.29 Conservation measures for protected resources.
622.30 Required fishing gear.
622.31 Buoy gear identification.
622.32 Prohibited gear and methods.
622.33 Prohibited species.
622.34 Seasonal and area closures designed to protect Gulf reef fish.
622.35 Gear restricted areas.
622.36 Seasonal harvest limitations.
622.37 Size limits.
622.38 Bag and possession limits.
622.39 Quotas.
622.40 Restrictions on sale/purchase.
622.41 Annual catch limits (ACLs), annual catch targets (ACTs), and accountability measures (AMs).
622.42 Adjustment of management measures.
622.43 Commercial trip limits.
622.44 Prohibitions.
Subpart C—Shrimp Fishery of the Gulf of Mexico
622.50 Permits and fees.
622.51 Recordkeeping and reporting.
622.52 At-sea observer coverage.
622.53 Bycatch reduction device (BRD) requirements.
622.54 Prohibited gear and methods.
622.55 Closed areas.
622.56 Size limits.
622.57 Quotas.
622.58 Annual catch limits (ACLs), annual catch targets (ACTs), and accountability measures (AMs).
622.59 Prevention of gear conflicts.
622.60 Adjustment of management measures.
622.61 Prohibitions.
Subpart D—Coral and Coral Reefs of the Gulf of Mexico
622.70 Permits.
622.71 Recordkeeping and reporting.
622.72 Prohibited gear and methods.
622.73 Prohibited species.
622.74 Area closures to protect Gulf corals.
622.75 Harvest limitations.
622.76 Restrictions on sale/purchase.
622.77 Adjustment of management measures.
622.78 Prohibitions.
Subpart E—Red Drum Fishery of the Gulf of Mexico
622.90 Recordkeeping and reporting.
622.91 Prohibited species.
622.92 Adjustment of management measures.
622.93 Prohibitions.
Subparts F-H [Reserved]
Subpart I—Snapper-Grouper Fishery of the South Atlantic Region
622.170 Permits and endorsements.
622.171 South Atlantic snapper-grouper limited access.
622.172 Wreckfish individual transferable quota (ITQ) system.
622.173-622.175 [Reserved]
622.176 Recordkeeping and reporting.
622.177 Gear identification.
622.178 At-sea observer coverage.
622.179 Conservation measures for protected species.
622.180 Prohibited gear and methods.
622.181 Prohibited and limited-harvest species.
622.182 Gear-restricted areas.
622.183 Area and seasonal closures.
622.184 Seasonal harvest limitations.
622.185 Size limits.
622.186 Landing fish intact.
622.187 Bag and possession limits.
622.188 Required gear, authorized gear, and unauthorized gear.
622.189 Restrictions and requirements for sea bass pots.
622.190 Quotas.
622.191 Commercial trip limits.
622.192 Restrictions on sale/purchase.
622.193 Annual catch limits (ACLs), annual catch targets (ACTs), and accountability measures (AMs).
622.194 Adjustment of management measures.
622.195 Prohibitions.
Subpart J—Shrimp Fishery of the South Atlantic Region
622.200 Permits.
622.201 South Atlantic rock shrimp limited access.
622.202 [Reserved]
622.203 Recordkeeping reporting.
622.204 At-sea observer coverage.
622.205 Vessel monitoring systems (VMSs).
622.206 Area and seasonal closures.
622.207 Bycatch Reduction Device (BRD) requirements.
622.208 Minimum mesh size applicable to rock shrimp off Georgia and Florida.
622.209 Restrictions on sale/purchase.
622.210 Adjustment of management measures.
622.211 Prohibitions.
Subpart K—Coral, Coral Reefs, and Live/Hard Bottom Habitats of the South Atlantic Region
622.220 Permits.
622.221 Recordkeeping and reporting.
622.222 Prohibited gear and methods.
622.223 Prohibited species.
622.224 Area closures to protect South Atlantic corals.
622.225 Harvest limitations.
622.226 Restrictions on sale/purchase.
622.227 Adjustment of management measures.
622.228 Prohibitions.
Subpart L—Golden Crab Fishery of the South Atlantic Region
622.240 Permits.
622.241 South Atlantic golden crab controlled access.
622.242 Recordkeeping and reporting.
622.243 Gear identification.
622.244 At-sea observer coverage.
622.245 Prohibited species.
622.246 Area closures.
622.247 Landing golden crab intact.
622.248 Authorized gear.
622.249 Gear restrictions and requirements.
622.250 Restrictions on sale/purchase.
622.251 Annual catch limits (ACLs), annual catch targets (ACTs), and accountability measures (AMs).
622.252 Adjustment of management measures.
622.253 Prohibitions.
Subpart M—Dolphin and Wahoo Fishery Off the Atlantic States
622.270 Permits.
622.271 Recordkeeping and reporting.
622.272 Authorized gear.
622.273 Conservation measures for protected species.
622.274 Pelagic longline closed areas.
622.275 Size limits.
622.276 Landing fish intact.
622.277 Bag and possession limits.
622.278 Commercial trip limits.
622.279 Restrictions on sale/purchase.
622.280 Annual catch limits (ACLs) and accountability measures (AMs).
622.281 Adjustment of management measures.
622.282 Prohibitions.
Subpart N—Pelagic Sargassum Habitat of the South Atlantic Region
622.300 At-sea observer coverage.
622.301 Area and seasonal restrictions.
622.302 Minimum mesh size.
622.303 Quotas.
622.304 Prohibitions.
Subparts O-P [Reserved]
Subpart Q—Coastal Migratory Pelagic Resources (Gulf of Mexico and South Atlantic)
622.370 Permits.
622.371 Limited access system for commercial vessel permits for king mackerel.
622.372 Limited access system for king mackerel gillnet permits applicable in the southern Florida west coast subzone.
622.373 Limited access system for charter vessel/headboat permits for Gulf coastal migratory pelagic fish.
622.374 Recordkeeping and reporting.
622.375 Authorized and unauthorized gear.
622.376 Gear identification.
622.377 Gillnet restrictions.
622.378 Seasonal closures of the Gulf group king mackerel gillnet fishery.
622.379 Purse seine incidental catch allowance.
622.380 Size limits.
622.381 Landing fish intact.
622.382 Bag and possession limits.
622.383 Limited harvest species.
622.384 Quotas.
622.385 Commercial trip limits.
622.386 Restrictions on sale/purchase.
622.387 Prevention of gear conflicts.
622.388 Annual catch limits (ACLs), annual catch targets (ACTs), and accountability measures (AMs).
622.389 Adjustment of management measures.
622.390 Prohibitions.
Subpart R—Spiny Lobster Fishery of the Gulf of Mexico and South Atlantic
622.400 Permits and fees.
622.401 Recordkeeping and reporting. [Reserved]
622.402 Vessel and gear identification.
622.403 Seasons.
622.404 Prohibited gear and methods.
622.405 Trap construction specifications and tending restrictions.
622.406 Areas closed to lobster trap gear.
622.407 Minimum size limits and other harvest limitations.
622.408 Bag/possession limits.
622.409 Spiny lobster import prohibitions.
622.410 Restrictions within Tortugas marine reserves.
622.411 Annual catch limits (ACLs), annual catch targets (ACTs), and accountability measures (AMs).
622.412 Adjustment of management measures.
622.413 Incorporation by reference.
622.414 Prohibitions.
622.415 Limited exemption regarding harvest in waters of a foreign nation.
Subpart S—Reef Fish Fishery of Puerto Rico and the U.S. Virgin Islands
622.430 Gear identification.
622.431 Trap construction specifications and tending restrictions.
622.432 Anchoring restriction.
622.433 Prohibited gear and methods.
622.434 Prohibited species.
622.435 Seasonal and area closures.
622.436 Size limits.
622.437 Bag limits.
622.438 Restrictions on sale/purchase.
622.439 Annual catch limits (ACLs), annual catch targets (ACTs), and accountability measures (AMs).
622.440 Adjustment of management measures.
622.441 Prohibitions.
Subpart T—Spiny Lobster Fishery of Puerto Rico and the U.S. Virgin Islands
622.450 Gear identification.
622.451 Trap construction specifications and tending restrictions.
622.452 Prohibited gear and methods.
622.453 Prohibition on harvest of egg-bearing spiny lobster.
622.454 Minimum size limit.
622.455 Landing spiny lobster intact.
622.456 Bag limit.
622.457 Annual catch limits (ACLs), annual catch targets (ACTs), and accountability measures (AMs).
622.458 Caribbean spiny lobster import prohibitions.
622.459 Adjustment of management measures.
622.460 Prohibitions.
Subpart U—Corals and Reef Associated Plants and Invertebrates of Puerto Rico and the U.S. Virgin Islands
622.470 Permits.
622.471 Prohibited gear and methods.
622.472 Prohibited species.
622.473 Restrictions on sale/purchase.
622.474 Adjustment of management measures.
622.475 Prohibitions.
Subpart V—Queen Conch Resources of Puerto Rico and the U.S. Virgin Islands
622.490 Prohibited gear and methods.
622.491 Seasonal and area closures.
622.492 Minimum size limit.
622.493 Landing Caribbean queen conch intact.
622.494 Bag limit.
622.495 Commercial trip limit.
622.496 Annual catch limits (ACLs), annual catch targets (ACTs), and accountability measures (AMs).
622.497 Adjustment of management measures.
622.498 Prohibitions.
Appendix A to Part 622—Species Tables
Appendix B to Part 622—Gulf Areas
Appendix C to Part 622—Fish Length Measurements
Appendix D to Part 622—Specifications for Certified BRDs
Appendix E to Part 622--Caribbean Island/Island Group Management Areas
Appendix F to Part 622—Specifications for Sea Turtle Mitigation Gear and Sea Turtle Handling and Release Requirements

Authority: 16 U.S.C. 1801 et seq.

Subpart A—General Provisions

§ 622.1 Purpose and scope.

(a) The purpose of this part is to implement the FMPs prepared under the Magnuson-Stevens Act by the CFMC, GMFMC, and/or SAFMC listed in Table 1 of this section.

(b) This part governs conservation and management of species included in the FMPs in or from the Caribbean, Gulf, Mid-Atlantic, South Atlantic, or Atlantic EEZ, unless otherwise specified, as indicated in Table 1 of this section. For the FMPs noted in the following table, conservation and management extends to adjoining state waters for the purposes of data collection and monitoring.

(c) This part also governs importation of Caribbean spiny lobster into Puerto Rico or the U.S. Virgin Islands.

(d) This part also governs importation of spiny lobster into any place subject to the jurisdiction of the United States.

Table 1 to § 622.1—FMPs Implemented Under Part 622
FMP title | Responsible fishery management council(s) | Geographical area
FMP for Coastal Migratory Pelagic Resources | GMFMC/SAFMC | Gulf ¹, Mid-Atlantic ¹ South Atlantic.¹
FMP for Coral, Coral Reefs, and Live/Hard Bottom Habitats of the South Atlantic Region | SAFMC | South Atlantic.⁵
FMP for Coral and Coral reefs of the Gulf of Mexico | GMFMC | Gulf.
FMP for Corals and Reef Associated Plants and Invertebrates of Puerto Rico and the U.S. Virgin Islands | CFMC | Caribbean.
FMP for the Dolphin and Wahoo Fishery off the Atlantic States | SAFMC | Atlantic.
FMP for the Golden Crab Fishery of the South Atlantic Region | SAFMC | South Atlantic.
FMP for Pelagic Sargassum Habitat of the South Atlantic Region | SAFMC | South Atlantic.
FMP for Queen Conch Resources of Puerto Rico and the U.S. Virgin Islands | CFMC | Caribbean.
FMP for the Red Drum Fishery of the Gulf of Mexico | GMFMC | Gulf.¹
FMP for the Reef Fish Fishery of Puerto Rico and the U.S. Virgin Islands | CFMC | Caribbean.
FMP for the Reef Fish Resources of the Gulf of Mexico | GMFMC | Gulf.1 3 4
FMP for the Shrimp Fishery of the Gulf of Mexico | GMFMC | Gulf.¹
FMP for the Shrimp Fishery of the South Atlantic Region | SAFMC | South Atlantic.
FMP for the Snapper-Grouper Fishery of the South Atlantic Region | SAFMC | South Atlantic.1 2
FMP for the Spiny Lobster Fishery of Puerto Rico and the U.S. Virgin Islands | CFMC | Caribbean.
FMP for the Spiny Lobster Fishery of the Gulf of Mexico and South Atlantic | GMFMC/SAFMC | Gulf ¹, South Atlantic.¹
¹ Regulated area includes adjoining state waters for purposes of data collection and quota monitoring.
² Black sea bass and scup are not managed by the FMP or regulated by this part north of 35°15.9′ N. lat., the latitude of Cape Hatteras Light, NC.
³ Regulated area includes adjoining state waters for Gulf red snapper harvested or possessed by a person aboard a vessel for which a Gulf red snapper IFQ vessel account has been established or possessed by a dealer with a Gulf IFQ dealer endorsement.
⁴ Regulated area includes adjoining state waters for Gulf groupers and tilefishes harvested or possessed by a person aboard a vessel for which an IFQ vessel account for Gulf groupers and tilefishes has been established or possessed by a dealer with a Gulf IFQ dealer endorsement.
⁵ Octocorals are managed by the FMP or regulated by this part only in the EEZ off North Carolina, South Carolina, and Georgia.

§ 622.2 Definitions and acronyms.

In addition to the definitions in the Magnuson Act and in § 600.10 of this chapter, and the acronyms in § 600.15 of this chapter, the terms and acronyms used in this part have the following meanings:

Accountability measure means a management control implemented such that overfishing is prevented, where possible, and mitigated if it occurs.

Actual ex-vessel price means the total monetary sale amount a fisherman receives per pound of fish for IFQ landings from a registered IFQ dealer before any deductions are made for transferred (leased) allocation and goods and services (e.g. bait, ice, fuel, repairs, machinery replacement, etc.).

Allowable chemical means a substance, generally used to immobilize marine life so that it can be captured alive, that, when introduced into the water, does not take Gulf and South Atlantic prohibited coral and is allowed by Florida for the harvest of tropical fish (e.g., quinaldine, quinaldine compounds, or similar substances).

Allowable octocoral means an erect, nonencrusting species of the subclass Octocorallia, except the seafans Gorgonia flabellum and G. ventalina, plus the attached substrate within 1 inch (2.54 cm) of an allowable octocoral. (Note: An erect, nonencrusting species of the subclass Octocorallia, except the seafans Gorgonia flabellum and G. ventalina, with attached substrate exceeding 1 inch (2.54 cm) is considered to be live rock and not allowable octocoral.)

Annual catch limit (ACL) means the level of catch that serves as the basis for invoking accountability measures.

Annual catch target (ACT) means an amount of annual catch of a stock or stock complex that is the management target of the fishery, and accounts for management uncertainty in controlling the actual catch at or below the ACL.

Aquacultured live rock means live rock that is harvested under a Federal aquacultured live rock permit, as required under § 622.70(a)(2).

Atlantic means the North Atlantic, Mid-Atlantic, and South Atlantic.

Authorized statistical reporting agent means:

(1) Any person so designated by the SRD; or

(2) Any person so designated by the head of any Federal or State agency that has entered into an agreement with the Assistant Administrator to collect fishery data.

Automatic reel means a reel that remains attached to a vessel when in use from which a line and attached hook(s) are deployed. The line is payed out from and retrieved on the reel electrically or hydraulically.

Bandit gear means a rod and reel that remain attached to a vessel when in use from which a line and attached hook(s) are deployed. The line is payed out from and retrieved on the reel manually, electrically, or hydraulically.

Bottom longline means a longline that is deployed, or in combination with gear aboard the vessel, e.g., weights or anchors, is capable of being deployed to maintain contact with the ocean bottom.

BRD means bycatch reduction device.

Bully net means a circular frame attached at right angles to the end of a pole and supporting a conical bag of webbing. The webbing is usually held up by means of a cord which is released when the net is dropped over a lobster.

Buoy gear means fishing gear that fishes vertically in the water column that consists of a single drop line suspended from a float, from which no more than 10 hooks can be connected between the buoy and the terminal end, and the terminal end contains a weight that is no more than 10 lb (4.5 kg). The drop line can be rope (hemp, manila, cotton or other natural fibers; nylon, polypropylene, spectra or other synthetic material) or monofilament, but must not be cable or wire. The gear is free-floating and not connected to other gear or the vessel. The drop line must be no greater than 2 times the depth of the water being fished. All hooks must be attached to the drop line no more than 30 ft (9.1 m) from the weighted terminal end. These hooks may be attached directly to the drop line; attached as snoods (defined as an offshoot line that is directly spliced, tied or otherwise connected to the drop line), where each snood has a single terminal hook; or as gangions (defined as an offshoot line connected to the drop line with some type of detachable clip), where each gangion has a single terminal hook.

Carapace length means the measurement of the carapace (head, body, or front section) of a spiny lobster from the anteriormost edge (front) of the groove between the horns directly above the eyes, along the middorsal line (middle of the back), to the rear edge of the top part of the carapace, excluding any translucent membrane. (See Figure 1 in Appendix C of this part.)

Caribbean means the Caribbean Sea and Atlantic Ocean seaward of Puerto Rico, the U.S. Virgin Islands, and possessions of the United States in the Caribbean Sea.

Caribbean coral reef resource means one or more of the species, or a part thereof, listed in Table 1 in Appendix A of this part, whether living or dead.

Caribbean prohibited coral means, in the Caribbean; a gorgonian, that is, a Caribbean coral reef resource of the Class Anthozoa, Subclass Octocorallia, Order Gorgonacea; a live rock; or a stony coral, that is, a Caribbean coral reef resource of the Class Hydrozoa (fire corals and hydrocorals) or of the Class Anthozoa, Subclass Hexacorallia, Orders Scleractinia (stony corals) and Antipatharia (black corals); or a part thereof.

Caribbean queen conch or queen conch means the species, Strombus gigas, or a part thereof.

Caribbean reef fish means one or more of the species, or a part thereof, listed in Table 2 in Appendix A of this part.

Caribbean spiny lobster or spiny lobster means the species Panulirus argus, or a part thereof.

CFMC means the Caribbean Fishery Management Council.

Charter vessel means a vessel less than 100 gross tons (90.8 mt) that is subject to the requirements of the USCG to carry six or fewer passengers for hire and that engages in charter fishing at any time during the calendar year. A charter vessel with a commercial permit, as required under this part, is considered to be operating as a charter vessel when it carries a passenger who pays a fee or when there are more than three persons aboard, including operator and crew, except for a charter vessel with a commercial vessel permit for Gulf reef fish. A charter vessel that has a charter vessel permit for Gulf reef fish and a commercial vessel permit for Gulf reef fish is considered to be operating as a charter vessel when it carries a passenger who pays a fee or when there are more than four persons aboard, including operator and crew. A charter vessel that has a charter vessel permit for Gulf reef fish, a commercial vessel permit for Gulf reef fish, and a valid Certificate of Inspection (COI) issued by the USCG to carry passengers for hire will not be considered to be operating as a charter vessel provided—

(1) It is not carrying a passenger who pays a fee; and

(2) When underway for more than 12 hours, that vessel meets, but does not exceed the minimum manning requirements outlined in its COI for vessels underway over 12 hours; or when underway for not more than 12 hours, that vessel meets the minimum manning requirements outlined in its COI for vessels underway for not more than 12-hours (if any), and does not exceed the minimum manning requirements outlined in its COI for vessels that are underway for more than 12 hours.

Circle hook means a fishing hook designed and manufactured so that the point is turned perpendicularly back to the shank to form a generally circular, or oval, shape.

Coastal migratory pelagic fish means a whole fish, or a part thereof, of one or more of the following species:

(1) Cobia, Rachycentron canadum.

(2) King mackerel, Scomberomorus cavalla.

(3) Spanish mackerel, Scomberomorus maculatus.

Commercial fishing means, for the purpose of subpart R of this part only, any fishing or fishing activities which result in the harvest of any marine or freshwater organisms, one or more of which (or parts thereof) is sold, traded, or bartered.

Coral area means marine habitat in the Gulf or South Atlantic EEZ where coral growth abounds, including patch reefs, outer bank reefs, deep water banks, and hard bottoms.

Dealer, in addition to the definition specified in § 600.10 of this chapter, means the person who first receives rock shrimp harvested from the EEZ or dolphin or wahoo harvested from the Atlantic EEZ upon transfer ashore.

Deep-water grouper (DWG) means, in the Gulf, yellowedge grouper, warsaw grouper, snowy grouper, and speckled hind. In addition, for the purposes of the IFQ program for Gulf groupers and tilefishes in § 622.22, scamp are also included as DWG as specified in § 622.22(a)(7).

Deep-water snapper-grouper (DWSG) means, in the South Atlantic, yellowedge grouper, misty grouper, warsaw grouper, snowy grouper, speckled hind, blueline tilefish, queen snapper, and silk snapper.

Dehooking device means a device intended to remove a hook embedded in a fish to release the fish with minimum damage.

Dolphin means a whole fish, or a part there of, of the species Coryphaena equiselis or C. hippurus.

Drift gillnet, for the purposes of this part, means a gillnet, other than a long gillnet or a run-around gillnet, that is unattached to the ocean bottom, regardless of whether attached to a vessel.

Fish trap means—

(1) In the Caribbean EEZ, a trap and its component parts (including the lines and buoys), regardless of the construction material, used for or capable of taking finfish.

(2) In the Gulf EEZ, a trap and its component parts (including the lines and buoys), regardless of the construction material, used for or capable of taking finfish, except a trap historically used in the directed fishery for crustaceans (that is, blue crab, stone crab, and spiny lobster).

(3) In the South Atlantic EEZ, a trap and its component parts (including the lines and buoys), regardless of the construction material, used for or capable of taking fish, except a sea bass pot, a golden crab trap, or a crustacean trap (that is, a type of trap historically used in the directed fishery for blue crab, stone crab, red crab, jonah crab, or spiny lobster and that contains at any time not more than 25 percent, by number, of fish other than blue crab, stone crab, red crab, jonah crab, and spiny lobster).

Fork length means the straight-line distance from the tip of the head (snout) to the rear center edge of the tail (caudal fin). (See Figure 2 in Appendix C of this part.)

Golden crab means the species Chaceon fenneri, or a part thereof.

Golden crab trap means any trap used or possessed in association with a directed fishery for golden crab in the South Atlantic EEZ, including any trap that contains a golden crab in or from the South Atlantic EEZ or any trap on board a vessel that possesses golden crab in or from the South Atlantic EEZ.

GMFMC means the Gulf of Mexico Fishery Management Council.

Gulf means the Gulf of Mexico. The line of demarcation between the Atlantic Ocean and the Gulf of Mexico is specified in § 600.105(c) of this chapter.

Gulf reef fish means one or more of the species, or a part thereof, listed in Table 3 in Appendix A of this part.

Gulf and South Atlantic prohibited coral means, in the Gulf and South Atlantic, one or more of the following, or a part thereof:

(1) Coral belonging to the Class Hydrozoa (fire corals and hydrocorals).

(2) Coral belonging to the Class Anthozoa, Subclass Hexacorallia, Orders Scleractinia (stony corals) and Antipatharia (black corals).

(3) A seafan, Gorgonia flabellum or G. ventalina.

(4) Coral in a coral reef, except for allowable octocoral.

(5) Coral in an HAPC, including allowable octocoral.

Handline means a line with attached hook(s) that is tended directly by hand.

HAPC means habitat area of particular concern.

Headboat means a vessel that holds a valid Certificate of Inspection (COI) issued by the USCG to carry more than six passengers for hire.

(1) A headboat with a commercial vessel permit, as required under this part, is considered to be operating as a headboat when it carries a passenger who pays a fee or—

(i) In the case of persons aboard fishing for or possessing South Atlantic snapper-grouper, when there are more persons aboard than the number of crew specified in the vessel's COI; or

(ii) In the case of persons aboard fishing for or possessing coastal migratory pelagic fish, when there are more than three persons aboard, including operator and crew.

(2) However a vessel that has a headboat permit for Gulf reef fish, a commercial vessel permit for Gulf reef fish, and a valid COI issued by the USCG to carry passengers for hire will not be considered to be operating as a headboat provided--

(i) It is not carrying a passenger who pays a fee; and

(ii) When underway for more than 12 hours, that vessel meets, but does not exceed the minimum manning requirements outlined in its COI for vessels underway over 12 hours; or when underway for not more than 12 hours, that vessel meets the minimum manning requirements outlined in its COI for vessels underway for not more than 12-hours (if any), and does not exceed the minimum manning requirements outlined in its COI for vessels that are underway for more than 12 hours.

Headrope length means the distance, measured along the forwardmost webbing of a trawl net, between the points at which the upper lip (top edge) of the mouth of the net are attached to sleds, doors, or other devices that spread the net.

Hook-and-line gear means automatic reel, bandit gear, buoy gear, handline, longline, and rod and reel.

Hoop net means a frame, circular or otherwise, supporting a shallow bag of webbing and suspended by a line and bridles. The net is baited and lowered to the ocean bottom, to be raised rapidly at a later time to prevent the escape of lobster.

IFQ means individual fishing quota.

Import means—

(1) For the purpose of § 622.1(c) and subpart T of this part only—To land on, bring into, or introduce into, or attempt to land on, bring into, or introduce into, Puerto Rico or the U.S. Virgin Islands, whether or not such landing, bringing, or introduction constitutes an importation within the meaning of the customs laws of the United States;

(2) For the purpose of § 622.1(d) and subpart R of this part only—To land on, bring into, or introduce into, or attempt to land on, bring into, or introduce into, any place subject to the jurisdiction of the United States, whether or not such landing, bringing, or introduction constitutes an importation within the meaning of the customs laws of the United States;

(3) But does not include any activity described in paragraph (1) or (2) of this definition with respect to fish caught in the U.S. exclusive economic zone by a vessel of the United States.

Live rock means living marine organisms, or an assemblage thereof, attached to a hard substrate, including dead coral or rock (excluding individual mollusk shells).

Live well means a shaded container used for holding live lobsters aboard a vessel in which aerated seawater is continuously circulated from the sea. Circulation of seawater at a rate that replaces the water at least every 8 minutes meets the requirement for aeration.

Long gillnet means a gillnet that has a float line that is more than 1,000 yd (914 m) in length.

Longline means a line that is deployed horizontally to which gangions and hooks are attached. A longline may be a bottom longline, i.e., designed for use on the bottom, or a pelagic longline, i.e., designed for use off the bottom. The longline hauler may be manually, electrically, or hydraulically operated.

MAFMC means the Mid-Atlantic Fishery Management Council.

Mid-Atlantic means the Atlantic Ocean off the Atlantic coastal states from the boundary between the New England Fishery Management Council and the MAFMC, as specified in § 600.105(a) of this chapter, to the boundary between the MAFMC and the SAFMC, as specified in § 600.105(b) of this chapter.

Migratory group, for king mackerel, Spanish mackerel, and cobia, means a group of fish that may or may not be a separate genetic stock, but that is treated as a separate stock for management purposes. King mackerel, Spanish mackerel, and cobia are divided into migratory groups—the boundaries between these groups are as follows:

(1) King mackerel—(i) Summer separation. From April 1 through October 31, the boundary separating the Gulf and Atlantic migratory groups of king mackerel is 25°48′ N. lat., which is a line directly west from the Monroe/Collier County, FL, boundary to the outer limit of the EEZ.

(ii) Winter separation. From November 1 through March 31, the boundary separating the Gulf and Atlantic migratory groups of king mackerel is 29°25′ N. lat., which is a line directly east from the Volusia/Flagler County, FL, boundary to the outer limit of the EEZ.

(2) Spanish mackerel. The boundary separating the Gulf and Atlantic migratory groups of Spanish mackerel is 25°20.4′ N. lat., which is a line directly east from the Miami-Dade/Monroe County, FL, boundary to the outer limit of the EEZ.

(3) Cobia. The boundary separating the Gulf and Atlantic migratory groups of cobia is the line of demarcation between the Atlantic Ocean and the Gulf of Mexico, as specified in § 600.105(c) of this chapter.

MPA means marine protected area.

North Atlantic means the Atlantic Ocean off the Atlantic coastal states from the boundary between the United States and Canada to the boundary between the New England Fishery Management Council and the MAFMC, as specified in § 600.105(a) of this chapter.

Off Florida means the waters in the Gulf and South Atlantic from 30°42′45.6″ N. lat., which is a line directly east from the seaward terminus of the Georgia/Florida boundary, to 87°31′06″ W. long., which is a line directly south from the Alabama/Florida boundary.

Off Georgia means the waters in the South Atlantic from a line extending in a direction of 104° from true north from the seaward terminus of the South Carolina/Georgia boundary to 30°42′45.6″ N. lat., which is a line directly east from the seaward terminus of the Georgia/Florida boundary.

Off Louisiana, Mississippi, and Alabama means the waters in the Gulf other than off Florida and off Texas.

Off Monroe County, Florida means the area from the Florida coast to the outer limit of the EEZ between a line extending directly east from the Dade/Monroe County, Florida boundary (25°20.4′ N. latitude) and a line extending directly west from the Monroe/Collier County, Florida boundary (25°48.0′ N. latitude).

Off North Carolina means the waters in the South Atlantic from 36°34′55″ N. lat., which is a line directly east from the Virginia/North Carolina boundary, to a line extending in a direction of 135°34′55″ from true north from the North Carolina/South Carolina boundary, as marked by the border station on Bird Island at 33°51′07.9″ N. lat., 78°32′32.6″ W. long.

Off South Carolina means the waters in the South Atlantic from a line extending in a direction of 135°34′55″ from true north from the North Carolina/South Carolina boundary, as marked by the border station on Bird Island at 33°51′07.9″ N. lat., 78° 32′32.6″ W. long., to a line extending in a direction of 104° from true north from the seaward terminus of the South Carolina/Georgia boundary.

Off Texas means the waters in the Gulf west of a rhumb line from 29°32.1′ N. lat., 93°47.7′ W. long. to 26°11.4′ N. lat., 92°53′ W. long., which line is an extension of the boundary between Louisiana and Texas.

Off the Gulf states, other than Florida means the area from the coast to the outer limit of the EEZ between the Texas/Mexico border to the Alabama/Florida boundary (87°31′06″ W. long.).

Off the southern Atlantic states, other than Florida means the area from the coast to the outer limit of the EEZ between the Virginia/North Carolina boundary (36°34′55″ N. lat.) to the Georgia/Florida boundary (30°42′45.6″ N. lat.).

Official sunrise or official sunset means the time of sunrise or sunset as determined for the date and location in The Nautical Almanac, prepared by the U.S. Naval Observatory.

Pelagic longline means a longline that is suspended by floats in the water column and that is not fixed to or in contact with the ocean bottom.

Pelagic sargassum means the species Sargassum natans or S. fluitans, or a part thereof.

Penaeid shrimp means one or more of the following species, or a part thereof:

(1) Brown shrimp, Farfantepenaeus aztecus.

(2) Pink shrimp, Farfantepenaeus duorarum.

(3) White shrimp, Litopenaeus setiferus.

Penaeid shrimp trawler means any vessel that is equipped with one or more trawl nets whose on-board or landed catch of penaeid shrimp is more than 1 percent, by weight, of all fish comprising its on-board or landed catch.

Powerhead means any device with an explosive charge, usually attached to a speargun, spear, pole, or stick, that fires a projectile upon contact.

Processor means a person who processes fish or fish products, or parts thereof, for commercial use or consumption.

Purchase means the act or activity of buying, trading, or bartering, or attempting to buy, trade, or barter.

Recreational fishing means, for the purpose of subpart R of this part only, fishing or fishing activities which result in the harvest of fish, none of which (or parts thereof) is sold, traded, or bartered.

Red drum, also called redfish, means Sciaenops ocellatus, or a part thereof.

Red snapper means Lutjanus campechanus, or a part thereof, one of the Gulf reef fish species.

Regional Administrator (RA), for the purposes of this part, means the Administrator, Southeast Region, NMFS, 263 13th Avenue South, St. Petersburg, FL 33701, or a designee.

Rod and reel means a rod and reel unit that is not attached to a vessel, or, if attached, is readily removable, from which a line and attached hook(s) are deployed. The line is payed out from and retrieved on the reel manually, electrically, or hydraulically.

Run-around gillnet means a gillnet, other than a long gillnet, that, when used, encloses an area of water.

SAFMC means the South Atlantic Fishery Management Council.

Sale or sell means the act or activity of transferring property for money or credit, trading, or bartering, or attempting to so transfer, trade, or barter.

Science and Research Director (SRD), for the purposes of this part, means the Science and Research Director, Southeast Fisheries Science Center, NMFS (see Table 1 of § 600.502 of this chapter).

Sea bass pot means a trap has six rectangular sides and does not exceed 25 inches (63.5 cm) in height, width, or depth.

Shallow-water grouper (SWG) means, in the Gulf, gag, red grouper, black grouper, scamp, yellowfin grouper, and yellowmouth grouper. Other shallow-water grouper (Other SWG) means, in the Gulf, SWG excluding gag and red grouper (i.e., black grouper, scamp, yellowfin grouper, and yellowmouth grouper). In addition, for the purposes of the IFQ program for Gulf groupers and tilefishes in § 622.22, speckled hind and warsaw grouper are also included as Other SWG as specified in § 622.22(a)(6).

Shrimp means one or more of the following species, or a part thereof:

(1) Brown shrimp, Farfantepenaeus aztecus.

(2) White shrimp, Litopenaeus setiferus.

(3) Pink shrimp, Farfantepenaeus duorarum.

(4) Royal red shrimp, Hymenopenaeus robustus.

(5) Rock shrimp, Sicyonia brevirostris.

Shrimp trawler means any vessel that is equipped with one or more trawl nets whose on-board or landed catch of shrimp is more than 1 percent, by weight, of all fish comprising its on-board or landed catch.

Smalltooth sawfish means the species Pristis pectinata, or a part thereof.

SMZ means special management zone.

South Atlantic means the Atlantic Ocean off the Atlantic coastal states from the boundary between the MAFMC and the SAFMC, as specified in § 600.105(b) of this chapter, to the line of demarcation between the Atlantic Ocean and the Gulf of Mexico, as specified in § 600.105(c) of this chapter.

South Atlantic shallow-water grouper (SASWG) means, in the South Atlantic, gag, black grouper, red grouper, scamp, red hind, rock hind, yellowmouth grouper, yellowfin grouper, graysby, and coney.

South Atlantic snapper-grouper means one or more of the species, or a part thereof, listed in Table 4 in Appendix A of this part.

Stab net means a gillnet, other than a long gillnet, or trammel net whose weight line sinks to the bottom and submerges the float line.

Tail length means the lengthwise measurement of the entire tail (segmented portion), not including any protruding muscle tissue, of a spiny lobster along the top middorsal line (middle of the back) to the rearmost extremity. The measurement is made with the tail in a flat, straight position with the tip of the tail closed.

Total length (TL), for the purposes of this part, means the straight-line distance from the tip of the snout to the tip of the tail (caudal fin), excluding any caudal filament, while the fish is lying on its side. The mouth of the fish may be closed and/or the tail may be squeezed together to give the greatest overall measurement. (See Figure 2 in Appendix C of this part.)

Toxic chemical means any substance, other than an allowable chemical, that, when introduced into the water, can stun, immobilize, or take marine life.

Trammel net means two or more panels of netting, suspended vertically in the water by a common float line and a common weight line, with one panel having a larger mesh size than the other(s), to entrap fish in a pocket of netting.

Trip means a fishing trip, regardless of number of days duration, that begins with departure from a dock, berth, beach, seawall, or ramp and that terminates with return to a dock, berth, beach, seawall, or ramp.

Try net, also called test net, means a net pulled for brief periods by a shrimp trawler to test for shrimp concentrations or determine fishing conditions (e.g., presence or absence of bottom debris, jellyfish, bycatch, sea grasses).

Venting device means a device intended to deflate the abdominal cavity of a fish to release the fish with minimum damage.

Wahoo means the species Acanthocybium solandri, or a part thereof, in the Atlantic.

Wild live rock means live rock other than aquacultured live rock.

Wreckfish means the species Polyprion americanus, or a part thereof, one of the South Atlantic snapper-grouper species.

§ 622.3 Relation to other laws and regulations.

(a) The relation of this part to other laws is set forth in § 600.705 of this chapter and paragraphs (b) through (e) of this section.

(b) Except for regulations on allowable octocoral, Gulf and South Atlantic prohibited coral, and live rock, this part is intended to apply within the EEZ portions of applicable National Marine Sanctuaries and National Parks, unless the regulations governing such sanctuaries or parks prohibit their application. Regulations on allowable octocoral, Gulf and South Atlantic prohibited coral, and live rock do not apply within the EEZ portions of the following National Marine Sanctuaries and National Parks:

(1) Florida Keys National Marine Sanctuary (15 CFR part 922, subpart P).

(2) Gray's Reef National Marine Sanctuary (15 CFR part 922, subpart I).

(3) Monitor National Marine Sanctuary (15 CFR part 922, subpart F).

(4) Everglades National Park (36 CFR 7.45).

(5) Biscayne National Park (16 U.S.C. 410gg).

(6) Fort Jefferson National Monument (36 CFR 7.27).

(c) For allowable octocoral, if a state has a catch, landing, or gear regulation that is more restrictive than a catch, landing, or gear regulation in this part, a person landing in such state allowable octocoral taken from the South Atlantic EEZ must comply with the more restrictive state regulation.

(d) General provisions on facilitation of enforcement, penalties, and enforcement policy applicable to all domestic fisheries are set forth in §§ 600.730, 600.735, and 600.740 of this chapter, respectively.

(e) An activity that is otherwise prohibited by this part may be conducted if authorized as scientific research activity, exempted fishing, or exempted educational activity, as specified in § 600.745 of this chapter.

§ 622.4 Permits and fees—general.

This section contains general information about procedures related to permits. See also §§ 622.70, 622.220, and 622.470 regarding certain permit procedures unique to coral permits in the Gulf of Mexico, South Atlantic Region, and Puerto Rico and the U.S. Virgin Islands, respectively. Permit requirements for specific fisheries, as applicable, are contained in subparts B through V of this part.

(a) Applications for permits. Application forms for all permits are available from the RA. Completed application forms and all required supporting documents must be submitted to the RA at least 30 days prior to the date on which the applicant desires to have the permit made effective. All vessel permits are mailed to owners, whether the applicant is an owner or an operator.

(1) Vessel permits. (i) The application for a commercial vessel permit, other than for wreckfish, or for a charter vessel/headboat permit must be submitted by the owner (in the case of a corporation, an officer or shareholder; in the case of a partnership, a general partner) or operator of the vessel. A commercial vessel permit that is issued based on the earned income qualification of an operator is valid only when that person is the operator of the vessel. The applicant for a commercial vessel permit for wreckfish must be a wreckfish shareholder.

(ii) An applicant must provide the following:

(A) A copy of the vessel's valid USCG certificate of documentation or, if not documented, a copy of its valid state registration certificate.

(B) Vessel name and official number.

(C) Name, address, telephone number, and other identifying information of the vessel owner and of the applicant, if other than the owner.

(D) Any other information concerning the vessel, gear characteristics, principal fisheries engaged in, or fishing areas, as specified on the application form.

(E) Any other information that may be necessary for the issuance or administration of the permit, as specified on the application form.

(F) If applying for a commercial vessel permit, documentation, as specified in the instructions accompanying each application form, showing that applicable eligibility requirements of this part have been met.

(G) If a sea bass pot will be used, the number, dimensions, and estimated cubic volume of the pots that will be used and the applicant's desired color code for use in identifying his or her vessel and buoys (white is not an acceptable color code).

(2) Operator permits. An applicant for an operator permit must provide the following:

(i) Name, address, telephone number, and other identifying information specified on the application.

(ii) Two recent (no more than 1-yr old), color, passport-size photographs.

(iii) Any other information that may be necessary for the issuance or administration of the permit, as specified on the application form.

(3) Dealer permits. (i) The application for a dealer permit must be submitted by the owner (in the case of a corporation, an officer or shareholder; in the case of a partnership, a general partner).

(ii) An applicant must provide the following:

(A) A copy of each state wholesaler's license held by the dealer.

(B) Name, address, telephone number, date the business was formed, and other identifying information of the business.

(C) The address of each physical facility at a fixed location where the business receives fish.

(D) Name, address, telephone number, other identifying information, and official capacity in the business of the applicant.

(E) Any other information that may be necessary for the issuance or administration of the permit, as specified on the application form.

(b) Change in application information. The owner or operator of a vessel with a permit, a person with a coral permit, a person with an operator permit, or a dealer with a permit must notify the RA within 30 days after any change in the application information specified in paragraph (a) of this section or in §§ 622.70(b), 622.220(b), 622.400(b), or 622.470(b). The permit is void if any change in the information is not reported within 30 days.

(c) Fees. Unless specified otherwise, a fee is charged for each application for a permit, license, or endorsement submitted under this part, for each request for transfer or replacement of such permit, license, or endorsement, and for each sea bass pot identification tag required under § 622.177(a)(1). The amount of each fee is calculated in accordance with the procedures of the NOAA Finance Handbook, available from the RA, for determining the administrative costs of each special product or service. The fee may not exceed such costs and is specified with each application form. The appropriate fee must accompany each application, request for transfer or replacement, or request for sea bass pot identification tags.

(d) Initial issuance. (1) The RA will issue an initial permit at any time to an applicant if the application is complete and the specific requirements for the requested permit have been met. An application is complete when all requested forms, information, and documentation have been received.

(2) Upon receipt of an incomplete application, the RA will notify the applicant of the deficiency. If the applicant fails to correct the deficiency within 30 days of the date of the RA's letter of notification, the application will be considered abandoned.

(e) Duration. A permit remains valid for the period specified on it unless it is revoked, suspended, or modified pursuant to subpart D of 15 CFR part 904 or, in the case of a vessel or dealer permit, the vessel or dealership is sold.

(f) Transfer—(1) Vessel permits, licenses, and endorsements and dealer permits. A vessel permit, license, or endorsement or a dealer permit or endorsement issued under this part 622 is not transferable or assignable, except as provided in the permits sections of subparts B through V of this part, where applicable. A person who acquires a vessel or dealership who desires to conduct activities for which a permit, license, or endorsement is required must apply for a permit, license, or endorsement in accordance with the provisions of this section and other applicable sections of this part. If the acquired vessel or dealership is currently permitted, the application must be accompanied by the original permit and a copy of a signed bill of sale or equivalent acquisition papers. In those cases where a permit, license, or endorsement is transferable, the seller must sign the back of the permit, license, or endorsement and have the signed transfer document notarized.

(2) Operator permits. An operator permit is not transferable.

(g) Renewal—(1) Vessel permits, licenses, and endorsements and dealer permits. Unless specified otherwise, a vessel owner or dealer who has been issued a permit, license, or endorsement under this part must renew such permit, license, or endorsement on an annual basis. The RA will mail a vessel owner or dealer whose permit, license, or endorsement is expiring an application for renewal approximately 2 months prior to the expiration date. A vessel owner or dealer who does not receive a renewal application from the RA by 45 days prior to the expiration date of the permit, license, or endorsement must contact the RA and request a renewal application. The applicant must submit a completed renewal application form and all required supporting documents to the RA prior to the applicable deadline for renewal of the permit, license, or endorsement and at least 30 days prior to the date on which the applicant desires to have the permit made effective. If the RA receives an incomplete application, the RA will notify the applicant of the deficiency. If the applicant fails to correct the deficiency within 30 days of the date of the RA's letter of notification, the application will be considered abandoned. A permit, license, or endorsement that is not renewed within the applicable deadline will not be reissued.

(2) Operator permits. An operator permit required by this part 622 is issued for a period not longer than 3 years. A permit not renewed immediately upon its expiration would expire at the end of the operator's birth month that is between 2 and 3 years after issuance. For renewal, a new application must be submitted in accordance with paragraph (a)(2) of this section.

(h) Display. A vessel permit, license, or endorsement issued under this part 622 must be carried on board the vessel. A dealer permit issued under this part 622, or a copy thereof, must be available on the dealer's premises. In addition, a copy of the dealer's permit must accompany each vehicle that is used to pick up from a fishing vessel reef fish harvested from the Gulf EEZ. A Gulf IFQ dealer endorsement must accompany each vehicle that is used to pick up Gulf IFQ red snapper and/or Gulf IFQ groupers and tilefishes. The operator of a vessel must present the vessel permit, license, or endorsement for inspection upon the request of an authorized officer. A dealer or a vehicle operator must present the permit or a copy for inspection upon the request of an authorized officer. An operator of a vessel in a fishery in which an operator permit is required must present his/her operator permit and one other form of personal identification that includes a picture (driver's license, passport, etc.) for inspection upon the request of an authorized officer.

(i) Sanctions and denials. (1) A permit, license, or endorsement issued pursuant to this part 622 may be revoked, suspended, or modified, and a permit, license, or endorsement application may be denied, in accordance with the procedures governing enforcement-related permit sanctions and denials found at subpart D of 15 CFR part 904.

(2) A person whose operator permit is suspended, revoked, or modified may not be aboard any fishing vessel subject to Federal fishing regulations in any capacity, if so sanctioned by NOAA, while the vessel is at sea or offloading. The vessel's owner and operator are responsible for compliance with this measure. A list of operators whose permits are revoked or suspended may be obtained from the RA.

(j) Alteration. A permit, license, or endorsement that is altered, erased, or mutilated is invalid.

(k) Replacement. A replacement permit, license, or endorsement may be issued. An application for a replacement permit, license, or endorsement is not considered a new application. An application for a replacement operator permit must include two new photographs, as specified in paragraph (a)(2)(ii) of this section.

§ 622.5 Recordkeeping and reporting—general.

This section contains recordkeeping and reporting requirements that are broadly applicable, as specified, to most or all fisheries governed by this part. Additional recordkeeping and reporting requirements specific to each fishery are contained in the respective subparts B through V of this part.

(a) Collection of additional data and fish inspection. In addition to data required to be reported as specified in subparts B through V of this part, additional data will be collected by authorized statistical reporting agents and by authorized officers. A person who fishes for or possesses species in or from the EEZ governed in this part is required to make the applicable fish or parts thereof available for inspection by the SRD or an authorized officer on request.

(b) Commercial vessel, charter vessel, and headboat inventory. The owner or operator of a commercial vessel, charter vessel, or headboat operating in a fishery governed in this part who is not selected to report by the SRD under the recordkeeping and reporting requirements in subparts B through V of this part must provide the following information when interviewed by the SRD:

(1) Name and official number of vessel and permit number, if applicable.

(2) Length and tonnage.

(3) Current home port.

(4) Fishing areas.

(5) Ports where fish were offloaded during the last year.

(6) Type and quantity of gear.

(7) Number of full- and part-time fishermen or crew members.

§ 622.6 Vessel identification.

This section does not apply to subpart R of this part, which has its own specific vessel identification requirements in § 622.402.

(a) Applicability—(1) Official number. A vessel for which a permit has been issued under subparts B through V of this part except for subpart R, and a vessel that fishes for or possesses pelagic sargassum in the South Atlantic EEZ, must display its official number—

(i) On the port and starboard sides of the deckhouse or hull and, for vessels over 25 ft (7.6 m) long, on an appropriate weather deck, so as to be clearly visible from an enforcement vessel or aircraft.

(ii) In block arabic numerals permanently affixed to or painted on the vessel in contrasting color to the background.

(iii) At least 18 inches (45.7 cm) in height for vessels over 65 ft (19.8 m) long; at least 10 inches (25.4 cm) in height for vessels over 25 ft (7.6 m) long; and at least 3 inches (7.6 cm) in height for vessels 25 ft (7.6 m) long or less.

(2) Official number and color code. The following vessels must display their official number as specified in paragraph (a)(1) of this section and, in addition, must display their assigned color code: A vessel for which a permit has been issued to fish with a sea bass pot, as required under § 622.170(a)(1); a vessel in the commercial Caribbean reef fish fishery fishing with traps; and a vessel in the Caribbean spiny lobster fishery. Color codes required for the Caribbean reef fish fishery and Caribbean spiny lobster fishery are assigned by Puerto Rico or the U.S. Virgin Islands, whichever is applicable; color codes required in all other fisheries are assigned by the RA. The color code must be displayed—

(i) On the port and starboard sides of the deckhouse or hull and, for vessels over 25 ft (7.6 m) long, on an appropriate weather deck, so as to be clearly visible from an enforcement vessel or aircraft.

(ii) In the form of a circle permanently affixed to or painted on the vessel.

(iii) At least 18 inches (45.7 cm) in diameter for vessels over 65 ft (19.8 m) long; at least 10 inches (25.4 cm) in diameter for vessels over 25 ft (7.6 m) long; and at least 3 inches (7.6 cm) in diameter for vessels 25 ft (7.6 m) long or less.

(b) Duties of operator. The operator of a vessel specified in paragraph (a) of this section must keep the official number and the color code, if applicable, clearly legible and in good repair and must ensure that no part of the fishing vessel, its rigging, fishing gear, or any other material on board obstructs the view of the official number or the color code, if applicable, from an enforcement vessel or aircraft.

§ 622.7 Fishing years.

The fishing year for species or species groups governed in this part is January 1 through December 31 except for the following:

(a) Allowable octocoral—October 1 through September 30.

(b) King and Spanish mackerel. The fishing year for the king and Spanish mackerel bag limits specified in § 622.382 is January 1 through December 31. The following fishing years apply only for the king and Spanish mackerel quotas specified in § 622.384:

(1) Gulf migratory group king mackerel—July 1 through June 30.

(2) Gulf migratory group Spanish mackerel—April through March.

(3) South Atlantic migratory group king and Spanish mackerel—March through February.

(c) Wreckfish—April 16 through April 15.

(d) South Atlantic greater amberjack—May 1 through April 30.

(e) South Atlantic black sea bass—June 1 through May 31.

§ 622.8 Quotas—general.

(a) Quotas apply for the fishing year for each species or species group, unless accountability measures are implemented during the fishing year pursuant to the applicable annual catch limits and accountability measures sections of subparts B through V of this part due to a quota overage occurring the previous year, in which case a reduced quota will be specified through notification in the Federal Register. Annual quota increases are contingent on the total allowable catch for the applicable species not being exceeded in the previous fishing year. If the total allowable catch is exceeded in the previous fishing year, the RA will file a notification with the Office of the Federal Register to maintain the quota for the applicable species from the previous fishing year for following fishing years, unless the best scientific information available determines maintaining the quota from the previous year is unnecessary. Except for the quotas for Gulf and South Atlantic coral, the quotas include species harvested from state waters adjoining the EEZ.

(b) Quota closures. When a quota specified in this part is reached, or is projected to be reached, the Assistant Administrator will file a notification to that effect with the Office of the Federal Register. On and after the effective date of such notification, for the remainder of the fishing year, the applicable closure restrictions for such a quota, as specified in this part apply. (See the applicable annual catch limits (ACLs), annual catch targets (ACTs), and accountability measures (AMs) sections of subparts B through V of this part for closure provisions when an applicable ACL or ACT is reached or projected to be reached).

(c) Reopening. When a sector has been closed based on a projection of the quota specified in this part, or the ACL specified in the applicable annual catch limits and accountability measures sections of subparts B through V of this part being reached and subsequent data indicate that the quota or ACL was not reached, the Assistant Administrator may file a notification to that effect with the Office of the Federal Register. Such notification may reopen the sector to provide an opportunity for the quota or ACL to be harvested.

§ 622.9 Prohibited gear and methods—general.

This section contains prohibitions on use of gear and methods that are of general applicability, as specified. Additional prohibitions on use of gear and methods applicable to specific species or species groups are contained in subparts B through V of this part.

(a) Explosives. An explosive (except an explosive in a powerhead) may not be used to fish in the Caribbean, Gulf, or South Atlantic EEZ. A vessel fishing in the EEZ for a species governed in this part, or a vessel for which a permit has been issued under this part, may not have on board any dynamite or similar explosive substance.

(b) Chemicals and plants. A toxic chemical may not be used or possessed in a coral area, and a chemical, plant, or plant-derived toxin may not be used to harvest a Caribbean coral reef resource in the Caribbean EEZ.

(c) Fish traps. A fish trap may not be used or possessed in the Gulf or South Atlantic EEZ. A fish trap deployed in the Gulf or South Atlantic EEZ may be disposed of in any appropriate manner by the Assistant Administrator or an authorized officer.

(d) Weak link. A bottom trawl that does not have a weak link in the tickler chain may not be used to fish in the Gulf EEZ. For the purposes of this paragraph, a weak link is defined as a length or section of the tickler chain that has a breaking strength less than the chain itself and is easily seen as such when visually inspected.

(e) Use of Gulf reef fish as bait prohibited. Gulf reef fish may not be used as bait in any fishery, except that, when purchased from a fish processor, the filleted carcasses and offal of Gulf reef fish may be used as bait in trap fisheries for blue crab, stone crab, deep-water crab, and spiny lobster.

§ 622.10 Landing fish intact—-general.

This section contains requirements for landing fish intact that are broadly applicable to finfish in the Gulf EEZ and Caribbean EEZ, as specified. See subparts B through V, as applicable, for additional species specific requirements for landing fish intact.

(a) Finfish in or from the Gulf EEZ or Caribbean EEZ, except as specified in paragraphs (b) and (c) of this section, must be maintained with head and fins intact.

(b) Shark, swordfish, and tuna species are exempt from the requirements of paragraph (a) of this section.

(c) In the Gulf EEZ or Caribbean EEZ:

(1) Bait is exempt from the requirement to be maintained with head and fins intact.

(i) For the purpose of this paragraph (c)(1), “bait” means—

(A) Packaged, headless fish fillets that have the skin attached and are frozen or refrigerated;

(B) Headless fish fillets that have the skin attached and are held in brine; or

(C) Small pieces no larger than 3 in³ (7.6 cm³) or strips no larger than 3 inches by 9 inches (7.6 cm by 22.9 cm) that have the skin attached and are frozen, refrigerated, or held in brine.

(ii) Paragraph (c)(1)(i) of this section notwithstanding, a finfish or part thereof possessed in or landed from the Gulf EEZ or Caribbean EEZ that is subsequently sold or purchased as a finfish species, rather than as bait, is not bait.

(2) Legal-sized finfish possessed for consumption at sea on the harvesting vessel are exempt from the requirement to have head and fins intact, provided—

(i) Such finfish do not exceed any applicable bag limit;

(ii) Such finfish do not exceed 1.5 lb (680 g) of finfish parts per person aboard; and

(iii) The vessel is equipped to cook such finfish on board.

(d) The operator of a vessel that fishes in the EEZ is responsible for ensuring that fish on that vessel in the EEZ are maintained intact and, if taken from the EEZ, are maintained intact through offloading ashore, as specified in this section.

§ 622.11 Bag and possession limits—general applicability.

This section describes the general applicability provisions for bag and possession limits specified in subparts B through V of this part.

(a) Applicability. (1) The bag and possession limits apply for species/species groups in or from the EEZ. Unless specified otherwise, bag limits apply to a person on a daily basis, regardless of the number of trips in a day. Unless specified otherwise, possession limits apply to a person on a trip after the first 24 hours of that trip. The bag and possession limits apply to a person who fishes in the EEZ in any manner, except a person aboard a vessel in the EEZ that has on board the commercial vessel permit required under this part for the appropriate species/species group. The possession of a commercial vessel permit notwithstanding, the bag and possession limits apply when the vessel is operating as a charter vessel or headboat. A person who fishes in the EEZ may not combine a bag limit specified in subparts B through V of this part with a bag or possession limit applicable to state waters. A species/species group subject to a bag limit specified in subparts B through V of this part taken in the EEZ by a person subject to the bag limits may not be transferred at sea, regardless of where such transfer takes place, and such fish may not be transferred in the EEZ. The operator of a vessel that fishes in the EEZ is responsible for ensuring that the bag and possession limits specified in subparts B through V of this part are not exceeded.

(2) [Reserved]

(b) [Reserved]

§ 622.12 Annual catch limits (ACLs) and accountability measures (AMs) for Caribbean island management areas/Caribbean EEZ.

(a) If landings from a Caribbean island management area, as specified in Appendix E to this part, except for landings of queen conch (see § 622.491(b)), or landings from the Caribbean EEZ for tilefish and aquarium trade species, are estimated by the SRD to have exceeded the applicable ACL, as specified in paragraph (a)(1) of this section for Puerto Rico management area species or species groups, paragraph (a)(2) of this section for St. Croix management area species or species groups, paragraph (a)(3) of this section for St. Thomas/St. John management area species or species groups, or paragraph (a)(4) of this section for the Caribbean EEZ, the AA will file a notification with the Office of the Federal Register, at or near the beginning of the following fishing year, to reduce the length of the fishing season for the applicable species or species groups that year by the amount necessary to ensure landings do not exceed the applicable ACL. If NMFS determines the ACL for a particular species or species group was exceeded because of enhanced data collection and monitoring efforts instead of an increase in total catch of the species or species group, NMFS will not reduce the length of the fishing season for the applicable species or species group the following fishing year. Landings will be evaluated relative to the applicable ACL based on a moving multi-year average of landings, as described in the FMP. With the exceptions of Caribbean queen conch in Puerto Rico and St. Thomas/St. John management areas, goliath grouper, Nassau grouper, midnight parrotfish, blue parrotfish, and rainbow parrotfish, ACLs are based on the combined Caribbean EEZ and territorial landings for each management area. The ACLs specified in paragraphs (a)(1), (a)(2), (a)(3), and (a)(4) of this section are given in round weight.

(1) Puerto Rico—(i) Commercial ACLs. The following ACLs apply to commercial landings of Puerto Rico management area species or species groups.

(A) Queen conch—0 lb (0 kg), for the EEZ only.

(B) Parrotfishes—52,737 lb (23,915 kg).

(C) Snapper Unit 1—284,685 lb (129,131 kg).

(D) Snapper Unit 2—145,916 lb (66,186 kg).

(E) Snapper Unit 3—345,775 lb (156,841 kg).

(F) Snapper Unit 4—373,295 lb (169,324 kg).

(G) Groupers—177,513 lb (80,519 kg).

(H) Angelfish—8,984 lb (4,075 kg).

(I) Boxfish—86,115 lb (39,061 kg).

(J) Goatfishes—17,565 lb (7,967 kg).

(K) Grunts—182,396 lb (82,733 kg).

(L) Wrasses—54,147 lb (24,561 kg).

(M) Jacks—86,059 lb (39,036 kg).

(N) Scups and porgies, combined—24,739 lb (11,221 kg).

(O) Squirrelfish—16,663 lb (7,558 kg).

(P) Surgeonfish—7,179 lb (3,256 kg).

(Q) Triggerfish and filefish, combined—58,475 lb (26,524 kg).

(R) Spiny lobster—327,920 lb (148,742 kg).

(ii) Recreational ACLs. The following ACLs apply to recreational landings of Puerto Rico management area species or species groups.

(A) Queen conch—0 lb (0 kg), for the EEZ only.

(B) Parrotfishes—15,263 lb (6,921 kg).

(C) Snapper Unit 1—95,526 lb (43,330 kg).

(D) Snapper Unit 2—34,810 lb (15,790 kg).

(E) Snapper Unit 3—83,158 lb (37,720 kg).

(F) Snapper Unit 4—28,509 lb (12,931 kg).

(G) Groupers—77,213 lb (35,023 kg).

(H) Angelfish—4,492 lb (2,038 kg).

(I) Boxfish—4,616 lb (2,094 kg).

(J) Goatfishes—362 lb (164 kg).

(K) Grunts—5,028 lb (2,281 kg).

(L) Wrasses—5,050 lb (2,291 kg).

(M) Jacks—51,001 lb (23,134 kg).

(N) Scups and porgies, combined—2,577 lb (1,169 kg).

(O) Squirrelfish—3,891 lb (1,765 kg).

(P) Surgeonfish—3,590 lb (1,628 kg).

(Q) Triggerfish and filefish, combined—21,929 lb (9,947 kg).

(2) St. Croix—(i) ACLs. The following ACLs apply to landings of St. Croix management area species or species groups.

(A) Queen conch—50,000 lb (22,680 kg).

(B) Parrotfishes—240,000 lb (108,863 kg).

(C) Snappers—102,946 lb (46,696 kg).

(D) Groupers—30,435 lb (13,805 kg).

(E) Angelfish—305 lb (138 kg).

(F) Boxfish—8,433 lb (3,825 kg).

(G) Goatfishes—3,766 lb (1,708 kg).

(H) Grunts—36,881 lb (16,729 kg).

(I) Wrasses—7 lb (3 kg).

(J) Jacks—15,489 lb (7,076 kg).

(K) Scups and porgies, combined—4,638 lb (2,104 kg).

(L) Squirrelfish—121 lb (55 kg).

(M) Surgeonfish—33,603 lb (15,242 kg).

(N) Triggerfish and filefish, combined—24,980 lb (11,331 kg).

(O) Spiny lobster—107,307 lb (48,674 kg).

(ii) [Reserved]

(3) St. Thomas/St. John — (i) ACLs. The following ACLs apply to landings of St. Thomas/St. John management area species or species groups.

(A) Queen conch—0 lb (0 kg), for the EEZ only.

(B) Parrotfishes—42,500 lb (19,278 kg).

(C) Snappers—133,775 lb (60,679 kg).

(D) Groupers—51,849 lb (23,518 kg).

(E) Angelfish—7,897 lb (3,582 kg).

(F) Boxfish—27,880 lb (12,646 kg).

(G) Goatfishes—320 lb (145 kg).

(H) Grunts—37,617 lb (17,063 kg).

(I) Wrasses—585 lb (265 kg).

(J) Jacks—52,907 lb (23,998 kg).

(K) Scups and porgies, combined—21,819 lb (9,897 kg).

(L) Squirrelfish—4,241 lb (1,924 kg).

(M) Surgeonfish—29,249 lb (13,267 kg).

(N) Triggerfish and filefish, combined—74,447 lb (33,769 kg).

(O) Spiny lobster—104,199 lb (47,264 kg).

(ii) [Reserved]

(4) Caribbean EEZ— (i) ACLs. The following ACLs apply to landings of species or species groups throughout the Caribbean EEZ.

(A) Tilefish—14,642 lb (6,641 kg).

(B) Aquarium trade species—8,155 lb (3,699 kg).

(ii) [Reserved]

§ 622.13 Prohibitions—general.

In addition to the general prohibitions in § 600.725 of this chapter and the fishery specific prohibitions in subparts B through V of this part, it is unlawful for any person to do any of the following:

(a) Falsify or fail to display and maintain vessel identification, as specified in § 622.6.

(b) Use or possess prohibited gear or methods or possess fish in association with possession or use of prohibited gear, as specified in § 622.9.

(c) Fail to maintain a fish intact through offloading ashore, as specified in § 622.10.

(d) Assault, resist, oppose, impede, intimidate, or interfere with a NMFS-approved observer aboard a vessel.

(e) Prohibit or bar by command, impediment, threat, coercion, or refusal of reasonable assistance, an observer from conducting his or her duties aboard a vessel.

(f) Make a false statement, oral or written, to an authorized officer regarding the installation, use, operation, or maintenance of a vessel monitoring system (VMS) unit or communication service provider.

§ 622.14 Area closures related to the Deepwater Horizon oil spill.

(a) Caribbean EEZ area closure related to Deepwater Horizon oil spill. Effective May 11, 2010, all fishing is prohibited in the portion of the Caribbean EEZ identified in the map shown on the NMFS Web site: http://sero.nmfs.noaa.gov/deepwater_horizon_oil_spill.htm.

(b) Gulf EEZ area closure related to Deepwater Horizon oil spill. Effective May 11, 2010, all fishing is prohibited in the portion of the Gulf EEZ identified in the map shown on the NMFS Web site: http://sero.nmfs.noaa.gov/deepwater_horizon_oil_spill.htm.

(c) Atlantic EEZ area closure related to Deepwater Horizon oil spill. Effective May 11, 2010, all fishing is prohibited in the portion of the South Atlantic EEZ identified in the map shown on the NMFS Web site: http://sero.nmfs.noaa.gov/deepwater_horizon_oil_spill.htm.

§ 622.15 Notice regarding area closures to protect corals.

See §§ 622.74 and 622.224, respectively, regarding coral protective restrictions in the Gulf EEZ and South Atlantic EEZ that apply broadly to multiple fisheries and gear types.

§ 622.16 Notice regarding South Atlantic special management zones (SMZs).

See §§ 622.182(a) and 622.382(a)(1)(v), respectively, regarding fishing and gear restrictions in South Atlantic SMZs that apply to snapper-grouper and coastal migratory pelagic fisheries and broadly to gear types of multiple fisheries.

§ 622.17 Notice regarding seasonal/area closures to protect Gulf reef fish.

See § 622.34, paragraphs (a)(1) and (a)(3) through (6), regarding Gulf reef fish protective restrictions in the Gulf EEZ that apply broadly to multiple Gulf fisheries and gear types.

Subpart B—Reef Fish Resources of the Gulf of Mexico

§ 622.20 Permits and endorsements.

(a) Commercial vessels—(1) Commercial vessel permits. For a person aboard a vessel to be eligible for exemption from the bag limits, to fish under a quota, as specified in § 622.39, or to sell Gulf reef fish in or from the Gulf EEZ, a commercial vessel permit for Gulf reef fish must have been issued to the vessel and must be on board. If Federal regulations for Gulf reef fish in subparts A or B of this part are more restrictive than state regulations, a person aboard a vessel for which a commercial vessel permit for Gulf reef fish has been issued must comply with such Federal regulations regardless of where the fish are harvested. See paragraph (a)(1)(i) of this section regarding a limited access system for commercial vessel permits for Gulf reef fish. See §§ 622.21(b)(1) and 622.22(b)(1), respectively, regarding an IFQ vessel account required to fish for, possess, or land Gulf red snapper or Gulf groupers and tilefishes and paragraph (a)(2) of this section regarding an additional bottom longline endorsement required to fish for Gulf reef fish with bottom longline gear in a portion of the eastern Gulf.

(i) Limited access system for commercial vessel permits for Gulf reef fish. (A) No applications for additional commercial vessel permits for Gulf reef fish will be accepted. Existing vessel permits may be renewed, are subject to the restriction on transfer in paragraph (a)(1)(i)(B) of this section, and are subject to the requirement for timely renewal in paragraph (a)(1)(i)(C) of this section. An application for renewal or transfer of a commercial vessel permit for Gulf reef fish will not be considered complete until proof of purchase, installation, activation, and operational status of an approved VMS for the vessel receiving the permit has been verified by NMFS VMS personnel.

(B) An owner of a permitted vessel may transfer the commercial vessel permit for Gulf reef fish to another vessel owned by the same entity. A permit holder may also transfer the commercial vessel permit for Gulf reef fish to the owner of another vessel or to a new vessel owner when he or she transfers ownership of the permitted vessel.

(C) A commercial vessel permit for Gulf reef fish that is not renewed or that is revoked will not be reissued. A permit is considered to be not renewed when an application for renewal is not received by the RA within 1 year of the expiration date of the permit.

(ii) Option to consolidate commercial vessel permits for Gulf reef fish. A person who has been issued multiple commercial vessel permits for Gulf reef fish and wants to consolidate some or all of those permits, and the landings histories associated with those permits, into one permit must submit a completed permit consolidation application to the RA. The permits consolidated must be valid, non-expired permits and must be issued to the same entity. The application form and instructions are available online at sero.nmfs.noaa.gov. After consolidation, such a person would have a single permit, and the permits that were consolidated into that permit will be permanently terminated.

(2) Commercial vessel endorsements—(i) Eastern Gulf reef fish bottom longline endorsement. For a person aboard a vessel, for which a valid commercial vessel permit for Gulf reef fish has been issued, to use a bottom longline for Gulf reef fish in the Gulf EEZ east of 85°30′ W. long., a valid eastern Gulf reef fish bottom longline endorsement must have been issued to the vessel and must be on board. A permit or endorsement that has expired is not valid. This endorsement must be renewed annually and may only be renewed if the associated vessel has a valid commercial vessel permit for Gulf reef fish or if the endorsement and associated permit are being concurrently renewed. The RA will not reissue this endorsement if the endorsement is revoked or if the RA does not receive a complete application for renewal of the endorsement within 1 year after the endorsement's expiration date.

(A) Transferability. An owner of a vessel with a valid eastern Gulf reef fish bottom longline endorsement may transfer that endorsement to an owner of a vessel that has a valid commercial vessel permit for Gulf reef fish.

(B) Fees. A fee is charged for each renewal, transfer, or replacement of an eastern Gulf reef fish bottom longline endorsement. The amount of each fee is calculated in accordance with the procedures of the NOAA Finance Handbook, available from the RA, for determining the administrative costs of each special product or service. The fee may not exceed such costs and is specified with each application form. The appropriate fee must accompany each application for renewal, transfer, or replacement.

(ii) [Reserved]

(b) Charter vessel/headboat permits. For a person aboard a vessel that is operating as a charter vessel or headboat to fish for or possess Gulf reef fish, in or from the EEZ, a valid charter vessel/headboat permit for Gulf reef fish must have been issued to the vessel and must be on board.

(1) Limited access system for charter vessel/headboat permits for Gulf reef fish. No applications for additional charter vessel/headboat permits for Gulf reef fish will be accepted. Existing permits may be renewed, are subject to the restrictions on transfer in paragraph (b)(1)(i) of this section, and are subject to the renewal requirements in paragraph (b)(1)(ii) of this section.

(i) Transfer of permits—(A) Permits without a historical captain endorsement. A charter vessel/headboat permit for Gulf coastal migratory pelagic fish or Gulf reef fish that does not have a historical captain endorsement is fully transferable, with or without sale of the permitted vessel, except that no transfer is allowed to a vessel with a greater authorized passenger capacity than that of the vessel to which the moratorium permit was originally issued, as specified on the face of the permit being transferred. An application to transfer a permit to an inspected vessel must include a copy of that vessel's current USCG Certificate of Inspection (COI). A vessel without a valid COI will be considered an uninspected vessel with an authorized passenger capacity restricted to six or fewer passengers.

(B) Permits with a historical captain endorsement. A charter vessel/headboat permit for Gulf coastal migratory pelagic fish or Gulf reef fish that has a historical captain endorsement may only be transferred to a vessel operated by the historical captain, cannot be transferred to a vessel with a greater authorized passenger capacity than that of the vessel to which the moratorium permit was originally issued, as specified on the face of the permit being transferred, and is not otherwise transferable.

(C) Procedure for permit transfer. To request that the RA transfer a charter vessel/headboat permit for Gulf reef fish, the owner of the vessel who is transferring the permit and the owner of the vessel that is to receive the transferred permit must complete the transfer information on the reverse side of the permit and return the permit and a completed application for transfer to the RA. See § 622.4(f) for additional transfer-related requirements applicable to all permits issued under this part.

(ii) Renewal. (A) Renewal of a charter vessel/headboat permit for Gulf reef fish is contingent upon the permitted vessel and/or captain, as appropriate, being included in an active survey frame for, and, if selected to report, providing the information required in one of the approved fishing data surveys. Surveys include, but are not limited to—

(1) NMFS' Marine Recreational Fishing Vessel Directory Telephone Survey (conducted by the Gulf States Marine Fisheries Commission);

(2) NMFS' Southeast Headboat Survey (as required by § 622.26(b)(1));

(3) Texas Parks and Wildlife Marine Recreational Fishing Survey; or

(4) A data collection system that replaces one or more of the surveys in paragraph (b)(1)(ii)(A),(1),(2), or (3) of this section.

(B) A charter vessel/headboat permit for Gulf reef fish that is not renewed or that is revoked will not be reissued. A permit is considered to be not renewed when an application for renewal, as required, is not received by the RA within 1 year of the expiration date of the permit.

(iii) Requirement to display a vessel decal. Upon renewal or transfer of a charter vessel/headboat permit for Gulf reef fish, the RA will issue the owner of the permitted vessel a vessel decal for Gulf reef fish. The vessel decal must be displayed on the port side of the deckhouse or hull and must be maintained so that it is clearly visible.

(2) A charter vessel or headboat may have both a charter vessel/headboat permit and a commercial vessel permit. However, when a vessel is operating as a charter vessel or headboat, a person aboard must adhere to the bag limits. See the definitions of “Charter vessel” and “Headboat” in § 622.2 for an explanation of when vessels are considered to be operating as a charter vessel or headboat, respectively.

(3) If Federal regulations for Gulf reef fish in subparts A or B of this part are more restrictive than state regulations, a person aboard a charter vessel or headboat for which a charter vessel/headboat permit for Gulf reef fish has been issued must comply with such Federal regulations regardless of where the fish are harvested.

(c) Dealer permits and conditions—(1) Permits. For a dealer to receive Gulf reef fish harvested from the EEZ, a dealer permit for Gulf reef fish must be issued to the dealer.

(2) State license and facility requirements. To obtain a dealer permit or endorsement, the applicant must have a valid state wholesaler's license in the state(s) where the dealer operates, if required by such state(s), and must have a physical facility at a fixed location in such state(s).

(d) Permit procedures. See § 622.4 for information regarding general permit procedures including, but not limited to application, fees, duration, transfer, renewal, display, sanctions and denials, and replacement.

§ 622.21 Individual fishing quota (IFQ) program for Gulf red snapper.

(a) General. This section establishes an IFQ program for the commercial red snapper component of the Gulf reef fish fishery. Shares determine the amount of Gulf red snapper IFQ allocation, in pounds gutted weight, a shareholder is initially authorized to possess, land, or sell in a given calendar year. As of January 1, 2012, IFQ shares and allocation can only be transferred to U.S. citizens and permanent resident aliens. See paragraph (b)(11) of this section regarding eligibility to participate in the Gulf red snapper IFQ program as of January 1, 2012. Shares and annual IFQ allocation are transferable. See paragraph (b)(1) of this section regarding a requirement for a vessel landing red snapper subject to this IFQ program to have a Gulf red snapper IFQ vessel account. See paragraph (b)(2) of this section regarding a requirement for a Gulf IFQ dealer endorsement. Details regarding eligibility, applicable landings history, account setup and transaction requirements, constraints on transferability, and other provisions of this IFQ system are provided in the following paragraphs of this section.

(1) Scope. The provisions of this section regarding the harvest and possession of Gulf IFQ red snapper apply to Gulf red snapper in or from the Gulf EEZ and, for a person aboard a vessel with a Gulf red snapper IFQ vessel account as required by paragraph (b)(1) of this section or for a person with a Gulf IFQ dealer endorsement as required by paragraph (b)(2) of this section, these provisions apply to Gulf red snapper regardless of where harvested or possessed.

(2) Duration. The IFQ program established by this section will remain in effect until it is modified or terminated; however, the program will be evaluated by the Gulf of Mexico Fishery Management Council every 5 years.

(3) Electronic system requirements. (i) The administrative functions associated with this IFQ program, e.g., registration and account setup, landing transactions, and transfers, are designed to be accomplished online; therefore, a participant must have access to a computer and Internet access and must set up an appropriate IFQ online account to participate. The computer must have browser software installed, e.g., Internet Explorer or Mozilla Firefox; as well as the software Adobe Flash Player version 9.0 or greater, which may be downloaded from the Internet for free. Assistance with online functions is available from IFQ Customer Service by calling 1-866-425-7627 Monday through Friday between 8 a.m. and 4:30 p.m. eastern time.

(ii) The RA mailed initial shareholders and dealers with Gulf reef fish dealer permits information and instructions pertinent to setting up an IFQ online account. Other eligible persons who desire to become IFQ participants by purchasing IFQ shares or allocation or by obtaining a Gulf red snapper IFQ dealer endorsement must first contact IFQ Customer Service at 1-866-425-7627 to obtain information necessary to set up the required IFQ online account. As of January 1, 2012, all U.S. citizens and permanent resident aliens are eligible to establish an IFQ online account. As of January 1, 2012, all current IFQ participants must complete and submit the application for an IFQ Online Account to certify their citizenship status and ensure their account information (e.g., mailing address, corporate shareholdings, etc.) is up to date. See § 622.21(b)(11) regarding requirements for the application for an IFQ Online Account. Each IFQ participant must monitor his/her online account and all associated messages and comply with all IFQ online reporting requirements.

(iii) During catastrophic conditions only, the IFQ program provides for use of paper-based components for basic required functions as a backup. The RA will determine when catastrophic conditions exist, the duration of the catastrophic conditions, and which participants or geographic areas are deemed affected by the catastrophic conditions. The RA will provide timely notice to affected participants via publication of notification in the Federal Register, NOAA weather radio, fishery bulletins, and other appropriate means and will authorize the affected participants' use of paper-based components for the duration of the catastrophic conditions. NMFS will provide each IFQ dealer the necessary paper forms, sequentially coded, and instructions for submission of the forms to the RA. The paper forms will also be available from the RA. The program functions available to participants or geographic areas deemed affected by catastrophic conditions will be limited under the paper-based system. There will be no mechanism for transfers of IFQ shares or allocation under the paper-based system in effect during catastrophic conditions. Assistance in complying with the requirements of the paper-based system will be available via IFQ Customer Service 1-866-425-7627 Monday through Friday between 8 a.m. and 4:30 p.m. eastern time.

(4) IFQ allocation. IFQ allocation is the amount of Gulf red snapper, in pounds gutted weight, an IFQ shareholder or allocation holder is authorized to possess, land, or sell during a given fishing year. IFQ allocation is derived at the beginning of each year by multiplying a shareholder's IFQ share times the annual commercial quota for Gulf red snapper. If the quota is increased after the beginning of the fishing year, then IFQ allocation is derived by multiplying a shareholder's IFQ share at the time of the quota increase by the amount the annual commercial quota for red snapper is increased.

(5) Initial shareholder IFQ account setup information. As soon as possible after an IFQ Online Account is established, the RA will provide IFQ account holders information pertinent to the IFQ program. This information will include:

(i) General instructions regarding procedures related to the IFQ online system; and

(ii) A user identification number—the personal identification number (PIN) is provided in a subsequent letter.

(6) Dealer notification and IFQ account setup information. As soon as possible after November 22, 2006, the RA mailed each dealer with a valid Gulf reef fish dealer permit information pertinent to the IFQ program. Any such dealer is eligible to receive a Gulf IFQ dealer endorsement, which can be downloaded from the IFQ Web site at ifq.sero.nmfs.noaa.gov once an IFQ account has been established. The information package included general information about the IFQ program and instructions for accessing the IFQ Web site and establishing an IFQ dealer account.

(b) IFQ operations and requirements—(1) IFQ vessel accounts for Gulf red snapper. For a person aboard a vessel, for which a commercial vessel permit for Gulf reef fish has been issued, to fish for, possess, or land Gulf red snapper, regardless of where harvested or possessed, a Gulf IFQ vessel account for Gulf red snapper must have been established. As a condition of the IFQ vessel account, a person aboard such vessel must comply with the requirements of this section, § 622.21, when fishing for red snapper regardless of where the fish are harvested or possessed. An owner of a vessel with a commercial vessel permit for Gulf reef fish, who has established an IFQ account for Gulf red snapper as specified in paragraph (a)(3)(i) of this section, online via the NMFS IFQ Web site ifq.sero.nmfs.noaa.gov, may establish a vessel account through that IFQ account for that permitted vessel. If such owner does not have an online IFQ account, the owner must first contact IFQ Customer Service at 1-866-425-7627 to obtain information necessary to access the IFQ Web site and establish an online IFQ account. There is no fee to set-up an IFQ account or a vessel account. Only one vessel account may be established per vessel under each IFQ program. An owner with multiple vessels may establish multiple vessel accounts under each IFQ account. The purpose of the vessel account is to hold IFQ allocation that is required to land the applicable IFQ species. A vessel account must hold sufficient IFQ allocation, at least equal to the pounds in gutted weight of the red snapper on board, from the time of advance notice of landing through landing (except for any overage allowed as specified in paragraph (b)(3)(ii) of this section. The vessel account remains valid as long as the vessel permit remains valid; the vessel has not been sold or transferred; and the vessel owner is in compliance with all Gulf reef fish and IFQ reporting requirements, has paid all applicable IFQ fees, and is not subject to sanctions under 15 CFR part 904. The vessel account is not transferable to another vessel. The provisions of this paragraph do not apply to fishing for or possession of Gulf red snapper under the bag limit specified in § 622.38(b)3).

(2) Gulf IFQ dealer endorsements. In addition to the requirement for a dealer permit for Gulf reef fish as specified in § 622.20(c), for a dealer to receive red snapper subject to the Gulf red snapper IFQ program, as specified in paragraph (a)(1) of this section, or for a person aboard a vessel with a Gulf IFQ vessel account to sell such red snapper directly to an entity other than a dealer, such persons must also have a Gulf IFQ dealer endorsement. A dealer with a Gulf reef fish permit can download a Gulf IFQ dealer endorsement from the NMFS IFQ Web site at ifq.sero.nmfs.noaa.gov. If such persons do not have an IFQ online account, they must first contact IFQ Customer Service at 1-866-425-7627 to obtain information necessary to access the IFQ Web site and establish an IFQ online account. There is no fee for obtaining this endorsement. The endorsement remains valid as long as the Gulf reef fish dealer permit remains valid and the dealer is in compliance with all Gulf reef fish and IFQ reporting requirements, has paid all IFQ fees required, and is not subject to any sanctions under 15 CFR part 904. The endorsement is not transferable.

(3) IFQ Landing and transaction requirements. (i) Gulf red snapper subject to this IFQ program can only be possessed or landed by a vessel with a Gulf red snapper IFQ vessel account with allocation at least equal to the pounds of red snapper on board, except as provided in paragraph (b)(3)(ii) of this section. Such red snapper can only be received by a dealer with a Gulf IFQ dealer endorsement.

(ii) A person on board a vessel with an IFQ vessel account landing the shareholder's only remaining allocation, can legally exceed, by up to 10 percent, the shareholder's allocation remaining on that last fishing trip of the fishing year, i.e., a one-time per fishing year overage. Any such overage will be deducted from the shareholder's applicable allocation for the subsequent fishing year. From the time of the overage until January 1 of the subsequent fishing year, the IFQ shareholder must retain sufficient shares to account for the allocation that will be deducted the subsequent fishing year. Share transfers that would violate this requirement will be prohibited.

(iii) The dealer is responsible for completing a landing transaction report for each landing and sale of Gulf red snapper via the IFQ Web site at ifq.sero.nmfs.noaa.gov at the time of the transaction in accordance with the reporting form(s) and instructions provided on the Web site. This report includes, but is not limited to, date, time, and location of transaction; weight and actual ex-vessel price of red snapper landed and sold; and information necessary to identify the fisherman, vessel, and dealer involved in the transaction. The fisherman must validate the dealer transaction report by entering his unique PIN when the transaction report is submitted. After the dealer submits the report and the information has been verified, the Web site will send a transaction approval code to the dealer and the allocation holder.

(iv) If there is a discrepancy regarding the landing transaction report after approval, the dealer or vessel account holder (or his or her authorized agent) must initiate a landing transaction correction form to correct the landing transaction. This form is available via the IFQ Web site at ifq.sero.nmfs.noaa.gov. The dealer must then print out the form, both parties must sign it, and the form must be mailed to NMFS. The form must be received by NMFS no later than 15 days after the date of the initial landing transaction.

(4) IFQ cost recovery fees. As required by section 304(d)(2)(A)(i) of the Magnuson-Stevens Act, the RA will collect a fee to recover the actual costs directly related to the management and enforcement of the Gulf red snapper IFQ program. The fee cannot exceed 3 percent of the ex-vessel value of Gulf red snapper landed under the IFQ program as described in the Magnuson-Stevens Act. Such fees will be deposited in the Limited Access System Administration Fund (LASAF). Initially, the fee will be 3 percent of the actual ex-vessel price of Gulf red snapper landed per trip under the IFQ program, as documented in each landings transaction report. The RA will review the cost recovery fee annually to determine if adjustment is warranted. Factors considered in the review include the catch subject to the IFQ cost recovery, projected ex-vessel value of the catch, costs directly related to the management and enforcement of the IFQ program, the projected IFQ balance in the LASAF, and expected non-payment of fee liabilities. If the RA determines that a fee adjustment is warranted, the RA will publish a notification of the fee adjustment in the Federal Register.

(i) Payment responsibility. The IFQ allocation holder specified in the documented red snapper IFQ landing transaction report is responsible for payment of the applicable cost recovery fees.

(ii) Collection and submission responsibility. A dealer who receives Gulf red snapper subject to the IFQ program is responsible for collecting the applicable cost recovery fee for each IFQ landing from the IFQ allocation holder specified in the IFQ landing transaction report. Such dealer is responsible for submitting all applicable cost recovery fees to NMFS on a quarterly basis. The fees are due and must be submitted, using pay.gov via the IFQ system at the end of each calendar-year quarter, but no later than 30 days after the end of each calendar-year quarter. Fees not received by the deadline are delinquent.

(iii) Fee payment procedure. For each IFQ dealer, the IFQ system will post, on individual message boards, an end-of-quarter statement of cost recovery fees that are due. The dealer is responsible for submitting the cost recovery fee payments using pay.gov via the IFQ system. Authorized payments methods are credit card, debit card, or automated clearing house (ACH). Payment by check will be authorized only if the RA has determined that the geographical area or an individual(s) is affected by catastrophic conditions.

(iv) Fee reconciliation process—delinquent fees. The following procedures apply to an IFQ dealer whose cost recovery fees are delinquent.

(A) On or about the 31st day after the end of each calendar-year quarter, the RA will send the dealer an electronic message via the IFQ Web site and official notice via mail indicating the applicable fees are delinquent, and the dealer's IFQ account has been suspended pending payment of the applicable fees.

(B) On or about the 91st day after the end of each calendar-year quarter, the RA will refer any delinquent IFQ dealer cost recovery fees to the appropriate authorities for collection of payment.

(5) Measures to enhance IFQ program enforceability—(i) Advance notice of landing. For the purpose of this paragraph, landing means to arrive at a dock, berth, beach, seawall, or ramp. The owner or operator of a vessel landing IFQ red snapper is responsible for ensuring that NMFS is contacted at least 3 hours, but no more than 12 hours, in advance of landing to report the time and location of landing, estimated red snapper landings in pounds gutted weight, vessel identification number (Coast Guard registration number or state registration number), and the name and address of the IFQ dealer where the red snapper are to be received. The vessel landing red snapper must have sufficient IFQ allocation in the IFQ vessel account, at least equal to the pounds in gutted weight of red snapper on board (except for any overage up to the 10 percent allowed on the last fishing trip) from the time of the advance notice of landing through landing. Authorized methods for contacting NMFS and submitting the report include calling IFQ Customer Service at 1-866-425-7627, completing and submitting to NMFS the notification form provided through the VMS unit, or providing the required information to NMFS through the web-based form available on the IFQ Web site at ifq.sero.nmfs.noaa.gov. As new technology becomes available, NMFS will add other authorized methods for complying with the advance notification requirement, via appropriate rulemaking. Failure to comply with this advance notice of landing requirement is unlawful and will preclude authorization to complete the landing transaction report required in paragraph (b)(3)(iii) of this section and, thus, will preclude issuance of the required transaction approval code.

(ii) Time restriction on offloading. For the purpose of this paragraph, offloading means to remove IFQ red snapper from a vessel. IFQ red snapper may be offloaded only between 6 a.m. and 6 p.m., local time.

(iii) Restrictions on transfer of IFQ red snapper. At-sea or dockside transfer of IFQ red snapper from one vessel to another vessel is prohibited.

(iv) Requirement for transaction approval code. If IFQ red snapper are offloaded to a vehicle for transportation to a dealer or are on a vessel that is trailered for transport to a dealer, on-site capability to accurately weigh the fish and to connect electronically to the online IFQ system to complete the transaction and obtain the transaction approval code is required. After a landing transaction has been completed, a transaction approval code verifying a legal transaction of the amount of IFQ red snapper in possession and a copy of the dealer endorsement must accompany any IFQ red snapper from the landing location through possession by a dealer. This requirement also applies to IFQ red snapper possessed on a vessel that is trailered for transport to a dealer.

(v) Approved landing locations. Landing locations must be approved by NMFS Office for Law Enforcement prior to landing or offloading at these sites. Proposed landing locations may be submitted online via the IFQ Web site at ifq.sero.nmfs.noaa.gov, or by calling IFQ Customer Service at 1-866-425-7627, at any time; however, new landing locations will be approved only at the end of each calendar-year quarter. To have a landing location approved by the end of the calendar-year quarter, it must be submitted at least 45 days before the end of the calendar-year quarter. NMFS will evaluate the proposed sites based on, but not limited to, the following criteria:

(A) Landing locations must have a street address. If there is no street address on record for a particular landing location, global positioning system (GPS) coordinates for an identifiable geographic location must be provided.

(B) Landing locations must be publicly accessible by land and water, and must satisfy the following criteria:

(1) Vehicles must have access to the site via public roads;

(2) Vessels must have access to the site via navigable waters;

(3) No other condition may impede free and immediate access to the site by an authorized law enforcement officer. Examples of such conditions include, but are not limited to: A locked gate, fence, wall, or other barrier preventing 24-hour access to the site; a gated community entry point; a guard animal; a posted sign restricting access to the site; or any other physical deterrent.

(6) Transfer of IFQ shares and allocation. Until January 1, 2012, IFQ shares and allocations can be transferred only to a person who holds a valid commercial vessel permit for Gulf reef fish; thereafter, IFQ shares and allocations can be transferred only to a U.S. citizen or permanent resident alien. However, a valid commercial permit for Gulf reef fish, a Gulf red snapper IFQ vessel account, and Gulf red snapper IFQ allocation are required to possess (at and after the time of the advance notice of landing), land or sell Gulf red snapper subject to this IFQ program.

(i) Share transfers. Share transfers are permanent, i.e., they remain in effect until subsequently transferred. Transfer of shares will result in the corresponding allocation being automatically transferred to the person receiving the transferred share beginning with the fishing year following the year the transfer occurred. However, within the fishing year the share transfer occurs, transfer of shares and associated allocation are independent—unless the associated allocation is transferred separately, it remains with the transferor for the duration of that fishing year. A share transfer transaction that remains in pending status, i.e., has not been completed and verified with a transaction approval code, after 30 days from the date the shareholder initiated the transfer will be cancelled, and the pending shares will be re-credited to the shareholder who initiated the transfer.

(ii) Share transfer procedures. Share transfers must be accomplished online via the IFQ Web site. An IFQ shareholder must initiate a share transfer request by logging onto the IFQ Web site at ifq.sero.nmfs.noaa.gov. Following the instructions provided on the Web site, the shareholder must enter pertinent information regarding the transfer request including, but not limited to, amount of shares to be transferred, which must be a minimum of 0.0001 percent; name of the eligible transferee; and the value of the transferred shares. An IFQ shareholder who is subject to a sanction under 15 CFR part 904 is prohibited from initiating a share transfer. An IFQ shareholder who is subject to a pending sanction under 15 CFR part 904 must disclose in writing to the prospective transferee the existence of any pending sanction at the time of the transfer. For the first 5 years this IFQ program is in effect, an eligible transferee is a person who has a valid commercial vessel permit for Gulf reef fish; is in compliance with all reporting requirements for the Gulf reef fish fishery and the red snapper IFQ program; is not subject to sanctions under 15 CFR part 904; and who would not be in violation of the share cap as specified in paragraph (b)(8) of this section. Thereafter, share transferee eligibility will only include U.S. citizens and permanent resident aliens who are otherwise in compliance with the provisions of this section. The online system will verify the transfer information entered. If the information is not accepted, the online system will send the shareholder an electronic message explaining the reason(s) why the transfer request cannot be completed. If the information is accepted, the online system will send the transferee an electronic message of the pending transfer. The transferee must approve the share transfer by electronic signature. If the transferee approves the share transfer, the online system will send a transaction approval code to both the transferor and transferee confirming the transaction. All share transfers must be completed and the transaction approval code received prior to December 31 at 6 p.m. eastern time each year.

(iii) Allocation transfers. An allocation transfer is valid only for the remainder of the fishing year in which it occurs; it does not carry over to the subsequent fishing year. Any allocation that is unused at the end of the fishing year is void. Allocation may be transferred to a vessel account from any IFQ account. Allocation held in a vessel account, however, may only be transferred back to the IFQ account through which the vessel account was established.

(iv) Allocation transfer procedures. Allocation transfers must be accomplished online via the IFQ Web site. An IFQ account holder must initiate an allocation transfer by logging onto the IFQ Web site at ifq.sero.nmfs.noaa.gov, entering the required information, including but not limited to, name of an eligible transferee and amount of IFQ allocation to be transferred and price, and submitting the transfer electronically. An IFQ allocation holder who is subject to a sanction under 15 CFR part 904 is prohibited from initiating an allocation transfer. An IFQ allocation holder who is subject to a pending sanction under 15 CFR part 904 must disclose in writing to the prospective transferee the existence of any pending sanction at the time of the transfer. If the transfer is approved, the online system will provide a transaction approval code to the transferor and transferee confirming the transaction.

(7) Restricted transactions during the 20-hour online maintenance window. All electronic IFQ transactions must be completed by December 31 at 6 p.m. eastern time each year. Electronic IFQ functions will resume again on January 1 at 2 p.m. eastern time the following fishing year. The remaining 6 hours prior to the end of the fishing year, and the 14 hours at the beginning of the next fishing year, are necessary to provide NMFS time to reconcile IFQ accounts, adjust allocations for the upcoming year if the commercial quotas for Gulf red snapper have changed, and update shares and allocations for the upcoming fishing year. No electronic IFQ transactions will be available during these 20 hours. An advance notice of landing may still be submitted during the 20-hour maintenance window by using the vessel's VMS unit or calling IFQ Customer Service at 1-866-425-7627.

(8) IFQ share cap. No person, including a corporation or other entity, may individually or collectively hold IFQ shares in excess of 6.0203 percent of the total shares. For the purposes of considering the share cap, a corporation's total IFQ share is determined by adding the applicable IFQ shares held by the corporation and any other IFQ shares held by a corporation(s) owned by the original corporation prorated based on the level of ownership. An individual's total IFQ share is determined by adding the applicable IFQ shares held by the individual and the applicable IFQ shares equivalent to the corporate share the individual holds in a corporation. Initially, a corporation must provide the RA the identity of the shareholders of the corporation and their percent of shares in the corporation, and provide updated information to the RA within 30 days of when changes occur. This information must also be provided to the RA any time a commercial vessel permit for Gulf reef fish is renewed or transferred and at the time of renewal of the application for an IFQ Online Account.

(9) Redistribution of shares resulting from permanent revocation. If a shareholder's IFQ shares have been permanently revoked, the RA will redistribute the IFQ shares held by that shareholder proportionately among remaining shareholders (subject to cap restrictions) based upon the amount of shares each held just prior to the redistribution. During December of each year, the RA will determine the amount of revoked shares, if any, to be redistributed, and the shares will be distributed at the beginning of the subsequent fishing year.

(10) Annual recalculation and notification of IFQ shares and allocation. On or about January 1 each year, IFQ shareholders will be notified, via the IFQ Web site at ifq.sero.nmfs.noaa.gov, of their IFQ share and allocation for the upcoming fishing year. These updated share values will reflect the results of applicable share transfers and any redistribution of shares (subject to cap restrictions) resulting from permanent revocation of applicable shares. Updated allocation values will reflect any change in IFQ share, any change in the annual commercial quota for Gulf red snapper, and any debits required as a result of prior fishing year overages as specified in paragraph (b)(3)(ii) of this section. IFQ participants can monitor the status of their shares and allocation throughout the year via the IFQ Web site.

(11) Eligibility to participate in the Gulf red snapper IFQ program as of January 1, 2012. The provisions of paragraph (b)(11) of this section apply to all eligible participants for the Gulf red snapper IFQ program beginning January 1, 2012. In addition to eligible participants who already participate in the Gulf red snapper IFQ program, as of January 1, 2012, all U.S. citizens and permanent resident aliens who are in compliance with the provisions of this section are eligible and may participate in the Gulf red snapper IFQ program as shareholders and allocation holders. The requirements to meet the definition of a U.S. citizen are described in the Immigration and Nationality Act of 1952, as amended, and permanent resident aliens are those individuals who have been lawfully accorded the privilege of residing permanently in the U.S. in accordance with U.S. immigration laws. In order to harvest and possess Gulf IFQ red snapper, the requirements for a Gulf red snapper IFQ vessel account, as specified in paragraph (b)(1) of this section, or a Gulf IFQ dealer endorsement, as specified in paragraph (b)(2) of this section apply.

(i) Gulf red snapper IFQ program participation for current red snapper IFQ account holders. A current participant in the red snapper IFQ program must complete and submit the application for an IFQ Online Account that is available on the Web site sero.nmfs.noaa.gov, to certify status as a U.S. citizen or permanent resident alien. The IFQ account holder must also complete and submit any other information on this form that may be necessary for the administration of the IFQ online account. A person with an established IFQ online account must update and confirm the account information every 2 years. IFQ online accounts are updated through the submission of the application for an IFQ Online Account. Accounts must be updated prior to the account validity date (expiration date of the account) that is displayed on each account holder's IFQ online account page. The RA will provide each participant who has established an online account, with an application approximately 2 months prior to the account validity date. A participant who is not provided an application at least 45 days prior to the account validity date must contact IFQ Customer Service at 1-866-425-7627 and request an application. Failure to submit a completed application prior to the account validity date will lead to the suspension of the participant's IFQ online account until a completed application is submitted. After January 1, 2012, participants who certify that they are either not U.S. citizens or permanent resident aliens will be ineligible to receive shares or allocation through transfer.

(ii) Gulf red snapper IFQ program participation for entities that do not currently possess an IFQ online account. The following procedures apply to U.S citizens or permanent resident aliens who are not otherwise described in either paragraphs (a) or (b)(11)(i) of this section.

(A) To establish an IFQ online account, a person must first complete the application for an IFQ Online Account that is available on the Web site sero.nmfs.noaa.gov. An applicant for an IFQ online account under this paragraph must provide the following;

(1) Name; address; telephone number; date of birth; tax identification number; certification of status as either a U.S. citizen or permanent resident alien; and if a corporation, a list of all officers, directors, shareholders, and registered agents of the business; and other identifying information as specified on the application.

(2) Any other information that may be necessary for the establishment or administration of the IFQ online account.

(B) Completed applications and all required supporting documentation must be submitted to the RA. There is no fee to access the Web site or establish an IFQ online account. An applicant that submits an incomplete application will be contacted by the RA to correct any deficiencies. If an applicant fails to correct the deficiency within 30 days of being notified of the deficient application, the application will be considered abandoned.

(C) After an applicant submits a completed application for an IFQ online account, the RA will mail the applicant general instructions regarding procedures related to the IFQ online system, including how to set up an online account and a user identification number—the personal identification number (PIN) will be provided in a subsequent letter.

(D) A participant who has established an IFQ online account must notify the RA within 30 days after there is any change in the information submitted through the application for an IFQ Online Account. The IFQ online account is void if any change in the application information is not reported within 30 days.

(E) A person who has established an IFQ online account must update and confirm the account information every 2 years. IFQ online accounts are updated through the submission of the application for an IFQ Online Account. Accounts must be updated prior to the account validity date (expiration date of the account) that is displayed on each account holder's IFQ online account page. The RA will mail each participant who has established an online account an application approximately 2 months prior to the Account Validity Date. A participant who does not receive an application at least 45 days prior to the Account Validity Date must contact IFQ Customer Service at 1-866-425-7627 and request an application. Failure to submit a completed application prior to the account validity date will lead to the suspension of the IFQ online account until a completed application is submitted.

(F) For information regarding transfer of IFQ shares and allocation, the IFQ share cap, and the annual recalculation and notification of IFQ shares and allocation, see paragraphs (b)(6), (b)(8), and (b)(10) of this section, respectively.

(G) Participation in the Gulf red snapper IFQ program beyond transferring IFQ shares and allocation is explained in paragraphs (a) through (b)(10) of this section.

§ 622.22 Individual fishing quota (IFQ) program for Gulf groupers and tilefishes.

(a) General. This section establishes an IFQ program for the commercial sectors of the Gulf reef fish fishery for groupers (including DWG, red grouper, gag, and Other SWG) and tilefishes (including goldface tilefish, blueline tilefish, and tilefish). For the purposes of this IFQ program, DWG includes yellowedge grouper, warsaw grouper, snowy grouper, speckled hind, and scamp, but only as specified in paragraph (a)(7) of this section. For the purposes of this IFQ program, Other SWG includes black grouper, scamp, yellowfin grouper, yellowmouth grouper, warsaw grouper, and speckled hind, but only as specified in paragraph (a)(6) of this section. Under the IFQ program, the RA initially will assign eligible participants IFQ shares, in five share categories. These IFQ shares are equivalent to a percentage of the annual commercial quotas for DWG, red grouper, gag, Other SWG, and tilefishes, based on their applicable historical landings. Shares determine the amount of IFQ allocation for Gulf groupers and tilefishes, in pounds gutted weight, a shareholder is initially authorized to possess, land, or sell in a given calendar year. Shares and annual IFQ allocation are transferable. See paragraph (b)(1) of this section regarding a requirement for a vessel landing groupers or tilefishes subject to this IFQ program to have an IFQ vessel account for Gulf groupers and tilefishes. See paragraph (b)(2) of this section regarding a requirement for a Gulf IFQ dealer endorsement. Details regarding eligibility, applicable landings history, account setup and transaction requirements, constraints on transferability, and other provisions of this IFQ system are provided in the following paragraphs of this section.

(1) Scope. The provisions of this section apply to Gulf groupers and tilefishes in or from the Gulf EEZ and, for a person aboard a vessel with an IFQ vessel account for Gulf groupers and tilefishes as required by paragraph (b)(1) of this section or for a person with a Gulf IFQ dealer endorsement as required by paragraph (b)(2) of this section, these provisions apply to Gulf groupers and tilefishes regardless of where harvested or possessed.

(2) Duration. The IFQ program established by this section will remain in effect until it is modified or terminated; however, the program will be evaluated by the Gulf of Mexico Fishery Management Council every 5 years.

(3) Electronic system requirements. (i) The administrative functions associated with this IFQ program, e.g., registration and account setup, landing transactions, and transfers, are designed to be accomplished online; therefore, a participant must have access to a computer and Internet access and must set up an appropriate IFQ online account to participate. The computer must have browser software installed, e.g. Internet Explorer or Mozilla Firefox; as well as the software Adobe Flash Player version 9.0 or greater, which may be downloaded from the Internet for free. Assistance with online functions is available from IFQ Customer Service by calling 1-866-425-7627 Monday through Friday between 8 a.m. and 4:30 p.m. eastern time.

(ii) The RA will mail initial shareholders and dealers with Gulf reef fish dealer permits information and instructions pertinent to setting up an IFQ online account. Other eligible persons who desire to become IFQ participants by purchasing IFQ shares or allocation or by obtaining a Gulf IFQ dealer endorsement must first contact IFQ Customer Service at 1-866-425-7627 to obtain information necessary to set up the required IFQ online account. All current IFQ participants must complete and submit the application for an IFQ Online Account to certify their citizenship status and ensure their account information (e.g., mailing address, corporate shareholdings, etc.) is up to date. See paragraph (b)(11) of this section regarding requirements for the application for an IFQ Online Account. Each IFQ participant must monitor his/her online account and all associated messages and comply with all IFQ online reporting requirements.

(iii) During catastrophic conditions only, the IFQ program provides for use of paper-based components for basic required functions as a backup. The RA will determine when catastrophic conditions exist, the duration of the catastrophic conditions, and which participants or geographic areas are deemed affected by the catastrophic conditions. The RA will provide timely notice to affected participants via publication of notification in the Federal Register, NOAA weather radio, fishery bulletins, and other appropriate means and will authorize the affected participants' use of paper-based components for the duration of the catastrophic conditions. NMFS will provide each IFQ dealer the necessary paper forms, sequentially coded, and instructions for submission of the forms to the RA. The paper forms will also be available from the RA. The program functions available to participants or geographic areas deemed affected by catastrophic conditions will be limited under the paper-based system. There will be no mechanism for transfers of IFQ shares or allocation under the paper-based system in effect during catastrophic conditions. Assistance in complying with the requirements of the paper-based system will be available via IFQ Customer Service 1-866-425-7627 Monday through Friday between 8 a.m. and 4:30 p.m. eastern time.

(4) IFQ allocation. IFQ allocation is the amount of Gulf groupers and tilefishes, in pounds gutted weight, an IFQ shareholder or allocation holder is authorized to possess, land, or sell during a given fishing year. IFQ allocation for the five respective share categories is derived at the beginning of each year by multiplying a shareholder's IFQ share times the annual commercial quota for gag, red grouper, DWG, Other SWG and tilefishes. If a quota is increased after the beginning of the fishing year, then IFQ allocation is derived by multiplying a shareholder's IFQ share at the time of the quota increase by the amount the annual commercial quota is increased.

(5) Red grouper and gag multi-use allocation—(i) Red grouper multi-use allocation. (A) At the time the commercial quota for red grouper is distributed to IFQ shareholders, a percentage of each shareholder's initial red grouper allocation will be converted to red grouper multi-use allocation. Red grouper multi-use allocation, determined annually, will be based on the following formula:

Red Grouper multi-use allocation (in percent) = 100 * [Gag ACL − Gag commercial quota]/Red grouper commercial quota

(B) Red grouper multi-use allocation may be used to possess, land, or sell either red grouper or gag under certain conditions. Red grouper multi-use allocation may be used to possess, land, or sell red grouper only after an IFQ account holder's (shareholder or allocation holder's) red grouper allocation has been landed and sold, or transferred; and to possess, land, or sell gag, only after both gag and gag multi-use allocation have been landed and sold, or transferred. However, if gag is under a rebuilding plan, the percentage of red grouper multi-use allocation is equal to zero.

(ii) Gag multi-use allocation. (A) At the time the commercial quota for gag is distributed to IFQ shareholders, a percentage of each shareholder's initial gag allocation will be converted to gag multi-use allocation. Gag multi-use allocation, determined annually, will be based on the following formula:

Gag multi-use allocation (in percent) = 100 * [Red grouper ACL − Red grouper commercial quota]/Gag commercial quota

(B) Gag multi-use allocation may be used to possess, land, or sell either gag or red grouper under certain conditions. Gag multi-use allocation may be used to possess, land, or sell gag only after an IFQ account holder's (shareholder or allocation holder's) gag allocation has been landed and sold, or transferred; and to possess, land, or sell red grouper, only after both red grouper and red grouper multi-use allocation have been landed and sold, or transferred. Multi-use allocation transfer procedures and restrictions are specified in paragraph (b)(6)(iv) of this section. However, if red grouper is under a rebuilding plan, the percentage of red grouper multi-use allocation is equal to zero.

(6) Warsaw grouper and speckled hind classification. Warsaw grouper and speckled hind are considered DWG species and under certain circumstances SWG species. For the purposes of the IFQ program for Gulf groupers and tilefishes, after all of an IFQ account holder's DWG allocation has been landed and sold, or transferred, or if an IFQ account holder has no DWG allocation, then Other SWG allocation may be used to land and sell warsaw grouper and speckled hind.

(7) Scamp classification. Scamp is considered a SWG species and under certain circumstances a DWG. For the purposes of the IFQ program for Gulf groupers and tilefishes, after all of an IFQ account holder's Other SWG allocation has been landed and sold, or transferred, or if an IFQ account holder has no SWG allocation, then DWG allocation may be used to land and sell scamp.

(b) IFQ operations and requirements—-(1) IFQ vessel accounts for Gulf groupers and tilefishes. For a person aboard a vessel, for which a commercial vessel permit for Gulf reef fish has been issued, to fish for, possess, or land Gulf groupers (including DWG and SWG, as specified in paragraph (a) of this section or tilefishes (including goldface tilefish, blueline tilefish, and tilefish), regardless of where harvested or possessed, a Gulf IFQ vessel account for the applicable species or species groups must have been established. As a condition of the IFQ vessel account, a person aboard such vessel must comply with the requirements of this section, § 622.22, when fishing for groupers or tilefishes regardless of where the fish are harvested or possessed. An owner of a vessel with a commercial vessel permit for Gulf reef fish, who has established an IFQ account for the applicable species, as specified in paragraph (a)(3)(i) of this section, online via the NMFS IFQ Web site ifq.sero.nmfs.noaa.gov, may establish a vessel account through that IFQ account for that permitted vessel. If such owner does not have an online IFQ account, the owner must first contact IFQ Customer Service at 1-866-425-7627 to obtain information necessary to access the IFQ Web site and establish an online IFQ account. There is no fee to set-up an IFQ account or a vessel account. Only one vessel account may be established per vessel under each IFQ program. An owner with multiple vessels may establish multiple vessel accounts under each IFQ account. The purpose of the vessel account is to hold IFQ allocation that is required to land the applicable IFQ species. A vessel account must hold sufficient IFQ allocation in the appropriate share category, at least equal to the pounds in gutted weight of the groupers and tilefishes on board, from the time of advance notice of landing through landing (except for any overage allowed as specified in paragraph (b)(3)(ii) for groupers and tilefishes). The vessel account remains valid as long as the vessel permit remains valid; the vessel has not been sold or transferred; and the vessel owner is in compliance with all Gulf reef fish and IFQ reporting requirements, has paid all applicable IFQ fees, and is not subject to sanctions under 15 CFR part 904. The vessel account is not transferable to another vessel. The provisions of this paragraph do not apply to fishing for or possession of Gulf groupers and tilefishes under the bag limit specified in § 622.38(b)(2) and (5) respectively.

(2) Gulf IFQ dealer endorsements. In addition to the requirement for a dealer permit for Gulf reef fish as specified in § 622.20(c), for a dealer to receive groupers and tilefishes subject to the IFQ program for Gulf groupers and tilefishes, as specified in paragraph (a)(1) of this section, or for a person aboard a vessel with a Gulf IFQ vessel account to sell such groupers and tilefishes directly to an entity other than a dealer, such persons must also have a Gulf IFQ dealer endorsement. A dealer with a Gulf reef fish permit can download a Gulf IFQ dealer endorsement from the NMFS IFQ Web site at ifq.sero.nmfs.noaa.gov. If such persons do not have an IFQ online account, they must first contact IFQ Customer Service at 1-866-425-7627 to obtain information necessary to access the IFQ Web site and establish an IFQ online account. There is no fee for obtaining this endorsement. The endorsement remains valid as long as the Gulf reef fish dealer permit remains valid and the dealer is in compliance with all Gulf reef fish and IFQ reporting requirements, has paid all IFQ fees required, and is not subject to any sanctions under 15 CFR part 904. The endorsement is not transferable.

(3) IFQ Landing and transaction requirements. (i) Gulf groupers and tilefishes subject to this IFQ program can only be possessed or landed by a vessel with a IFQ vessel account for Gulf groupers and tilefishes. Such groupers and tilefishes can only be received by a dealer with a Gulf IFQ dealer endorsement. The vessel landing groupers or tilefishes must have sufficient IFQ allocation in the IFQ vessel account, at least equal to the pounds in gutted weight of grouper or tilefish species to be landed, from the time of advance notice of landing through landing, except as provided in paragraph (b)(3)(ii) of this section.

(ii) A person on board a vessel with an IFQ vessel account landing the shareholder's only remaining allocation from among any of the grouper or tilefish share categories, can legally exceed, by up to 10 percent, the shareholder's allocation remaining on that last fishing trip of the fishing year, i.e. a one-time per fishing year overage. Any such overage will be deducted from the shareholder's applicable allocation for the subsequent fishing year. From the time of the overage until January 1 of the subsequent fishing year, the IFQ shareholder must retain sufficient shares to account for the allocation that will be deducted the subsequent fishing year. Share transfers that would violate this requirement will be prohibited.

(iii) The dealer is responsible for completing a landing transaction report for each landing and sale of Gulf groupers and tilefishes via the IFQ Web site at ifq.sero.nmfs.noaa.gov at the time of the transaction in accordance with reporting form and instructions provided on the Web site. This report includes, but is not limited to, date, time, and location of transaction; weight and actual ex-vessel price of groupers and tilefishes landed and sold; and information necessary to identify the fisherman, vessel, and dealer involved in the transaction. The fisherman must validate the dealer transaction report by entering the unique PIN for the vessel account when the transaction report is submitted. After the dealer submits the report and the information has been verified by NMFS, the online system will send a transaction approval code to the dealer and the allocation holder.

(iv) If there is a discrepancy regarding the landing transaction report after approval, the dealer or vessel account holder (or his or her authorized agent) must initiate a landing transaction correction form to correct the landing transaction. This form is available via the IFQ Web site at ifq.sero.nmfs.noaa.gov. The dealer must then print out the form, both parties must sign it, and the form must be mailed to NMFS. The form must be received by NMFS no later than 15 days after the date of the initial landing transaction.

(4) IFQ cost recovery fees. As required by the Magnuson-Stevens Act, the RA will collect a fee to recover the actual costs directly related to the management and enforcement of the IFQ program for Gulf groupers and tilefishes. The fee cannot exceed 3 percent of the ex-vessel value of Gulf groupers and tilefishes landed under the IFQ program as described in the Magnuson-Stevens Act. Such fees will be deposited in the Limited Access System Administration Fund (LASAF). Initially, the fee will be 3 percent of the actual ex-vessel price of Gulf groupers and tilefishes landed per trip under the IFQ program, as documented in each landings transaction report. The RA will review the cost recovery fee annually to determine if adjustment is warranted. Factors considered in the review include the catch subject to the IFQ cost recovery, projected ex-vessel value of the catch, costs directly related to the management and enforcement of the IFQ program, the projected IFQ balance in the LASAF, and expected non-payment of fee liabilities. If the RA determines that a fee adjustment is warranted, the RA will publish a notification of the fee adjustment in the Federal Register.

(i) Payment responsibility. The IFQ account holder specified in the documented IFQ landing transaction report for Gulf groupers and tilefishes is responsible for payment of the applicable cost recovery fees.

(ii) Collection and submission responsibility. A dealer who receives Gulf groupers or tilefishes subject to the IFQ program is responsible for collecting the applicable cost recovery fee for each IFQ landing from the IFQ account holder specified in the IFQ landing transaction report. Such dealer is responsible for submitting all applicable cost recovery fees to NMFS on a quarterly basis. The fees are due and must be submitted, using pay.gov via the IFQ system, at the end of each calendar-year quarter, but no later than 30 days after the end of each calendar-year quarter. Fees not received by the deadline are delinquent.

(iii) Fee payment procedure. For each IFQ dealer, the IFQ system will post, in individual IFQ dealer accounts, an end-of-quarter statement of cost recovery fees that are due. The dealer is responsible for submitting the cost recovery fee payments using pay.gov via the IFQ system. Authorized payment methods are credit card, debit card, or automated clearing house (ACH). Payment by check will be authorized only if the RA has determined that the geographical area or an individual(s) is affected by catastrophic conditions.

(iv) Fee reconciliation process—delinquent fees. The following procedures apply to an IFQ dealer whose cost recovery fees are delinquent.

(A) On or about the 31st day after the end of each calendar-year quarter, the RA will send the dealer an electronic message via the IFQ Web site and official notice via mail indicating the applicable fees are delinquent, and the dealer's IFQ account has been suspended pending payment of the applicable fees.

(B) On or about the 91st day after the end of each calendar-year quarter, the RA will refer any delinquent IFQ dealer cost recovery fees to the appropriate authorities for collection of payment.

(5) Measures to enhance IFQ program enforceability—(i) Advance notice of landing. For the purpose of this paragraph, landing means to arrive at a dock, berth, beach, seawall, or ramp. The owner or operator of a vessel landing IFQ groupers or tilefishes is responsible for ensuring that NMFS is contacted at least 3 hours, but no more than 12 hours, in advance of landing to report the time and location of landing, estimated grouper and tilefish landings in pounds gutted weight for each share category (gag, red grouper, DWG, Other SWG, tilefishes), vessel identification number (Coast Guard registration number or state registration number), and the name and address of the IFQ dealer where the groupers or tilefishes are to be received. The vessel landing groupers or tilefishes must have sufficient IFQ allocation in the IFQ vessel account, and in the appropriate share category or categories, at least equal to the pounds in gutted weight of all groupers and tilefishes on board (except for any overage up to the 10 percent allowed on the last fishing trip) from the time of the advance notice of landing through landing. Authorized methods for contacting NMFS and submitting the report include calling IFQ Customer Service at 1-866-425-7627, completing and submitting to NMFS the notification form provided through the VMS unit, or providing the required information to NMFS through the web-based form available on the IFQ Web site at ifq.sero.nmfs.noaa.gov. As new technology becomes available, NMFS will add other authorized methods for complying with the advance notification requirement, via appropriate rulemaking. Failure to comply with this advance notice of landing requirement is unlawful and will preclude authorization to complete the landing transaction report required in paragraph (b)(3)(iii) of this section and, thus, will preclude issuance of the required transaction approval code.

(ii) Time restriction on offloading. For the purpose of this paragraph, offloading means to remove IFQ groupers and tilefishes from a vessel. IFQ groupers or tilefishes may be offloaded only between 6 a.m. and 6 p.m., local time.

(iii) Restrictions on transfer of IFQ groupers and tilefishes. At-sea or dockside transfer of IFQ groupers or tilefishes from one vessel to another vessel is prohibited.

(iv) Requirement for transaction approval code. If IFQ groupers or tilefishes are offloaded to a vehicle for transport to a dealer, on-site capability to accurately weigh the fish and to connect electronically to the online IFQ system to complete the transaction and obtain the transaction approval code is required. After a landing transaction has been completed, a transaction approval code verifying a legal transaction of the amount of IFQ groupers and tilefishes in possession and a copy of the dealer endorsement must accompany any IFQ groupers or tilefishes from the landing location through possession by a dealer. This requirement also applies to IFQ groupers and tilefishes possessed on a vessel that is trailered for transport to a dealer.

(v) Approved landing locations. Landing locations must be approved by NMFS Office for Law Enforcement prior to landing or offloading at these sites. Proposed landing locations may be submitted online via the IFQ Web site at ifq.sero.nmfs.noaa.gov, or by calling IFQ Customer Service at 1-866-425-7627, at any time; however, new landing locations will be approved only at the end of each calendar-year quarter. To have your landing location approved by the end of the calendar-year quarter, it must be submitted at least 45 days before the end of the calendar-year quarter. NMFS will evaluate the proposed sites based on, but not limited to, the following criteria:

(A) Landing locations must have a street address. If there is no street address on record for a particular landing location, global positioning system (GPS) coordinates for an identifiable geographic location must be provided.

(B) Landing locations must be publicly accessible by land and water, and must satisfy the following criteria:

(1) Vehicles must have access to the site via public roads;

(2) Vessels must have access to the site via navigable water;

(3) No other condition may impede free and immediate access to the site by an authorized law enforcement officer. Examples of such conditions include, but are not limited to: A locked gate, fence, wall, or other barrier preventing 24-hour access to the site; a gated community entry point; a guard; animal; a posted sign restricting access to the site; or any other physical deterrent.

(6) Transfer of IFQ shares and allocation. Until January 1, 2015, IFQ shares and allocations can be transferred only to a person who holds a valid commercial vessel permit for Gulf reef fish; thereafter, IFQ shares and allocations can be transferred only to a U.S. citizen or permanent resident alien. However, a valid commercial permit for Gulf reef fish, an IFQ vessel account for Gulf groupers and tilefishes, and IFQ allocation for Gulf groupers or tilefishes are required to possess (at and after the time of the advance notice of landing), land or sell Gulf groupers or tilefishes subject to this IFQ program.

(i) Share transfers. Share transfers are permanent, i.e., they remain in effect until subsequently transferred. Transfer of shares will result in the corresponding allocation being automatically transferred to the person receiving the transferred share beginning with the fishing year following the year the transfer occurred. However, within the fishing year the share transfer occurs, transfer of shares and associated allocation are independent—unless the associated allocation is transferred separately, it remains with the transferor for the duration of that fishing year. A share transfer transaction that remains in pending status, i.e., has not been completed and verified with a transaction approval code, after 30 days from the date the shareholder initiated the transfer will be cancelled, and the pending shares will be re-credited to the shareholder who initiated the transfer.

(ii) Share transfer procedures. Share transfers must be accomplished online via the IFQ Web site. An IFQ shareholder must initiate a share transfer request by logging onto the IFQ Web site at ifq.sero.nmfs.noaa.gov. An IFQ shareholder who is subject to a sanction under 15 CFR part 904 is prohibited from initiating a share transfer. An IFQ shareholder who is subject to a pending sanction under 15 CFR part 904 must disclose in writing to the prospective transferee the existence of any pending sanction at the time of the transfer. Following the instructions provided on the Web site, the shareholder must enter pertinent information regarding the transfer request including, but not limited to: amount of shares to be transferred, which must be a minimum of 0.000001 percent; name of the eligible transferee; and the value of the transferred shares. For the first 5 years this IFQ program is in effect, an eligible transferee is a person who has a valid commercial vessel permit for Gulf reef fish; is in compliance with all reporting requirements for the Gulf reef fish fishery and the IFQ program for Gulf groupers and tilefishes; is not subject to sanctions under 15 CFR part 904; and who would not be in violation of the share or allocation caps as specified in paragraph (b)(8) of this section. Thereafter, share transferee eligibility will only include U.S. citizens and permanent resident aliens who are otherwise in compliance with the provisions of this section. The online system will verify the information entered. If the information is not accepted, the online system will send the shareholder an electronic message explaining the reason(s). If the information is accepted, the online system will send the transferee an electronic message of the pending transfer. The transferee must approve the share transfer by electronic signature. If the transferee approves the share transfer, the online system will send a transfer approval code to both the shareholder and transferee confirming the transaction. All share transfers must be completed and the transaction approval code received prior to December 31 at 6 p.m. eastern time each year.

(iii) Allocation transfers. An allocation transfer is valid only for the remainder of the fishing year in which it occurs; it does not carry over to the subsequent fishing year. Any allocation that is unused at the end of the fishing year is void. Allocation may be transferred to a vessel account from any IFQ account. Allocation held in a vessel account, however, may only be transferred back to the IFQ account through which the vessel account was established.

(iv) Allocation transfer procedures and restrictions—(A) Allocation transfer procedures. Allocation transfers must be accomplished online via the IFQ Web site. An IFQ account holder must initiate an allocation transfer by logging onto the IFQ Web site at ifq.sero.nmfs.noaa.gov, entering the required information, including but not limited to, the name of an eligible transferee and amount of IFQ allocation to be transferred and price, and submitting the transfer electronically. An IFQ allocation holder who is subject to a sanction under 15 CFR part 904 is prohibited from initiating an allocation transfer. An IFQ allocation holder who is subject to a pending sanction under 15 CFR part 904 must disclose in writing to the prospective transferee the existence of any pending sanction at the time of the transfer. If the transfer is approved, the Web site will provide a transfer approval code to the transferor and transferee confirming the transaction.

(B) Multi-use allocation transfer restrictions—(1) Red grouper multi-use allocation. Red grouper multi-use allocation may only be transferred after all an IFQ account holder's red grouper allocation has been landed and sold, or transferred.

(2) Gag multi-use allocation. Gag multi-use allocation may only be transferred after all an IFQ account holder's gag allocation has been landed and sold, or transferred.

(7) Restricted transactions during the 20-hour online maintenance window. All electronic IFQ transactions must be completed by December 31 at 6 p.m. eastern time each year. Electronic IFQ functions will resume again on January 1 at 2 p.m. eastern time the following fishing year. The remaining 6 hours prior to the end of the fishing year, and the 14 hours at the beginning of the next fishing year, are necessary to provide NMFS time to reconcile IFQ accounts, adjust allocations for the upcoming year if the commercial quotas or catch allowances for Gulf groupers and tilefishes have changed, and update shares and allocations for the upcoming fishing year. No electronic IFQ transactions will be available during these 20 hours. An advance notice of landing may still be submitted during the 20-hour maintenance window by using the vessel's VMS unit or calling IFQ Customer Service at 1-866-425-7627.

(8) IFQ share and allocation caps. A corporation's total IFQ share (or allocation) is determined by adding the applicable IFQ shares (or allocation) held by the corporation and any other IFQ shares (or allocation) held by a corporation(s) owned by the original corporation prorated based on the level of ownership. An individual's total IFQ share is determined by adding the applicable IFQ shares held by the individual and the applicable IFQ shares equivalent to the corporate share the individual holds in a corporation. An individual's total IFQ allocation is determined by adding the individual's total allocation to the allocation derived from the IFQ shares equivalent to the corporate share the individual holds in a corporation.

(i) IFQ share cap for each share category. No person, including a corporation or other entity, may individually or collectively hold IFQ shares in any share category (gag, red grouper, DWG, Other SWG, or tilefishes) in excess of the maximum share initially issued for the applicable share category to any person at the beginning of the IFQ program, as of the date appeals are resolved and shares are adjusted accordingly. A corporation must provide to the RA the identity of the shareholders of the corporation and their percent of shares in the corporation for initial issuance of IFQ shares and allocation, and provide updated information to the RA within 30 days of when changes occur. This information must also be provided to the RA any time a commercial vessel permit for Gulf reef fish is renewed or transferred and at the time of renewal of the application for an IFQ Online Account.

(ii) Total allocation cap. No person, including a corporation or other entity, may individually or collectively hold, cumulatively during any fishing year, IFQ allocation in excess of the total allocation cap. The total allocation cap is the sum of the maximum allocations associated with the share caps for each individual share category and is calculated annually based on the applicable quotas or catch allowance associated with each share category.

(9) Redistribution of shares resulting from permanent revocation. If a shareholder's IFQ shares have been permanently revoked, the RA will redistribute the IFQ shares proportionately among remaining shareholders (subject to cap restrictions) based upon the amount of shares each held just prior to the redistribution. During December of each year, the RA will determine the amount of revoked shares, if any, to be redistributed, and the shares will be distributed at the beginning of the subsequent fishing year.

(10) Annual recalculation and notification of IFQ shares and allocation. On or about January 1 each year, IFQ shareholders will be notified, via the IFQ Web site at ifq.sero.nmfs.noaa.gov, of their IFQ shares and allocations, for each of the five share categories, for the upcoming fishing year. These updated share values will reflect the results of applicable share transfers and any redistribution of shares (subject to cap restrictions) resulting from permanent revocation of IFQ shares. Allocation, for each share category, is calculated by multiplying IFQ share for that category times the annual commercial quota or commercial catch allowance for that share category. Updated allocation values will reflect any change in IFQ share for each share category, any change in the annual commercial quota or commercial catch allowance for the applicable categories; and any debits required as a result of prior fishing year overages as specified in paragraph (b)(3)(ii) of this section. IFQ participants can monitor the status of their shares and allocation throughout the year via the IFQ Web site.

(11) Gulf grouper and tilefish IFQ program participation for current grouper and tilefish IFQ account holders. (i) A current participant in the Gulf grouper and tilefish IFQ program must complete and submit the application for an IFQ Online Account that is available on the Web site sero.nmfs.noaa.gov, to certify status as a U.S. citizen or permanent resident alien. The account holder must also complete and submit any other information on this form that may be necessary for the administration of the IFQ online account.

(ii) A person with an established IFQ online account must update and confirm the account information every 2 years. IFQ online accounts are updated through the submission of the application for an IFQ Online Account. Accounts must be updated prior to the account validity date (expiration date of the account) that is displayed on each account holder's IFQ online account page. The RA will provide each participant who has established an online account an application approximately 2 months prior to the account validity date. A participant who is not provided an application at least 45 days prior to the account validity date must contact IFQ Customer Service at 1-866-425-7627 and request an application. Failure to submit a completed application prior to the participant's account validity date will lead to the suspension of the participant's access to his IFQ online account until a completed application is submitted. Participants who certify that they are either not a U.S. citizen or permanent resident alien will be ineligible to receive shares or allocation through transfer.

§§ 622.23-622.24 [Reserved]

§ 622.25 Exemptions for the Gulf groundfish trawl fishery.

Gulf groundfish trawl fishery means fishing in the Gulf EEZ by a vessel that uses a bottom trawl, the unsorted catch of which is ground up for animal feed or industrial products.

(a) Other provisions of this part notwithstanding, the owner or operator of a vessel in the Gulf groundfish trawl fishery is exempt from the following requirements and limitations for the vessel's unsorted catch of Gulf reef fish:

(1) The requirement for a valid commercial vessel permit for Gulf reef fish in order to sell Gulf reef fish.

(2) Minimum size limits for Gulf reef fish.

(3) Bag limits for Gulf reef fish.

(4) The prohibition on sale of Gulf reef fish after a quota closure.

(b) Other provisions of this part notwithstanding, a dealer in a Gulf state is exempt from the requirement for a dealer permit for Gulf reef fish to receive Gulf reef fish harvested from the Gulf EEZ by a vessel in the Gulf groundfish trawl fishery.

§ 622.26 Recordkeeping and reporting.

(a) Commercial vessel owners and operators. The owner or operator of a vessel for which a commercial permit for Gulf reef fish has been issued, as required under § 622.20(a)(1), or whose vessel fishes for or lands reef fish in or from state waters adjoining the Gulf EEZ, who is selected to report by the SRD must maintain a fishing record on a form available from the SRD. These completed fishing records must be submitted to the SRD postmarked not later than 7 days after the end of each fishing trip. If no fishing occurred during a calendar month, a report so stating must be submitted on one of the forms postmarked not later than 7 days after the end of that month. Information to be reported is indicated on the form and its accompanying instructions.

(b) Charter vessel/headboat owners and operators--(1) Reporting requirement. The owner or operator of a vessel for which a charter vessel/headboat permit for Gulf reef fish has been issued, as required under § 622.20(b), or whose vessel fishes for or lands such reef fish in or from state waters adjoining the Gulf EEZ, who is selected to report by the SRD must maintain a fishing record for each trip, or a portion of such trips as specified by the SRD, on forms provided by the SRD and must submit such record as specified in paragraph (b)(2) of this section.

(2) Reporting deadlines—(i) Charter vessels. Completed fishing records required by paragraph (b)(1) of this section for charter vessels must be submitted to the SRD weekly, postmarked not later than 7 days after the end of each week (Sunday). Information to be reported is indicated on the form and its accompanying instructions.

(ii) Headboats. Completed fishing records required by paragraph (b)(1) of this section for headboats must be submitted to the SRD monthly and must either be made available to an authorized statistical reporting agent or be postmarked not later than 7 days after the end of each month. Information to be reported is indicated on the form and its accompanying instructions.

(c) Dealers. A person who purchases Gulf reef fish from a fishing vessel, or person, that fishes for or lands such fish in or from the EEZ or adjoining state waters must maintain records and submit information as follows:

(1) A dealer must maintain at his/her principal place of business a record of Gulf reef fish that he/she receives. The record must contain the name of each fishing vessel from which reef fish were received and the date, species, and quantity of each receipt. A dealer must retain such record for at least 1 year after receipt date and must provide such record for inspection upon the request of an authorized officer or the SRD.

(2) When requested by the SRD, a dealer must provide information from his/her record of Gulf reef fish received, the total poundage of each species received during the month, average monthly price paid for each species by market size, and proportion of total poundage landed by each gear type. This information must be provided on forms available from the SRD and must be submitted to the SRD at monthly intervals, postmarked not later than 5 days after the end of the month. Reporting frequency and reporting deadlines may be modified upon notification by the SRD. If no reef fish were received during a calendar month, a report so stating must be submitted on one of the forms, postmarked not later than 5 days after the end of the month.

(3) The operator of a car or truck that is used to pick up from a fishing vessel reef fish harvested from the Gulf must maintain a record containing the name of each fishing vessel from which reef fish on the car or truck have been received. The vehicle operator must provide such record for inspection upon the request of an authorized officer.

§ 622.27 At-sea observer coverage.

(a) Required coverage. A vessel for which a Federal commercial vessel permit for Gulf reef fish or a charter vessel/headboat permit for Gulf reef fish has been issued must carry a NMFS-approved observer, if the vessel's trip is selected by the SRD for observer coverage. Vessel permit renewal is contingent upon compliance with this paragraph (a).

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.28 Vessel monitoring systems (VMSs).

The VMS requirements of this section apply throughout the Gulf of Mexico and adjacent states.

(a) General VMS requirement. An owner or operator of a vessel that has been issued a commercial vessel permit for Gulf reef fish, including a charter vessel/headboat issued such a permit even when under charter, must ensure that such vessel has an operating VMS approved by NMFS for use in the Gulf reef fish fishery on board at all times whether or not the vessel is underway, unless exempted by NMFS under the power-down exemptions specified in paragraph (d) of this section and in the NOAA Enforcement Vessel Monitoring System Requirements for the Reef Fish Fishery of the Gulf of Mexico. This NOAA Enforcement Vessel Monitoring System Requirements document is available from NMFS Office for Law Enforcement (OLE), Southeast Region, 263 13th Avenue South, St. Petersburg, FL 33701; phone: 800-758-4833. An operating VMS includes an operating mobile transmitting unit on the vessel and a functioning communication link between the unit and NMFS as provided by a NMFS-approved communication service provider. NMFS OLE maintains a current list of approved VMS units and communication providers which is available from the VMS Support Center, NMFS OLE, 8484 Georgia Avenue, Suite 415, Silver Spring, MD 20910 or by calling toll free: 888-219-9228. If a VMS unit approved for the Gulf reef fish fishery is removed from the approved list by NMFS OLE, a vessel owner who purchased and installed such a VMS unit prior to its removal from the approved list will be considered to be in compliance with the requirement to have an approved unit, unless otherwise notified by NMFS OLE. At the end of a VMS unit's service life, it must be replaced with a currently approved unit for the fishery.

(b) Hourly reporting requirement. An owner or operator of a vessel subject to the requirements of paragraph (a) of this section must ensure that the required VMS unit transmits a signal indicating the vessel's accurate position at least once an hour, 24 hours a day every day unless exempted under paragraphs (c) or (d) of this section.

(c) In-port exemption. While in port, an owner or operator of a vessel with a type-approved VMS unit configured with the 4-hour reporting feature may utilize the 4-hour reporting feature rather than comply with the hourly reporting requirement specified in paragraph (b) of this section. Once the vessel is no longer in port, the hourly reporting requirement specified in paragraph (b) of this section applies. For the purposes of this section, “in port” means secured at a land-based facility, or moored or anchored after the return to a dock, berth, beach, seawall, or ramp.

(d) Power-down exemptions. An owner or operator of a vessel subject to the requirement to have a VMS operating at all times as specified in paragraph (a) of this section can be exempted from that requirement and may power down the required VMS unit if—

(1) The vessel will be continuously out of the water or in port, as defined in paragraph (c) of this section, for more than 72 consecutive hours;

(2) The owner or operator of the vessel applies for and obtains a valid letter of exemption from NMFS OLE VMS personnel as specified in the NOAA Enforcement Vessel Monitoring System Requirements for the Reef Fish Fishery of the Gulf of Mexico. This is a one-time requirement. The letter of exemption must be maintained on board the vessel and remains valid for all subsequent power-down requests conducted consistent with the provisions of paragraphs (d)(3) and (4) of this section.

(3) Prior to each power-down, the owner or operator of the vessel files a report to NMFS OLE VMS program personnel, using the VMS unit's email, that includes the name of the person filing the report, vessel name, vessel U.S. Coast Guard documentation number or state registration number, commercial vessel reef fish permit number, vessel port location during VMS power down, estimated duration of the power down exemption, and reason for power down; and

(4) The owner or operator enters the power-down code through the use of the VMS Declaration form on the terminal and, prior to powering down the VMS, receives a confirmation, through the VMS terminal, that the form was successfully delivered.

(e) Declaration of fishing trip and gear. Prior to departure for each trip, a vessel owner or operator must report to NMFS any fishery the vessel will participate in on that trip and the specific type(s) of fishing gear, using NMFS-defined gear codes, that will be on board the vessel. This information may be reported to NMFS using the toll-free number, 888-219-9228, or via an attached VMS terminal.

(f) Installation and activation of a VMS. Only a VMS that has been approved by NMFS for the Gulf reef fish fishery may be used, and the VMS must be installed by a qualified marine electrician. When installing and activating the NMFS-approved VMS, or when reinstalling and reactivating such VMS, the vessel owner or operator must—

(1) Follow procedures indicated on a NMFS-approved installation and activation checklist for the applicable fishery, which is available from NMFS Office for Law Enforcement, Southeast Region, 263 13th Avenue South, St. Petersburg, FL 33701; phone: 800-758-4833; and

(2) Submit to NMFS Office for Law Enforcement, Southeast Region, 263 13th Avenue South, St. Petersburg, FL 33701, a statement certifying compliance with the checklist, as prescribed on the checklist.

(3) Submit to NMFS Office for Law Enforcement, Southeast Region, 263 13th Avenue South, St. Petersburg, FL 33701, a vendor-completed installation certification checklist, which is available from NMFS Office for Law Enforcement, Southeast Region, 263 13th Avenue South, St. Petersburg, FL 33701; phone: 800-758-4833.

(g) Interference with the VMS. No person may interfere with, tamper with, alter, damage, disable, or impede the operation of the VMS, or attempt any of the same.

(h) Interruption of operation of the VMS. When a vessel's VMS is not operating properly, the owner or operator must immediately contact NMFS Office for Law Enforcement, Southeast Region, 263 13th Avenue South, St. Petersburg, FL 33701, phone: 800-758-4833, and follow instructions from that office. If notified by NMFS that a vessel's VMS is not operating properly, the owner and operator must follow instructions from that office. In either event, such instructions may include, but are not limited to, manually communicating to a location designated by NMFS the vessel's positions or returning to port until the VMS is operable.

(i) Access to position data. As a condition of authorized fishing for or possession of fish in a fishery subject to VMS requirements in this section, a vessel owner or operator subject to the requirements for a VMS in this section must allow NMFS, the USCG, and their authorized officers and designees access to the vessel's position data obtained from the VMS.

§ 622.29 Conservation measures for protected resources.

(a) Gulf reef fish commercial vessels and charter vessels/headboats—(1) Sea turtle conservation measures. (i) The owner or operator of a vessel for which a commercial vessel permit for Gulf reef fish or a charter vessel/headboat permit for Gulf reef fish has been issued, as required under

§§ 622.20(a)(1) and 622.20(b), respectively, must post inside the wheelhouse, or within a waterproof case if no wheelhouse, a copy of the document provided by NMFS titled, “Careful Release Protocols for Sea Turtle Release With Minimal Injury,” and must post inside the wheelhouse, or in an easily viewable area if no wheelhouse, the sea turtle handling and release guidelines provided by NMFS.

(ii) Such owner or operator must also comply with the sea turtle bycatch mitigation measures, including gear requirements and sea turtle handling requirements, specified in §§ 635.21(c)(5)(i) and (ii) of this chapter, respectively.

(iii) Those permitted vessels with a freeboard height of 4 ft (1.2 m) or less must have on board a dipnet, tire, short-handled dehooker, long-nose or needle-nose pliers, bolt cutters, monofilament line cutters, and at least two types of mouth openers/mouth gags. This equipment must meet the specifications described in §§ 635.21(c)(5)(i)(E) through (L) of this chapter with the following modifications: the dipnet handle can be of variable length, only one NMFS-approved short-handled dehooker is required (i.e., § 635.21(c)(5)(i)(G) or (H) of this chapter); and life rings, seat cushions, life jackets, and life vests or any other comparable, cushioned, elevated surface that allows boated sea turtles to be immobilized, may be used as alternatives to tires for cushioned surfaces as specified in § 635.21(c)(5)(i)(F) of this chapter. Those permitted vessels with a freeboard height of greater than 4 ft (1.2 m) must have on board a dipnet, tire, long-handled line clipper, a short-handled and a long-handled dehooker, a long-handled device to pull an inverted “V”, long-nose or needle-nose pliers, bolt cutters, monofilament line cutters, and at least two types of mouth openers/mouth gags. This equipment must meet the specifications described in § 635.21(c)(5)(i)(A) through (L) of this chapter with the following modifications: only one NMFS-approved long-handled dehooker (§ 635.21(c)(5)(i)(B) or (C)) of this chapter and one NMFS-approved short-handled dehooker (§ 635.21(c)(5)(i)(G) or (H) of this chapter) are required; and life rings, seat cushions, life jackets, and life vests, or any other comparable, cushioned, elevated surface that allows boated sea turtles to be immobilized, may be used as alternatives for cushioned surfaces as specified in § 635.21(c)(5)(i)(F) of this chapter.

(2) Smalltooth sawfish conservation measures. The owner or operator of a vessel for which a commercial vessel permit for Gulf reef fish or a charter vessel/headboat permit for Gulf reef fish has been issued, as required under §§ 622.20(a)(1) and 622.20(b), respectively, that incidentally catches a smalltooth sawfish must—

(i) Keep the sawfish in the water at all times;

(ii) If it can be done safely, untangle the line if it is wrapped around the saw;

(iii) Cut the line as close to the hook as possible; and

(iv) Not handle the animal or attempt to remove any hooks on the saw, except for with a long-handled dehooker.

(b) [Reserved]

§ 622.30 Required fishing gear.

For a person on board a vessel to fish for Gulf reef fish in the Gulf EEZ, the vessel must possess on board and such person must use the gear as specified in paragraphs (a) through (c) of this section.

(a) Non-stainless steel circle hooks. Non-stainless steel circle hooks are required when fishing with natural baits.

(b) Dehooking device. At least one dehooking device is required and must be used to remove hooks embedded in Gulf reef fish with minimum damage. The hook removal device must be constructed to allow the hook to be secured and the barb shielded without re-engaging during the removal process. The dehooking end must be blunt, and all edges rounded. The device must be of a size appropriate to secure the range of hook sizes and styles used in the Gulf reef fish fishery.

(c) Venting tool. At least one venting tool is required and must be used to deflate the abdominal cavities of Gulf reef fish to release the fish with minimum damage. This tool must be a sharpened, hollow instrument, such as a hypodermic syringe with the plunger removed, or a 16-gauge needle fixed to a hollow wooden dowel. A tool such as a knife or an ice-pick may not be used. The venting tool must be inserted into the fish at a 45-degree angle approximately 1 to 2 inches (2.54 to 5.08 cm) from the base of the pectoral fin. The tool must be inserted just deep enough to release the gases, so that the fish may be released with minimum damage.

§ 622.31 Buoy gear identification.

(a) Buoy gear. In the Gulf EEZ, if buoy gear is used or possessed, each buoy must display the official number of the vessel. See § 622.2 for the definition of buoy gear.

(b) [Reserved]

§ 622.32 Prohibited gear and methods.

Also see § 622.9 for additional prohibited gear and methods that apply more broadly to multiple fisheries or in some cases all fisheries.

(a) Poisons. A poison may not be used to take Gulf reef fish in the Gulf EEZ.

(b) [Reserved]

§ 622.33 Prohibited species.

(a) General. The harvest and possession restrictions of this section apply without regard to whether the species is harvested by a vessel operating under a commercial vessel permit. The operator of a vessel that fishes in the EEZ is responsible for the limit applicable to that vessel.

(b) Goliath grouper. Goliath grouper may not be harvested or possessed in or from the Gulf EEZ.

(c) Nassau grouper. Nassau grouper may not be harvested or possessed in or from the Gulf EEZ. Such fish caught in the Gulf EEZ must be released immediately with a minimum of harm.

(d) Gulf reef fish exhibiting trap rash. Possession of Gulf reef fish in or from the Gulf EEZ that exhibit trap rash is prima facie evidence of illegal trap use and is prohibited. For the purpose of this paragraph, trap rash is defined as physical damage to fish that characteristically results from contact with wire fish traps. Such damage includes, but is not limited to, broken fin spines, fin rays, or teeth; visually obvious loss of scales; and cuts or abrasions on the body of the fish, particularly on the head, snout, or mouth.

§ 622.34 Seasonal and area closures designed to protect Gulf reef fish.

(a) Closure provisions applicable to the Madison and Swanson sites and Steamboat Lumps, and the Edges—(1) Descriptions of Areas. (i) The Madison and Swanson sites are bounded by rhumb lines connecting, in order, the following points:

Point | North lat. | West long.
A | 29°17′ | 85°50′
B | 29°17′ | 85°38′
C | 29°06′ | 85°38′
D | 29°06′ | 85°50′
A | 29°17′ | 85°50′

(ii) Steamboat Lumps is bounded by rhumb lines connecting, in order, the following points:

Point | North lat. | West long.
A | 28°14′ | 84°48′
B | 28°14′ | 84°37′
C | 28°03′ | 84°37′
D | 28°03′ | 84°48′
A | 28°14′ | 84°48′

(iii) The Edges is bounded by rhumb lines connecting, in order, the following points:

Point | North lat. | West long.
A | 28°51′ | 85°16′
B | 28°51′ | 85°04′
C | 28°14′ | 84°42′
D | 28°14′ | 84°54′
A | 28°51′ | 85°16′

(2) Within the Madison and Swanson sites and Steamboat Lumps, possession of Gulf reef fish is prohibited, except for such possession aboard a vessel in transit with fishing gear stowed as specified in paragraph (a)(4) of this section.

(3) Within the Madison and Swanson sites and Steamboat Lumps during November through April, and within the Edges during January through April, all fishing is prohibited, and possession of any fish species is prohibited, except for such possession aboard a vessel in transit with fishing gear stowed as specified in paragraph (a)(4) of this section. The provisions of this paragraph, (a)(3), do not apply to highly migratory species.

(4) For the purpose of paragraph (a) of this section, transit means non-stop progression through the area; fishing gear appropriately stowed means—

(i) A longline may be left on the drum if all gangions and hooks are disconnected and stowed below deck. Hooks cannot be baited. All buoys must be disconnected from the gear; however, buoys may remain on deck.

(ii) A trawl net may remain on deck, but trawl doors must be disconnected from the trawl gear and must be secured.

(iii) A gillnet must be left on the drum. Any additional gillnets not attached to the drum must be stowed below deck.

(iv) A rod and reel must be removed from the rod holder and stowed securely on or below deck. Terminal gear (i.e., hook, leader, sinker, flasher, or bait) must be disconnected and stowed separately from the rod and reel. Sinkers must be disconnected from the down rigger and stowed separately.

(5) Within the Madison and Swanson sites and Steamboat Lumps, during May through October, surface trolling is the only allowable fishing activity. For the purpose of this paragraph (a)(5), surface trolling is defined as fishing with lines trailing behind a vessel which is in constant motion at speeds in excess of four knots with a visible wake. Such trolling may not involve the use of down riggers, wire lines, planers, or similar devices.

(6) For the purpose of this paragraph (a), fish means finfish, mollusks, crustaceans, and all other forms of marine animal and plant life other than marine mammals and birds. Highly migratory species means tuna species, marlin (Tetrapturus spp. and Makaira spp.), oceanic sharks, sailfishes (Istiophorus spp.), and swordfish (Xiphias gladius).

(b) Seasonal closure of the recreational sector for red snapper. The recreational sector for red snapper in or from the Gulf EEZ is closed from January 1 through May 31, each year. During the closure, the bag and possession limit for red snapper in or from the Gulf EEZ is zero.

(c) Seasonal closure of the recreational sector for greater amberjack. The recreational sector for greater amberjack in or from the Gulf EEZ is closed from June 1 through July 31, each year. During the closure, the bag and possession limit for greater amberjack in or from the Gulf EEZ is zero.

(d) Seasonal closure of the recreational fishery for shallow-water grouper (SWG). The recreational fishery for SWG, in or from the Gulf EEZ, is closed from February 1 through March 31, each year. During the closure, the bag and possession limit for SWG in or from the Gulf EEZ is zero.

(e) Seasonal closure of the recreational sector for gag. The recreational sector for gag, in or from the Gulf EEZ, is closed from January 1 through June 30 and November 1 through December 31 each year. During the closure, the bag and possession limit for gag in or from the Gulf EEZ is zero.

§ 622.35 Gear restricted areas.

(a) Reef fish stressed area. The stressed area is that part of the Gulf EEZ shoreward of rhumb lines connecting, in order, the points listed in Table 2 in Appendix B of this part.

(1) A powerhead may not be used in the stressed area to take Gulf reef fish. Possession of a powerhead and a mutilated Gulf reef fish in the stressed area or after having fished in the stressed area constitutes prima facie evidence that such reef fish was taken with a powerhead in the stressed area. The provisions of this paragraph do not apply to hogfish.

(2) A roller trawl may not be used in the stressed area. Roller trawl means a trawl net equipped with a series of large, solid rollers separated by several smaller spacer rollers on a separate cable or line (sweep) connected to the footrope, which makes it possible to fish the gear over rough bottom, that is, in areas unsuitable for fishing conventional shrimp trawls. Rigid framed trawls adapted for shrimping over uneven bottom, in wide use along the west coast of Florida, and shrimp trawls with hollow plastic rollers for fishing on soft bottoms, are not considered roller trawls.

(b) Seasonal prohibitions applicable to bottom longline fishing for Gulf reef fish. (1) From June through August each year, bottom longlining for Gulf reef fish is prohibited in the portion of the Gulf EEZ east of 85°30' W. long. that is shoreward of rhumb lines connecting, in order, the following points:

Point | North lat. | West long.
A | 28°58.70′ | 85°30.00′
B | 28°59.25′ | 85°26.70′
C | 28°57.00′ | 85°13.80′
D | 28°47.40′ | 85°3.90′
E | 28°19.50′ | 84°43.00′
F | 28°0.80′ | 84°20.00′
G | 26°48.80′ | 83°40.00′
H | 25°17.00′ | 83°19.00′
I | 24°54.00′ | 83°21.00′
J | 24°29.50′ | 83°12.30′
K | 24°26.50′ | 83°00.00′

(2) Within the prohibited area and time period specified in paragraph (b)(1) of this section, a vessel with bottom longline gear on board may not possess Gulf reef fish unless the bottom longline gear is appropriately stowed, and a vessel that is using bottom longline gear to fish for species other than Gulf reef fish may not possess Gulf reef fish. For the purposes of paragraph (b) of this section, appropriately stowed means that a longline may be left on the drum if all gangions and hooks are disconnected and stowed below deck; hooks cannot be baited; and all buoys must be disconnected from the gear but may remain on deck.

(3) Within the Gulf EEZ east of 85°30′ W. long., a vessel for which a valid eastern Gulf reef fish bottom longline endorsement has been issued that is fishing bottom longline gear or has bottom longline gear on board cannot possess more than a total of 1000 hooks including hooks on board the vessel and hooks being fished and cannot possess more than 750 hooks rigged for fishing at any given time. For the purpose of this paragraph, “hooks rigged for fishing” means hooks attached to a line or other device capable of attaching to the mainline of the longline.

(c) Reef fish longline and buoy gear restricted area. A person aboard a vessel that uses, on any trip, longline or buoy gear in the longline and buoy gear restricted area is limited on that trip to the bag limits for Gulf reef fish specified in § 622.38(b) and, for Gulf reef fish for which no bag limit is specified in § 622.38(b), the vessel is limited to 5 percent, by weight, of all fish on board or landed. The longline and buoy gear restricted area is that part of the Gulf EEZ shoreward of rhumb lines connecting, in order, the points listed in Table 1 in Appendix B of this part.

(d) Alabama SMZ. The Alabama SMZ consists of artificial reefs and surrounding areas. In the Alabama SMZ, fishing by a vessel that is operating as a charter vessel or headboat, a vessel that does not have a commercial permit for Gulf reef fish, as required under § 622.20(a)(1), or a vessel with such a permit fishing for Gulf reef fish is limited to hook-and-line gear with three or fewer hooks per line and spearfishing gear. A person aboard a vessel that uses on any trip gear other than hook-and-line gear with three or fewer hooks per line and spearfishing gear in the Alabama SMZ is limited on that trip to the bag limits for Gulf reef fish specified in § 622.38(b) and, for Gulf reef fish for which no bag limit is specified in § 622.38(b), the vessel is limited to 5 percent, by weight, of all fish on board or landed. The Alabama SMZ is bounded by rhumb lines connecting, in order, the following points:

Point | North lat. | West long.
A | 30°02.5′ | 88°07.7′
B | 30°02.6′ | 87°59.3′
C | 29°55.0′ | 87°55.5′
D | 29°54.5′ | 88°07.5′
A | 30°02.5′ | 88°07.7′

§ 622.36 Seasonal harvest limitations.

(a) Greater amberjack. During March, April, and May, each year, the possession of greater amberjack in or from the Gulf EEZ and in the Gulf on board a vessel for which a commercial permit for Gulf reef fish has been issued, as required under § 622.20(a)(1), without regard to where such greater amberjack were harvested, is limited to the bag and possession limits, as specified in § 622.38(b)(1) and (c), respectively, and such greater amberjack are subject to the prohibition on sale or purchase of greater amberjack possessed under the bag limit, as specified in § 622.40(a). Also note that if commercial quantities of Gulf reef fish, i.e., Gulf reef fish in excess of applicable bag/possession limits, are on board the vessel, no bag limit of Gulf reef fish may be possessed, as specified in § 622.38(a)(2).

(b) [Reserved]

§ 622.37 Size limits.

All size limits in this section are minimum size limits unless specified otherwise. A fish not in compliance with its size limit, as specified in this section, in or from the Gulf EEZ, may not be possessed, sold, or purchased. A fish not in compliance with its size limit must be released immediately with a minimum of harm. The operator of a vessel that fishes in the EEZ is responsible for ensuring that fish on board are in compliance with the size limits specified in this section. See § 622.10 regarding requirements for landing fish intact.

(a) Snapper—(1) Red snapper—16 inches (40.6 cm), TL, for a fish taken by a person subject to the bag limit specified in § 622.38 (b)(3) and 13 inches (33.0 cm), TL, for a fish taken by a person not subject to the bag limit.

(2) Lane snapper—8 inches (20.3 cm), TL.

(3) Vermilion snapper—10 inches (25.4 cm), TL.

(4) Cubera, gray, and yellowtail snappers—12 inches (30.5 cm), TL.

(5) Mutton snapper—16 inches (40.6 cm), TL.

(b) Grouper—(1) Gag—22 inches (55.9 cm), TL.

(2) Red grouper—(i) For a person not subject to the bag limit specified in § 622.38 (b)(2)—18 inches (45.7 cm), TL.

(ii) For a person subject to the bag limit specified in

§ 622.38(b)(2)—20 inches (50.8 cm), TL.

(3) Scamp—16 inches (40.6 cm), TL.

(4) Yellowfin grouper—20 inches (50.8 cm), TL.

(5) Black grouper—(i) For a person not subject to the bag limit specified in § 622.38(b)(2)—24 inches (61.0 cm), TL.

(ii) For a person subject to the bag limit specified in § 622.38(b)(2)—22 inches (55.9 cm), TL.

(c) Other Gulf reef fish species—(1) Gray triggerfish—14 inches (35.6 cm), fork length.

(2) Hogfish—12 inches (30.5 cm), fork length.

(3) Banded rudderfish and lesser amberjack—14 inches (35.6 cm), fork length (minimum size); 22 inches (55.9 cm), fork length (maximum size).

(4) Greater amberjack—30 inches (76 cm), fork length, for a fish taken by a person subject to the bag limit specified in § 622.38)(b)(1) and 36 inches (91.4 cm), fork length, for a fish taken by a person not subject to the bag limit.

(d) A person aboard a vessel that has a Federal commercial vessel permit for Gulf reef fish and commercial quantities of Gulf reef fish, i.e., Gulf reef fish in excess of applicable bag/possession limits, may not possess any Gulf reef fish that do not comply with the applicable commercial minimum size limit.

§ 622.38 Bag and possession limits.

(a) Additional applicability provisions for Gulf reef fish. (1) Section 622.11(a) provides the general applicability for bag and possession limits. However, § 622.11(a) notwithstanding, bag and possession limits also apply for Gulf reef fish in or from the EEZ to a person aboard a vessel that has on board a commercial permit for Gulf reef fish—

(i) When trawl gear or entangling net gear is on board. A vessel is considered to have trawl gear on board when trawl doors and a net are on board. Removal from the vessel of all trawl doors or all nets constitutes removal of trawl gear.

(ii) When a longline or buoy gear is on board and the vessel is fishing or has fished on a trip in the reef fish longline and buoy gear restricted area specified in § 622.35(c). A vessel is considered to have a longline on board when a power-operated longline hauler, a cable of diameter and length suitable for use in the longline fishery, and gangions are on board. Removal of any one of these three elements, in its entirety, constitutes removal of a longline.

(iii) For a species/species group when its quota has been reached and closure has been effected, provided that no commercial quantities of Gulf reef fish, i.e., Gulf reef fish in excess of applicable bag/possession limits, are on board as specified in paragraph (a)(2) of this section.

(iv) When the vessel has on board or is tending any trap other than a stone crab trap or a spiny lobster trap.

(2) A person aboard a vessel that has a Federal commercial vessel permit for Gulf reef fish and commercial quantities of Gulf reef fish, i.e., Gulf reef fish in excess of applicable bag/possession limits, may not possess Gulf reef fish caught under a bag limit.

(b) Bag limits—(1) Greater amberjack—1. However, no greater amberjack may be retained by the captain or crew of a vessel operating as a charter vessel or headboat. The bag limit for such captain and crew is zero.

(2) Groupers, combined, excluding goliath grouper and Nassau grouper—4 per person per day, but not to exceed 1 speckled hind or 1 warsaw grouper per vessel per day, or 2 gag per person per day. However, no grouper may be retained by the captain or crew of a vessel operating as a charter vessel or headboat. The bag limit for such captain and crew is zero.

(3) Red snapper—2. However, no red snapper may be retained by the captain or crew of a vessel operating as a charter vessel or headboat. The bag limit for such captain and crew is zero.

(4) Snappers, combined, excluding red, lane, and vermilion snapper—10.

(5) Gulf reef fish, combined, excluding those specified in paragraphs (b)(1) through (b)(4) and paragraphs (b)(6) through (b)(7) of this section—20.

(6) Banded rudderfish and lesser amberjack, combined—5.

(7) Hogfish—5.

(c) Possession limits. A person, or a vessel in the case of speckled hind or Warsaw grouper, on a trip that spans more than 24 hours may possess no more than two daily bag limits, provided such trip is on a vessel that is operating as a charter vessel or headboat, the vessel has two licensed operators aboard, and each passenger is issued and has in possession a receipt issued on behalf of the vessel that verifies the length of the trip.

§ 622.39 Quotas.

See § 622.8 for general provisions regarding quota applicability and closure and reopening procedures. This section, provides quotas and specific quota closure restrictions for Gulf reef fish.

(a) Gulf reef fish—(1) Commercial quotas. The following quotas apply to persons who fish under commercial vessel permits for Gulf reef fish, as required under § 622.20(a)(1).

(i) Red snapper. (A) For fishing year 2012—4.121 million lb (1.869 million kg), round weight.

(B) For fishing year 2013—4.432 million lb (2.010 million kg), round weight.

(ii) Deep-water groupers (DWG) have a combined quota, as specified in paragraphs (a)(1)(ii)(A) through (E) of this section. These quotas are specified in gutted weight, that is eviscerated, but otherwise whole.

(A) For fishing year 2012—1.127 million lb (0.511 million kg).

(B) For fishing year 2013—1.118 million lb (0.507 million kg).

(C) For fishing year 2014—1.110 million lb (0.503 million kg).

(D) For fishing year 2015—1.101 million lb (0.499 million kg).

(E) For fishing year 2016 and subsequent fishing years—1.024 million lb (0.464 million kg).

(iii) Shallow-water groupers (SWG) have separate quotas for gag and red grouper and a combined quota for other shallow-water grouper (Other SWG) species (including black grouper, scamp, yellowfin grouper, and yellowmouth grouper), as specified in paragraphs (a)(1)(iii)(A) through (C) of this section. These quotas are specified in gutted weight, that is, eviscerated but otherwise whole.

(A) Other SWG combined. (1) For fishing year 2012—509,000 lb (230,879 kg).

(2) For fishing year 2013—518,000 lb (234,961 kg).

(3) For fishing year 2014—523,000 lb (237,229 kg).

(4) For fishing year 2015 and subsequent fishing years—525,000 lb (238,136 kg).

(B) Gag. (1) For fishing year 2012—0.567 million lb (0.257 million kg).

(2) For fishing year 2013—0.708 million lb (0.321 million kg).

(3) For fishing year 2014—0.835 million lb (0.378 million kg).

(4) For fishing year 2015 and subsequent fishing years—0.939 million lb (0.426 million kg).

(C) Red grouper. (1) For fishing year 2012—5.37 million lb (2.37 million kg).

(2) For fishing year 2013—5.53 million lb (2.44 million kg).

(3) For fishing year 2014—5.63 million lb (2.51 million kg).

(4) For fishing year 2015 and subsequent fishing years—5.72 million lb (2.59 million kg).

(iv) Tilefishes (including goldface tilefish, blueline tilefish, and tilefish)—582,000 lb (263,991 kg), gutted weight, that is, eviscerated but otherwise whole.

(v) Greater amberjack—409,000 lb (185,519 kg), round weight.

(vi) Gray triggerfish—106,000 lb (48,081 kg), round weight.

(2) Recreational quotas. The following quotas apply to persons who fish for Gulf reef fish other than under commercial vessel permits for Gulf reef fish and the applicable commercial quotas specified in paragraph (a)(1) of this section.

(i) Recreational quota for red snapper. (A) For fishing year 2012, the recreational quota for red snapper is 3.959 million lb (1.796 million kg), round weight.

(B) For fishing year 2013, the recreational quota for red snapper is 4.258 million lb (1.931 million kg), round weight.

(ii) Recreational quota for greater amberjack. The recreational quota for greater amberjack is 1,130,000 lb (512,559 kg), round weight.

(b) Restrictions applicable after a commercial quota closure. (1) If the recreational fishery for the indicated species is open, the bag and possession limits specified in § 622.38(b) and (c) apply to all harvest or possession in or from the Gulf EEZ of the indicated species, and the sale or purchase of the indicated species taken from the Gulf EEZ is prohibited. In addition, the bag and possession limits for red snapper, when applicable, apply on board a vessel for which a commercial permit for Gulf reef fish has been issued, as required under § 622.20(a)(1), without regard to where such red snapper were harvested. The application of bag limits described in this paragraph (b)(1) notwithstanding, bag limits of Gulf reef fish may not be possessed on board a vessel with commercial quantities of Gulf reef fish, i.e., Gulf reef fish in excess of applicable bag/possession limits, on board, as specified in § 622.38(a)(2). The prohibition on sale/purchase during a closure for Gulf reef fish does not apply to Gulf reef fish that were harvested, landed ashore, and sold prior to the effective date of the closure and were held in cold storage by a dealer or processor.

(2) If the recreational fishery for the indicated species is closed, all harvest or possession in or from the Gulf EEZ of the indicated species is prohibited.

(c) Restrictions applicable after a recreational quota closure—(1) After closure of the recreational quota for red snapper. The bag and possession limit for red snapper in or from the Gulf EEZ is zero.

(2) After closure of the recreational quota for greater amberjack. The bag and possession limit for greater amberjack in or from the Gulf EEZ is zero.

§ 622.40 Restrictions on sale/purchase.

The restrictions in this section are in addition to the restrictions on sale/purchase related to quota closures as specified in § 622.39(b) and (c).

(a) A Gulf reef fish harvested in the EEZ on board a vessel that does not have a valid commercial permit for Gulf reef fish, as required under § 622.20(a)(1), or a Gulf reef fish possessed under the bag limits specified in § 622.38(b), may not be sold or purchased.

(b) A Gulf reef fish harvested on board a vessel that has a valid commercial permit for Gulf reef fish may be sold only to a dealer who has a valid permit for Gulf reef fish, as required under § 622.20(c).

(c) A Gulf reef fish harvested in the EEZ may be purchased by a dealer who has a valid permit for Gulf reef fish, as required under § 622.20(c), only from a vessel that has a valid commercial permit for Gulf reef fish.

§ 622.41 Annual catch limits (ACLs), annual catch targets (ACTs), and accountability measures (AMs).

(a) Greater amberjack—(1) Commercial sector. (i) If commercial landings, as estimated by the SRD, reach or are projected to reach the annual catch target (ACT) specified in § 622.39(a)(1)(v)(commercial quota), the Assistant Administrator for Fisheries, NOAA, (AA) will file a notification with the Office of the Federal Register to close the commercial sector for the remainder of the fishing year.

(ii) In addition to the measures specified in paragraph (a)(1)(i) of this section, if commercial landings, as estimated by the SRD, exceed the commercial ACL, as specified in (a)(1)(iii) of this section, the AA will file a notification with the Office of the Federal Register, at or near the beginning of the following fishing year to reduce the commercial ACT (commercial quota) and the commercial ACL for that following year by the amount of any commercial ACL overage in the prior fishing year.

(iii) The commercial ACL for greater amberjack is 481,000 lb (218,178 kg), round weight.

(2) Recreational sector. (i) If recreational landings, as estimated by the SRD, reach or are projected to reach the ACT specified in § 622.39(a)(2)(ii) (recreational quota), the AA will file a notification with the Office of the Federal Register to close the recreational sector for the remainder of the fishing year.

(ii) In addition to the measures specified in paragraph (a)(2)(i) of this section, if recreational landings, as estimated by the SRD, exceed the recreational ACL, as specified in paragraph (a)(2)(iii) of this section, the AA will file a notification with the Office of the Federal Register, at or near the beginning of the following fishing year to reduce the recreational ACT (recreational quota) and the recreational ACL for that following year by the amount of any recreational overage in the prior fishing year.

(iii) The recreational ACL for greater amberjack is 1,299,000 lb (589,216 kg), round weight.

(b) Gray triggerfish—(1) Commercial sector. If commercial landings, as estimated by the SRD, reach or are projected to reach the applicable quota specified in § 622.39(a)(1)(vi), the AA will file a notification with the Office of the Federal Register to close the commercial sector for the remainder of the fishing year. In addition, if despite such closure, commercial landings exceed the applicable annual catch limit (ACL), the AA will file a notification with the Office of the Federal Register, at or near the beginning of the following fishing year, to reduce the quota for that following year by the amount the prior-year ACL was exceeded. The commercial ACL for 2010 and subsequent fishing years is 138,000 lb (62,596 kg).

(2) Recreational sector. If recreational landings, as estimated by the SRD, exceed the ACL, the AA will file a notification with the Office of the Federal Register reducing the length of the following recreational fishing season by the amount necessary to ensure recreational landings do not exceed the recreational target catch for that following fishing year. The recreational ACL for 2010 and subsequent fishing years is 457,000 lb (207,291 kg). The recreational ACT for 2010 and subsequent fishing years is 405,000 lb (183,705 kg). Recreational landings will be evaluated relative to the ACL based on a moving multi-year average of landings, as described in the FMP.

(c) Other shallow-water grouper (Other SWG) combined (including black grouper, scamp, yellowfin grouper, and yellowmouth grouper)—(1) Commercial sector. The IFQ program for groupers and tilefishes in the Gulf of Mexico serves as the accountability measure for commercial Other SWG. The commercial ACL for Other SWG is equal to the applicable quota specified in § 622.39(a)(1)(iii)(A).

(2) Recreational sector. If the sum of the commercial and recreational landings, as estimated by the SRD, exceeds the stock complex ACL specified in paragraph (c)(3) of this section, then during the following fishing year, if the sum of the commercial and recreational landings reaches or is projected to reach the applicable ACL specified in paragraph (c)(3) of this section, the AA will file a notification with the Office of the Federal Register to close the recreational sector for the remainder of that fishing year.

(3) The stock complex ACLs for Other SWG, in gutted weight, are 688,000 lb (312,072 kg) for 2012, 700,000 lb (317,515 kg) for 2013, 707,000 lb (320,690 kg) for 2014, and 710,000 lb (322,051 kg) for 2015 and subsequent years.

(d) Gag—(1) Commercial sector. The IFQ program for groupers and tilefishes in the Gulf of Mexico serves as the accountability measure for commercial gag. The applicable commercial ACLs for gag, in gutted weight, are 0.788 million lb (0.357 million kg) for 2012, 0.956 million lb (0.434 million kg) for 2013, 1.100 million lb (0.499 million kg) for 2014, and 1.217 million lb (0.552 million kg) for 2015 and subsequent fishing years.

(2) Recreational sector. (i) Without regard to overfished status, if gag recreational landings, as estimated by the SRD, reach or are projected to reach the applicable ACLs specified in paragraph (d)(2)(iv) of this section, the AA will file a notification with the Office of the Federal Register, to close the recreational sector for the remainder of the fishing year. On and after the effective date of such a notification, the bag and possession limit of gag in or from the Gulf EEZ is zero. This bag and possession limit applies in the Gulf on board a vessel for which a valid Federal charter vessel/headboat permit for Gulf reef fish has been issued, without regard to where such species were harvested, i.e. in state or Federal waters.

(ii) Without regard to overfished status, and in addition to the measures specified in paragraph (d)(2)(i) of this section, if gag recreational landings, as estimated by the SRD, exceed the applicable ACLs specified in paragraph (d)(2)(iv) of this section, the AA will file a notification with the Office of the Federal Register to maintain the gag ACT, specified in paragraph (d)(2)(iv) of this section, for that following fishing year at the level of the prior year's ACT, unless the best scientific information available determines that maintaining the prior year's ACT is unnecessary. In addition, the notification will reduce the length of the recreational gag fishing season the following fishing year by the amount necessary to ensure gag recreational landings do not exceed the recreational ACT in the following fishing year.

(iii) If gag are overfished, based on the most recent status of U.S. Fisheries Report to Congress, and gag recreational landings, as estimated by the SRD, exceed the applicable ACL specified in paragraph (d)(2)(iv) of this section, the following measures will apply. In addition to the measures specified in paragraphs (d)(2)(i) and (ii) of this section, the AA will file a notification with the Office of the Federal Register, at or near the beginning of the following fishing year to reduce the ACL for that following year by the amount of the ACL overage in the prior fishing year, and reduce the ACT, as determined in paragraph (d)(2)(ii) of this section, by the amount of the ACL overage in the prior fishing year, unless the best scientific information available determines that a greater, lesser, or no overage adjustment is necessary.

(iv) The applicable recreational ACLs for gag, in gutted weight, are 1.232 million lb (0.559 million kg) for 2012, 1.495 million lb (0.678 million kg) for 2013, 1.720 million lb (0.780 million kg) for 2014, and 1.903 million lb (0.863 million kg) for 2015 and subsequent fishing years. The recreational ACTs for gag, in gutted weight, are 1.031 million lb (0.468 million kg) for 2012, 1.287 million lb (0.584 million kg) for 2013, 1.519 million lb (0.689 million kg) for 2014, and 1.708 million lb (0.775 million kg) for 2015 and subsequent fishing years.

(e) Red grouper—(1) Commercial sector. The IFQ program for groupers and tilefishes in the Gulf of Mexico serves as the accountability measure for commercial red grouper. The applicable commercial ACL for red grouper, in gutted weight, for 2012 and subsequent fishing years is 6.03 million lb (2.735 million kg).

(2) Recreational sector. (i) Without regard to overfished status, if red grouper recreational landings, as estimated by the SRD, reach or are projected to reach the applicable ACL specified in paragraph (e)(2)(iv) of this section, the AA will file a notification with the Office of the Federal Register, to close the recreational sector for the remainder of the fishing year. On and after the effective date of such a notification, the bag and possession limit of red grouper in or from the Gulf EEZ is zero. This bag and possession limit applies in the Gulf on board a vessel for which a valid Federal charter vessel/headboat permit for Gulf reef fish has been issued, without regard to where such species were harvested, i.e. in state or Federal waters.

(ii) Without regard to overfished status, and in addition to the measures specified in paragraph (e)(2)(i) of this section, if red grouper recreational landings, as estimated by the SRD, exceed the applicable ACL specified in paragraph (e)(2)(iv) of this section, the AA will file a notification with the Office of the Federal Register to maintain the red grouper ACT, specified in paragraph (e)(2)(iv) of this section, for that following fishing year at the level of the prior year's ACT, unless the best scientific information available determines that maintaining the prior year's ACT is unnecessary. In addition, the notification will reduce the bag limit by one fish and reduce the length of the recreational red grouper fishing season the following fishing year by the amount necessary to ensure red grouper recreational landings do not exceed the recreational ACT in the following fishing year. The minimum red grouper bag limit for 2014 and subsequent fishing years is two fish.

(iii) If red grouper are overfished, based on the most recent Status of U.S. Fisheries Report to Congress, and red grouper recreational landings, as estimated by the SRD, exceed the applicable ACL specified in paragraph (e)(2)(iv) of this section, the following measures will apply. In addition to the measures specified in paragraphs (e)(2)(i) and (ii) of this section, the AA will file a notification with the Office of the Federal Register, at or near the beginning of the following fishing year to reduce the ACL for that following year by the amount of the ACL overage in the prior fishing year, and reduce the ACT, as determined in paragraph (e)(2)(ii) of this section, by the amount of the ACL overage in the prior fishing year, unless the best scientific information available determines that a greater, lesser, or no overage adjustment is necessary.

(iv) The recreational ACL for red grouper, in gutted weight, is 1.90 million lb (0.862 million kg) for 2012 and subsequent fishing years. The recreational ACT for red grouper, in gutted weight, is 1.730 million lb (0.785 million kg) for 2012 and subsequent fishing years.

(f) Deep-water grouper (DWG) combined (including yellowedge grouper, warsaw grouper, snowy grouper, and speckled hind)— (1) Commercial sector. The IFQ program for groupers and tilefishes in the Gulf of Mexico serves as the accountability measure for commercial DWG. The commercial ACL for DWG is equal to the applicable quota specified in § 622.39(a)(1)(ii).

(2) Recreational sector. If the sum of the commercial and recreational landings, as estimated by the SRD, exceeds the stock complex ACL specified in paragraph (f)(3) of this section, then during the following fishing year, if the sum of commercial and recreational landings reaches or is projected to reach the applicable ACL specified in paragraph (f)(3) of this section, the AA will file a notification with the Office of the Federal Register to close the recreational sector for the remainder of that fishing year.

(3) The stock complex ACLs for DWG, in gutted weight, are 1.216 million lb (0.552 million kg) for 2012, 1.207 million lb (0.547 million kg) for 2013, 1.198 million lb (0.543 million kg) for 2014, 1.189 million lb (0.539 million kg) for 2015, and 1.105 million lb (0.501 million kg) for 2016 and subsequent years.

(g) Tilefishes combined (including goldface tilefish, blueline tilefish, and tilefish)—(1) Commercial sector. The IFQ program for groupers and tilefishes in the Gulf of Mexico serves as the accountability measure for commercial tilefishes. The commercial ACL for tilefishes is equal to the applicable quota specified in § 622.39(a)(1)(iv).

(2) Recreational sector. If the sum of the commercial and recreational landings, as estimated by the SRD, exceeds the stock complex ACL specified in paragraph (g)(3) of this section, then during the following fishing year, if the sum of commercial and recreational landings reaches or is projected to reach the applicable ACL specified in paragraph (g)(3) of this section, the AA will file a notification with the Office of the Federal Register to close the recreational sector for the remainder of that fishing year.

(3) The stock complex ACL for tilefishes is 608,000 lb (275,784 kg), gutted weight.

(h) Lesser amberjack, almaco jack, and banded rudderfish, combined. If the sum of the commercial and recreational landings, as estimated by the SRD, exceeds the stock complex ACL, then during the following fishing year, if the sum of commercial and recreational landings reaches or is projected to reach the stock complex ACL, the AA will file a notification with the Office of the Federal Register to close the commercial and recreational sectors for the remainder of that fishing year. The stock complex ACL for lesser amberjack, almaco jack, and banded rudderfish, is 312,000 lb (141,521 kg), round weight.

(i) Silk snapper, queen snapper, blackfin snapper, and wenchman, combined. If the sum of the commercial and recreational landings, as estimated by the SRD, exceeds the stock complex ACL, then during the following fishing year, if the sum of commercial and recreational landings reaches or is projected to reach the stock complex ACL, the AA will file a notification with the Office of the Federal Register to close the commercial and recreational sectors for the remainder of that fishing year. The stock complex ACL for silk snapper, queen snapper, blackfin snapper, and wenchman, is 166,000 lb (75,296 kg), round weight.

(j) Vermilion snapper. If the sum of the commercial and recreational landings, as estimated by the SRD, reaches or is projected to reach the stock ACL, the AA will file a notification with the Office of the Federal Register to close the commercial and recreational sectors for the remainder of the fishing year. The stock ACL for vermilion snapper is 3.42 million lb (1.55 million kg), round weight.

(k) Lane snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for lane snapper is 301,000 lb (136,531 kg), round weight.

(l) Gray snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for gray snapper is 2.42 million lb (1.10 million kg), round weight.

(m) Cubera snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for cubera snapper is 5,065 lb (2,297 kg), round weight.

(n) Yellowtail snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for yellowtail snapper is 725,000 lb (328,855 kg), round weight.

(o) Mutton snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for mutton snapper is 203,000 lb (92,079 kg), round weight.

(p) Hogfish. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for hogfish is 208,000 lb (94,347 kg), round weight.

§ 622.42 Adjustment of management measures.

In accordance with the framework procedures of the FMP for the Reef Fish Resources of the Gulf of Mexico, the RA may establish or modify the items specified in paragraph (a) of this section for Gulf reef fish.

(a) For a species or species group: Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, management parameters such as overfished and overfishing definitions, gear restrictions (ranging from regulation to complete prohibition), gear markings and identification, vessel markings and identification, allowable biological catch (ABC) and ABC control rules, rebuilding plans, and restrictions relative to conditions of harvested fish (maintaining fish in whole condition, use as bait).

(b) [Reserved]

§ 622.43 Commercial trip limits.

Commercial trip limits are limits on the amount of the applicable species that may be possessed on board or landed, purchased, or sold from a vessel per day. A person who fishes in the EEZ may not combine a trip limit specified in this section with any trip or possession limit applicable to state waters. A species subject to a trip limit specified in this section taken in the EEZ may not be transferred at sea, regardless of where such transfer takes place, and such species may not be transferred in the EEZ. Commercial trip limits apply as follows:

(a) Greater amberjack. Until the quota specified in § 622.39(a)(1)(v) is reached, 2,000 lb (907 kg), round weight. See § 622.39(b) for the limitations regarding greater amberjack after the quota is reached.

(b) [Reserved]

§ 622.44 Prohibitions.

In addition to the prohibitions in § 600.725 of this chapter and the general prohibitions in § 622.13 of this part, it is unlawful for any person to violate any provisions of §§ 622.20 through 622.44.

Subpart C—Shrimp Fishery of the Gulf of Mexico

§ 622.50 Permits, permit moratorium, and endorsements.

(a) Gulf shrimp permit. For a person aboard a vessel to fish for shrimp in the Gulf EEZ or possess shrimp in or from the Gulf EEZ, a commercial vessel permit for Gulf shrimp must have been issued to the vessel and must be on board. See paragraph (b) of this section regarding a moratorium on commercial vessel permits for Gulf shrimp and the associated provisions. See paragraph (c) of this section, regarding an additional endorsement requirement related to royal red shrimp.

(b) Moratorium on commercial vessel permits for Gulf shrimp. The provisions of this paragraph (b) are applicable through October 26, 2016.

(1) Moratorium permits are required. The only valid commercial vessel permits for Gulf shrimp are commercial vessel moratorium permits for Gulf shrimp. In accordance with the procedures specified in the Fishery Management Plan for the Shrimp Fishery of the Gulf of Mexico (Gulf Shrimp FMP), all commercial vessel moratorium permits for Gulf shrimp have been issued. No additional permits will be issued.

(2) Permit transferability. Commercial vessel moratorium permits for Gulf shrimp are fully transferable, with or without the sale of the vessel. To request that the RA transfer a commercial vessel moratorium permit for Gulf shrimp, the owner of a vessel that is to receive the transferred permit must complete the transfer information on the reverse of the permit and return the permit and a completed application for transfer to the RA. Transfer documents must be notarized as specified in § 622.4(f)(1).

(3) Renewal. (i) Renewal of a commercial vessel moratorium permit for Gulf shrimp is contingent upon compliance with the recordkeeping and reporting requirements for Gulf shrimp specified in § 622.51(a).

(ii) A commercial vessel moratorium permit for Gulf shrimp that is not renewed will be terminated and will not be reissued during the moratorium. A permit is considered to be not renewed when an application for renewal, as required, is not received by the RA within 1 year of the expiration date of the permit.

(c) Gulf royal red shrimp endorsement. For a person aboard a vessel to fish for royal red shrimp in the Gulf EEZ or possess royal red shrimp in or from the Gulf EEZ, a commercial vessel permit for Gulf shrimp with a Gulf royal red shrimp endorsement must be issued to the vessel and must be on board.

(d) Permit procedures. See § 622.4 for information regarding general permit procedures including, but not limited to, application, fees, duration, transfer, renewal, display, sanctions and denials, and replacement.

§ 622.51 Recordkeeping and reporting.

(a) Commercial vessel owners and operators—(1) General reporting requirement. The owner or operator of a vessel that fishes for shrimp in the Gulf EEZ or in adjoining state waters, or that lands shrimp in an adjoining state, must provide information for any fishing trip, as requested by the SRD, including, but not limited to, vessel identification, gear, effort, amount of shrimp caught by species, shrimp condition (heads on/heads off), fishing areas and depths, and person to whom sold.

(2) Electronic logbook reporting. The owner or operator of a vessel for which a Federal commercial vessel permit for Gulf shrimp has been issued and who is selected by the SRD must participate in the NMFS-sponsored electronic logbook reporting program as directed by the SRD. In addition, such owner or operator must provide information regarding the size and number of shrimp trawls deployed and the type of bycatch reduction device (BRD) and turtle excluder device used, as directed by the SRD. Compliance with the reporting requirements of this paragraph (a)(2) is required for permit renewal.

(3) Vessel and Gear Characterization Form. All owners or operators of vessels applying for or renewing a commercial vessel moratorium permit for Gulf shrimp must complete an annual Gulf Shrimp Vessel and Gear Characterization Form. The form will be provided by NMFS at the time of permit application and renewal. Compliance with this reporting requirement is required for permit issuance and renewal.

(4) Landings report. The owner or operator of a vessel for which a Federal commercial vessel permit for Gulf shrimp has been issued must annually report the permitted vessel's total annual landings of shrimp and value, by species, on a form provided by the SRD. Compliance with this reporting requirement is required for permit renewal.

(b) Gulf shrimp dealers. A person who purchases shrimp from a vessel, or person, that fishes for shrimp in the Gulf EEZ or in adjoining state waters, or that lands shrimp in an adjoining state, must provide the following information when requested by the SRD:

(1) Name and official number of the vessel from which shrimp were received or the name of the person from whom shrimp were received, if received from other than a vessel.

(2) Amount of shrimp received by species and size category for each receipt.

(3) Ex-vessel value, by species and size category, for each receipt.

§ 622.52 At-sea observer coverage.

(a) Required coverage. A vessel for which a Federal commercial vessel permit for Gulf shrimp has been issued must carry a NMFS-approved observer, if the vessel's trip is selected by the SRD for observer coverage. Vessel permit renewal is contingent upon compliance with this paragraph (a).

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.53 Bycatch reduction device (BRD) requirements.

(a) BRD requirement for Gulf shrimp. On a shrimp trawler in the Gulf EEZ, each net that is rigged for fishing must have a BRD installed that is listed in paragraph (a)(3) of this section and is certified or provisionally certified for the area in which the shrimp trawler is located, unless exempted as specified in paragraphs (a)(1)(i) through (iv) of this section. A trawl net is rigged for fishing if it is in the water, or if it is shackled, tied, or otherwise connected to a sled, door, or other device that spreads the net, or to a tow rope, cable, pole, or extension, either on board or attached to a shrimp trawler.

(1) Exemptions from BRD requirement—(i) Royal red shrimp exemption. A shrimp trawler is exempt from the requirement to have a certified or provisionally certified BRD installed in each net provided that at least 90 percent (by weight) of all shrimp on board or offloaded from such trawler are royal red shrimp.

(ii) Try net exemption. A shrimp trawler is exempt from the requirement to have a certified or provisionally certified BRD installed in a single try net with a headrope length of 16 ft (4.9 m) or less provided the single try net is either placed immediately in front of another net or is not connected to another net.

(iii) Roller trawl exemption. A shrimp trawler is exempt from the requirement to have a certified or provisionally certified BRD installed in up to two rigid-frame roller trawls that are 16 ft (4.9 m) or less in length used or possessed on board. A rigid-frame roller trawl is a trawl that has a mouth formed by a rigid frame and a grid of rigid vertical bars; has rollers on the lower horizontal part of the frame to allow the trawl to roll over the bottom and any obstruction while being towed; and has no doors, boards, or similar devices attached to keep the mouth of the trawl open.

(iv) BRD certification testing exemption. A shrimp trawler that is authorized by the RA to participate in the pre-certification testing phase or to test a BRD in the EEZ for possible certification, has such written authorization on board, and is conducting such test in accordance with the “Bycatch Reduction Device Testing Manual” is granted a limited exemption from the BRD requirement specified in this section. The exemption from the BRD requirement is limited to those trawls that are being used in the certification trials. All other trawls rigged for fishing must be equipped with certified or provisionally certified BRDs.

(2) Procedures for certification and decertification of BRDs. The process for the certification of BRDs consists of two phases—an optional pre-certification phase and a required certification phase. The RA may also provisionally certify a BRD.

(i) Pre-certification. The pre-certification phase allows a person to test and evaluate a new BRD design for up to 60 days without being subject to the observer requirements and rigorous testing requirements specified for certification testing in the “Bycatch Reduction Device Testing Manual.”

(A) A person who wants to conduct pre-certification phase testing must submit an application to the RA, as specified in the “Bycatch Reduction Device Testing Manual.” The “Bycatch Reduction Device Testing Manual,” which is available from the RA, upon request, contains the application forms.

(B) After reviewing the application, the RA will determine whether to issue a letter of authorization (LOA) to conduct pre-certification trials upon the vessel specified in the application. If the RA authorizes pre-certification, the RA's LOA must be on board the vessel during any trip involving the BRD testing.

(ii) Certification. A person who proposes a BRD for certification for use in the Gulf EEZ must submit an application to test such BRD, conduct the testing, and submit the results of the test in accordance with the “Bycatch Reduction Device Testing Manual.” The RA will issue a LOA to conduct certification trials upon the vessel specified in the application if the RA finds that: The operation plan submitted with the application meets the requirements of the “Bycatch Reduction Device Testing Manual”; the observer identified in the application is qualified; and the results of any pre-certification trials conducted have been reviewed and deemed to indicate a reasonable scientific basis for conducting certification testing. If authorization to conduct certification trials is denied, the RA will provide a letter of explanation to the applicant, together with relevant recommendations to address the deficiencies resulting in the denial. To be certified for use in the fishery, the BRD candidate must successfully demonstrate a 30-percent reduction in total weight of finfish bycatch. In addition, the BRD candidate must satisfy the following conditions: There is at least a 50-percent probability the true reduction rate of the BRD candidate meets the bycatch reduction criterion and there is no more than a 10-percent probability the true reduction rate of the BRD candidate is more than 5 percentage points less than the bycatch reduction criterion. If a BRD meets both conditions, consistent with the “Bycatch Reduction Device Testing Manual,” NMFS, through appropriate rulemaking procedures, will add the BRD to the list of certified BRDs in paragraph (a)(3) of this section; and provide the specifications for the newly certified BRD, including any special conditions deemed appropriate based on the certification testing results.

(iii) Provisional certification. Based on data provided consistent with the “Bycatch Reduction Device Testing Manual,” the RA may provisionally certify a BRD if there is at least a 50-percent probability the true reduction rate of the BRD is no more than 5 percentage points less than the bycatch reduction criterion, i.e., 25 percent reduction in total weight of finfish bycatch. Through appropriate rulemaking procedures, NMFS will add the BRD to the list of provisionally certified BRDs in paragraph (a)(3) of this section; and provide the specifications for the BRD, including any special conditions deemed appropriate based on the certification testing results. A provisional certification is effective for 2 years from the date of publication of the notification in the Federal Register announcing the provisional certification.

(iv) Decertification. The RA will decertify a BRD if NMFS determines the BRD does not meet the requirements for certification or provisional certification. Before determining whether to decertify a BRD, the RA will notify the Gulf of Mexico Fishery Management Council in writing, and the public will be provided an opportunity to comment on the advisability of any proposed decertification. The RA will consider any comments from the Council and public, and if the RA elects to decertify the BRD, the RA will proceed with decertification via appropriate rulemaking.

(3) Certified and provisionally certified BRDs—(i) Certified BRDS. The following BRDs are certified for use in the Gulf EEZ. Specifications of these certified BRDs are contained in Appendix D to this part.

(A) Fisheye—see Appendix D to part 622 for separate specifications in the Gulf and South Atlantic EEZ.

(B) Jones-Davis.

(C) Modified Jones-Davis.

(D) Cone Fish Deflector Composite Panel.

(E) Square Mesh Panel (SMP) Composite Panel.

(ii) [Reserved]

(b) [Reserved]

§ 622.54 Prohibited gear and methods.

Also see § 622.9 for additional prohibited gear and methods that apply more broadly to multiple fisheries or in some cases all fisheries.

(a) Traps for royal red shrimp in the Gulf EEZ and transfer at sea. A trap may not be used to fish for royal red shrimp in the Gulf EEZ. Possession of a trap and royal red shrimp on board a vessel is prohibited. A trap used to fish for royal red shrimp in the Gulf EEZ may be disposed of in any appropriate manner by the Assistant Administrator or an authorized officer. In addition, royal red shrimp cannot be transferred in the Gulf EEZ, and royal red shrimp taken in the Gulf EEZ cannot be transferred at sea regardless of where the transfer takes place.

(b) [Reserved]

§ 622.55 Closed areas.

(a) Texas closure. (1) From 30 minutes after official sunset on May 15 to 30 minutes after official sunset on July 15, trawling, except trawling for royal red shrimp beyond the 100-fathom (183-m) depth contour, is prohibited in the Gulf EEZ off Texas.

(2) In accordance with the procedures and restrictions of the Gulf Shrimp FMP, the RA may adjust the closing and/or opening date of the Texas closure to provide an earlier, later, shorter, or longer closure, but the duration of the closure may not exceed 90 days or be less than 45 days. Notification of the adjustment of the closing or opening date will be published in the Federal Register.

(b) Southwest Florida seasonal trawl closure. From January 1 to 1 hour after official sunset on May 20, each year, trawling, including trawling for live bait, is prohibited in that part of the Gulf EEZ shoreward of rhumb lines connecting, in order, the following points:

Point | North lat. | West long.
B¹ | 26°16.0′ | 81°58.5′
C | 26°00.0′ | 82°04.0′
D | 25°09.0′ | 81°47.6′
E | 24°54.5′ | 81°50.5′
M¹ | 24°49.3′ | 81°46.4′
¹ On the seaward limit of Florida's waters.

(c) Tortugas shrimp sanctuary. (1) The Tortugas shrimp sanctuary is closed to trawling. The Tortugas shrimp sanctuary is that part of the EEZ off Florida shoreward of rhumb lines connecting, in order, the following points:

Point | North lat. | West long.
N ¹ | 25°52.9′ | 81°37.9′
F | 24°50.7′ | 81°51.3′
G ² | 24°40.1′ | 82°26.7′
H ³ | 24°34.7′ | 82°35.2′
P ⁴ | 24°35.0′ | 82°08.0′
¹ Coon Key Light.
² New Ground Rocks Light.
³ Rebecca Shoal Light.
⁴ Marquessas Keys.

(2) The provisions of paragraph (c)(1) of this section notwithstanding—

(i) Effective from April 11 through September 30, each year, that part of the Tortugas shrimp sanctuary seaward of rhumb lines connecting the following points is open to trawling: From point T at 24°47.8′ N. lat., 82°01.0′ W. long. to point U at 24°43.83′ N. lat., 82°01.0′ W. long. (on the line denoting the seaward limit of Florida's waters); thence along the seaward limit of Florida's waters, as shown on the current edition of NOAA chart 11439, to point V at 24°42.55′ N. lat., 82°15.0′ W. long.; thence north to point W at 24°43.6′ N. lat., 82°15.0′ W. long.

(ii) Effective from April 11 through July 31, each year, that part of the Tortugas shrimp sanctuary seaward of rhumb lines connecting the following points is open to trawling: From point W to point V, both points as specified in paragraph (c)(2)(i) of this section, to point G, as specified in paragraph (c)(1) of this section.

(iii) Effective from May 26 through July 31, each year, that part of the Tortugas shrimp sanctuary seaward of rhumb lines connecting the following points is open to trawling: From point F, as specified in paragraph (d)(1) of this section, to point Q at 24°46.7′ N. lat., 81°52.2′ W. long. (on the line denoting the seaward limit of Florida's waters); thence along the seaward limit of Florida's waters, as shown on the current edition of NOAA chart 11439, to point U and north to point T, both points as specified in paragraph (c)(2)(i) of this section.

(d) Closures of the Gulf shrimp fishery to reduce red snapper bycatch. During a closure implemented in accordance with this paragraph (d), trawling is prohibited within the specified closed area(s).

(1) Procedure for determining need for and extent of closures. Each year, in accordance with the applicable framework procedure established in the Gulf Shrimp FMP, the RA will, if necessary, establish a seasonal area closure for the shrimp fishery in all or a portion of the areas of the Gulf EEZ specified in paragraphs (d)(2) through (d)(4) of this section. The RA's determination of the need for such closure and its geographical scope and duration will be based on an annual assessment, by the Southeast Fisheries Science Center, of the shrimp effort and associated shrimp trawl bycatch mortality on red snapper in the 10-30 fathom area of statistical zones 10-21, compared to the 67-percent target reduction of shrimp trawl bycatch mortality on red snapper from the benchmark years of 2001-2003 established in the FMP (which corresponds in terms of annual shrimp effort to 27,328 days fished). The framework procedure provides for adjustment of this target reduction level, consistent with the red snapper stock rebuilding plan and the findings of subsequent stock assessments, via appropriate rulemaking. The assessment will use shrimp effort data for the most recent 12-month period available and will include a recommendation regarding the geographical scope and duration of the closure. The Southeast Fisheries Science Center's assessment will be provided to the RA on or about March 1 of each year. If the RA determines that a closure is necessary, the closure falls within the scope of the potential closures evaluated in the Gulf Shrimp FMP, and good cause exists to waive notice and comment, NMFS will implement the closure by publication of a final rule in the Federal Register. If such good cause waiver is not justified, NMFS will implement the closure via appropriate notice and comment rulemaking. NMFS intends that any closure implemented consistent with this paragraph (l) will begin on the same date and time as the Texas closure unless circumstances dictate otherwise.

(2) Eastern zone. The eastern zone is bounded by rhumb lines connecting, in order, the following points:

Point | North lat. | West long.
A | 29°14′ | 88°57′
B | 29°24′ | 88°34′
C | 29°34′ | 87°38′
D | 30°04′ | 87°00′
E | 30°04′ | 88°41′
F | 29°36′ | 88°37′
G | 29°21′ | 88°59′
A | 29°14′ | 88°57′

(3) Louisiana zone. The Louisiana zone is bounded by rhumb lines connecting, in order, the following points:

Point | North lat. | West long.
A | 29°09.1′ | 93°41.4′
B | 29°09.25′ | 92°36′
C | 28°35′ | 90°44′
D | 29°09′ | 89°48′
E | 28°57′ | 89°34′
F | 28°40′ | 90°09′
G | 28°18′ | 90°33′
H | 28°25′ | 91°37′
I | 28°21.7′ | 93°28.4′
A | 29°09.1′ | 93°41.4′

(4) Texas zone. The Texas zone is bounded by rhumb lines connecting, in order, the following points:

Point | North lat. | West long.
A | 29°09.1′ | 93°41.4′
B | 28°44′ | 95°15′
C | 28°11′ | 96°17′
D | 27°44′ | 96°53′
E | 27°02′ | 97°11′
F | 26°00.5′ | 96°57.3′
G | 26°00.5′ | 96°35.85′
H | 26°24′ | 96°36′
I | 26°49′ | 96°52′
J | 27°12′ | 96°51′
K | 27°39′ | 96°33′
L | 27°55′ | 96°04′
M | 28°21.7′ | 93°28.4′
A | 29°09.1′ | 93°41.4′

(e) Shrimp/stone crab separation zones. Five zones are established in the Gulf EEZ and Florida's waters off Citrus and Hernando Counties for the separation of shrimp trawling and stone crab trapping. Although Zone II is entirely within Florida's waters, it is included in this paragraph (e) for the convenience of fishermen. Restrictions that apply to Zone II and those parts of the other zones that are in Florida's waters are contained in Rule 68B-38.001, Florida Administrative Code, in effect as of March 1, 2005 (incorporated by reference, see § 622.413). Geographical coordinates of the points referred to in this paragraph (e) are as follows:

Point | North lat. | West long.
A | 28°59′30″ | 82°45′36″
B | 28°59′30″ | 83°00′10″
C | 28°26′01″ | 82°59′47″
D | 28°26′01″ | 82°56′54″
E | 28°41′39″ | 82°55′25″
F | 28°41′39″ | 82°56′09″
G | 28°48′56″ | 82°56′19″
H | 28°53′51″ | 82°51′19″
I ¹ | 28°54′43″ | 82°44′52″
J ² | 28°51′09″ | 82°44′00″
K | 28°50′59″ | 82°54′16″
L | 28°41′39″ | 82°53′56″
M ³ | 28°41′39″ | 82°38′46″
N | 28°41′39″ | 82°53′12″
O | 28°30′51″ | 82°55′11″
P | 28°40′00″ | 82°53′08″
Q | 28°40′00″ | 82°47′58″
R | 28°35′14″ | 82°47′47″
S | 28°30′51″ | 82°52′55″
T | 28°27′46″ | 82°55′09″
U | 28°30′51″ | 82°52′09″
¹ Crystal River Entrance Light 1A.
² Long Pt. (southwest tip).
³ Shoreline.

(1) Zone I is enclosed by rhumb lines connecting, in order, points A, B, C, D, T, E, F, G, H, I, and J, plus the shoreline between points A and J. It is unlawful to trawl in that part of Zone I that is in the EEZ from October 5 through May 20, each year.

(2) Zone II is enclosed by rhumb lines connecting, in order, points J, I, H, K, L, and M, plus the shoreline between points J and M. Restrictions that apply to Zone II and those parts of the other zones that are in Florida's waters are contained in Rule 68B-38.001, Florida Administrative Code, in effect as of March 1, 2005 (incorporated by reference, see § 622.413).

(3) Zone III is enclosed by rhumb lines connecting, in order, points P, Q, R, U, S, and P. It is unlawful to trawl in that part of Zone III that is in the EEZ from October 5 through May 20, each year.

(4) Zone IV is enclosed by rhumb lines connecting, in order, points E, N, S, O, and E.

(i) It is unlawful to place a stone crab trap in that part of Zone IV that is in the EEZ from October 5 through December 1 and from April 2 through May 20, each year.

(ii) It is unlawful to trawl in that part of Zone IV that is in the EEZ from December 2 through April 1, each year.

(5) Zone V is enclosed by rhumb lines connecting, in order, points F, G, K, L, and F.

(i) It is unlawful to place a stone crab trap in that part of Zone V that is in the EEZ from October 5 through November 30 and from March 16 through May 20, each year.

(ii) It is unlawful to trawl in that part of Zone V that is in the EEZ from December 1 through March 15, each year.

§ 622.56 Size limits.

Shrimp not in compliance with the applicable size limit as specified in this section may not be possessed, sold, or purchased and must be released immediately with a minimum of harm. The operator of a vessel that fishes in the EEZ is responsible for ensuring that shrimp on board are in compliance with the size limit specified in this section.

(a) White shrimp. White shrimp harvested in the Gulf EEZ are subject to the minimum-size landing and possession limits of Louisiana when possessed within the jurisdiction of that State.

(b) [Reserved]

§ 622.57 Quotas.

(a) Royal red shrimp in the Gulf. The quota for all persons who harvest royal red shrimp in the Gulf is 392,000 lb (177.8 mt), tail weight.

(1) Quota closure restrictions. When the quota in § 622.57(a) is reached, or is projected to be reached, royal red shrimp in or from the Gulf EEZ may not be retained, and the sale or purchase of royal red shrimp taken from the Gulf EEZ is prohibited. This prohibition on sale or purchase during a closure for royal red shrimp does not apply to royal red shrimp that were harvested, landed ashore, and sold prior to the effective date of the closure and were held in cold storage by a dealer or processor.

(2) [Reserved]

(b) General quota provisions. See § 622.8 for information regarding applicability of quotas and general quota provisions.

§ 622.58 Annual catch limits (ACLs), annual catch targets (ACTs), and accountability measures (AMs).

(a) Royal red shrimp in the Gulf—(1) Commercial sector. If commercial landings, as estimated by the SRD, exceed the commercial ACL, then during the following fishing year, if commercial landings reach or are projected to reach the commercial ACL, the AA will file a notification with the Office of the Federal Register to close the commercial sector for the remainder of that fishing year. The commercial ACL for royal red shrimp is 334,000 lb (151,500 kg), tail weight.

(2) [Reserved]

(b) [Reserved]

§ 622.59 Prevention of gear conflicts.

(a) No person may knowingly place in the Gulf EEZ any article, including fishing gear, that interferes with fishing or obstructs or damages fishing gear or the fishing vessel of another; or knowingly use fishing gear in such a fashion that it obstructs or damages the fishing gear or fishing vessel of another.

(b) In accordance with the procedures and restrictions of the Gulf Shrimp FMP, the RA may modify or establish separation zones for shrimp trawling and the use of fixed gear to prevent gear conflicts. Necessary prohibitions or restrictions will be published in the Federal Register.

§ 622.60 Adjustment of management measures.

In accordance with the framework procedures of the Gulf Shrimp FMP, the RA may establish or modify the following:

(a) Gulf shrimp. For a species or species group: reporting and monitoring requirements, permitting requirements, size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, restrictions relative to conditions of harvested shrimp (maintaining shrimp in whole condition, use as bait), target effort and fishing mortality reduction levels, bycatch reduction criteria, BRD certification and decertification criteria, BRD testing protocol, certified BRDs, and BRD specification.

(b) Gulf royal red shrimp. Reporting and monitoring requirements, permitting requirements, size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, ABC and ABC control rules, rebuilding plans, sale and purchase restrictions, transfer at sea provisions, and restrictions relative to conditions of harvested shrimp (maintaining shrimp in whole condition, use as bait).

§ 622.61 Prohibitions.

In addition to the prohibitions in § 600.725 of this chapter and the general prohibitions in § 622.13, it is unlawful for any person to violate any provisions of §§ 622.50 through 622.60.

Subpart D—Coral and Coral Reefs of the Gulf of Mexico

§ 622.70 Permits.

See § 622.4 for information regarding general permit procedures including, but not limited to fees, duration, transfer, renewal, display, sanctions and denials, and replacement.

(a) Required permits—-(1) Allowable chemical. For an individual to take or possess fish or other marine organisms with an allowable chemical in a coral area, other than fish or other marine organisms that are landed in Florida, a Federal allowable chemical permit must have been issued to the individual. Such permit must be available when the permitted activity is being conducted and when such fish or other marine organisms are possessed, through landing ashore.

(2) Aquacultured live rock. For a person to take or possess aquacultured live rock in the Gulf EEZ, a Federal aquacultured live rock permit must have been issued for the specific harvest site. Such permit, or a copy, must be on board a vessel depositing or possessing material on an aquacultured live rock site or harvesting or possessing live rock from an aquacultured live rock site.

(3) Prohibited coral. A Federal permit may be issued to take or possess Gulf prohibited coral only as scientific research activity, exempted fishing, or exempted educational activity. See § 600.745 of this chapter for the procedures and limitations for such activities and fishing.

(4) Florida permits. Appropriate Florida permits and endorsements are required for the following activities, without regard to whether they involve activities in the EEZ or Florida's waters:

(i) Landing in Florida fish or other marine organisms taken with an allowable chemical in a coral area.

(ii) Landing allowable octocoral in Florida.

(iii) Landing live rock in Florida.

(b) Application. (1) The applicant for a coral permit must be the individual who will be conducting the activity that requires the permit. In the case of a corporation or partnership that will be conducting live rock aquaculture activity, the applicant must be the principal shareholder or a general partner.

(2) An applicant must provide the following:

(i) Name, address, telephone number, and other identifying information of the applicant.

(ii) Name and address of any affiliated company, institution, or organization.

(iii) Information concerning vessels, harvesting gear/methods, or fishing areas, as specified on the application form.

(iv) Any other information that may be necessary for the issuance or administration of the permit.

(v) If applying for an aquacultured live rock permit, identification of each vessel that will be depositing material on or harvesting aquacultured live rock from the proposed aquacultured live rock site, specification of the port of landing of aquacultured live rock, and a site evaluation report prepared pursuant to generally accepted industry standards that—

(A) Provides accurate coordinates of the proposed harvesting site so that it can be located using LORAN or Global Positioning System equipment;

(B) Shows the site on a chart in sufficient detail to determine its size and allow for site inspection;

(C) Discusses possible hazards to safe navigation or hindrance to vessel traffic, traditional fishing operations, or other public access that may result from aquacultured live rock at the site;

(D) Describes the naturally occurring bottom habitat at the site; and

(E) Specifies the type and origin of material to be deposited on the site and how it will be distinguishable from the naturally occurring substrate.

§ 622.71 Recordkeeping and reporting.

(a) Individuals with aquacultured live rock permits. (1) A person with a Federal aquacultured live rock permit must report to the RA each deposition of material on a site. Such reports must be postmarked not later than 7 days after deposition and must contain the following information:

(i) Permit number of site and date of deposit.

(ii) Geological origin of material deposited.

(iii) Amount of material deposited.

(iv) Source of material deposited, that is, where obtained, if removed from another habitat, or from whom purchased.

(2) A person who takes aquacultured live rock must submit a report of harvest to the RA. Specific reporting requirements will be provided with the permit. This reporting requirement is waived for aquacultured live rock that is landed in Florida.

(b) [Reserved]

§ 622.72 Prohibited gear and methods.

Also see § 622.9 for additional prohibited gear and methods that apply more broadly to multiple fisheries or in some cases all fisheries.

(a) Power-assisted tools. A power-assisted tool may not be used in the Gulf EEZ to take prohibited coral or live rock.

(b) [Reserved]

§ 622.73 Prohibited species.

(a) General. The harvest and possession restrictions of this section apply without regard to whether the species is harvested by a vessel operating under a commercial vessel permit. The operator of a vessel that fishes in the EEZ is responsible for the limit applicable to that vessel.

(b) Prohibited coral. Gulf prohibited coral taken as incidental catch in the Gulf EEZ must be returned immediately to the sea in the general area of fishing. In fisheries where the entire catch is landed unsorted, such as the scallop and groundfish fisheries, unsorted prohibited coral may be landed ashore; however, no person may sell or purchase such prohibited coral.

§ 622.74 Area closures to protect Gulf corals.

(a) West and East Flower Garden Banks HAPC. The following activities are prohibited year-round in the HAPC: Fishing with a bottom longline, bottom trawl, buoy gear, dredge, pot, or trap and bottom anchoring by fishing vessels.

(1) West Flower Garden Bank. West Flower Garden Bank is bounded by rhumb lines connecting, in order, the following points:

Point | North lat. | West long.
A | 27°55′22.8″ | 93°53′09.6″
B | 27°55′22.8″ | 93°46′46.0″
C | 27°49′03.0″ | 93°46′46.0″
D | 27°49′03.0″ | 93°53′09.6″
A | 27°55′22.8″ | 93°53′09.6″

(2) East Flower Garden Bank. East Flower Garden Bank is bounded by rhumb lines connecting, in order, the following points:

Point | North lat. | West long.
A | 27°59′14.4″ | 93°38′58.2″
B | 27°59′14.4″ | 93°34′03.5″
C | 27°52′36.5″ | 93°34′03.5″
D | 27°52′36.5″ | 93°38′58.2″
A | 27°59′14.4″ | 93°38′58.2″

(b) Florida Middle Grounds HAPC. Fishing with a bottom longline, bottom trawl, dredge, pot, or trap is prohibited year-round in the area bounded by rhumb lines connecting, in order, the following points:

Point | North lat. | West long.
A | 28°42.5′ | 84°24.8′
B | 28°42.5′ | 84°16.3′
C | 28°11.0′ | 84°00.0′
D | 28°11.0′ | 84°07.0′
E | 28°26.6′ | 84°24.8′
A | 28°42.5′ | 84°24.8′

(c) Tortugas marine reserves HAPC. The following activities are prohibited within the Tortugas marine reserves HAPC: Fishing for any species and bottom anchoring by fishing vessels.

(1) EEZ portion of Tortugas North. The area is bounded by rhumb lines connecting the following points: From point A at 24°40′00″ N. lat., 83°06′00″ W. long. to point B at 24°46′00″ N. lat., 83°06′00″ W. long. to point C at 24°46′00″ N. lat., 83°00′00″ W. long.; thence along the line denoting the seaward limit of Florida's waters, as shown on the current edition of NOAA chart 11434, to point A at 24°40′00″ N. lat., 83°06′00″ W. long.

(2) Tortugas South. The area is bounded by rhumb lines connecting, in order, the following points:

Point | North lat. | West long.
A | 24°33′00″ | 83°09′00″
B | 24°33′00″ | 83°05′00″
C | 24°18′00″ | 83°05′00″
D | 24°18′00″ | 83°09′00″
A | 24°33′00″ | 83°09′00″

(d) Pulley Ridge HAPC. Fishing with a bottom longline, bottom trawl, buoy gear, pot, or trap and bottom anchoring by fishing vessels are prohibited year-round in the area of the HAPC bounded by rhumb lines connecting, in order, the following points:

Point | North lat. | West long.
A | 24°58′18″ | 83°38′33″
B | 24°58′18″ | 83°37′00″
C | 24°41′11″ | 83°37′00″
D | 24°40′00″ | 83°41′22″
E | 24°43′55″ | 83°47′15″
A | 24°58′18″ | 83°38′33″

(e) Stetson Bank HAPC. Fishing with a bottom longline, bottom trawl, buoy gear, pot, or trap and bottom anchoring by fishing vessels are prohibited year-round in the HAPC, which is bounded by rhumb lines connecting, in order, the following points:

Point | North lat. | West long.
A | 28°10′38.3″ | 94°18′36.5″
B | 28°10′38.3″ | 94°17′06.3″
C | 28°09′18.6″ | 94°17′06.3″
D | 28°09′18.6″ | 94°18′36.5″
A | 28°10′38.3″ | 94°18′36.5″

(f) McGrail Bank HAPC. Fishing with a bottom longline, bottom trawl, buoy gear, pot, or trap and bottom anchoring by fishing vessels are prohibited year-round in the HAPC, which is bounded by rhumb lines connecting, in order, the following points:

Point | North lat. | West long.
A | 27°59′06.0″ | 92°37′19.2″
B | 27°59′06.0″ | 92°32′17.4″
C | 27°55′55.5″ | 92°32′17.4″
D | 27°55′55.5″ | 92°37′19.2″
A | 27°59′06.0″ | 92°37′19.2″

§ 622.75 Harvest limitations.

(a) Aquacultured live rock. In the Gulf EEZ:

(1) Aquacultured live rock may be harvested only under a permit, as required under § 622.70(a)(2), and aquacultured live rock on a site may be harvested only by the person, or his or her employee, contractor, or agent, who has been issued the aquacultured live rock permit for the site. A person harvesting aquacultured live rock is exempt from the prohibition on taking prohibited coral for such prohibited coral as attaches to aquacultured live rock.

(2) The following restrictions apply to individual aquaculture activities:

(i) No aquaculture site may exceed 1 acre (0.4 ha) in size.

(ii) Material deposited on the aquaculture site—

(A) May not be placed over naturally occurring reef outcrops, limestone ledges, coral reefs, or vegetated areas.

(B) Must be free of contaminants.

(C) Must be nontoxic.

(D) Must be placed on the site by hand or lowered completely to the bottom under restraint, that is, not allowed to fall freely.

(E) Must be placed from a vessel that is anchored.

(F) Must be distinguishable, geologically or otherwise (for example, be indelibly marked or tagged), from the naturally occurring substrate.

(iii) A minimum setback of at least 50 ft (15.2 m) must be maintained from natural vegetated or hard bottom habitats.

(3) Mechanically dredging or drilling, or otherwise disturbing, aquacultured live rock is prohibited, and aquacultured live rock may be harvested only by hand.

(4) Not less than 24 hours prior to harvest of aquacultured live rock, the owner or operator of the harvesting vessel must provide the following information to the NMFS Office for Law Enforcement, Southeast Region, St. Petersburg, FL, by telephone (727-824-5344):

(i) Permit number of site to be harvested and date of harvest.

(ii) Name and official number of the vessel to be used in harvesting.

(iii) Date, port, and facility at which aquacultured live rock will be landed.

(b) [Reserved]

§ 622.76 Restrictions on sale/purchase.

(a) Gulf wild live rock. Wild live rock in or from the Gulf EEZ may not be sold or purchased. The prohibition on sale or purchase does not apply to wild live rock from the Gulf EEZ that was harvested and landed prior to January 1, 1997.

(b) [Reserved]

§ 622.77 Adjustment of management measures.

In accordance with the framework procedures of the FMP for Coral and Coral Reefs of the Gulf of Mexico, the RA may establish or modify the following:

(a) Gulf coral resources. For a species or species group: reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested corals.

(b) [Reserved]

§ 622.78 Prohibitions.

In addition to the prohibitions in § 600.725 of this chapter and the general prohibitions in § 622.13 of this part, it is unlawful for any person to violate any provisions of §§ 622.70 through 622.77.

Subpart E—Red Drum Fishery of the Gulf of Mexico

§ 622.90 Recordkeeping and reporting.

(a) Dealers. A dealer or processor who purchases red drum harvested from the Gulf who is selected to report by the SRD must report to the SRD such information as the SRD may request and in the form and manner as the SRD may require. The information required to be submitted must include, but is not limited to, the following:

(1) Dealer's or processor's name and address.

(2) State and county where red drum were landed.

(3) Total poundage of red drum received during the reporting period, by each type of gear used for harvest.

(b) [Reserved]

§ 622.91 Prohibited species.

(a) General. The harvest and possession restrictions of this section apply without regard to whether the species is harvested by a vessel operating under a commercial vessel permit. The operator of a vessel that fishes in the EEZ is responsible for the limit applicable to that vessel.

(b) Red drum. Red drum may not be harvested or possessed in or from the Gulf EEZ. Such fish caught in the Gulf EEZ must be released immediately with a minimum of harm.

§ 622.92 Adjustment of management measures.

In accordance with the framework procedures of the FMP for the Red Drum Fishery of the Gulf of Mexico, the RA may establish or modify the following items:

(a) Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, ABC and ABC control rules, rebuilding plans, sale and purchase restrictions, transfer at sea provisions, and restrictions relative to conditions of harvested fish (maintaining fish in whole condition, use as bait).

(b) [Reserved]

§ 622.93 Prohibitions.

In addition to the prohibitions in § 600.725 of this chapter and the general prohibitions in § 622.13, it is unlawful for any person to violate any provisions of §§ 622.90 through 622.92.

Subparts F-H [Reserved]

Subpart I—Snapper-Grouper Fishery of the South Atlantic Region

§ 622.170 Permits and endorsements.

(a) Commercial vessel permits—(1) South Atlantic snapper-grouper. For a person aboard a vessel to be eligible for exemption from the bag limits for South Atlantic snapper-grouper in or from the South Atlantic EEZ, to sell South Atlantic snapper-grouper in or from the South Atlantic EEZ, to engage in the directed fishery for tilefish in the South Atlantic EEZ, to use a longline to fish for South Atlantic snapper-grouper in the South Atlantic EEZ, or to use a sea bass pot in the South Atlantic EEZ between 35°15.19′ N. lat. (due east of Cape Hatteras Light, NC) and 28°35.1′ N. lat. (due east of the NASA Vehicle Assembly Building, Cape Canaveral, FL), a commercial vessel permit for South Atlantic snapper-grouper must have been issued to the vessel and must be on board. A vessel with longline gear and more than 200 lb (90.7 kg) of tilefish on board is considered to be in the directed fishery for tilefish. It is a rebuttable presumption that a fishing vessel with more than 200 lb (90.7 kg) of tilefish on board harvested such tilefish in the EEZ. See § 622.171 for limitations on the use, transfer, and renewal of a commercial vessel permit for South Atlantic snapper-grouper.

(2) Wreckfish. For a person aboard a vessel to be eligible for exemption from the bag limit for wreckfish in or from the South Atlantic EEZ, to fish under a quota for wreckfish in or from the South Atlantic EEZ, or to sell wreckfish in or from the South Atlantic EEZ, a commercial vessel permit for wreckfish and a commercial permit for South Atlantic snapper-grouper must have been issued to the vessel and must be on board. To obtain a commercial vessel permit for wreckfish, the applicant must be a wreckfish shareholder; and either the shareholder must be the vessel owner or the owner or operator must be an employee, contractor, or agent of the shareholder. (See § 622.172 for information on wreckfish shareholders.)

(b) Charter vessel/headboat permits—(1) South Atlantic snapper-grouper. For a person aboard a vessel that is operating as a charter vessel or headboat to fish for or possess, in or from the EEZ, South Atlantic snapper-grouper, a valid charter vessel/headboat permit for South Atlantic snapper-grouper must have been issued to the vessel and must be on board. A charter vessel or headboat may have both a charter vessel/headboat permit and a commercial vessel permit. However, when a vessel is operating as a charter vessel or headboat, a person aboard must adhere to the bag limits. See the definitions of “Charter vessel” and “Headboat” in § 622.2 for an explanation of when vessels are considered to be operating as a charter vessel or headboat, respectively.

(2) [Reserved]

(c) Dealer permits and conditions—(1) Permits. For a dealer to receive South Atlantic snapper-grouper or wreckfish harvested from the South Atlantic EEZ, a dealer permit for South Atlantic snapper-grouper or wreckfish, respectively, must be issued to the dealer.

(2) State license and facility requirements. To obtain a dealer permit or endorsement, the applicant must have a valid state wholesaler's license in the state(s) where the dealer operates, if required by such state(s), and must have a physical facility at a fixed location in such state(s).

(d) Permit procedures. See § 622.4 for information regarding general permit procedures including, but not limited to application, fees, duration, transfer, renewal, display, sanctions and denials, and replacement.

(e) South Atlantic black sea bass pot endorsement. For a person aboard a vessel, for which a valid commercial vessel permit for South Atlantic snapper-grouper unlimited has been issued, to use a black sea bass pot in the South Atlantic EEZ, a valid South Atlantic black sea bass pot endorsement must have been issued to the vessel and must be on board. A permit or endorsement that has expired is not valid. This endorsement must be renewed annually and may only be renewed if the associated vessel has a valid commercial vessel permit for South Atlantic snapper-grouper unlimited or if the endorsement and associated permit are being concurrently renewed. The RA will not reissue this endorsement if the endorsement is revoked or if the RA does not receive a complete application for renewal of the endorsement within 1 year after the endorsement's expiration date.

(1) Initial eligibility. To be eligible for an initial South Atlantic black sea bass pot endorsement, a person must have been issued and must possess a valid or renewable commercial vessel permit for South Atlantic snapper-grouper that has black sea bass landings using black sea bass pot gear averaging at least 2,500 lb (1,134 kg), round weight, annually during the period January 1, 1999 through December 31, 2010. Excluded from this eligibility, are trip-limited permits (South Atlantic snapper-grouper permits that have a 225-lb (102.1-kg) limit of snapper-grouper) and valid or renewable commercial vessel permits for South Atlantic snapper-grouper unlimited that have no reported landings of black sea bass using black sea bass pots from January 1, 2008, through December 31, 2010. NMFS will attribute all applicable black sea bass landings associated with a current snapper-grouper permit for the applicable landings history, including those reported by a person(s) who held the permit prior to the current permit owner, to the current permit owner. Only legal landings reported in compliance with applicable state and Federal regulations are acceptable.

(2) Initial issuance. On or about June 1, 2012, the RA will mail each eligible permittee a black sea bass pot endorsement via certified mail, return receipt requested, to the permittee's address of record as listed in NMFS' permit files. An eligible permittee who does not receive an endorsement from the RA, must contact the RA no later than July 1, 2012, to clarify his/her endorsement status. A permittee denied an endorsement based on the RA's initial determination of eligibility and who disagrees with that determination may appeal to the RA.

(3) Procedure for appealing black sea bass pot endorsement eligibility and/or landings information. The only items subject to appeal are initial eligibility for a black sea bass pot endorsement based on ownership of a qualifying snapper-grouper permit, the accuracy of the amount of landings, and correct assignment of landings to the permittee. Appeals based on hardship factors will not be considered. Appeals must be submitted to the RA postmarked no later than October 1, 2012, and must contain documentation supporting the basis for the appeal. The RA will review all appeals, render final decisions on the appeals, and advise the appellant of the final NMFS decision.

(i) Eligibility appeals. NMFS' records of snapper-grouper permits are the sole basis for determining ownership of such permits. A person who believes he/she meets the permit eligibility criteria based on ownership of a vessel under a different name, for example, as a result of ownership changes from individual to corporate or vice versa, must document his/her continuity of ownership.

(ii) Landings appeals. Determinations of appeals regarding landings data for 1999 through 2010 will be based on NMFS' logbook records. If NMFS' logbooks are not available, the RA may use state landings records or data for the period 1999 through 2010 that were submitted in compliance with applicable Federal and state regulations on or before December 31, 2011.

(4) Transferability. A valid or renewable black sea bass pot endorsement may be transferred between any two entities that hold, or simultaneously obtain, a valid South Atlantic snapper-grouper unlimited permit. Endorsements may be transferred independently from the South Atlantic snapper-grouper unlimited permit. NMFS will attribute black sea bass landings to the associated South Atlantic snapper-grouper unlimited permit regardless of whether the landings occurred before or after the endorsement was issued. Only legal landings reported in compliance with applicable state and Federal regulations are acceptable.

(5) Fees. No fee applies to initial issuance of a black sea bass pot endorsement. NMFS charges a fee for each renewal or replacement of such endorsement and calculates the amount of each fee in accordance with the procedures of the NOAA Finance Handbook for determining the administrative costs of each special product or service. The fee may not exceed such costs and is specified with each application form. The handbook is available from the RA. The appropriate fee must accompany each application for renewal or replacement.

§ 622.171 South Atlantic snapper-grouper limited access.

(a) General. The only valid commercial vessel permits for South Atlantic snapper-grouper are those that have been issued under the limited access criteria specified in the Fishery Management Plan for the Snapper-Grouper Fishery of the South Atlantic Region. A commercial vessel permit for South Atlantic snapper-grouper is either a transferable commercial permit or a trip-limited commercial permit.

(b) Transfers of permits. A snapper-grouper limited access permit is valid only for the vessel and owner named on the permit. To change either the vessel or the owner, an application for transfer must be submitted to the RA.

(1) Transferable permits. (i) An owner of a vessel with a transferable permit may request that the RA transfer the permit to another vessel owned by the same entity.

(ii) A transferable permit may be transferred upon a change of ownership of a permitted vessel with such permit—

(A) From one to another of the following: husband, wife, son, daughter, brother, sister, mother, or father; or

(B) From an individual to a corporation whose shares are all held by the individual or by the individual and one or more of the following: husband, wife, son, daughter, brother, sister, mother, or father. The application for transfer of a permit under this paragraph (b)(1)(ii)(B) and each application for renewal of such permit must be accompanied by a current annual report of the corporation that specifies all shareholders of the corporation. A permit will not be renewed if the annual report shows a new shareholder other than a husband, wife, son, daughter, brother, sister, mother, or father.

(iii) Except as provided in paragraphs (b)(1)(i) and (ii) of this section, a person desiring to acquire a limited access, transferable permit for South Atlantic snapper-grouper must obtain and exchange two such permits for one new permit.

(iv) A transfer of a permit that is undertaken under paragraph (b)(1)(ii) of this section will constitute a transfer of the vessel's entire catch history to the new owner.

(2) Trip-limited permits. An owner of a vessel with a trip-limited permit may request that the RA transfer the permit to another vessel owned by the same entity.

(c) Renewal. NMFS will not reissue a commercial vessel permit for South Atlantic snapper-grouper if the permit is revoked or if the RA does not receive an application for renewal within one year of the permit's expiration date.

§ 622.172 Wreckfish individual transferable quota (ITQ) system.

The provisions of this section apply to wreckfish in or from the South Atlantic EEZ.

(a) General—(1) Percentage shares—(i) Initial ITQ shares. In accordance with the procedure specified in the Fishery Management Plan for the Snapper-Grouper Fishery of the South Atlantic Region, percentage shares of the quota for wreckfish were assigned at the beginning of the program. Each person was notified by the RA of his or her percentage share and shareholder certificate number.

(ii) Reverted ITQ shares. Any shares determined by NMFS to be inactive, will be redistributed proportionately among remaining shareholders (subject to cap restrictions) based on shareholder landings history. Inactive shares are, for purposes of this section, those shares held by ITQ shareholders who have not reported any wreckfish landings between April 16, 2006, and January 14, 2011.

(iii) Percentage share set-aside to accommodate resolution of appeals. During the 2012-2013 fishing year, the RA will reserve 1.401 percent of wreckfish ITQ shares prior to redistributing shares (see paragraph (a)(1)(ii) of this section) to accommodate resolution of appeals, if necessary. NMFS will distribute any portion of the 1.401-percent share remaining after the appeals process as soon as possible among the remaining shareholders.

(iv) Procedure for appealing wreckfish quota share status and landings information. Appeals must be submitted to the RA postmarked no later than January 24, 2013, and must contain documentation supporting the basis for the appeal. The only items subject to appeal are the status of wreckfish quota shares, as active or inactive, and the accuracy of the amount of landings. The RA will review and evaluate all appeals, render final decisions on the appeals, and advise the appellant of the final decision. Appeals based on hardship factors will not be considered. The RA will determine the outcome of appeals based on NMFS' logbooks. If NMFS' logbooks are not available, the RA may use state landings records. Appellants must submit NMFS' logbooks or state landings records, as appropriate, to support their appeal.

(2) Share transfers. All or a portion of a person's percentage shares are transferrable. Transfer of shares must be reported on a form available from the RA. The RA will confirm, in writing, each transfer of shares. The effective date of each transfer is the confirmation date provided by the RA. NMFS charges a fee for each transfer of shares and calculates the amount in accordance with the procedures of the NOAA Finance Handbook. The handbook is available from the RA. The fee may not exceed such costs and is specified with each transfer form. The appropriate fee must accompany each transfer form.

(3) ITQ share cap. No person, including a corporation or other entity, may individually or collectively hold ITQ shares in excess of 49 percent of the total shares. For the purposes of considering the share cap, a corporation's total ITQ share is determined by adding the corporation's ITQ shares to any other ITQ shares the corporation owns in another corporation. If an individual ITQ shareholder is also a shareholder in a corporation that holds ITQ shares, an individual's total ITQ share is determined by adding the applicable ITQ shares held by the individual to the applicable ITQ shares equivalent to the corporate share the individual holds in a corporation. A corporation must provide the RA the identity of the shareholders of the corporation and their percent of shares in the corporation, and provide updated information to the RA within 30 days of when a change occurs. This information must also be provided to the RA any time a commercial vessel permit for wreckfish is renewed or transferred.

(b) Lists of wreckfish shareholders and permitted vessels. Annually, on or about March 1, the RA will provide each wreckfish shareholder with a list of all wreckfish shareholders and their percentage shares, reflecting share transactions on forms received through February 15. Annually by April 15, the RA will provide each dealer who holds a dealer permit for wreckfish, as required under § 622.170(c), with a list of vessels for which wreckfish permits have been issued, as required under § 622.170(a)(2). Annually, by April 15, the RA will provide each wreckfish shareholder with a list of dealers who have been issued dealer permits for wreckfish. From April 16 through January 14, updated lists will be provided when required. Updated lists may be obtained at other times or by a person who is not a wreckfish shareholder or wreckfish dealer permit holder by written request to the RA.

(c) ITQs. (1) Annually, as soon after March 1 as the TAC for wreckfish for the fishing year that commences April 16 is known, the RA will calculate each wreckfish shareholder's ITQ. Each ITQ is the product of the wreckfish TAC, in round weight, for the ensuing fishing year, the factor for converting round weight to eviscerated weight, and each wreckfish shareholder's percentage share, reflecting share transactions reported on forms received by the RA through February 15. Thus, the ITQs will be in terms of eviscerated weight of wreckfish.

(2) The RA will provide each wreckfish shareholder with ITQ coupons in various denominations, the total of which equals his or her ITQ, and a copy of the calculations used in determining his or her ITQ. Each coupon will be coded to indicate the initial recipient.

(3) An ITQ coupon may be transferred from one wreckfish shareholder to another by completing the sale endorsement thereon (that is, the signature and shareholder certificate number of the buyer). An ITQ coupon may be possessed only by the shareholder to whom it has been issued, or by the shareholder's employee, contractor, or agent, unless the ITQ coupon has been transferred to another shareholder. An ITQ coupon that has been transferred to another shareholder may be possessed only by the shareholder whose signature appears on the coupon as the buyer, or by the shareholder's employee, contractor, or agent, and with all required sale endorsements properly completed.

(4) Wreckfish may not be possessed on board a fishing vessel that has been issued a commercial vessel permit for South Atlantic snapper-grouper and a commercial vessel permit for wreckfish—

(i) In an amount exceeding the total of the ITQ coupons on board the vessel; or

(ii) That does not have on board logbook forms for that fishing trip, as required under § 622.176(a)(3)(i).

(5) Prior to termination of a trip, a signature and date signed must be affixed in ink to the “Fisherman” part of ITQ coupons in denominations equal to the eviscerated weight of the wreckfish on board. The “Fisherman” part of each such coupon must be separated from the coupon and submitted with the logbook forms required by § 622.176(a)(3)(i) for that fishing trip.

(6) The “Fish House” part of each such coupon must be given to the dealer to whom the wreckfish are transferred in amounts totaling the eviscerated weight of the wreckfish transferred to that dealer. A wreckfish may be transferred only to a dealer who holds a dealer permit for wreckfish, as required under § 622.170(c).

(7) A dealer may receive a wreckfish only from a vessel for which a commercial permit for wreckfish has been issued, as required under § 622.170(a)(2). A dealer must receive the “Fish House” part of ITQ coupons in amounts totaling the eviscerated weight of the wreckfish received; enter the permit number of the vessel from which the wreckfish were received, enter the date the wreckfish were received, enter the dealer's permit number, and sign each such “Fish House” part; and submit all such parts with the dealer reports required by § 622.176(c).

(8) An owner or operator of a vessel and a dealer must make available to an authorized officer all ITQ coupons in his or her possession upon request.

(d) Wreckfish limitations. (1) A wreckfish taken in the South Atlantic EEZ may not be transferred at sea, regardless of where the transfer takes place; and a wreckfish may not be transferred in the South Atlantic EEZ.

(2) A wreckfish possessed by a fisherman or dealer shoreward of the outer boundary of the South Atlantic EEZ or in a South Atlantic coastal state will be presumed to have been harvested from the South Atlantic EEZ unless accompanied by documentation that it was harvested from other than the South Atlantic EEZ.

(3) A wreckfish harvested by a vessel that has been issued a commercial vessel permit for South Atlantic snapper-grouper and a commercial vessel permit for wreckfish may be offloaded from a fishing vessel only between 8 a.m. and 5 p.m., local time.

(4) If a wreckfish harvested by a vessel that has been issued a commercial vessel permit for South Atlantic snapper-grouper and a commercial vessel permit for wreckfish is to be offloaded at a location other than a fixed facility of a dealer who holds a dealer permit for wreckfish, as required under § 622.170(c), the wreckfish shareholder or the vessel operator must advise the NMFS Office for Law Enforcement, Southeast Region, St. Petersburg, FL, by telephone (727-824-5344), of the location not less than 24 hours prior to offloading.

§§ 622.173-622.175 [Reserved]

§ 622.176 Recordkeeping and reporting.

(a) Commercial vessel owners and operators—(1) General reporting requirements. The owner or operator of a vessel for which a commercial permit for South Atlantic snapper-grouper has been issued, as required under § 622.170(a)(1), or whose vessel fishes for or lands South Atlantic snapper-grouper in or from state waters adjoining the South Atlantic EEZ, who is selected to report by the SRD must maintain a fishing record on a form available from the SRD and must submit such record as specified in paragraph (a)(4) of this section.

(2) Electronic logbook/video monitoring reporting. The owner or operator of a vessel for which a commercial permit for South Atlantic snapper-grouper has been issued, as required under § 622.170(a)(1), who is selected to report by the SRD must participate in the NMFS-sponsored electronic logbook and/or video monitoring reporting program as directed by the SRD. Compliance with the reporting requirements of this paragraph (a)(2) is required for permit renewal.

(3) Wreckfish reporting. The wreckfish shareholder under § 622.172, or operator of a vessel for which a commercial permit for wreckfish has been issued, as required under § 622.170(a)(2), must—

(i) Maintain a fishing record on a form available from the SRD and must submit such record as specified in paragraph (a)(4) of this section.

(ii) Make available to an authorized officer upon request all records of commercial offloadings, purchases, or sales of wreckfish.

(4) Reporting deadlines. Completed fishing records required by this paragraph (a) must be submitted to the SRD postmarked not later than 7 days after the end of each fishing trip. If no fishing occurred during a calendar month, a report so stating must be submitted on one of the forms postmarked not later than 7 days after the end of that month. Information to be reported is indicated on the form and its accompanying instructions.

(b) Charter vessel/headboat owners and operators—(1) General reporting requirement. The owner or operator of a vessel for which a charter vessel/headboat permit for South Atlantic snapper-grouper has been issued, as required under § 622.170(b)(1), or whose vessel fishes for or lands such snapper-grouper in or from state waters adjoining the South Atlantic EEZ, who is selected to report by the SRD must maintain a fishing record for each trip, or a portion of such trips as specified by the SRD, on forms provided by the SRD and must submit such record as specified in paragraph (b)(3) of this section.

(2) Electronic logbook/video monitoring reporting. The owner or operator of a vessel for which a charter vessel/headboat permit for South Atlantic snapper-grouper has been issued, as required under § 622.170(b)(1), who is selected to report by the SRD must participate in the NMFS-sponsored electronic logbook and/or video monitoring reporting program as directed by the SRD. Compliance with the reporting requirements of this paragraph (b)(2) is required for permit renewal.

(3) Reporting deadlines—(i) Charter vessels. Completed fishing records required by paragraph (b)(1) of this section for charter vessels must be submitted to the SRD weekly, postmarked not later than 7 days after the end of each week (Sunday). Completed fishing records required by paragraph (b)(2) of this section for charter vessels may be required weekly or daily, as directed by the SRD. Information to be reported is indicated on the form and its accompanying instructions.

(ii) Headboats. Completed fishing records required by paragraph (b)(1) of this section for headboats must be submitted to the SRD monthly and must either be made available to an authorized statistical reporting agent or be postmarked not later than 7 days after the end of each month. Completed fishing records required by paragraph (b)(2) of this section for headboats may be required weekly or daily, as directed by the SRD. Information to be reported is indicated on the form and its accompanying instructions.

(c) Dealers. (1) A person who purchases South Atlantic snapper-grouper that were harvested from the EEZ or from adjoining state waters and who is selected to report by the SRD and a dealer who has been issued a dealer permit for wreckfish, as required under § 622.170(c), must provide information on receipts of South Atlantic snapper-grouper and prices paid, by species, on forms available from the SRD. The required information must be submitted to the SRD at monthly intervals, postmarked not later than 5 days after the end of the month. Reporting frequency and reporting deadlines may be modified upon notification by the SRD. If no South Atlantic snapper-grouper were received during a calendar month, a report so stating must be submitted on one of the forms, postmarked not later than 5 days after the end of the month. However, during complete months encompassed by the wreckfish spawning-season closure (that is, February and March), a wreckfish dealer is not required to submit a report stating that no wreckfish were received.

(2) A dealer reporting South Atlantic snapper-grouper other than wreckfish may submit the information required in paragraph (c)(1) of this section via facsimile (fax).

(3) A dealer who has been issued a dealer permit for wreckfish, as required under § 622.170(c), must make available to an authorized officer upon request all records of commercial offloadings, purchases, or sales of wreckfish.

(d) Private recreational vessels in the South Atlantic snapper-grouper fishery. The owner or operator of a vessel that fishes for or lands South Atlantic snapper-grouper in or from the South Atlantic EEZ who is selected to report by the SRD must—

(1) Maintain a fishing record for each trip, or a portion of such trips as specified by the SRD, on forms provided by the SRD. Completed fishing records must be submitted to the SRD monthly and must either be made available to an authorized statistical reporting agent or be postmarked not later than 7 days after the end of each month. Information to be reported is indicated on the form and its accompanying instructions.

(2) Participate in the NMFS-sponsored electronic logbook and/or video monitoring reporting program as directed by the SRD.

§ 622.177 Gear identification.

(a) Sea bass pots and associated buoys—(1) Sea bass pots. A sea bass pot used or possessed in the South Atlantic EEZ between 35°15.19′ N. lat. (due east of Cape Hatteras Light, NC) and 28°35.1′ N. lat. (due east of the NASA Vehicle Assembly Building, Cape Canaveral, FL), or a sea bass pot on board a vessel with a commercial permit for South Atlantic snapper-grouper, must have a valid identification tag issued by the RA attached.

(2) Associated buoys. In the South Atlantic EEZ, buoys are not required to be used, but, if used, each buoy must display the official number and color code assigned by the RA so as to be easily distinguished, located, and identified.

(3) Presumption of ownership. A sea bass pot in the EEZ will be presumed to be the property of the most recently documented owner. This presumption will not apply with respect to such pots that are lost or sold if the owner reports the loss or sale within 15 days to the RA.

(4) Unmarked sea bass pots or buoys. An unmarked sea bass pot or a buoy deployed in the EEZ where such pot or buoy is required to be marked is illegal and may be disposed of in any appropriate manner by the Assistant Administrator or an authorized officer.

(b) [Reserved]

§ 622.178 At-sea observer coverage.

(a) Required coverage. (1) A vessel for which a Federal commercial vessel permit for South Atlantic snapper-grouper or a charter vessel/headboat permit for South Atlantic snapper-grouper has been issued must carry a NMFS-approved observer, if the vessel's trip is selected by the SRD for observer coverage. Vessel permit renewal is contingent upon compliance with this paragraph (a)(1).

(2) Any other vessel that fishes for South Atlantic snapper-grouper in the South Atlantic EEZ must carry a NMFS-approved observer, if the vessel's trip is selected by the SRD for observer coverage.

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.179 Conservation measures for protected resources.

(a) South Atlantic snapper-grouper commercial vessels and charter vessels/headboats—(1) Sea turtle conservation measures. (i) The owner or operator of a vessel for which a commercial vessel permit for South Atlantic snapper-grouper or a charter vessel/headboat permit for South Atlantic snapper-grouper has been issued, as required under §§ 622.170(a)(1) and 622.170(b)(1), respectively, and whose vessel has on board any hook-and-line gear, must post inside the wheelhouse, or within a waterproof case if no wheelhouse, a copy of the document provided by NMFS titled, “Careful Release Protocols for Sea Turtle Release With Minimal Injury,” and must post inside the wheelhouse, or in an easily viewable area if no wheelhouse, the sea turtle handling and release guidelines provided by NMFS.

(ii) Such owner or operator must also comply with the sea turtle bycatch mitigation measures, including gear requirements and sea turtle handling requirements, specified in Appendix F to this part.

(iii) Those permitted vessels with a freeboard height of 4 ft (1.2 m) or less must have on board and must use a dipnet, cushioned/support device, short-handled dehooker, long-nose or needle-nose pliers, bolt cutters, monofilament line cutters, and at least two types of mouth openers/mouth gags. This equipment must meet the specifications described in Appendix F to this part. Those permitted vessels with a freeboard height of greater than 4 ft (1.2 m) must have on board a dipnet, cushioned/support device, long-handled line clipper, a short-handled and a long-handled dehooker, a long-handled device to pull an inverted “V”, long-nose or needle-nose pliers, bolt cutters, monofilament line cutters, and at least two types of mouth openers/mouth gags. This equipment must meet the specifications described in Appendix F to this part.

(2) Smalltooth sawfish conservation measures. The owner or operator of a vessel for which a commercial vessel permit for South Atlantic snapper-grouper or a charter vessel/headboat permit for South Atlantic snapper-grouper has been issued, as required under §§ 622.170(a)(1) and 622.170(b)(1), respectively, that incidentally catches a smalltooth sawfish must—

(i) Keep the sawfish in the water at all times;

(ii) If it can be done safely, untangle the line if it is wrapped around the saw;

(iii) Cut the line as close to the hook as possible; and

(iv) Not handle the animal or attempt to remove any hooks on the saw, except with a long-handled dehooker.

(b) [Reserved]

§ 622.180 Prohibited gear and methods.

Also see § 622.9 for additional prohibited gear and methods that apply more broadly to multiple fisheries or in some cases all fisheries.

(a) Poisons. A poison may not be used to fish for South Atlantic snapper-grouper in the South Atlantic EEZ.

(b) Rebreathers and spearfishing gear. In the South Atlantic EEZ, a person using a rebreather may not harvest South Atlantic snapper-grouper with spearfishing gear. The possession of such snapper-grouper while in the water with a rebreather is prima facie evidence that such fish was harvested with spearfishing gear while using a rebreather.

(c) Longlines for wreckfish. A bottom longline may not be used to fish for wreckfish in the South Atlantic EEZ. A person aboard a vessel that has a longline on board may not retain a wreckfish in or from the South Atlantic EEZ. For the purposes of this paragraph, a vessel is considered to have a longline on board when a power-operated longline hauler, a cable of diameter suitable for use in the longline fishery longer than 1.5 mi (2.4 km) on any reel, and gangions are on board. Removal of any one of these three elements constitutes removal of a longline.

§ 622.181 Prohibited and limited-harvest species.

(a) General. The harvest and possession restrictions of this section apply without regard to whether the species is harvested by a vessel operating under a commercial vessel permit. The operator of a vessel that fishes in the EEZ is responsible for the limit applicable to that vessel.

(b) Prohibited species—(1) Goliath grouper and Nassau grouper. Goliath grouper and Nassau grouper may not be harvested or possessed in or from the South Atlantic EEZ. Goliath grouper and Nassau grouper taken in the South Atlantic EEZ incidentally by hook-and-line must be released immediately by cutting the line without removing the fish from the water.

(2) Red snapper. Red snapper may not be harvested or possessed in or from the South Atlantic EEZ. Such fish caught in the South Atlantic EEZ must be released immediately with a minimum of harm. In addition, for a person on board a vessel for which a valid Federal commercial or charter vessel/headboat permit for South Atlantic snapper-grouper has been issued, the provisions of this closure apply in the South Atlantic, regardless of where such fish are harvested, i.e., in state or Federal waters.

(3) Speckled hind and warsaw grouper. Speckled hind and warsaw grouper may not be harvested or possessed in or from the South Atlantic EEZ. Such fish caught in the South Atlantic EEZ must be released immediately with a minimum of harm. These restrictions also apply in the South Atlantic on board a vessel for which a valid Federal commercial or charter vessel/headboat permit for South Atlantic snapper-grouper has been issued, i.e., in state or Federal waters.

(c) Limited-harvest species. A person who fishes in the EEZ may not combine a harvest limitation specified in this paragraph (c) with a harvest limitation applicable to state waters. A species subject to a harvest limitation specified in this paragraph (c) taken in the EEZ may not be transferred at sea, regardless of where such transfer takes place, and such species may not be transferred in the EEZ.

(1) Cubera snapper. No person may harvest more than two cubera snapper measuring 30 inches (76.2 cm), TL, or larger, per day in the South Atlantic EEZ off Florida and no more than two such cubera snapper in or from the South Atlantic EEZ off Florida may be possessed on board a vessel at any time.

(2) [Reserved]

§ 622.182 Gear-restricted areas.

(a) Special management zones (SMZs). (1) The SMZs consist of artificial reefs and surrounding areas as follows:

(i) Paradise Reef is bounded on the north by 33°31.59′ N. lat.; on the south by 33°30.51′ N. lat.; on the east by 78°57.55′ W. long.; and on the west by 78°58.85′ W. long.

(ii) Ten Mile Reef is bounded on the north by 33°26.65′ N. lat.; on the south by 33°24.80′ N. lat.; on the east by 78°51.08′ W. long.; and on the west by 78°52.97′ W. long.

(iii) Pawleys Island Reef is bounded on the north by 33°26.58′ N. lat.; on the south by 33°25.76′ N. lat.; on the east by 79°00.29′ W. long.; and on the west by 79°01.24′ W. long.

(iv) Georgetown Reef is bounded on the north by 33°14.90′ N. lat.; on the south by 33°13.85′ N. lat.; on the east by 78°59.45′ W. long.; and on the west by 79°00.65′ W. long.

(v) Capers Reef is bounded on the north by 32°45.45′ N. lat.; on the south by 32°43.91′ N. lat.; on the east by 79°33.81′ W. long.; and on the west by 79°35.10′ W. long.

(vi) Kiawah Reef is bounded on the north by 32°29.78′ N. lat.; on the south by 32°28.25′ N. lat.; on the east by 79°59.00′ W. long.; and on the west by 80°00.95′ W. long.

(vii) Edisto Offshore Reef is bounded on the north by 32°15.30′ N. lat.; on the south by 32°13.90′ N. lat.; on the east by 79°50.25′ W. long.; and on the west by 79°51.45′ W. long.

(viii) Hunting Island Reef is bounded on the north by 32°13.72′ N. lat.; on the south by 32°12.30′ N. lat.; on the east by 80°19.23′ W. long.; and on the west by 80°21.00′ W. long.

(ix) Fripp Island Reef is bounded on the north by 32°15.92′ N. lat.; on the south by 32°14.75′ N. lat.; on the east by 80°21.62′ W. long.; and on the west by 80°22.90′ W. long.

(x) Betsy Ross Reef is bounded on the north by 32°03.60′ N. lat.; on the south by 32°02.88′ N. lat.; on the east by 80°24.57′ W. long.; and on the west by 80°25.50′ W. long.

(xi) Hilton Head Reef/Artificial Reef—T is bounded on the north by 32°00.71′ N. lat.; on the south by 31°59.42′ N. lat.; on the east by 80°35.23′ W. long.; and on the west by 80°36.37′ W. long.

(xii) Artificial Reef—A is bounded on the north by 30°57.4′ N. lat.; on the south by 30°55.4′ N. lat.; on the east by 81°13.9′ W. long.; and on the west by 81°16.3′ W. long.

(xiii) Artificial Reef—C is bounded on the north by 30°52.0′ N. lat.; on the south by 30°50.0′ N. lat.; on the east by 81°08.5′ W. long.; and on the west by 81°10.9′ W. long.

(xiv) Artificial Reef—G is bounded on the north by 31°00.0′ N. lat.; on the south by 30°58.0′ N. lat.; on the east by 80°56.8′ W. long.; and on the west by 80°59.2′ W. long.

(xv) Artificial Reef—F is bounded on the north by 31°06.8′ N. lat.; on the south by 31°04.8′ N. lat.; on the east by 81°10.5′ W. long.; and on the west by 81°13.4′ W. long.

(xvi) Artificial Reef—J is bounded on the north by 31°36.7′ N. lat.; on the south by 31°34.7′ N. lat.; on the east by 80°47.3′ W. long.; and on the west by 80°50.1′ W. long.

(xvii) Artificial Reef—L is bounded on the north by 31°46.0′ N. lat.; on the south by 31°44.0′ N. lat.; on the east by 80°34.7′ W. long.; and on the west by 80°37.1′ W. long.

(xviii) Artificial Reef—KC is bounded on the north by 31°51.2′ N. lat.; on the south by 31°49.2′ N. lat.; on the east by 80°45.3′ W. long.; and on the west by 80°47.7′ W. long.

(xix) Ft. Pierce Inshore Reef is bounded on the north by 27°26.8′ N. lat.; on the south by 27°25.8′ N. lat.; on the east by 80°09.24′ W. long.; and on the west by 80°10.36′ W. long.

(xx) Ft. Pierce Offshore Reef is bounded by rhumb lines connecting, in order, the following points:

Point | North lat. | West long.
A | 27°23.68′ | 80°03.95′
B | 27°22.80′ | 80°03.60′
C | 27°23.94′ | 80°00.02′
D | 27°24.85′ | 80°00.33′
A | 27°23.68′ | 80°03.95′

(xxi) Key Biscayne/Artificial Reef—H is bounded on the north by 25°42.82′ N. lat.; on the south by 25°41.32′ N. lat.; on the east by 80°04.22′ W. long.; and on the west by 80°05.53′ W. long.

(xxii) Little River Offshore Reef is bounded on the north by 33°42.10′ N. lat.; on the south by 33°41.10′ N. lat.; on the east by 78°26.40′ W. long.; and on the west by 78°27.10′ W. long.

(xxiii) BP-25 Reef is bounded on the north by 33°21.70′ N. lat.; on the south by 33°20.70′ N. lat.; on the east by 78°24.80′ W. long.; and on the west by 78°25.60′ W. long.

(xxiv) Vermilion Reef is bounded on the north by 32°57.80′ N. lat.; on the south by 32°57.30′ N. lat.; on the east by 78°39.30′ W. long.; and on the west by 78°40.10′ W. long.

(xxv) Cape Romaine Reef is bounded on the north by 33°00.00′ N. lat.; on the south by 32°59.50′ N. lat.; on the east by 79°02.01′ W. long.; and on the west by 79°02.62′ W. long.

(xxvi) Y-73 Reef is bounded on the north by 32°33.20′ N. lat.; on the south by 32°32.70′ N. lat.; on the east by 79°19.10′ W. long.; and on the west by 79°19.70′ W. long.

(xxvii) Eagles Nest Reef is bounded on the north by 32°01.48′ N. lat.; on the south by 32°00.98′ N. lat.; on the east by 80°30.00′ W. long.; and on the west by 80°30.65′ W. long.

(xxviii) Bill Perry Jr. Reef is bounded on the north by 33°26.20′ N. lat.; on the south by 33°25.20′ N. lat.; on the east by 78°32.70′ W. long.; and on the west by 78°33.80′ W. long.

(xxix) Comanche Reef is bounded on the north by 32°27.40′ N. lat.; on the south by 32°26.90′ N. lat.; on the east by 79°18.80′ W. long.; and on the west by 79°19.60′ W. long.

(xxx) Murrel's Inlet 60 Foot Reef is bounded on the north by 33°17.50′ N. lat.; on the south by 33°16.50′ N. lat.; on the east by 78°44.67′ W. long.; and on the west by 78°45.98′ W. long.

(xxxi) Georgetown 95 Foot Reef is bounded on the north by 33°11.75′ N. lat.; on the south by 33°10.75′ N. lat.; on the east by 78°24.10′ W. long.; and on the west by 78°25.63′ W. long.

(xxxii) New Georgetown 60 Foot Reef is bounded on the north by 33°09.25′ N. lat.; on the south by 33°07.75′ N. lat.; on the east by 78°49.95′ W. long.; and on the west by 78°51.45′ W. long.

(xxxiii) North Inlet 45 Foot Reef is bounded on the north by 33°21.03′ N. lat.; on the south by 33°20.03′ N. lat.; on the east by 79°00.31′ W. long.; and on the west by 79°01.51′ W. long.

(xxxiv) CJ Davidson Reef is bounded on the north by 33°06.48′ N. lat.; on the south by 33°05.48′ N. lat.; on the east by 79°00.27′ W. long.; and on the west by 79°01.39′ W. long.

(xxxv) Greenville Reef is bounded on the north by 32°57.25′ N. lat.; on the south by 32°56.25′ N. lat.; on the east by 78°54.25′ W. long.; and on the west by 78°55.25′ W. long.

(xxxvi) Charleston 60 Foot Reef is bounded on the north by 32°33.60′ N. lat.; on the south by 32°32.60′ N. lat.; on the east by 79°39.70′ W. long.; and on the west by 79°40.90′ W. long.

(xxxvii) Edisto 60 Foot Reef is bounded on the north by 32°21.75′ N. lat.; on the south by 32°20.75′ N. lat.; on the east by 80°04.10′ W. longitude; and on the west by 80°05.70′ W. long.

(xxxviii) Edisto 40 Foot Reef is bounded on the north by 32°25.78′ N. lat.; on the south by 32°24.78′ N. lat.; on the east by 80°11.24′ W. long.; and on the west by 80°12.32′ W. long.

(xxxix) Beaufort 45 Foot Reef is bounded on the north by 32°07.65′ N. lat.; on the south by 32°06.65′ N. lat.; on the east by 80°28.80′ W. long.; and on the west by 80°29.80′ W. long.

(xl) Artificial Reef—ALT is bounded on the north by 31°18.6′ N. lat.; on the south by 31°16.6′ N. lat.; on the east by 81°07.0′ W. long.; and on the west by 81°09.4′ W. long.

(xli) Artificial Reef—CAT is bounded on the north by 31°40.2′ N. lat.; on the south by 31°38.2′ N. lat.; on the east by 80°56.2′ W. long.; and on the west by 80°58.6′ W. long.

(xlii) Artificial Reef—CCA is bounded on the north by 31°43.7′ N. lat.; on the south by 31°41.7′ N. lat.; on the east by 80°40.0′ W. long.; and on the west by 80°42.3′ W. long.

(xliii) Artificial Reef—DRH is bounded on the north by 31°18.0′ N. lat.; on the south by 31°16.0′ N. lat.; on the east by 80°56.6′ W. long.; and on the west by 80°59.0′ W. long.

(xliv) Artificial Reef—DUA is bounded on the north by 31°47.8′ N. lat.; on the south by 31°45.8′ N. lat.; on the east by 80°52.1′ W. long.; and on the west by 80°54.5′ W. long.

(xlv) Artificial Reef—DW is bounded on the north by 31°22.8′ N. lat.; on the south by 31°20.3′ N. lat.; on the east by 79°49.8′ W. long.; and on the west by 79°51.1′ W. long.

(xlvi) Artificial Reef—KBY is bounded on the north by 30°48.6′ N. lat.; on the south by 30°46.6′ N. lat.; on the east by 81°15.0′ W. long.; and on the west by 81°17.4′ W. long.

(xlvii) Artificial Reef—KTK is bounded on the north by 31°31.3′ N. lat.; on the south by 31°29.3′ N. lat.; on the east by 80°59.1′ W. long.; and on the west by 81°01.5′ W. long.

(xlviii) Artificial Reef—MRY is bounded on the north by 30°47.5′ N. lat.; on the south by 30°45.5′ N. lat.; on the east by 81°05.5′ W. long.; and on the west by 81°07.8′ W. long.

(xlix) Artificial Reef—SAV is bounded on the north by 31°55.4′ N. lat.; on the south by 31°53.4′ N. lat.; on the east by 80°45.2′ W. long.; and on the west by 80°47.6′ W. long.

(l) Artificial Reef—SFC is bounded on the north by 31°00.8′ N. lat.; on the south by 30°59.8′ N. lat.; on the east by 81°02.2′ W. long.; and on the west by 81°03.4′ W. long.

(li) Artificial Reef—WW is bounded on the north by 31°43.5′ N. lat.; on the south by 31°42.2′ N. lat.; on the east by 79°57.7′ W. long.; and on the west by 79°59.3′ W. long.

(2) To determine what restrictions apply in the SMZs listed in paragraph (a)(1) of this section, follow this table:

In SMZs specified in the following paragraphs of this section | These restrictions apply
(a)(1)(i) through (x), (a)(1)(xx), and (a)(1)(xxii) through (xxxix) | Use of a powerhead to take South Atlantic snapper-grouper is prohibited.
| Possession of a powerhead and a mutilated South Atlantic snapper-grouper in, or after having fished in, one of these SMZs constitutes prima facie evidence that such fish was taken with a powerhead in the SMZ. Harvest and possession of a South Atlantic snapper-grouper is limited to the bag-limits specified § 622.187(b).
(a)(1)(i) through (xviii) and (a)(1)(xxii) through (li) | Fishing may only be conducted with handline, rod and reel, and spearfishing gear.
(a)(1)(i) through (li) | Use of a sea bass pot or bottom longline is prohibited.
(a)(1)(xii) through (xviii) and (a)(1)(xl) through (li) | Possession of South Atlantic snapper-grouper taken with a powerhead is limited to the bag limits specified in § 622.187(b).
(a)(1)(xix) and (a)(1)(xx) | A hydraulic or electric reel that is permanently affixed to the vessel is prohibited when fishing for South Atlantic snapper-grouper.
(a)(1)(xix) and (a)(1)(xxi) | Use of spearfishing gear is prohibited.

(b) Longline prohibited areas. A longline may not be used to fish in the EEZ for South Atlantic snapper-grouper south of 27°10′ N. lat. (due east of the entrance to St. Lucie Inlet, FL); or north of 27°10′ N. lat. where the charted depth is less than 50 fathoms (91.4 m), as shown on the latest edition of the largest scale NOAA chart of the location. A person aboard a vessel with a longline on board that fishes on a trip in the South Atlantic EEZ south of 27°10′ N. lat., or north of 27°10′ N. lat. where the charted depth is less than 50 fathoms (91.4 m), is limited on that trip to the bag limit for South Atlantic snapper-grouper for which a bag limit is specified in § 622.187(b), and to zero for all other South Atlantic snapper-grouper. For the purpose of this paragraph, a vessel is considered to have a longline on board when a power-operated longline hauler, a cable or monofilament of diameter and length suitable for use in the longline fishery, and gangions are on board. Removal of any one of these three elements constitutes removal of a longline.

(c) Powerhead prohibited area. A powerhead may not be used in the EEZ off South Carolina to harvest South Atlantic snapper-grouper. The possession of a mutilated South Atlantic snapper-grouper in or from the EEZ off South Carolina, and a powerhead is prima facie evidence that such fish was harvested by a powerhead.

(d) Sea bass pot prohibited area. A sea bass pot may not be used in the South Atlantic EEZ south of 28°35.1′ N. lat. (due east of the NASA Vehicle Assembly Building, Cape Canaveral, FL). A sea bass pot deployed in the EEZ south of 28°35.1′ N. lat. may be disposed of in any appropriate manner by the Assistant Administrator or an authorized officer.

§ 622.183 Area and seasonal closures.

(a) Area closures—(1) Marine protected areas (MPAs). (i) No person may fish for a South Atlantic snapper-grouper in an MPA, and no person may possess a South Atlantic snapper-grouper in an MPA. However, the prohibition on possession does not apply to a person aboard a vessel that is in transit with fishing gear appropriately stowed as specified in paragraph (a)(1)(ii) of this section. In addition to these restrictions, see § 635.21(d)(1)(iii) of this chapter regarding restrictions applicable within these MPAs for any vessel issued a permit under part 635 of this chapter that has longline gear on board. MPAs consist of deepwater areas as follows:

(A) Snowy Grouper Wreck MPA is bounded by rhumb lines connecting, in order, the following points:

Point | North lat. | West long.
A | 33°25′ | 77°04.75′
B | 33°34.75′ | 76°51.3′
C | 33°25.5′ | 76°46.5′
D | 33°15.75′ | 77°00.0′
A | 33°25′ | 77°04.75′

(B) Northern South Carolina MPA is bounded on the north by 32°53.5′ N. lat.; on the south by 32°48.5′ N. lat.; on the east by 78°04.75′ W. long.; and on the west by 78°16.75′ W. long.

(C) Edisto MPA is bounded on the north by 32°24′ N. lat.; on the south by 32°18.5′ N. lat.; on the east by 78°54.0′ W. long.; and on the west by 79°06.0′ W. long.

(D) Charleston Deep Artificial Reef MPA is bounded by rhumb lines connecting, in order, the following points:

Point | North lat. | West long.
A | 32°04′ | 79°12′
B | 32°08.5′ | 79°07.5′
C | 32°06′ | 79°05′
D | 32°01.5′ | 79°09.3′
A | 32°04′ | 79°12′

(E) Georgia MPA is bounded by rhumb lines connecting, in order, the following points:

Point | North lat. | West long.
A | 31°43′ | 79°31′
B | 31°43′ | 79°21′
C | 31°34′ | 79°29′
D | 31°34′ | 79°39′
A | 31°43′ | 79°31′

(F) North Florida MPA is bounded on the north by 30°29′ N. lat.; on the south by 30°19′ N. lat.; on the east by 80°02′ W. long.; and on the west by 80°14′ W. long.

(G) St. Lucie Hump MPA is bounded on the north by 27°08′ N. lat.; on the south by 27°04′ N. lat.; on the east by 79°58′ W. long.; and on the west by 80°00′ W. long.

(H) East Hump MPA is bounded by rhumb lines connecting, in order, the following points:

Point | North lat. | West long.
A | 24°36.5′ | 80°45.5′
B | 24°32′ | 80°36′
C | 24°27.5′ | 80°38.5′
D | 24°32.5′ | 80°48′
A | 24°36.5′ | 80°45.5′

(ii) For the purpose of paragraph (a)(1)(i) of this section, transit means direct, non-stop progression through the MPA. Fishing gear appropriately stowed means—

(A) A longline may be left on the drum if all gangions and hooks are disconnected and stowed below deck. Hooks cannot be baited. All buoys must be disconnected from the gear; however, buoys may remain on deck.

(B) A trawl or try net may remain on deck, but trawl doors must be disconnected from such net and must be secured.

(C) A gillnet, stab net, or trammel net must be left on the drum. Any additional such nets not attached to the drum must be stowed below deck.

(D) Terminal gear (i.e., hook, leader, sinker, flasher, or bait) used with an automatic reel, bandit gear, buoy gear, handline, or rod and reel must be disconnected and stowed separately from such fishing gear. A rod and reel must be removed from the rod holder and stowed securely on or below deck.

(E) A crustacean trap, golden crab trap, or sea bass pot cannot be baited. All buoys must be disconnected from the gear; however, buoys may remain on deck.

(2) [Reserved]

(b) Seasonal closures—(1) Seasonal closure of the recreational and commercial fisheries for gag and associated grouper species. During January through April each year, no person may fish for, harvest, or possess in or from the South Atlantic EEZ any South Atlantic shallow-water grouper (SASWG) (gag, black grouper, red grouper, scamp, red hind, rock hind, yellowmouth grouper, yellowfin grouper, graysby, and coney). In addition, for a person on board a vessel for which a valid Federal commercial or charter vessel/headboat permit for South Atlantic snapper-grouper has been issued, the provisions of this closure apply in the South Atlantic, regardless of where such fish are harvested, i.e., in state or Federal waters.

(2) Wreckfish spawning-season closure. From January 15 through April 15, each year, no person may harvest or possess on a fishing vessel wreckfish in or from the EEZ; offload wreckfish from the EEZ; or sell or purchase wreckfish in or from the EEZ. The prohibition on sale or purchase of wreckfish does not apply to trade in wreckfish that were harvested, offloaded, and sold or purchased prior to January 15 and were held in cold storage by a dealer or processor.

(3) Wreckfish recreational sector closures. The recreational sector for wreckfish in or from the South Atlantic EEZ is closed from January 1 through June 30, and September 1 through December 31, each year. During a closure, the bag and possession limit for wreckfish in or from the South Atlantic EEZ is zero.

(4) Seasonal closure of the recreational fishery for vermilion snapper. The recreational fishery for vermilion snapper in or from the South Atlantic EEZ is closed from November 1 through March 31, each year. In addition, for a person on board a vessel for which a valid Federal charter vessel/headboat permit for South Atlantic snapper-grouper has been issued, this closure applies in the South Atlantic, regardless of where the fish are harvested, i.e., in state or Federal waters. During the closure, the bag and possession limit for vermilion snapper in or from the South Atlantic EEZ is zero.

§ 622.184 Seasonal harvest limitations.

(a) Greater amberjack spawning season. During April, each year, the possession of greater amberjack in or from the South Atlantic EEZ and in the South Atlantic on board a vessel for which a valid Federal commercial or charter vessel/headboat permit for South Atlantic snapper-grouper has been issued, without regard to where such greater amberjack were harvested, is limited to one per person per day or one per person per trip, whichever is more restrictive. Such greater amberjack are subject to the prohibition on sale or purchase, as specified in § 622.192(g).

(b) Mutton snapper spawning season. During May and June, each year, the possession of mutton snapper in or from the EEZ on board a vessel that has a commercial permit for South Atlantic snapper-grouper is limited to 10 per person per day or 10 per person per trip, whichever is more restrictive.

(c) Red porgy. During January, February, March, and April, the harvest or possession of red porgy in or from the South Atlantic EEZ is limited to three per person per day or three per person per trip, whichever is more restrictive. In addition, this limitation is applicable in the South Atlantic on board a vessel for which a valid Federal commercial or charter vessel/headboat permit for South Atlantic snapper-grouper has been issued without regard to where such red porgy were harvested. Such red porgy are subject to the prohibition on sale or purchase, as specified in § 622.192(f).

§ 622.185 Size limits.

All size limits in this section are minimum size limits unless specified otherwise. A fish not in compliance with its size limit, as specified in this section, in or from the South Atlantic EEZ, may not be possessed, sold, or purchased. A fish not in compliance with its size limit must be released immediately with a minimum of harm. The operator of a vessel that fishes in the EEZ is responsible for ensuring that fish on board are in compliance with the size limits specified in this section.

(a) Snapper—(1) Red snapper—20 inches (50.8 cm), TL, however, see § 622.181(b)(2) for the current prohibition on the harvest and possession of red snapper.

(2) Vermilion snapper—12 inches (30.5 cm), TL.

(3) Blackfin, cubera, dog, gray, mahogany, queen, silk, and yellowtail snappers—12 inches (30.5 cm), TL.

(4) Mutton snapper—16 inches (40.6 cm), TL.

(5) Lane snapper—8 inches (20.3 cm), TL.

(b) Grouper—(1) Red, yellowfin, and yellowmouth grouper; and scamp—20 inches (50.8 cm), TL.

(2) Black grouper and gag—24 inches (61.0 cm), TL.

(c) Other snapper-grouper species—(1) Black sea bass.

(i) For a fish taken by a person subject to the bag limit specified in § 622.187(b)(7)—13 inches (33 cm), TL.

(ii) For a fish taken by a person not subject to the bag limit specified in § 622.187(b)(7)—11 inches (28 cm), TL.

(2) Gray triggerfish in the South Atlantic EEZ off Florida—12 inches (30.5 cm), TL.

(3) Hogfish—12 inches (30.5 cm), fork length.

(4) Red porgy—14 inches (35.6 cm), TL.

(5) Greater amberjack—28 inches (71.1 cm), fork length, for a fish taken by a person subject to the bag limit specified in § 622.187(b)(1) and 36 inches (91.4 cm), fork length, for a fish taken by a person not subject to the bag limit.

§ 622.186 Landing fish intact.

(a) South Atlantic snapper-grouper in or from the South Atlantic EEZ must be maintained with head and fins intact, except as specified in paragraph (b) of this section. Such fish may be eviscerated, gilled, and scaled, but must otherwise be maintained in a whole condition. The operator of a vessel that fishes in the EEZ is responsible for ensuring that fish on that vessel in the EEZ are maintained intact and, if taken from the EEZ, are maintained intact through offloading ashore, as specified in this section.

(b) In the South Atlantic EEZ, snapper-grouper lawfully harvested in Bahamian waters are exempt from the requirement that they be maintained with head and fins intact, provided valid Bahamian fishing and cruising permits are on board the vessel and the vessel is in transit through the South Atlantic EEZ. For the purpose of this paragraph, a vessel is in transit through the South Atlantic EEZ when it is on a direct and continuous course through the South Atlantic EEZ and no one aboard the vessel fishes in the EEZ.

§ 622.187 Bag and possession limits.

(a) Additional applicability provisions for South Atlantic snapper-grouper. Section 622.11(a) provides the general applicability for bag and possession limits. However, § 622.11(a) notwithstanding:

(1) The bag and other limits specified in § 622.182(b) apply for South Atlantic snapper-grouper in or from the EEZ to a person aboard a vessel for which a commercial permit for South Atlantic snapper-grouper has been issued that has on board a longline in the longline closed area.

(2) A person aboard a vessel for which a commercial permit for South Atlantic snapper-grouper has been issued must comply with the bag limits specified in paragraph (b)(1) of this section for South Atlantic snapper-grouper taken with a powerhead, regardless of where taken, when such snapper-grouper are possessed in an SMZ specified in § 622.182(a)(1)(xii) through (a)(1)(xviii) or (a)(1)(xl) through (a)(1)(li).

(b) Bag limits—(1) Greater amberjack—1.

(2) Grouper and tilefish, combined—3. However, no grouper or tilefish may be retained by the captain or crew of a vessel operating as a charter vessel or headboat. The bag limit for such captain and crew is zero. In addition, within the 3-fish aggregate bag limit:

(i) No more than one fish may be gag or black grouper, combined;

(ii) No more than one fish per vessel may be a snowy grouper;

(iii) No more than one fish may be a golden tilefish; and

(iv) No goliath grouper or Nassau grouper may be retained.

(3) Hogfish in the South Atlantic off Florida—5.

(4) Snappers, combined—10. However, excluded from this 10-fish bag limit are cubera snapper, measuring 30 inches (76.2 cm), TL, or larger, in the South Atlantic off Florida, and red snapper and vermilion snapper. (See § 622.181(b)(2) for the prohibition on harvest and possession of red snapper and § 622.181(c)(1) for limitations on cubera snapper measuring 30 inches (76.2 cm), TL, or larger, in or from the South Atlantic EEZ off Florida.)

(5) Vermilion snapper—5. However, no vermilion snapper may be retained by the captain or crew of a vessel operating as a charter vessel or headboat. The bag limit for such captain and crew is zero.

(6) Red porgy—3.

(7) Black sea bass—5.

(8) South Atlantic snapper-grouper, combined—20. However, excluded from this 20-fish bag limit are tomtate, blue runner, ecosystem component species (specified in Table 4 of Appendix A to part 622), and those specified in paragraphs (b)(1) through (7) and paragraphs (b)(9) and (10) of this section.

(9) No red snapper may be retained.

(10) No more than one fish per vessel may be a wreckfish.

(11) Longline bag limits. Other provisions of this paragraph (b) notwithstanding, a person on a trip aboard a vessel for which the bag limits apply that has a longline on board is limited on that trip to the bag limit for South Atlantic snapper-grouper for which a bag limit is specified in this paragraph (b), and to zero for all other South Atlantic snapper-grouper. For the purposes of this paragraph (b)(11), a vessel is considered to have a longline on board when a power-operated longline hauler, a cable or monofilament of diameter and length suitable for use in the longline fishery, and gangions are on board. Removal of any one of these elements constitutes removal of a longline.

(c) Possession limits. (1) Provided each passenger is issued and has in possession a receipt issued on behalf of the vessel that verifies the duration of the trip—

(i) A person aboard a charter vessel or headboat on a trip that spans more than 24 hours may possess no more than two daily bag limits of species other than red porgy.

(ii) A person aboard a headboat on a trip that spans more than 48 hours and who can document that fishing was conducted on at least 3 days may possess no more than three daily bag limits of species other than red porgy.

(2) A person aboard a vessel may not possess red porgy in or from the EEZ in excess of three per day or three per trip, whichever is more restrictive.

§ 622.188 Required gear, authorized gear, and unauthorized gear.

(a) Required gear. For a person on board a vessel to harvest or possess South Atlantic snapper-grouper in or from the South Atlantic EEZ, the vessel must possess on board and such person must use the gear as specified in paragraphs (a)(1) and (a)(2) of this section.

(1) Dehooking device. At least one dehooking device is required and must be used as needed to remove hooks embedded in South Atlantic snapper-grouper with minimum damage. The hook removal device must be constructed to allow the hook to be secured and the barb shielded without re-engaging during the removal process. The dehooking end must be blunt, and all edges rounded. The device must be of a size appropriate to secure the range of hook sizes and styles used in the South Atlantic snapper-grouper fishery.

(2) Non-stainless steel circle hooks. Non-stainless steel circle hooks are required to be used when fishing with hook-and-line gear and natural baits north of 28° N. lat.

(b) Authorized gear. Subject to the gear restrictions specified in § 622.180, the following are the only gear types authorized in a directed fishery for snapper-grouper in the South Atlantic EEZ: Bandit gear, bottom longline, buoy gear, handline, rod and reel, sea bass pot, and spearfishing gear.

(c) Unauthorized gear. All gear types other than those specified in paragraph (b) of this section are unauthorized gear and the following possession and transfer limitations apply.

(1) A vessel with trawl gear on board that fishes in the EEZ on a trip may possess no more than 200 lb (90.7 kg) of South Atlantic snapper-grouper, excluding wreckfish, in or from the EEZ on that trip. It is a rebuttable presumption that a vessel with more than 200 lb (90.7 kg) of South Atlantic snapper-grouper, excluding wreckfish, on board harvested such fish in the EEZ.

(2) Except as specified in paragraphs (d) through (f) of this section, a person aboard a vessel with unauthorized gear on board, other than trawl gear, that fishes in the EEZ on a trip is limited on that trip to:

(i) South Atlantic snapper-grouper species for which a bag limit is specified in § 622.187—the bag limit.

(ii) All other South Atlantic snapper-grouper—zero.

(3) South Atlantic snapper-grouper on board a vessel with unauthorized gear on board may not be transferred at sea, regardless of where such transfer takes place, and such snapper-grouper may not be transferred in the EEZ.

(4) No vessel may receive at sea any South Atlantic snapper-grouper from a vessel with unauthorized gear on board, as specified in paragraph (c)(3) of this section.

(d) Possession allowance regarding sink nets off North Carolina. A vessel that has on board a commercial permit for South Atlantic snapper-grouper, excluding wreckfish, that fishes in the EEZ off North Carolina with a sink net on board, may retain, without regard to the limits specified in paragraph (c)(2) of this section, otherwise legal South Atlantic snapper-grouper taken with bandit gear, buoy gear, handline, rod and reel, or sea bass pot. For the purpose of this paragraph (d), a sink net is a gillnet with stretched mesh measurements of 3 to 4.75 inches (7.6 to 12.1 cm) that is attached to the vessel when deployed.

(e) Possession allowance regarding bait nets. A vessel that has on board a commercial permit for South Atlantic snapper-grouper, excluding wreckfish, that fishes in the South Atlantic EEZ with no more than one bait net on board, may retain, without regard to the limits specified in paragraph (c)(2) of this section, otherwise legal South Atlantic snapper-grouper taken with bandit gear, buoy gear, handline, rod and reel, or sea bass pot. For the purpose of this paragraph (e), a bait net is a gillnet not exceeding 50 ft (15.2 m) in length or 10 ft (3.1 m) in height with stretched mesh measurements of 1.5 inches (3.8 cm) or smaller that is attached to the vessel when deployed.

(f) Possession allowance regarding cast nets. A vessel that has on board a commercial permit for South Atlantic snapper-grouper, excluding wreckfish, that fishes in the South Atlantic EEZ with a cast net on board, may retain, without regard to the limits specified in paragraph (c)(2) of this section, otherwise legal South Atlantic snapper-grouper taken with bandit gear, buoy gear, handline, rod and reel, or sea bass pot. For the purpose of this paragraph (f), a cast net is a cone-shaped net thrown by hand and designed to spread out and capture fish as the weighted circumference sinks to the bottom and comes together when pulled by a line.

(g) Longline species limitation. A vessel that has on board a valid Federal commercial permit for South Atlantic snapper-grouper, excluding wreckfish, that fishes in the EEZ on a trip with a longline on board, may possess only the following South Atlantic snapper-grouper: Snowy grouper, warsaw grouper, yellowedge grouper, misty grouper, golden tilefish, blueline tilefish, and sand tilefish. For the purpose of this paragraph, a vessel is considered to have a longline on board when a power-operated longline hauler, a cable of diameter suitable for use in the longline fishery on any reel, and gangions are on board. Removal of any one of these three elements constitutes removal of a longline.

§ 622.189 Restrictions and requirements for sea bass pots.

(a) Tending restriction. A sea bass pot in the South Atlantic EEZ may be pulled or tended only by a person (other than an authorized officer) aboard the vessel permitted to fish such pot or aboard another vessel if such vessel has on board written consent of the owner or operator of the vessel so permitted.

(b) Configuration restriction. In the South Atlantic EEZ, sea bass pots may not be used or possessed in multiple configurations, that is, two or more pots may not be attached one to another so that their overall dimensions exceed those allowed for an individual sea bass pot. This does not preclude connecting individual pots to a line, such as a “trawl” or trot line.

(c) Requirement for escape mechanisms. (1) A sea bass pot that is used or possessed in the South Atlantic EEZ between 35°15.19′ N. lat. (due east of Cape Hatteras Light, NC) and 28°35.1′ N. lat. (due east of the NASA Vehicle Assembly Building, Cape Canaveral, FL) is required to have—

(i) On at least one side, excluding top and bottom, a panel or door with an opening equal to or larger than the interior end of the trap's throat (funnel). The hinges and fasteners of each panel or door must be made of one of the following degradable materials:

(A) Ungalvanized or uncoated iron wire with a diameter not exceeding 0.041 inches (1.0 mm), that is, 19 gauge wire.

(B) Galvanic timed-release mechanisms with a letter grade designation (degradability index) no higher than J.

(ii) An unobstructed escape vent opening on at least two opposite vertical sides, excluding top and bottom. The minimum dimensions of an escape vent opening (based on inside measurement) are:

(A) 1⅛ by 5¾ inches (2.9 by 14.6 cm) for a rectangular vent.

(B) 1.75 by 1.75 inches (4.5 by 4.5 cm) for a square vent.

(C) 2.0-inch (5.1-cm) diameter for a round vent.

(2) [Reserved]

(d) Construction requirements and mesh sizes. (1) A sea bass pot used or possessed in the South Atlantic EEZ must have mesh sizes as follows (based on centerline measurements between opposite, parallel wires or netting strands):

(i) For sides of the pot other than the back panel:

(A) Hexagonal mesh (chicken wire)—at least 1.5 inches (3.8 cm) between the wrapped sides;

(B) Square mesh—at least 1.5 inches (3.8 cm) between sides; or

(C) Rectangular mesh—at least 1 inch (2.5 cm) between the longer sides and 2 inches (5.1 cm) between the shorter sides.

(ii) For the entire back panel, i.e., the side of the pot opposite the side that contains the pot entrance, mesh that is at least 2 inches (5.1 cm) between sides.

(2) [Reserved]

(e) Requirements for pot removal. (1) A sea bass pot must be removed from the water in the South Atlantic EEZ and the vessel must be returned to a dock, berth, beach, seawall, or ramp at the conclusion of each trip. Sea bass pots may remain on the vessel at the conclusion of each trip.

(2) A sea bass pot must be removed from the water in the South Atlantic EEZ when the applicable quota specified in § 622.190(a)(5) is reached. After a closure is in effect, a black sea bass may not be retained by a vessel that has a sea bass pot on board.

(f) Restriction on number of pots. A vessel that has on board a valid Federal commercial permit for South Atlantic snapper-grouper and a South Atlantic black sea bass pot endorsement that fishes in the South Atlantic EEZ on a trip with black sea bass pots, may possess only 35 black sea bass pots per vessel per permit year. Each black sea bass pot in the water or onboard a vessel in the South Atlantic EEZ, must have a valid identification tag attached. Endorsement holders must apply for new tags each permit year through NMFS to replace tags from the previous year.

§ 622.190 Quotas.

See § 622.8 for general provisions regarding quota applicability and closure and reopening procedures. This section provides quotas and specific quota closure restrictions for South Atlantic snapper-grouper.

(a) South Atlantic snapper-grouper, excluding wreckfish. The quotas apply to persons who are not subject to the bag limits. (See § 622.11 for applicability of the bag limits.) The quotas are in gutted weight, that is, eviscerated but otherwise whole.

(1) Snowy grouper—82,900 lb (37,603 kg).

(2) Golden tilefish—541,295 lb (245,527 kg).

(3) Greater amberjack—769,388 lb (348,989 kg).

(4) Vermilion snapper. (i) For the period January through June each year—315,523 lb (143,119 kg).

(ii) For the period July through December each year—302,523 lb (137,222 kg).

(iii) Any unused portion of the quota specified in paragraph (a)(4)(i) of this section will be added to the quota specified in paragraph (a)(4)(ii) of this section. Any unused portion of the quota specified in paragraph (a)(4)(ii) of this section, including any addition of quota specified in paragraph (a)(4)(i) of this section that was unused, will become void and will not be added to any subsequent quota.

(5) Black sea bass—309,000 lb (140,160 kg), gutted weight; 364,620 lb (165,389 kg), round weight.

(6) Red porgy—190,050 lb (86,205 kg).

(7) Gag—352,940 lb (160,091 kg).

(b) Wreckfish. The quota for wreckfish applies to wreckfish shareholders, or their employees, contractors, or agents, and is 223,250 lb (101,264 kg), round weight. See § 622.172 for information on the wreckfish shareholder under the ITQ system.

(c) Restrictions applicable after a commercial quota closure—(1) South Atlantic gag, black grouper, red grouper, greater amberjack, snowy grouper, golden tilefish, vermilion snapper, black sea bass, red porgy, and wreckfish. (i) The appropriate bag limits specified in § 622.187(b) and the possession limits specified in § 622.187(c) apply to all harvest or possession of the applicable species in or from the South Atlantic EEZ, and the sale or purchase of the applicable species taken from or possessed in the EEZ is prohibited. The prohibition on sale/purchase during a closure for the applicable species does not apply to fish that were harvested, landed ashore, and sold prior to the effective date of the closure and were held in cold storage by a dealer or processor.

(ii) The bag and possession limits for the applicable species and the prohibition on sale/purchase apply in the South Atlantic on board a vessel for which a valid Federal commercial or charter vessel/headboat permit for South Atlantic snapper-grouper has been issued, without regard to where such species were harvested, i.e., in state or Federal waters.

(iii) For gag, when the appropriate commercial quota is reached, the provisions of paragraphs (c)(1)(i) and (ii) of this section apply to gag and all other SASWG.

(2) [Reserved]

§ 622.191 Commercial trip limits.

Commercial trip limits are limits on the amount of the applicable species that may be possessed on board or landed, purchased, or sold from a vessel per day. A person who fishes in the EEZ may not combine a trip limit specified in this section with any trip or possession limit applicable to state waters. A species subject to a trip limit specified in this section taken in the EEZ may not be transferred at sea, regardless of where such transfer takes place, and such species may not be transferred in the EEZ. Commercial trip limits apply as follows (all weights are round or eviscerated weights unless specified otherwise):

(a) When a vessel fishes on a trip in the South Atlantic EEZ, the vessel trip limits specified in this paragraph (a) apply, provided persons aboard the vessel are not subject to the bag limits. See § 622.11 and § 622.187(a) for applicability of the bag limits.

(1) Trip-limited permits. A vessel for which a trip-limited permit for South Atlantic snapper-grouper has been issued is limited to 225 lb (102.1 kg) of snapper-grouper.

(2) Golden tilefish. (i) Until 75 percent of the fishing year quota specified in § 622.190(a)(2) is reached—4,000 lb (1,814 kg).

(ii) After 75 percent of the fishing year quota specified in § 622.190(a)(2) is reached—300 lb (136 kg). However, if 75 percent of the fishing year quota has not been taken on or before September 1, the trip limit will not be reduced. The Assistant Administrator, by filing a notification of trip limit change with the Office of the Federal Register, will effect a trip limit change specified in this paragraph (a)(2)(ii), when the applicable conditions have been taken.

(iii) See § 622.190(c)(1) for the limitations regarding golden tilefish after the fishing year quota is reached.

(3) Snowy grouper. Until the quota specified in § 622.190(a)(1) is reached—100 lb (45 kg). See § 622.190(c)(1) for the limitations regarding snowy grouper after the fishing year quota is reached.

(4) Red porgy. (i) From May 1 through December 31—120 fish.

(ii) From January 1 through April 30, the seasonal harvest limit specified in § 622.184(c) applies.

(iii) See § 622.190(c)(1) for the limitations regarding red porgy after the fishing year quota is reached.

(5) Greater amberjack. Until the quota specified in § 622.190(a)(3) is reached, 1,200 lb (544 kg). See § 622.190(c)(1) for the limitations regarding greater amberjack after the quota is reached.

(6) Vermilion snapper. Until either quota specified in § 622.190(a)(4)(i) or (ii) is reached, 1,500 lb (680 kg). See § 622.190(c)(1) for the limitations regarding vermilion snapper after either quota is reached.

(7) Gag. Until the quota specified in § 622.190(a)(7) is reached, 1,000 lb (454 kg). See § 622.190(c)(1) for the limitations regarding gag after the quota is reached.

(8) Black sea bass. Until the applicable quota specified in § 622.190(a)(5) is reached, 1,000 lb (454 kg), gutted weight; 1,180 lb (535 kg), round weight. See § 622.190(c)(1) for the limitations regarding black sea bass after the applicable quota is reached.

(b) [Reserved]

§ 622.192 Restrictions on sale/purchase.

The restrictions in this section are in addition to the restrictions on sale/purchase related to quota closures as specified in § 622.190(c).

(a) A South Atlantic snapper-grouper harvested or possessed in the EEZ on board a vessel that does not have a valid commercial permit for South Atlantic snapper-grouper, as required under § 622.170(a), or a South Atlantic snapper-grouper harvested in the EEZ and possessed under the bag limits specified in § 622.187(b), may not be sold or purchased. In addition, a South Atlantic snapper-grouper harvested or possessed by a vessel that is operating as a charter vessel or headboat with a Federal charter vessel/headboat permit for South Atlantic snapper-grouper may not be sold or purchased regardless of where harvested, i.e., in state or Federal waters.

(b) A person may sell South Atlantic snapper-grouper harvested in the EEZ only to a dealer who has a valid permit for South Atlantic snapper-grouper, as required under § 622.170(c).

(c) A person may purchase South Atlantic snapper-grouper harvested in the EEZ only from a vessel that has a valid commercial permit for South Atlantic snapper-grouper, as required under § 622.170(a).

(d) A warsaw grouper or speckled hind in or from the South Atlantic EEZ may not be sold or purchased.

(e) No person may sell or purchase a snowy grouper, gag, golden tilefish, greater amberjack, vermilion snapper, black sea bass, or red porgy harvested from or possessed in the South Atlantic, i.e., in state or Federal waters, by a vessel for which a valid Federal commercial permit for South Atlantic snapper-grouper has been issued for the remainder of the fishing year after the applicable commercial quota for that species specified in § 622.190(a) has been reached. The prohibition on sale/purchase during these periods does not apply to such of the applicable species that were harvested, landed ashore, and sold prior to the applicable commercial quota being reached and were held in cold storage by a dealer or processor.

(f) During January, February, March, and April, no person may sell or purchase a red porgy harvested from the South Atlantic EEZ or, if harvested by a vessel for which a valid Federal commercial permit for South Atlantic snapper-grouper has been issued, harvested from the South Atlantic, i.e., in state or Federal waters. The prohibition on sale/purchase during January through April does not apply to red porgy that were harvested, landed ashore, and sold prior to January 1 and were held in cold storage by a dealer or processor. This prohibition also does not apply to a dealer's purchase or sale of red porgy harvested from an area other than the South Atlantic, provided such fish is accompanied by documentation of harvest outside the South Atlantic. The requirements for such documentation are specified in paragraph (i) of this section.

(g) During April, no person may sell or purchase a greater amberjack harvested from the South Atlantic EEZ or, if harvested by a vessel for which a valid Federal commercial permit for South Atlantic snapper-grouper has been issued, harvested from the South Atlantic, i.e., in state or Federal waters. The prohibition on sale/purchase during April does not apply to greater amberjack that were harvested, landed ashore, and sold prior to April 1 and were held in cold storage by a dealer or processor. This prohibition also does not apply to a dealer's purchase or sale of greater amberjack harvested from an area other than the South Atlantic, provided such fish is accompanied by documentation of harvest outside the South Atlantic. The requirements for such documentation are specified in paragraph (i) of this section.

(h) During January through April, no person may sell or purchase a gag, black grouper, red grouper, scamp, red hind, rock hind, yellowmouth grouper, yellowfin grouper, graysby, or coney harvested from or possessed in the South Atlantic EEZ or, if harvested or possessed by a vessel for which a valid Federal commercial permit for South Atlantic snapper-grouper has been issued, harvested from the South Atlantic, i.e., in state or Federal waters. The prohibition on sale/purchase during January through April does not apply to such species that were harvested, landed ashore, and sold prior to January 1 and were held in cold storage by a dealer or processor. This prohibition also does not apply to a dealer's purchase or sale of such species harvested from an area other than the South Atlantic, provided such fish is accompanied by documentation of harvest outside the South Atlantic. The requirements for such documentation are specified in paragraph (i) of this section.

(i) The documentation supporting a dealer's purchase or sale of applicable species during the times specified in paragraphs (f) through (h) of this section must contain:

(1) The information specified in part 300, subpart K, of this title for marking containers or packages of fish or wildlife that are imported, exported, or transported in interstate commerce;

(2) The official number, name, and home port of the vessel harvesting the applicable species;

(3) The port and date of offloading from the vessel harvesting the applicable species; and

(4) A statement signed by the dealer attesting that the applicable species was harvested from an area other than the South Atlantic.

(j) No person may sell or purchase a red snapper harvested from or possessed in the South Atlantic, i.e., state or Federal waters, by a vessel for which a Federal commercial permit for South Atlantic snapper-grouper has been issued.

§ 622.193 Annual catch limits (ACLs), annual catch targets (ACTs), and accountability measures (AMs).

(a) Golden tilefish—(1) Commercial sector. If commercial landings, as estimated by the SRD, reach or are projected to reach the commercial ACL (commercial quota) specified in § 622.190(a)(2), the AA will file a notification with the Office of the Federal Register to close the commercial sector for the remainder of the fishing year.

(2) Recreational sector. If recreational landings for golden tilefish, as estimated by the SRD, reach or are projected to reach the recreational ACL of 3,019 fish, the AA will file a notification with the Office of the Federal Register to close the recreational sector for the remainder of the fishing year. If recreational landings for golden tilefish, as estimated by the SRD, exceed the recreational ACL, then during the following fishing year, recreational landings will be monitored for a persistence in increased landings and, if necessary, the AA will file a notification with the Office of the Federal Register, to reduce the length of the following recreational fishing season by the amount necessary to ensure recreational landings do not exceed the recreational ACL in the following fishing year.

(b) Snowy grouper—(1) Commercial fishery. If commercial landings, as estimated by the SRD, reach or are projected to reach the quota specified in § 622.190(a)(1), the AA will file a notification with the Office of the Federal Register to close the commercial fishery for the remainder of the fishing year.

(2) Recreational fishery. If recreational landings, as estimated by the SRD, exceed the recreational ACL of 523 fish, the AA will file a notification with the Office of the Federal Register, at or near the beginning of the following fishing year, to reduce the length of the following recreational fishing season by the amount necessary to ensure recreational landings do not exceed the recreational ACL in the following fishing year. Recreational landings will be evaluated relative to the ACL as follows. For 2012 and subsequent fishing years, the most recent 3-year running average recreational landings will be compared to the ACL.

(c) Gag—(1) Commercial fishery. If commercial landings, as estimated by the SRD, reach or are projected to reach the quota specified in § 622.190(a)(7), the AA will file a notification with the Office of the Federal Register to close the commercial fishery for gag and all other SASWG for the remainder of the fishing year.

(2) Recreational fishery. (i) If recreational landings, as estimated by the SRD, reach or are projected to reach the recreational ACL of 340,060 lb (154,249 kg), gutted weight, and gag are overfished, based on the most recent Status of U.S. Fisheries Report to Congress, the AA will file a notification with the Office of the Federal Register to close the gag recreational fishery for the remainder of the fishing year. On and after the effective date of such notification, the bag and possession limit for gag in or from the South Atlantic EEZ is zero. This bag and possession limit also applies in the South Atlantic on board a vessel for which a valid Federal charter vessel/headboat permit for South Atlantic snapper-grouper has been issued, without regard to where such species were harvested, i.e., in state or Federal waters.

(ii) Without regard to overfished status, if gag recreational landings exceed the ACL, the AA will file a notification with the Office of the Federal Register, at or near the beginning of the following fishing year, to reduce the ACL for that fishing year by the amount of the overage.

(iii) Recreational landings will be evaluated relative to the ACL as follows. For 2012 and subsequent fishing years, the most recent 3-year running average recreational landings will be compared to the ACL.

(d) Red grouper—(1) Commercial sector. (i) If commercial landings for red grouper, as estimated by the SRD, reach or are projected to reach the applicable ACL in paragraph (d)(1)(iii) of this section, the AA will file a notification with the Office of the Federal Register to close the commercial sector for the remainder of the fishing year. On and after the effective date of such a notification, all sale or purchase of red grouper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(ii) If commercial landings exceed the ACL, the AA will file a notification with the Office of the Federal Register, at or near the beginning of the following fishing year to reduce the ACL for that following year by the amount of the overage in the prior fishing year.

(iii) The applicable commercial ACLs, in round weight, are 284,680 lb (129,129 kg) for 2012, 315,920 lb (143,299 kg) for 2013, and 343,200 lb (155,673 kg) for 2014 and subsequent fishing years.

(2) Recreational sector. (i) If recreational landings for red grouper, as estimated by the SRD, are projected to reach the applicable ACL in paragraph (d)(2)(iii) of this section, the AA will file a notification with the Office of the Federal Register to close the recreational sector for the remainder of the fishing year. On and after the effective date of such a notification, the bag and possession limit is zero. This bag and possession limit applies in the South Atlantic on board a vessel for which a valid Federal charter vessel/headboat permit for South Atlantic snapper-grouper has been issued, without regard to where such species were harvested, i.e. in state or Federal waters.

(ii) If recreational landings for red grouper, as estimated by the SRD, exceed the applicable ACL, the AA will file a notification with the Office of the Federal Register, to reduce the recreational ACL the following fishing year by the amount of the overage in the prior fishing.

(iii) The applicable recreational ACLs, in round weight, are 362,320 lb (164,346 kg) for 2012, 402,080 lb (182,380 kg) for 2013, and 436,800 lb (198,129 kg) for 2014 and subsequent fishing years.

(3) Without regard to overfished status, if the combined commercial and recreational sector ACL (total ACL), as estimated by the SRD, is exceeded in a fishing year, then during the following fishing year, an automatic increase will not be applied to the commercial and recreational sector ACLs. The SRD will evaluate the landings data to determine whether or not an increase in the respective sector ACLs will be applied. The applicable combined commercial and recreational sector ACLs, in round weight are 647,000 lb (293,474 kg) for 2012, 718,000 lb (325,679 kg) for 2013, and 780,000 lb (353,802 kg) for 2014 and subsequent fishing years.

(i) Following an overage of the total ACL, if there is no overage the following fishing year, the SRD will evaluate the landings data to determine whether or not an increase in the respective sector ACLs will be applied.

(ii) [Reserved]

(e) Black sea bass—(1) Commercial sector. (i) If commercial landings, as estimated by the SRD, reach or are projected to reach the quota specified in § 622.190(a)(5), the AA will file a notification with the Office of the Federal Register to close the commercial sector for the remainder of the fishing year.

(ii) If commercial landings exceed the quota specified in § 622.190(a)(5), the AA will file a notification with the Office of the Federal Register, at or near the beginning of the following fishing year to reduce the ACL for that following year by the amount of the overage in the prior fishing year, unless the SRD determines that no overage is necessary based on the best scientific information available.

(2) Recreational sector. (i) If recreational landings for black sea bass, as estimated by the SRD, are projected to reach the recreational ACL of 409,000 lb (185,519 kg), gutted weight; 482,620 lb (218,913 kg), round weight; the AA will file a notification with the Office of the Federal Register to close the recreational sector for the remainder of the fishing year. On and after the effective date of such a notification, the bag and possession limit is zero. This bag and possession limit applies in the South Atlantic on board a vessel for which a valid Federal charter vessel/headboat permit for South Atlantic snapper-grouper has been issued, without regard to where such species were harvested, i.e. in state or Federal waters.

(ii) If recreational landings for black sea bass, as estimated by the SRD, exceed the ACL, the AA will file a notification with the Office of the Federal Register, to reduce the recreational ACL the following fishing year by the amount of the overage in the prior fishing year, unless the SRD determines that no overage is necessary based on the best scientific information available.

(f) Vermilion snapper—(1) Commercial fishery. If commercial landings, as estimated by the SRD, reach or are projected to reach a quota specified in § 622.190(a)(4)(i) or (ii), the AA will file a notification with the Office of the Federal Register to close the commercial fishery for that portion of the fishing year applicable to the respective quota.

(2) Recreational fishery. (i) If recreational landings, as estimated by the SRD, reach or are projected to reach the recreational ACL of 307,315 lb (139,396 kg), gutted weight, and vermilion snapper are overfished, based on the most recent Status of U.S. Fisheries Report to Congress, the AA will file a notification with the Office of the Federal Register to close the recreational fishery for vermilion snapper for the remainder of the fishing year. On and after the effective date of such notification, the bag and possession limit of vermilion snapper in or from the South Atlantic EEZ is zero. This bag and possession limit also applies in the South Atlantic on board a vessel for which a valid Federal charter vessel/headboat permit for South Atlantic snapper-grouper has been issued, without regard to where such species were harvested, i.e., in state or Federal waters.

(ii) Without regard to overfished status, if vermilion snapper recreational landings exceed the ACL, the AA will file a notification with the Office of the Federal Register, at or near the beginning of the following fishing year, to reduce the ACL for that fishing year by the amount of the overage.

(iii) Recreational landings will be evaluated relative to the ACL as follows. For 2012 and subsequent fishing years, the most recent 3-year running average recreational landings will be compared to the ACL.

(g) Black grouper—(1) Commercial sector—(i) If commercial landings for black grouper, as estimated by the SRD, reach or are projected to reach the applicable ACL in paragraph (g)(1)(iii) of this section, the AA will file a notification with the Office of the Federal Register to close the commercial sector for the remainder of the fishing year. On and after the effective date of such a notification, all sale or purchase of black grouper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and black grouper are overfished, based on the most recent Status of U.S. Fisheries Report to Congress, the AA will file a notification with the Office of the Federal Register, at or near the beginning of the following fishing year to reduce the ACL for that following year by the amount of the overage in the prior fishing year.

(iii) The applicable commercial ACLs, in round weight, are 90,575 lb (41,084 kg) for 2012, 94,571 lb (42,897 kg) for 2013, and 96,844 lb (43,928 kg) for 2014 and subsequent fishing years.

(2) Recreational sector. If recreational landings for black grouper, as estimated by the SRD, exceed the applicable ACL, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary. The applicable recreational ACLs, in round weight, are 155,020 lb (70,316 kg) for 2012, 161,859 lb (73,418 kg) for 2013, and 165,750 lb (75,183 kg) for 2014 and subsequent fishing years.

(3) Without regard to overfished status, if the combined commercial and recreational sector ACLs, as estimated by the SRD, are exceeded in a fishing year, then during the following fishing year, the AA will file a notification with the Office of the Federal Register stating that both the commercial and recreational sectors will not have an increase in their respective sector ACLs during that following fishing year. The applicable combined commercial and recreational sector ACLs, in round weight are 245,595 lb (111,400 kg) for 2012, 256,430 lb (116,315 kg) for 2013, and 262,594 lb (119,111 kg) for 2014 and subsequent fishing years.

(h) Deep-water complex (including yellowedge grouper, blueline tilefish, silk snapper, misty grouper, queen snapper, sand tilefish, black snapper, and blackfin snapper)—(1) Commercial sector—(i) If commercial landings for the deep-water complex, as estimated by the SRD, reach or are projected to reach the commercial ACL of 343,869 lb (155,976 kg), round weight, the AA will file a notification with the Office of the Federal Register to close the commercial sector for this complex for the remainder of the fishing year. On and after the effective date of such a notification, all sale or purchase of deep-water complex species is prohibited and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and at least one of the species in the deep-water complex is overfished, based on the most recent Status of U.S. Fisheries Report to Congress, the AA will file a notification with the Office of the Federal Register, at or near the beginning of the following fishing year to reduce the ACL for that following year by the amount of the overage in the prior fishing year.

(2) Recreational sector. If recreational landings for the deep-water complex, as estimated by the SRD, exceed the recreational ACL of 332,039 lb (150,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(i) Scamp—(1) Commercial sector—(i) If commercial landings for scamp, as estimated by the SRD, reach or are projected to reach the commercial ACL of 341,636 lb (154,963 kg), round weight, the AA will file a notification with the Office of the Federal Register to close the commercial sector for the remainder of the fishing year. On and after the effective date of such a notification, all sale or purchase of scamp is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and scamp are overfished, based on the most recent Status of U.S. Fisheries Report to Congress, the AA will file a notification with the Office of the Federal Register, at or near the beginning of the following fishing year to reduce the ACL for that following year by the amount of the overage in the prior fishing year.

(2) Recreational sector. If recreational landings for scamp, as estimated by the SRD, exceed the recreational ACL of 150,936 lb (68,463 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(j) Other SASWG combined (including red hind, rock hind, yellowmouth grouper, yellowfin grouper, coney, and graysby)—(1) Commercial sector—(i) If commercial landings for other SASWG, as estimated by the SRD, reach or are projected to reach the commercial ACL of 49,488 lb (22,447 kg), round weight, the AA will file a notification with the Office of the Federal Register to close the commercial sector for this complex for the remainder of the fishing year. On and after the effective date of such a notification, all sale or purchase of other SASWG is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and at least one of the species in the other SASWG complex is overfished, based on the most recent status of U.S. Fisheries Report to Congress, the AA will file a notification with the Office of the Federal Register, at or near the beginning of the following fishing year to reduce the ACL for that following year by the amount of the overage in the prior fishing year.

(2) Recreational sector. If recreational landings for other SASWG, as estimated by the SRD, exceed the recreational ACL of 48,329 lb (21,922 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(k) Greater amberjack—(1) Commercial sector—(i) If commercial landings for greater amberjack, as estimated by the SRD, reach or are projected to reach the quota specified in § 622.190(a)(3), the AA will file a notification with the Office of the Federal Register to close the commercial sector for the remainder of the fishing year.

(ii) If commercial landings exceed the ACL, and greater amberjack are overfished, based on the most recent Status of U.S. Fisheries Report to Congress, the AA will file a notification with the Office of the Federal Register, at or near the beginning of the following fishing year to reduce the ACL for that following year by the amount of the overage in the prior fishing year.

(2) Recreational sector. If recreational landings for greater amberjack, as estimated by the SRD, exceed the recreational ACL of 1,167,837 lb (529,722 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(l) Lesser amberjack, almaco jack, and banded rudderfish complex, combined—(1) Commercial sector—(i) If commercial landings for lesser amberjack, almaco jack, and banded rudderfish, combined, as estimated by the SRD, reach or are projected to reach their combined commercial ACL of 193,999 lb (87,996 kg), round weight, the AA will file a notification with the Office of the Federal Register to close the commercial sector for this complex for the remainder of the fishing year. On and after the effective date of such a notification, all sale or purchase of lesser amberjack, almaco jack, and banded rudderfish is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If the combined commercial landings for the complex exceed the ACL, and at least one of the species in the complex (lesser amberjack, almaco jack, and banded rudderfish) is overfished, based on the most recent Status of U.S. Fisheries Report to Congress, the AA will file a notification with the Office of the Federal Register, at or near the beginning of the following fishing year to reduce the ACL for that following year by the amount of the overage in the prior fishing year.

(2) Recreational sector. If recreational landings for the complex (lesser amberjack, almaco jack, and banded rudderfish), combined, as estimated by the SRD, exceed the recreational ACL of 261,490 lb (118,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(m) Bar jack—(1) Commercial sector—(i) If commercial landings for bar jack, as estimated by the SRD, reach or are projected to reach the commercial ACL of 6,686 lb (3,033 kg), round weight, the AA will file a notification with the Office of the Federal Register to close the commercial sector for the remainder of the fishing year. On and after the effective date of such a notification, all sale or purchase of bar jack is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and bar jack is overfished, based on the most recent Status of U.S. Fisheries Report to Congress, the AA will file a notification with the Office of the Federal Register, at or near the beginning of the following fishing year to reduce the ACL for that following year by the amount of the overage in the prior fishing year.

(2) Recreational sector. If recreational landings for bar jack, as estimated by the SRD, exceed the recreational ACL of 13,834 lb (6,275 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(n) Yellowtail snapper—(1) Commercial sector—(i) If commercial landings for yellowtail snapper, as estimated by the SRD, reach or are projected to reach the commercial ACL of 1,142,589 lb (518,270 kg), round weight, the AA will file a notification with the Office of the Federal Register to close the commercial sector for the remainder of the fishing year. On and after the effective date of such a notification, all sale or purchase of yellowtail snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and yellowtail snapper is overfished, based on the most recent Status of U.S. Fisheries Report to Congress, the AA will file a notification with the Office of the Federal Register, at or near the beginning of the following fishing year to reduce the ACL for that following year by the amount of the overage in the prior fishing year

(2) Recreational sector. If recreational landings for yellowtail snapper, as estimated by the SRD, exceed the recreational ACL of 1,031,286 lb (467,783 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(o) Mutton snapper—(1) Commercial sector. (i) If commercial landings for mutton snapper, as estimated by the SRD, reach or are projected to reach the commercial ACL of 157,743 lb (71,551 kg), round weight, the AA will file a notification with the Office of the Federal Register to close the commercial sector for the remainder of the fishing year. On and after the effective date of such a notification, all sale or purchase of mutton snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and mutton snapper are overfished, based on the most recent Status of U.S. Fisheries Report to Congress, the AA will file a notification with the Office of the Federal Register, at or near the beginning of the following fishing year to reduce the ACL for that following year by the amount of the overage in the prior fishing year.

(2) Recreational sector. If recreational landings for mutton snapper, as estimated by the SRD, exceed the recreational ACL of 768,857 lb (348,748 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(p) Other snappers combined (including cubera snapper, gray snapper, lane snapper, dog snapper, and mahogany snapper) complex—(1) Commercial sector—(i) If commercial landings combined for this other snappers complex, as estimated by the SRD, reach or are projected to reach the combined complex commercial ACL of 204,552 lb (92,783 kg), round weight, the AA will file a notification with the Office of the Federal Register to close the commercial sector for this complex for the remainder of the fishing year. On and after the effective date of such a notification, all sale or purchase of the snappers in this complex is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If the combined commercial landings for this complex exceed the ACL, and at least one of the species in the other snappers complex is overfished, based on the most recent Status of U.S. Fisheries Report to Congress, the AA will file a notification with the Office of the Federal Register, at or near the beginning of the following fishing year to reduce the ACL for that following year by the amount of the overage in the prior fishing year.

(2) Recreational sector. If the combined recreational landings for this snappers complex, as estimated by the SRD, exceed the recreational ACL of 882,388 lb (400,244 kg), round weight, then during the following fishing year, recreational landings will be monitored for a persistence in increased landings and, if necessary, the AA will file a notification with the Office of the Federal Register, to reduce the length of the following recreational fishing season by the amount necessary to ensure recreational landings do not exceed the recreational ACL for this complex in the following fishing year. However, the length of the recreational season will also not be reduced during the following fishing year if the RA determines, using the best scientific information available, that a reduction in the length of the following fishing season is unnecessary.

(q) Gray triggerfish—(1) Commercial sector—(i) If commercial landings for gray triggerfish, as estimated by the SRD, reach or are projected to reach the commercial ACL of 305,262 lb (138,465 kg), round weight, the AA will file a notification with the Office of the Federal Register to close the commercial sector for the remainder of the fishing year. On and after the effective date of such a notification, all sale or purchase of gray triggerfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and gray triggerfish are overfished, based on the most recent Status of U.S. Fisheries Report to Congress, the AA will file a notification with the Office of the Federal Register, at or near the beginning of the following fishing year to reduce the ACL for that following year by the amount of the overage in the prior fishing year.

(2) Recreational sector. If recreational landings for gray triggerfish, as estimated by the SRD, exceed the recreational ACL of 367,303 lb (166,606 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(r) Wreckfish—(1) Commercial sector. The ITQ program for wreckfish in the South Atlantic serves as the accountability measures for commercial wreckfish. The commercial ACL for wreckfish is equal to the commercial quota specified in § 622.190(b).

(2) Recreational sector. If recreational landings for wreckfish, as estimated by the SRD, exceed the recreational ACL of 11,750 lb (5,330 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(s) Blue runner—(1) Commercial sector. (i) If commercial landings for blue runner, as estimated by the SRD, reach or are projected to reach the commercial ACL of 188,329 lb (85,425 kg), round weight, the AA will file a notification with the Office of the Federal Register to close the commercial sector for the remainder of the fishing year. On and after the effective date of such a notification, all sale or purchase of blue runner is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and blue runner are overfished, based on the most recent Status of U.S. Fisheries Report to Congress, the AA will file a notification with the Office of the Federal Register, at or near the beginning of the following fishing year to reduce the ACL for that following year by the amount of the overage in the prior fishing year.

(2) Recreational sector. If recreational landings for blue runner, as estimated by the SRD, exceed the recreational ACL of 1,101,612 lb (499,683 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(t) Atlantic spadefish—(1) Commercial sector. (i) If commercial landings for Atlantic spadefish, as estimated by the SRD, reach or are projected to reach the commercial ACL of 36,476 lb (16,545 kg), round weight, the AA will file a notification with the Office of the Federal Register to close the commercial sector for the remainder of the fishing year. On and after the effective date of such a notification, all sale or purchase of Atlantic spadefish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and Atlantic spadefish are overfished, based on the most recent Status of U.S. Fisheries Report to Congress, the AA will file a notification with the Office of the Federal Register, at or near the beginning of the following fishing year to reduce the ACL for that following year by the amount of the overage in the prior fishing year.

(2) Recreational sector. If recreational landings for Atlantic spadefish, as estimated by the SRD, exceed the recreational ACL of 246,365 lb (111,749 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(u) Hogfish—(1) Commercial sector. (i) If commercial landings for hogfish, as estimated by the SRD, reach or are projected to reach the commercial ACL of 48,772 lb (22,123 kg), round weight, the AA will file a notification with the Office of the Federal Register to close the commercial sector for the remainder of the fishing year. On and after the effective date of such a notification, all sale or purchase of hogfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If commercial landings exceed the ACL, and hogfish are overfished, based on the most recent Status of U.S. Fisheries Report to Congress, the AA will file a notification with the Office of the Federal Register, at or near the beginning of the following fishing year to reduce the ACL for that following year by the amount of the overage in the prior fishing year.

(2) Recreational sector. If recreational landings for hogfish, as estimated by the SRD, exceed the recreational ACL of 98,866 lb (44,845 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(v) Red porgy—(1) Commercial sector. (i) If commercial landings for red porgy, as estimated by the SRD, reach or are projected to reach the quota specified in § 622.190(a)(6), the AA will file a notification with the Office of the Federal Register to close the commercial sector for the remainder of the fishing year.

(ii) If commercial landings exceed the ACL, and red porgy are overfished, based on the most recent Status of U.S. Fisheries Report to Congress, the AA will file a notification with the Office of the Federal Register, at or near the beginning of the following fishing year to reduce the ACL for that following year by the amount of the overage in the prior fishing year.

(2) Recreational sector. If recreational landings for red porgy, as estimated by the SRD, exceed the recreational ACL of 197,652 lb (89,653 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(w) Jolthead porgy, knobbed porgy, whitebone porgy, scup, and saucereye porgy complex—(1) Commercial sector. (i) If commercial landings for jolthead porgy, knobbed porgy, whitebone porgy, scup, and saucereye porgy, combined, as estimated by the SRD, reach or are projected to reach the commercial complex ACL of 35,129 lb (15,934 kg), round weight, the AA will file a notification with the Office of the Federal Register to close the commercial sector for this complex for the remainder of the fishing year. On and after the effective date of such a notification, all sale or purchase of jolthead porgy, knobbed porgy, whitebone porgy, scup, and saucereye porgy, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(2) Recreational sector. If recreational landings for jolthead porgy, knobbed porgy, whitebone porgy, scup, and saucereye porgy, combined, as estimated by the SRD, exceed the recreational ACL of 112,485 lb (51,022 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

(x) White grunt, sailor's choice, tomtate, and margate complex—(1) Commercial sector. (i) If commercial landings for white grunt, sailor's choice, tomtate, and margate, combined, as estimated by the SRD, reach or are projected to reach the commercial complex ACL of 214,624 lb (97,352 kg), round weight, the AA will file a notification with the Office of the Federal Register to close the commercial sector for this complex for the remainder of the fishing year. On and after the effective date of such a notification, all sale or purchase of white grunt, sailor's choice, tomtate, and margate, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e., in state or Federal waters.

(ii) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(2) Recreational sector. If recreational landings for white grunt, sailor's choice, tomtate, and margate, as estimated by the SRD, exceed the recreational ACL of 562,151 lb (254,987 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

§ 622.194 Adjustment of management measures.

In accordance with the framework procedures of the FMP for the Snapper-Grouper Fishery of the South Atlantic Region, the RA may establish or modify the following items specified in paragraph (a) of this section for South Atlantic snapper-grouper and wreckfish.

(a) Biomass levels, age-structured analyses, target dates for rebuilding overfished species, MSY, ABC, TAC, quotas, annual catch limits (ACLs), target catch levels, accountability measures (AMs), trip limits, bag limits, minimum sizes, gear restrictions (ranging from regulation to complete prohibition), seasonal or area closures, definitions of essential fish habitat, essential fish habitat, essential fish habitat HAPCs or Coral HAPCs, and restrictions on gear and fishing activities applicable in essential fish habitat and essential fish habitat HAPCs.

(b) [Reserved]

§ 622.195 Prohibitions.

In addition to the prohibitions in § 600.725 of this chapter and the general prohibitions in § 622.13, it is unlawful for any person to violate any provisions of §§ 622.170 through 622.194.

Subpart J—-Shrimp Fishery of the South Atlantic Region

§ 622.200 Permits.

(a) Commercial vessel permits—(1) South Atlantic penaeid shrimp. For a person aboard a trawler to fish for penaeid shrimp in the South Atlantic EEZ or possess penaeid shrimp in or from the South Atlantic EEZ, a valid commercial vessel permit for South Atlantic penaeid shrimp must have been issued to the vessel and must be on board.

(2) South Atlantic rock shrimp. (i) For a person aboard a vessel to fish for rock shrimp in the South Atlantic EEZ off North Carolina or off South Carolina or possess rock shrimp in or from the South Atlantic EEZ off those states, a Commercial Vessel Permit for Rock Shrimp (Carolinas Zone) or a Commercial Vessel Permit for Rock Shrimp (South Atlantic EEZ) must be issued to the vessel and must be on board.

(ii) For a person aboard a vessel to fish for rock shrimp in the South Atlantic EEZ off Georgia or off Florida or possess rock shrimp in or from the South Atlantic EEZ off those states, a Commercial Vessel Permit for Rock Shrimp (South Atlantic EEZ) must be issued to the vessel and must be on board. A Commercial Vessel Permit for Rock Shrimp (South Atlantic EEZ) is a limited access permit. See § 622.201 for limitations on the issuance, transfer, or renewal of a Commercial Vessel Permit for Rock Shrimp (South Atlantic EEZ).

(b) Operator permits. (1) An operator of a vessel that has or is required to have a Commercial Vessel Permit for Rock Shrimp (Carolinas Zone) or a Commercial Vessel Permit for Rock Shrimp (South Atlantic EEZ) issued under this section is required to have an operator permit.

(2) A person required to have an operator permit under paragraph (b)(1) of this section must carry on board such permit and one other form of personal identification that includes a picture (driver's license, passport, etc.).

(3) An owner of a vessel that is required to have a permitted operator under paragraph (b)(1) of this section must ensure that at least one person with a valid operator permit is aboard while the vessel is at sea or offloading.

(4) An owner of a vessel that is required to have a permitted operator under paragraph (b)(1) of this section and the operator of such vessel are responsible for ensuring that a person whose operator permit is suspended, revoked, or modified pursuant to subpart D of 15 CFR part 904 is not aboard that vessel.

(c) Dealer permits. (1) For a dealer to receive rock shrimp harvested from the South Atlantic EEZ, a dealer permit for South Atlantic rock shrimp must be issued to the dealer.

(2) State license and facility requirements. To obtain a dealer permit, the applicant must have a valid state wholesaler's license in the state(s) where the dealer operates, if required by such state(s), and must have a physical facility at a fixed location in such state(s).

(d) Permit procedures. See § 622.4 for information regarding general permit procedures including, but not limited to application, fees, duration, transfer, renewal, display, sanctions and denials, and replacement.

§ 622.201 South Atlantic rock shrimp limited access.

(a) Commercial Vessel Permits for Rock Shrimp (South Atlantic EEZ). For a person aboard a vessel to fish for rock shrimp in the South Atlantic EEZ off Georgia or off Florida or possess rock shrimp in or from the South Atlantic EEZ off those states, a Commercial Permit for Rock Shrimp (South Atlantic EEZ) must be issued to the vessel and must be on board. No applications for additional Commercial Vessel Permits for Rock Shrimp (South Atlantic EEZ) will be accepted.

(b) Transfer of an existing permit. A Commercial Vessel Permit for Rock Shrimp (South Atlantic EEZ) is valid only for the vessel and owner named on the permit. To change either the vessel or the owner, a complete application for transfer must be submitted to the RA. An owner of a vessel with a permit may request that the RA transfer a valid permit to another vessel owned by the same entity, to the same vessel owned by another entity, or to another vessel with another owner. A transfer of a permit under this paragraph will include the transfer of the vessel's entire catch history of South Atlantic rock shrimp to a new owner; no partial transfers are allowed.

(c) Renewal. The RA will not reissue a Commercial Vessel Permit for Rock Shrimp (South Atlantic EEZ) if the permit is revoked or if the RA does not receive an application for renewal of the permit within 1 year after the expiration date of the permit.

(d) Limitation on permits. A vessel for which a permit for South Atlantic rock shrimp is required may be issued either a Commercial Vessel Permit for Rock Shrimp (Carolinas Zone) or a Commercial Vessel Permit for Rock Shrimp (South Atlantic EEZ), depending on its eligibility. However, no such vessel may be issued both permits for the same period of effectiveness.

§ 622.202 [Reserved]

§ 622.203 Recordkeeping and reporting.

(a) Commercial vessel owners and operators—(1) Reporting requirement. The owner or operator of a vessel that fishes for shrimp in the South Atlantic EEZ or in adjoining state waters, or that lands shrimp in an adjoining state, must provide information for any fishing trip, as requested by the SRD, including, but not limited to, vessel identification, gear, effort, amount of shrimp caught by species, shrimp condition (heads on/heads off), fishing areas and depths, and person to whom sold.

(2) Reporting deadline. Completed fishing records required by paragraphs (a)(1) of this section must be submitted to the SRD postmarked not later than 7 days after the end of each fishing trip. If no fishing occurred during a calendar month, a report so stating must be submitted on one of the forms postmarked not later than 7 days after the end of that month. Information to be reported is indicated on the form and its accompanying instructions.

(b) South Atlantic rock shrimp dealers. (1) A dealer who has been issued a permit for rock shrimp, as required under § 622.200(c), and who is selected by the SRD must provide information on receipts of rock shrimp and prices paid on forms available from the SRD. The required information must be submitted to the SRD at monthly intervals postmarked not later than 5 days after the end of each month. Reporting frequencies and reporting deadlines may be modified upon notification by the SRD.

(2) On demand, a dealer who has been issued a dealer permit for rock shrimp, as required under § 622.200(c), must make available to an authorized officer all records of offloadings, purchases, or sales of rock shrimp.

§ 622.204 At-sea observer coverage.

(a) Required coverage. A vessel for which a Federal commercial permit for South Atlantic rock shrimp or South Atlantic penaeid shrimp has been issued must carry a NMFS-approved observer, if the vessel's trip is selected by the SRD for observer coverage.

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.205 Vessel monitoring systems (VMSs).

(a) VMS requirement for South Atlantic rock shrimp. An owner or operator of a vessel that has been issued a limited access endorsement for South Atlantic rock shrimp (until January 27, 2010) or a Commercial Vessel Permit for Rock Shrimp (South Atlantic EEZ) must ensure that such vessel has an operating VMS approved by NMFS for use in the South Atlantic rock shrimp fishery on board when on a trip in the South Atlantic. An operating VMS includes an operating mobile transmitting unit on the vessel and a functioning communication link between the unit and NMFS as provided by a NMFS-approved communication service provider.

(b) Installation and activation of a VMS. Only a VMS that has been approved by NMFS for the South Atlantic rock shrimp fishery may be used, and the VMS must be installed by a qualified marine electrician. When installing and activating the NMFS-approved VMS, or when reinstalling and reactivating such VMS, the vessel owner or operator must—

(1) Follow procedures indicated on a NMFS-approved installation and activation checklist for the applicable fishery, which is available from NMFS Office for Law Enforcement, Southeast Region, 263 13th Avenue South, St. Petersburg, FL 33701; phone: 800-758-4833; and

(2) Submit to NMFS Office for Law Enforcement, Southeast Region, 263 13th Avenue South, St. Petersburg, FL 33701, a statement certifying compliance with the checklist, as prescribed on the checklist.

(3) Submit to NMFS Office for Law Enforcement, Southeast Region, 263 13th Avenue South, St. Petersburg, FL 33701, a vendor-completed installation certification checklist, which is available from NMFS Office for Law Enforcement, Southeast Region, 263 13th Avenue South, St. Petersburg, FL 33701; phone: 800-758-4833.

(c) Interference with the VMS. No person may interfere with, tamper with, alter, damage, disable, or impede the operation of the VMS, or attempt any of the same.

(d) Interruption of operation of the VMS. When a vessel's VMS is not operating properly, the owner or operator must immediately contact NMFS Office for Law Enforcement, Southeast Region, 263 13th Avenue South, St. Petersburg, FL 33701, phone: 800-758-4833, and follow instructions from that office. If notified by NMFS that a vessel's VMS is not operating properly, the owner and operator must follow instructions from that office. In either event, such instructions may include, but are not limited to, manually communicating to a location designated by NMFS the vessel's positions or returning to port until the VMS is operable.

(e) Access to position data. As a condition of authorized fishing for or possession of fish in a fishery subject to VMS requirements in this section, a vessel owner or operator subject to the requirements for a VMS in this section must allow NMFS, the USCG, and their authorized officers and designees access to the vessel's position data obtained from the VMS.

§ 622.206 Area and seasonal closures.

(a) South Atlantic shrimp cold weather closure. (1) Pursuant to the procedures and criteria established in the FMP for the Shrimp Fishery of the South Atlantic Region, when Florida, Georgia, North Carolina, or South Carolina closes all or a portion of its waters of the South Atlantic to the harvest of brown, pink, and white shrimp, the Assistant Administrator may concurrently close the South Atlantic EEZ adjacent to the closed state waters by filing a notification of closure with the Office of the Federal Register. Closure of the adjacent EEZ will be effective until the ending date of the closure in state waters, but may be ended earlier based on the state's request. In the latter case, the Assistant Administrator will terminate a closure of the EEZ by filing a notification to that effect with the Office of the Federal Register.

(2) During a closure, as specified in paragraph (a)(1) of this section—

(i) No person may trawl for brown shrimp, pink shrimp, or white shrimp in the closed portion of the EEZ (closed area); and no person may possess on board a fishing vessel brown shrimp, pink shrimp, or white shrimp in or from a closed area, except as authorized in paragraph (a)(2)(iii) of this section.

(ii) No person aboard a vessel trawling in that part of a closed area that is within 25 nm of the baseline from which the territorial sea is measured may use or have on board a trawl net with a mesh size less than 4 inches (10.2 cm), as measured between the centers of opposite knots when pulled taut.

(iii) Brown shrimp, pink shrimp, or white shrimp may be possessed on board a fishing vessel in a closed area, provided the vessel is in transit and all trawl nets with a mesh size less than 4 inches (10.2 cm), as measured between the centers of opposite knots when pulled taut, are stowed below deck while transiting the closed area. For the purpose of this paragraph, a vessel is in transit when it is on a direct and continuous course through a closed area.

(b) [Reserved]

§ 622.207 Bycatch Reduction Device (BRD) requirements.

(a) BRD requirement for South Atlantic shrimp. On a shrimp trawler in the South Atlantic EEZ, each net that is rigged for fishing must have a BRD installed that is listed in paragraph (a)(3) of this section and is certified or provisionally certified for the area in which the shrimp trawler is located, unless exempted as specified in paragraphs (a)(1)(i) through (iii) of this section. A trawl net is rigged for fishing if it is in the water, or if it is shackled, tied, or otherwise connected to a sled, door, or other device that spreads the net, or to a tow rope, cable, pole, or extension, either on board or attached to a shrimp trawler.

(1) Exemptions from BRD requirement--(i) Try net exemption. A shrimp trawler is exempt from the requirement to have a certified or provisionally certified BRD installed in a single try net with a headrope length of 16 ft (4.9 m) or less provided the single try net is either placed immediately in front of another net or is not connected to another net.

(ii) Roller trawl exemption. A shrimp trawler is exempt from the requirement to have a certified or provisionally certified BRD installed in up to two rigid-frame roller trawls that are 16 ft (4.9 m) or less in length used or possessed on board. A rigid-frame roller trawl is a trawl that has a mouth formed by a rigid frame and a grid of rigid vertical bars; has rollers on the lower horizontal part of the frame to allow the trawl to roll over the bottom and any obstruction while being towed; and has no doors, boards, or similar devices attached to keep the mouth of the trawl open.

(iii) BRD certification testing exemption. A shrimp trawler that is authorized by the RA to participate in the pre-certification testing phase or to test a BRD in the EEZ for possible certification, has such written authorization on board, and is conducting such test in accordance with the “Bycatch Reduction Device Testing Manual” is granted a limited exemption from the BRD requirement specified in this section. The exemption from the BRD requirement is limited to those trawls that are being used in the certification trials. All other trawls rigged for fishing must be equipped with certified or provisionally certified BRDs.

(2) Procedures for certification and decertification of BRDs. The process for the certification of BRDs consists of two phases—an optional pre-certification phase and a required certification phase. The RA may also provisionally certify a BRD.

(i) Pre-certification. The pre-certification phase allows a person to test and evaluate a new BRD design for up to 60 days without being subject to the observer requirements and rigorous testing requirements specified for certification testing in the “Bycatch Reduction Device Testing Manual.”

(A) A person who wants to conduct pre-certification phase testing must submit an application to the RA, as specified in the “Bycatch Reduction Device Testing Manual.” The “Bycatch Reduction Device Testing Manual”, which is available from the RA, upon request, contains the application forms.

(B) After reviewing the application, the RA will determine whether to issue a letter of authorization (LOA) to conduct pre-certification trials upon the vessel specified in the application. If the RA authorizes pre-certification, the RA's LOA must be on board the vessel during any trip involving the BRD testing.

(ii) Certification. A person who proposes a BRD for certification for use in the South Atlantic EEZ must submit an application to test such BRD, conduct the testing, and submit the results of the test in accordance with the “Bycatch Reduction Device Testing Manual.” The RA will issue a LOA to conduct certification trials upon the vessel specified in the application if the RA finds that: The operation plan submitted with the application meets the requirements of the “Bycatch Reduction Device Testing Manual”; the observer identified in the application is qualified; and the results of any pre-certification trials conducted have been reviewed and deemed to indicate a reasonable scientific basis for conducting certification testing. If authorization to conduct certification trials is denied, the RA will provide a letter of explanation to the applicant, together with relevant recommendations to address the deficiencies resulting in the denial. To be certified for use in the fishery, the BRD candidate must successfully demonstrate a 30-percent reduction in total weight of finfish bycatch. In addition, the BRD candidate must satisfy the following conditions: There is at least a 50-percent probability the true reduction rate of the BRD candidate meets the bycatch reduction criterion and there is no more than a 10-percent probability the true reduction rate of the BRD candidate is more than 5 percentage points less than the bycatch reduction criterion. If a BRD meets both conditions, consistent with the “Bycatch Reduction Device Testing Manual”, NMFS, through appropriate rulemaking procedures, will add the BRD to the list of certified BRDs in paragraph (a)(3) of this section; and provide the specifications for the newly certified BRD, including any special conditions deemed appropriate based on the certification testing results.

(iii) Provisional certification. Based on data provided consistent with the “Bycatch Reduction Device Testing Manual”, the RA may provisionally certify a BRD if there is at least a 50-percent probability the true reduction rate of the BRD is no more than 5 percentage points less than the bycatch reduction criterion, i.e. 25 percent reduction in total weight of finfish bycatch. Through appropriate rulemaking procedures, NMFS will add the BRD to the list of provisionally certified BRDs in paragraph (a)(3) of this section; and provide the specifications for the BRD, including any special conditions deemed appropriate based on the certification testing results. A provisional certification is effective for 2 years from the date of publication of the notification in the Federal Register announcing the provisional certification.

(iv) Decertification. The RA will decertify a BRD if NMFS determines the BRD does not meet the requirements for certification or provisional certification. Before determining whether to decertify a BRD, the RA will notify the South Atlantic Fishery Management Council in writing, and the public will be provided an opportunity to comment on the advisability of any proposed decertification. The RA will consider any comments from the Council and public, and if the RA elects to decertify the BRD, the RA will proceed with decertification via appropriate rulemaking.

(3) Certified and provisionally certified BRDs—(i) Certified BRDS. The following BRDs are certified for use in the South Atlantic EEZ. Specifications of these certified BRDs are contained in Appendix D to this part.

(A) Fisheye--see Appendix D to part 622 for separate specifications in the Gulf and South Atlantic EEZ.

(B) Gulf fisheye.

(C) Jones-Davis.

(D) Modified Jones-Davis.

(E) Expanded mesh.

(F) Extended funnel.

(G) Cone Fish Deflector Composite Panel.

(H) Square Mesh Panel (SMP) Composite Panel.

(ii) [Reserved]

(b) [Reserved]

§ 622.208 Minimum mesh size applicable to rock shrimp off Georgia and Florida.

(a) The minimum mesh size for the cod end of a rock shrimp trawl net in the South Atlantic EEZ off Georgia and Florida is 1⅞ inches (4.8 cm), stretched mesh. This minimum mesh size is required in at least the last 40 meshes forward of the cod end drawstring (tie-off rings), and smaller-mesh bag liners are not allowed. A vessel that has a trawl net on board that does not meet these requirements may not possess a rock shrimp in or from the South Atlantic EEZ off Georgia and Florida.

(b) [Reserved]

§ 622.209 Restrictions on sale/purchase.

(a) South Atlantic rock shrimp. (1) Rock shrimp harvested in the South Atlantic EEZ on board a vessel that does not have a valid commercial permit for rock shrimp, as required under § 622.200(a)(2), may not be transferred, received, sold, or purchased.

(2) Rock shrimp harvested on board a vessel that has a valid commercial permit for rock shrimp may be transferred or sold only to a dealer who has a valid permit for rock shrimp, as required under § 622.200(c).

(3) Rock shrimp harvested in the South Atlantic EEZ may be received or purchased by a dealer who has a valid permit for rock shrimp, as required under § 622.200(c), only from a vessel that has a valid commercial permit for rock shrimp.

(b) [Reserved]

§ 622.210 Adjustment of management measures.

In accordance with the framework procedures of the FMP for the Shrimp Fishery of the South Atlantic Region, the RA may establish or modify the items specified in paragraph (a) of this section for South Atlantic shrimp.

(a) Biomass levels, age-structured analyses, BRD certification criteria, BRD specifications, BRD testing protocol, certified BRDs, nets required to use BRDs, times and locations when the use of BRDs is required, definitions of essential fish habitat, and essential fish habitat HAPCs or Coral HAPCs.

(b) [Reserved]

§ 622.211 Prohibitions.

In addition to the prohibitions in § 600.725 of this chapter and the general prohibitions in § 622.13, it is unlawful for any person to violate any provisions of §§ 622.200 through 622.210.

Subpart K—Coral, Coral Reefs, and Live/Hard Bottom Habitats of the South Atlantic Region

§ 622.220 Permits.

See § 622.4 for information regarding general permit procedures including, but not limited to fees, duration, transfer, renewal, display, sanctions and denials, and replacement.

(a) Required permits—(1) Allowable chemical. For an individual to take or possess fish or other marine organisms with an allowable chemical in a coral area, other than fish or other marine organisms that are landed in Florida, a Federal allowable chemical permit must have been issued to the individual. Such permit must be available when the permitted activity is being conducted and when such fish or other marine organisms are possessed, through landing ashore.

(2) Allowable octocoral. For an individual to take or possess allowable octocoral in the South Atlantic EEZ, other than allowable octocoral that is landed in Florida, a Federal allowable octocoral permit must have been issued to the individual. Such permit must be available for inspection when the permitted activity is being conducted and when allowable octocoral is possessed, through landing ashore.

(3) Aquacultured live rock. For a person to take or possess aquacultured live rock in the South Atlantic EEZ, a Federal aquacultured live rock permit must have been issued for the specific harvest site. Such permit, or a copy, must be on board a vessel depositing or possessing material on an aquacultured live rock site or harvesting or possessing live rock from an aquacultured live rock site.

(4) Prohibited coral. A Federal permit may be issued to take or possess South Atlantic prohibited coral only as scientific research activity, exempted fishing, or exempted educational activity. See § 600.745 of this chapter for the procedures and limitations for such activities and fishing.

(5) Florida permits. Appropriate Florida permits and endorsements are required for the following activities, without regard to whether they involve activities in the EEZ or Florida's waters:

(i) Landing in Florida fish or other marine organisms taken with an allowable chemical in a coral area.

(ii) Landing allowable octocoral in Florida.

(iii) Landing live rock in Florida.

(b) Application. (1) The applicant for a coral permit must be the individual who will be conducting the activity that requires the permit. In the case of a corporation or partnership that will be conducting live rock aquaculture activity, the applicant must be the principal shareholder or a general partner.

(2) An applicant must provide the following:

(i) Name, address, telephone number, and other identifying information of the applicant.

(ii) Name and address of any affiliated company, institution, or organization.

(iii) Information concerning vessels, harvesting gear/methods, or fishing areas, as specified on the application form.

(iv) Any other information that may be necessary for the issuance or administration of the permit.

(v) If applying for an aquacultured live rock permit, identification of each vessel that will be depositing material on or harvesting aquacultured live rock from the proposed aquacultured live rock site, specification of the port of landing of aquacultured live rock, and a site evaluation report prepared pursuant to generally accepted industry standards that—

(A) Provides accurate coordinates of the proposed harvesting site so that it can be located using LORAN or Global Positioning System equipment;

(B) Shows the site on a chart in sufficient detail to determine its size and allow for site inspection;

(C) Discusses possible hazards to safe navigation or hindrance to vessel traffic, traditional fishing operations, or other public access that may result from aquacultured live rock at the site;

(D) Describes the naturally occurring bottom habitat at the site; and

(E) Specifies the type and origin of material to be deposited on the site and how it will be distinguishable from the naturally occurring substrate.

§ 622.221 Recordkeeping and reporting.

(a) Individuals with coral or live rock permits. (1) An individual with a Federal allowable octocoral permit must submit a report of harvest to the SRD. Specific reporting requirements will be provided with the permit.

(2) A person with a Federal aquacultured live rock permit must report to the RA each deposition of material on a site. Such reports must be postmarked not later than 7 days after deposition and must contain the following information:

(i) Permit number of site and date of deposit.

(ii) Geological origin of material deposited.

(iii) Amount of material deposited.

(iv) Source of material deposited, that is, where obtained, if removed from another habitat, or from whom purchased.

(3) A person who takes aquacultured live rock must submit a report of harvest to the RA. Specific reporting requirements will be provided with the permit. This reporting requirement is waived for aquacultured live rock that is landed in Florida.

(b) [Reserved]

§ 622.222 Prohibited gear and methods.

Also see § 622.9 for additional prohibited gear and methods that apply more broadly to multiple fisheries or in some cases all fisheries.

(a) Power-assisted tools. A power-assisted tool may not be used in the South Atlantic EEZ to take allowable octocoral, prohibited coral, or live rock.

(b) [Reserved]

§ 622.223 Prohibited species.

(a) General. The harvest and possession restrictions of this section apply without regard to whether the species is harvested by a vessel operating under a commercial vessel permit. The operator of a vessel that fishes in the EEZ is responsible for the limit applicable to that vessel.

(b) Prohibited coral. South Atlantic prohibited coral taken as incidental catch in the South Atlantic EEZ must be returned immediately to the sea in the general area of fishing. In fisheries where the entire catch is landed unsorted, such as the scallop and groundfish fisheries, unsorted prohibited coral may be landed ashore; however, no person may sell or purchase such prohibited coral.

(c) Wild live rock. Wild live rock may not be harvested or possessed in the South Atlantic EEZ.

(d) Octocoral. Octocoral may not be harvested or possessed in or from the portion of the South Atlantic EEZ managed under the FMP. Octocoral collected in the portion of the South Atlantic EEZ managed under the FMP must be released immediately with a minimum of harm.

§ 622.224 Area closures to protect South Atlantic corals.

(a) Allowable octocoral closed area. No person may harvest or possess allowable octocoral in the South Atlantic EEZ north of 28°35.1′ N. lat. (due east of the NASA Vehicle Assembly Building, Cape Canaveral, FL).

(b) Oculina Bank—(1) HAPC. The Oculina Bank HAPC encompasses an area bounded on the north by 28°30′ N. lat., on the south by 27°30′ N. lat., on the east by the 100-fathom (183-m) contour, as shown on the latest edition of NOAA chart 11460, and on the west by 80°00′ W. long.; and two adjacent areas: the first bounded on the north by 28°30′ N. lat., on the south by 28°29′ N. lat., on the east by 80°00′ W. long., and on the west by 80°03′ W. long.; and the second bounded on the north by 28°17′ N. lat., on the south by 28°16′ N. lat., on the east by 80°00′ W. long., and on the west by 80°03′ W. long.In the Oculina Bank HAPC, no person may:

(i) Use a bottom longline, bottom trawl, dredge, pot, or trap.

(ii) If aboard a fishing vessel, anchor, use an anchor and chain, or use a grapple and chain.

(iii) Fish for rock shrimp or possess rock shrimp in or from the area on board a fishing vessel.

(2) Experimental closed area. Within the Oculina Bank HAPC, the experimental closed area is bounded on the north by 27°53′ N. lat., on the south by 27°30′ N. lat., on the east by 79°56′ W. long., and on the west by 80°00' W. long. No person may fish for South Atlantic snapper-grouper in the experimental closed area, and no person may retain South Atlantic snapper-grouper in or from the area. In the experimental closed area, any South Atlantic snapper-grouper taken incidentally by hook-and-line gear must be released immediately by cutting the line without removing the fish from the water.

(c) Deepwater Coral HAPCs—(1) Locations. The following areas are designated Deepwater Coral HAPCs:

(i) Cape Lookout Lophelia Banks is bounded by rhumb lines connecting, in order, the following points:

Point | North lat. | West long.
Origin | 34°24′37″ | 75°45′11″
1 | 34°10′26″ | 75°58′44″
2 | 34°05′47″ | 75°54′54″
3 | 34°21′02″ | 75°41′25″
Origin | 34°24′37″ | 75°45′11″

(ii) Cape Fear Lophelia Banks is bounded by rhumb lines connecting, in order, the following points:

Point | North lat. | West long.
Origin | 33°38′49″ | 76°29′32″
1 | 33°32′21″ | 76°32′38″
2 | 33°29′49″ | 76°26′19″
3 | 33°36′09″ | 76°23′37″
Origin | 33°38′49″ | 76°29′32″

(iii) Stetson Reefs, Savannah and East Florida Lithotherms, and Miami Terrace (Stetson-Miami Terrace) is bounded by—

(A) Rhumb lines connecting, in order, the following points:

Point | North lat. | West long.
Origin | 28°17′10″ | 79°00′00″
1 | 31°23′37″ | 79°00′00″
2 | 31°23′37″ | 77°16′21″
3 | 32°38′37″ | 77°16′21″
4 | 32°38′21″ | 77°34′06″
5 | 32°35′24″ | 77°37′54″
6 | 32°32′18″ | 77°40′26″
7 | 32°28′42″ | 77°44′10″
8 | 32°25′51″ | 77°47′43″
9 | 32°22′40″ | 77°52′05″
10 | 32°20′58″ | 77°56′29″
11 | 32°20′30″ | 77°57′50″
12 | 32°19′53″ | 78°00′49″
13 | 32°18′44″ | 78°04′35″
14 | 32°17′35″ | 78°07′48″
15 | 32°17′15″ | 78°10′41″
16 | 32°15′50″ | 78°14′09″
17 | 32°15′20″ | 78°15′25″
18 | 32°12′15″ | 78°16′37″
19 | 32°10′26″ | 78°18′09″
20 | 32°04′42″ | 78°21′27″
21 | 32°03′41″ | 78°24′07″
22 | 32°04′58″ | 78°29′19″
23 | 32°06′59″ | 78°30′48″
24 | 32°09′27″ | 78°31′31″
25 | 32°11′23″ | 78°32′47″
26 | 32°13′09″ | 78°34′04″
27 | 32°14′08″ | 78°34′36″
28 | 32°12′48″ | 78°36′34″
29 | 32°13′07″ | 78°39′07″
30 | 32°14′17″ | 78°40′01″
31 | 32°16′20″ | 78°40′18″
32 | 32°16′33″ | 78°42′32″
33 | 32°14′26″ | 78°43′23″
34 | 32°11′14″ | 78°45′42″
35 | 32°10′19″ | 78°49′08″
36 | 32°09′42″ | 78°52′54″
37 | 32°08′15″ | 78°56′11″
38 | 32°05′00″ | 79°00′30″
39 | 32°01′54″ | 79°02′49″
40 | 31°58′40″ | 79°04′51″
41 | 31°56′32″ | 79°06′48″
42 | 31°53′27″ | 79°09′18″
43 | 31°50′56″ | 79°11′29″
44 | 31°49′07″ | 79°13′35″
45 | 31°47′56″ | 79°16′08″
46 | 31°47′11″ | 79°16′30″
47 | 31°46′29″ | 79°16′25″
48 | 31°44′31″ | 79°17′24″
49 | 31°43′20″ | 79°18′27″
50 | 31°42′26″ | 79°20′41″
51 | 31°41′09″ | 79°22′26″
52 | 31°39′36″ | 79°23′59″
53 | 31°37′54″ | 79°25′29″
54 | 31°35′57″ | 79°27′14″
55 | 31°34′14″ | 79°28′24″
56 | 31°31′08″ | 79°29′59″
57 | 31°30′26″ | 79°29′52″
58 | 31°29′11″ | 79°30′11″
59 | 31°27′58″ | 79°31′41″
60 | 31°27′06″ | 79°32′08″
61 | 31°26′22″ | 79°32′48″
62 | 31°24′21″ | 79°33′51″
63 | 31°22′53″ | 79°34′41″
64 | 31°21′03″ | 79°36′01″
65 | 31°20′00″ | 79°37′12″
66 | 31°18′34″ | 79°38′15″
67 | 31°16′49″ | 79°38′36″
68 | 31°13′06″ | 79°38′19″
70 | 31°11′04″ | 79°38′39″
70 | 31°09′28″ | 79°39′09″
71 | 31°07′44″ | 79°40′21″
72 | 31°05′53″ | 79°41′27″
73 | 31°04′40″ | 79°42′09″
74 | 31°02′58″ | 79°42′28″
75 | 31°01′03″ | 79°42′40″
76 | 30°59′50″ | 79°42′43″
77 | 30°58′27″ | 79°42′43″
78 | 30°57′15″ | 79°42′50″
79 | 30°56′09″ | 79°43′28″
80 | 30°54′49″ | 79°44′53″
81 | 30°53′44″ | 79°46′24″
82 | 30°52′47″ | 79°47′40″
83 | 30°51′45″ | 79°48′16″
84 | 30°48′36″ | 79°49′02″
85 | 30°45′24″ | 79°49′55″
86 | 30°41′36″ | 79°51′31″
87 | 30°38′38″ | 79°52′23″
88 | 30°35′29″ | 79°52′54″
89 | 30°32′55″ | 79°54′19″
90 | 30°31′05″ | 79°55′27″
91 | 30°28′09″ | 79°56′06″
92 | 30°26′57″ | 79°56′34″
93 | 30°25′25″ | 79°57′36″
94 | 30°23′03″ | 79°58′25″
95 | 30°21′27″ | 79°59′24″
96 | 30°18′22″ | 80°00′09″
97 | 30°16′34″ | 80°00′33″
98 | 30°14′55″ | 80°00′23″
99 | 30°12′36″ | 80°01′44″
100 | 30°12′00″ | 80°01′49″
101 | 30°06′52″ | 80°01′58″
102 | 29°59′16″ | 80°04′11″
103 | 29°49′12″ | 80°05′44″
104 | 29°43′59″ | 80°06′24″
105 | 29°38′37″ | 80°06′53″
106 | 29°36′54″ | 80°07′18″
107 | 29°31′59″ | 80°07′32″
108 | 29°29′14″ | 80°07′18″
109 | 29°21′48″ | 80°05′01″
110 | 29°20′25″ | 80°04′29″
111 | 29°08′00″ | 79°59′43″
112 | 29°06′56″ | 79°59′07″
113 | 29°05′59″ | 79°58′44″
114 | 29°03′34″ | 79°57′37″
115 | 29°02′11″ | 79°56′59″
116 | 29°00′00″ | 79°55′32″
117 | 28°56′55″ | 79°54′22″
118 | 28°55′00″ | 79°53′31″
119 | 28°53′35″ | 79°52′51″
120 | 28°51′47″ | 79°52′07″
121 | 28°50′25″ | 79°51′27″
122 | 28°49′53″ | 79°51′20″
123 | 28°49′01″ | 79°51′20″
124 | 28°48′19″ | 79°51′10″
125 | 28°47′13″ | 79°50′59″
126 | 28°43′30″ | 79°50′36″
127 | 28°41′05″ | 79°50′04″
128 | 28°40′27″ | 79°50′07″
129 | 28°39′50″ | 79°49′56″
130 | 28°39′04″ | 79°49′58″
131 | 28°36′43″ | 79°49′35″
132 | 28°35′01″ | 79°49′24″
133 | 28°30′37″ | 79°48′35″
134 | 28°14′00″ | 79°46′20″
135 | 28°11′41″ | 79°46′12″
136 | 28°08′02″ | 79°45′45″
137 | 28°01′20″ | 79°45′20″
138 | 27°58′13″ | 79°44′51″
139 | 27°56′23″ | 79°44′53″
140 | 27°49′40″ | 79°44′25″
141 | 27°46′27″ | 79°44′22″
142 | 27°42′00″ | 79°44′33″
143 | 27°36′08″ | 79°44′58″
144 | 27°30′00″ | 79°45′29″
145 | 27°29′04″ | 79°45′47″
146 | 27°27′05″ | 79°45′54″
147 | 27°25′47″ | 79°45′57″
148 | 27°19′46″ | 79°45′14″
149 | 27°17′54″ | 79°45′12″
150 | 27°12′28″ | 79°45′00″
151 | 27°07′45″ | 79°46′07″
152 | 27°04′47″ | 79°46′29″
153 | 27°00′43″ | 79°46′39″
154 | 26°58′43″ | 79°46′28″
155 | 26°57′06″ | 79°46′32″
156 | 26°49′58″ | 79°46′54″
157 | 26°48′58″ | 79°46′56″
158 | 26°47′01″ | 79°47′09″
159 | 26°46′04″ | 79°47′09″
160 | 26°35′09″ | 79°48′01″
161 | 26°33′37″ | 79°48′21″
162 | 26°27′56″ | 79°49′09″
163 | 26°25′55″ | 79°49′30″
164 | 26°21′05″ | 79°50′03″
165 | 26°20′30″ | 79°50′20″
166 | 26°18′56″ | 79°50′17″
167 | 26°16′19″ | 79°54′06″
168 | 26°13′48″ | 79°54′48″
169 | 26°12′19″ | 79°55′37″
170 | 26°10′57″ | 79°57′05″
171 | 26°09′17″ | 79°58′45″
172 | 26°07′11″ | 80°00′22″
173 | 26°06′12″ | 80°00′33″
174 | 26°03′26″ | 80°01′02″
175 | 26°00′35″ | 80°01′13″
176 | 25°49′10″ | 80°00′38″
177 | 25°48′30″ | 80°00′23″
178 | 25°46′42″ | 79°59′14″
179 | 25°27′28″ | 80°02′26″
180 | 25°24′06″ | 80°01′44″
181 | 25°21′04″ | 80°01′27″
182 | 25°21′04″ | 79°42′04″

(B) The outer boundary of the EEZ in a northerly direction from Point 182 to the Origin.

(iv) Pourtales Terrace is bounded by—

(A) Rhumb lines connecting, in order, the following points:

Point | North lat. | West long.
Origin | 24°20′12″ | 80°43′50″
1 | 24°33′42″ | 80°34′23″
2 | 24°37′45″ | 80°31′20″
3 | 24°47′18″ | 80°23′08″
4 | 24°51′08″ | 80°27′58″
5 | 24°42′52″ | 80°35′51″
6 | 24°29′44″ | 80°49′45″
7 | 24°15′04″ | 81°07′52″
8 | 24°10′55″ | 80°58′11″

(B) The outer boundary of the EEZ in a northerly direction from Point 8 to the Origin.

(v) Blake Ridge Diapir is bounded by rhumb lines connecting, in order, the following points:

Point | North lat. | West long.
Origin | 32°32′28″ | 76°13′16″
1 | 32°30′44″ | 76°13′24″
2 | 32°30′37″ | 76°11′21″
3 | 32°32′21″ | 76°11′13″
Origin | 32°32′28″ | 76°13′16″

(2) Restrictions. In the Deepwater Coral HAPCs specified in paragraph (c)(1) of this section, no person may:

(i) Use a bottom longline, trawl (mid-water or bottom), dredge, pot, or trap.

(ii) If aboard a fishing vessel, anchor, use an anchor and chain, or use a grapple and chain.

(iii) Fish for coral or possess coral in or from the Deepwater Coral HAPC on board a fishing vessel.

(3) Shrimp fishery access areas. The provisions of paragraph (c)(2)(i) of this section notwithstanding, an owner or operator of a vessel for which a valid commercial vessel permit for rock shrimp (South Atlantic EEZ) has been issued may trawl for shrimp in the following portions of the Stetson-Miami Terrace Deepwater Coral HAPC:

(i) Shrimp access area A is bounded by rhumb lines connecting, in order, the following points:

Point | North lat. | West long.
Origin | 30°12′00″ | 80°01′49″
1 | 30°06′52″ | 80°01′58″
2 | 29°59′16″ | 80°04′11″
3 | 29°49′12″ | 80°05′44″
4 | 29°43′59″ | 80°06′24″
5 | 29°38′37″ | 80°06′53″
6 | 29°36′54″ | 80°07′18″
7 | 29°31′59″ | 80°07′32″
8 | 29°29′14″ | 80°07′18″
9 | 29°21′48″ | 80°05′01″
10 | 29°20′25″ | 80°04′29″
11 | 29°20′25″ | 80°03′11″
12 | 29°21′48″ | 80°03′52″
13 | 29°29′14″ | 80°06′08″
14 | 29°31′59″ | 80°06′23″
15 | 29°36′54″ | 80°06′00″
16 | 29°38′37″ | 80°05′43″
17 | 29°43′59″ | 80°05′14″
18 | 29°49′12″ | 80°04′35″
19 | 29°59′16″ | 80°03′01″
20 | 30°06′52″ | 80°00′46″
21 | 30°12′00″ | 80°00′42″
Origin | 30°12′00″ | 80°01′49″

(ii) Shrimp access area B is bounded by rhumb lines connecting, in order, the following points:

Point | North lat. | West long.
Origin | 29°08′00″ | 79°59′43″
1 | 29°06′56″ | 79°59′07″
2 | 29°05′59″ | 79°58′44″
3 | 29°03′34″ | 79°57′37″
4 | 29°02′11″ | 79°56′59″
5 | 29°00′00″ | 79°55′32″
6 | 28°56′55″ | 79°54′22″
7 | 28°55′00″ | 79°53′31″
8 | 28°53′35″ | 79°52′51″
9 | 28°51′47″ | 79°52′07″
10 | 28°50′25″ | 79°51′27″
11 | 28°49′53″ | 79°51′20″
12 | 28°49′01″ | 79°51′20″
13 | 28°48′19″ | 79°51′10″
14 | 28°47′13″ | 79°50′59″
15 | 28°43′30″ | 79°50′36″
16 | 28°41′05″ | 79°50′04″
17 | 28°40′27″ | 79°50′07″
18 | 28°39′50″ | 79°49′56″
19 | 28°39′04″ | 79°49′58″
20 | 28°36′43″ | 79°49′35″
21 | 28°35′01″ | 79°49′24″
22 | 28°30′37″ | 79°48′35″
23 | 28°30′37″ | 79°47′27″
24 | 28°35′01″ | 79°48′16″
25 | 28°36′43″ | 79°48′27″
26 | 28°39′04″ | 79°48′50″
27 | 28°39′50″ | 79°48′48″
28 | 28°40′27″ | 79°48′58″
29 | 28°41′05″ | 79°48′56″
30 | 28°43′30″ | 79°49′28″
31 | 28°47′13″ | 79°49′51″
32 | 28°48′19″ | 79°50′01″
33 | 28°49′01″ | 79°50′13″
34 | 28°49′53″ | 79°50′12″
35 | 28°50′25″ | 79°50′17″
36 | 28°51′47″ | 79°50′58″
37 | 28°53′35″ | 79°51′43″
38 | 28°55′00″ | 79°52′22″
39 | 28°56′55″ | 79°53′14″
40 | 29°00′00″ | 79°54′24″
41 | 29°02′11″ | 79°55′50″
42 | 29°03′34″ | 79°56′29″
43 | 29°05′59″ | 79°57′35″
44 | 29°06′56″ | 79°57′59″
45 | 29°08′00″ | 79°58′34″
Origin | 29°08′00″ | 79°59′43″

(iii) Shrimp access area C is bounded by rhumb lines connecting, in order, the following points:

Point | North lat. | West long.
Origin | 28°14′00″ | 79°46′20″
1 | 28°11′41″ | 79°46′12″
2 | 28°08′02″ | 79°45′45″
3 | 28°01′20″ | 79°45′20″
4 | 27°58′13″ | 79°44′51″
5 | 27°56′23″ | 79°44′53″
6 | 27°49′40″ | 79°44′25″
7 | 27°46′27″ | 79°44′22″
8 | 27°42′00″ | 79°44′33″
9 | 27°36′08″ | 79°44′58″
10 | 27°30′00″ | 79°45′29″
11 | 27°29′04″ | 79°45′47″
12 | 27°27′05″ | 79°45′54″
13 | 27°25′47″ | 79°45′57″
14 | 27°19′46″ | 79°45′14″
15 | 27°17′54″ | 79°45′12″
16 | 27°12′28″ | 79°45′00″
17 | 27°07′45″ | 79°46′07″
18 | 27°04′47″ | 79°46′29″
19 | 27°00′43″ | 79°46′39″
20 | 26°58′43″ | 79°46′28″
21 | 26°57′06″ | 79°46′32″
22 | 26°57′06″ | 79°44′52″
23 | 26°58′43″ | 79°44′47″
24 | 27°00′43″ | 79°44′58″
25 | 27°04′47″ | 79°44′48″
26 | 27°07′45″ | 79°44′26″
27 | 27°12′28″ | 79°43′19″
28 | 27°17′54″ | 79°43′31″
29 | 27°19′46″ | 79°43′33″
30 | 27°25′47″ | 79°44′15″
31 | 27°27′05″ | 79°44′12″
32 | 27°29′04″ | 79°44′06″
33 | 27°30′00″ | 79°43′48″
34 | 27°30′00″ | 79°44′22″
35 | 27°36′08″ | 79°43′50″
36 | 27°42′00″ | 79°43′25″
37 | 27°46′27″ | 79°43′14″
38 | 27°49′40″ | 79°43′17″
39 | 27°56′23″ | 79°43′45″
40 | 27°58′13″ | 79°43′43″
41 | 28°01′20″ | 79°44′11″
42 | 28°04′42″ | 79°44′25″
43 | 28°08′02″ | 79°44′37″
44 | 28°11′41″ | 79°45′04″
45 | 28°14′00″ | 79°45′12″
Origin | 28°14′00″ | 79°46′20″

(iv) Shrimp access area D is bounded by rhumb lines connecting, in order, the following points:

Point | North lat. | West long.
Origin | 26°49′58″ | 79°46′54″
1 | 26°48′58″ | 79°46′56″
2 | 26°47′01″ | 79°47′09″
3 | 26°46′04″ | 79°47′09″
4 | 26°35′09″ | 79°48′01″
5 | 26°33′37″ | 79°48′21″
6 | 26°27′56″ | 79°49′09″
7 | 26°25′55″ | 79°49′30″
8 | 26°21′05″ | 79°50′03″
9 | 26°20′30″ | 79°50′20″
10 | 26°18′56″ | 79°50′17″
11 | 26°18′56″ | 79°48′37″
12 | 26°20′30″ | 79°48′40″
13 | 26°21′05″ | 79°48′08″
14 | 26°25′55″ | 79°47′49″
15 | 26°27′56″ | 79°47′29″
16 | 26°33′37″ | 79°46′40″
17 | 26°35′09″ | 79°46′20″
18 | 26°46′04″ | 79°45′28″
19 | 26°47′01″ | 79°45′28″
20 | 26°48′58″ | 79°45′15″
21 | 26°49′58″ | 79°45′13″
Origin | 26°49′58″ | 79°46′54″

(4) Golden crab fishery access areas. The provisions of paragraphs (c)(2)(i) and (ii) of this section notwithstanding, an owner or operator of a vessel for which a valid commercial permit for South Atlantic golden crab has been issued may use a trap to fish for golden crab and use a grapple and chain while engaged in such fishing in the following portions of the Stetson-Miami Terrace and the Pourtales Terrace Deepwater Coral HAPCs. Access to an area specified in paragraph (c)(4)(i) through (v) of this section is contingent on that zone being authorized on the vessel's permit for South Atlantic golden crab. See § 622.241(b) for specification of zones.

(i) Golden crab northern zone access area is bounded by rhumb lines connecting, in order, the following points:

Point | North lat. | West long.
Origin | 29°00′00″ | 79°54′24″
1 | 28°56′55″ | 79°53′14″
2 | 28°55′00″ | 79°52′22″
3 | 28°53′35″ | 79°51′43″
4 | 28°51′47″ | 79°50′58″
5 | 28°50′25″ | 79°50′17″
6 | 28°49′53″ | 79°50′12″
7 | 28°49′01″ | 79°50′13″
8 | 28°48′19″ | 79°50′01″
9 | 28°47′13″ | 79°49′51″
10 | 28°43′30″ | 79°49′28″
11 | 28°41′05″ | 79°48′56″
12 | 28°40′27″ | 79°48′58″
13 | 28°39′50″ | 79°48′48″
14 | 28°39′04″ | 79°48′50″
15 | 28°36′43″ | 79°48′27″
16 | 28°35′01″ | 79°48′16″
17 | 28°30′37″ | 79°47′27″
18 | 28°30′37″ | 79°42′12″
19 | 28°14′00″ | 79°40′54″
20 | 28°14′00″ | 79°45′12″
21 | 28°11′41″ | 79°45′04″
22 | 28°08′02″ | 79°44′37″
23 | 28°04′42″ | 79°44′25″
24 | 28°01′20″ | 79°44′11″
25 | 28°00′00″ | 79°43′59″
26 | 28°00′00″ | 79°38′16″
27 | 28°11′42″ | 79°38′13″
28 | 28°23′02″ | 79°38′57″
29 | 28°36′50″ | 79°40′25″
30 | 28°38′33″ | 79°41′33″
31 | 28°38′20″ | 79°43′04″
32 | 28°41′00″ | 79°43′39″
33 | 28°48′16″ | 79°44′32″
34 | 28°54′29″ | 79°45′55″
35 | 29°00′00″ | 79°45′50″
Origin | 29°00′00″ | 79°54′24″

(ii) Golden crab middle zone access area A is bounded by—

(A) Rhumb lines connecting, in order, the following points:

Point | North lat. | West long.
Origin | 26°58′45″ | 79°35′05″
1 | 27°00′39″ | 79°36′26″
2 | 27°07′55″ | 79°37′52″
3 | 27°14′52″ | 79°37′09″
4 | 27°29′21″ | 79°37′15″
5 | 28°00′00″ | 79°38′16″
6 | 28°00′00″ | 79°43′59″
7 | 27°58′13″ | 79°43′43″
8 | 27°56′23″ | 79°43′45″
9 | 27°49′40″ | 79°43′17″
10 | 27°46′27″ | 79°43′14″
11 | 27°42′00″ | 79°43′25″
12 | 27°36′08″ | 79°43′50″
13 | 27°30′00″ | 79°44′22″
14 | 27°30′00″ | 79°43′48″
15 | 27°29′04″ | 79°44′06″
16 | 27°27′05″ | 79°44′12″
17 | 27°25′47″ | 79°44′15″
18 | 27°19′46″ | 79°43′33″
19 | 27°17′54″ | 79°43′31″
20 | 27°12′28″ | 79°43′19″
21 | 27°07′45″ | 79°44′26″
22 | 27°04′47″ | 79°44′48″
23 | 27°00′43″ | 79°44′58″
24 | 26°58′43″ | 79°44′47″
25 | 26°57′06″ | 79°44′52″
26 | 26°57′06″ | 79°42′34″
27 | 26°49′58″ | 79°42′34″
28 | 26°49′58″ | 79°45′13″
29 | 26°48′58″ | 79°45′15″
30 | 26°47′01″ | 79°45′28″
31 | 26°46′04″ | 79°45′28″
32 | 26°35′09″ | 79°46′20″
33 | 26°33′37″ | 79°46′40″
34 | 26°27′56″ | 79°47′29″
35 | 26°25′55″ | 79°47′49″
36 | 26°21′05″ | 79°48′08″
37 | 26°20′30″ | 79°48′40″
38 | 26°18′56″ | 79°48′37″
39 | 26°03′38″ | 79°48′16″
40 | 26°03′35″ | 79°46′09″
41 | 25°58′33″ | 79°46′08″
42 | 25°54′27″ | 79°45′37″
43 | 25°46′55″ | 79°44′14″
44 | 25°38′04″ | 79°45′58″
45 | 25°38′05″ | 79°42′27″

(B) The outer boundary of the EEZ in a northerly direction from Point 45 to Point 46.

(C) Rhumb lines connecting, in order, the following points:

Point | North lat. | West long.
46 | 26°07′49″ | 79°36′07″
47 | 26°17′36″ | 79°36′06″
48 | 26°21′18″ | 79°38′04″
49 | 26°50′46″ | 79°35′12″
50 | 26°50′40″ | 79°33′45″

(D) The outer boundary of the EEZ in a northerly direction from Point 50 to the Origin.

(iii) Golden crab middle zone access area B is bounded by rhumb lines connecting, in order, the following points:

Point | North lat. | West long.
Origin | 25°49′10″ | 80°00′38″
1 | 25°48′30″ | 80°00′23″
2 | 25°46′42″ | 79°59′14″
3 | 25°27′28″ | 80°02′26″
4 | 25°24′06″ | 80°01′44″
5 | 25°21′04″ | 80°01′27″
6 | 25°21′04″ | 79°58′12″
7 | 25°23′25″ | 79°58′19″
8 | 25°32′52″ | 79°54′48″
9 | 25°36′58″ | 79°54′46″
10 | 25°37′20″ | 79°56′20″
11 | 25°49′11″ | 79°56′00″
Origin | 25°49′10″ | 80°00′38″

(iv) Golden crab middle zone access area C is bounded by—

(A) Rhumb lines connecting, in order, the following points:

Point | North lat. | West long.
Origin | 25°33′32″ | 79°42′18″
1 | 25°33′32″ | 79°47′14″
2 | 25°21′04″ | 79°53′45″
3 | 25°21′04″ | 79°42′04″

(B) The outer boundary of the EEZ in a northerly direction from Point 3 to the Origin.

(v) Golden crab southern zone access area is bounded by—

(A) Rhumb lines connecting, in order, the following points:

Point | North lat. | West long.
Origin | 24°14′07″ | 80°53′27″
1 | 24°13′46″ | 81°04′54″
2 | 24°10′55″ | 80°58′11″

(B) The outer boundary of the EEZ in a northerly direction from Point 2 to the Origin.

§ 622.225 Harvest limitations.

(a) Aquacultured live rock. In the South Atlantic EEZ:

(1) Aquacultured live rock may be harvested only under a permit, as required under § 622.220(a)(3), and aquacultured live rock on a site may be harvested only by the person, or his or her employee, contractor, or agent, who has been issued the aquacultured live rock permit for the site. A person harvesting aquacultured live rock is exempt from the prohibition on taking prohibited coral for such prohibited coral as attaches to aquacultured live rock.

(2) The following restrictions apply to individual aquaculture activities:

(i) No aquaculture site may exceed 1 acre (0.4 ha) in size.

(ii) Material deposited on the aquaculture site—

(A) May not be placed over naturally occurring reef outcrops, limestone ledges, coral reefs, or vegetated areas.

(B) Must be free of contaminants.

(C) Must be nontoxic.

(D) Must be placed on the site by hand or lowered completely to the bottom under restraint, that is, not allowed to fall freely.

(E) Must be placed from a vessel that is anchored.

(F) Must be geologically distinguishable from the naturally occurring substrate and, in addition, may be indelibly marked or tagged.

(iii) A minimum setback of at least 50 ft (15.2 m) must be maintained from natural vegetated or hard bottom habitats.

(3) Mechanically dredging or drilling, or otherwise disturbing, aquacultured live rock is prohibited, and aquacultured live rock may be harvested only by hand.

(4) The following activities are also prohibited: Chipping of aquacultured live rock in the EEZ, possession of chipped aquacultured live rock in or from the EEZ, removal of allowable octocoral or prohibited coral from aquacultured live rock in or from the EEZ, and possession of prohibited coral not attached to aquacultured live rock or allowable octocoral, while aquacultured live rock is in possession. See the definition of “Allowable octocoral” for clarification of the distinction between allowable octocoral and live rock. For the purposes of this paragraph (a)(4), chipping means breaking up reefs, ledges, or rocks into fragments, usually by means of a chisel and hammer.

(5) Not less than 24 hours prior to harvest of aquacultured live rock, the owner or operator of the harvesting vessel must provide the following information to the NMFS Office for Law Enforcement, Southeast Region, St. Petersburg, FL, by telephone (727-824-5344):

(i) Permit number of site to be harvested and date of harvest.

(ii) Name and official number of the vessel to be used in harvesting.

(iii) Date, port, and facility at which aquacultured live rock will be landed.

(b) [Reserved]

§ 622.226 Restrictions on sale/purchase.

(a) South Atlantic wild live rock. Wild live rock in or from the South Atlantic EEZ may not be sold or purchased. The prohibition on sale or purchase does not apply to wild live rock from the South Atlantic EEZ that was harvested and landed prior to January 1, 1996.

(b) [Reserved]

§ 622.227 Adjustment of management measures.

In accordance with the framework procedures of the FMP for Coral, Coral Reefs, and Live/Hard Bottom Habitats of the South Atlantic Region, the RA may establish or modify the following:

(a) South Atlantic coral, coral reefs, and live/hard bottom habitats. Definitions of essential fish habitat and essential fish habitat HAPCs or Coral HAPCs.

(b) [Reserved]

§ 622.228 Prohibitions.

In addition to the prohibitions in § 600.725 of this chapter and the general prohibitions in § 622.13, it is unlawful for any person to violate any provisions of §§ 622.220 through 622.227.

Subpart L—Golden Crab Fishery of the South Atlantic Region

§ 622.240 Permits.

(a) Commercial vessel permits. For a person aboard a vessel to fish for golden crab in the South Atlantic EEZ, possess golden crab in or from the South Atlantic EEZ, off-load golden crab from the South Atlantic EEZ, or sell golden crab in or from the South Atlantic EEZ, a commercial vessel permit for golden crab must be issued to the vessel and must be on board. It is a rebuttable presumption that a golden crab on board a vessel in the South Atlantic or off-loaded from a vessel in a port adjoining the South Atlantic was harvested from the South Atlantic EEZ. See § 622.241 for limitations on the use, transfer, and renewal of a commercial vessel permit for golden crab.

(b) Dealer permits and conditions—(1) Permits. For a dealer to receive South Atlantic golden crab harvested from the South Atlantic EEZ, a dealer permit for South Atlantic golden crab, respectively, must be issued to the dealer.

(2) State license and facility requirements. To obtain a dealer permit, the applicant must have a valid state wholesaler's license in the state(s) where the dealer operates, if required by such state(s), and must have a physical facility at a fixed location in such state(s).

(c) Permit procedures. See § 622.4 for information regarding general permit procedures including, but not limited to application, fees, duration, transfer, renewal, display, sanctions and denials, and replacement.

§ 622.241 South Atlantic golden crab controlled access.

(a) General. In accordance with the procedures specified in the Fishery Management Plan for the Golden Crab Fishery of the South Atlantic Region, initial commercial vessel permits have been issued for the fishery. All permits in the fishery are issued on a fishing-year (calendar-year) basis. No additional permits may be issued except for the northern zone as follows:

(1) The RA will issue up to two new vessel permits for the northern zone. Selection will be made from the list of historical participants in the South Atlantic golden crab fishery. Such list was used at the October 1995 meeting of the South Atlantic Fishery Management Council and was prioritized based on pounds of golden crab landed, without reference to a specific zone. Individuals on the list who originally received permits will be deleted from the list.

(2) The RA will offer in writing an opportunity to apply for a permit for the northern zone to the individuals highest on the list until two individuals accept and apply in a timely manner. An offer that is not accepted within 30 days after it is received will no longer be valid.

(3) An application for a permit from an individual who accepts the RA's offer must be received by the RA no later than 30 days after the date of the individual's acceptance. Application forms are available from the RA.

(4) A vessel permit for the northern zone issued under paragraph (a)(1) of this section, and any successor permit, may not be changed to another zone. A successor permit includes a permit issued to that vessel for a subsequent owner and a permit issued via transfer from that vessel to another vessel.

(b) Fishing zones—(1) Designation of fishing zones. The South Atlantic EEZ is divided into three fishing zones for golden crab as follows:

(i) Northern zone—the South Atlantic EEZ north of 28° N. lat.

(ii) Middle zone—the South Atlantic EEZ from 28° N. lat. to 25° N. lat.

(iii) Southern zone—the South Atlantic EEZ south of 25° N. lat.

(2) Authorization to fish in zones. Each vessel permit indicates one of the zones specified in paragraph (b)(1) of this section. A vessel with a permit to fish for golden crab in the northern zone or the middle zone may fish only in that zone. A vessel with a documented length overall greater than 65 ft (19.8 m) with a permit to fish for golden crab in the southern zone may fish in that zone, consistent with the provisions of paragraph (b)(3) of this section. A vessel may possess golden crab only in a zone in which it is authorized to fish, except that other zones may be transited if the vessel notifies NMFS Office for Law Enforcement, Southeast Region, St. Petersburg, FL, by telephone (727-824-5344) in advance and does not fish in a zone in which it is not authorized to fish.

(3) Small-vessel sub-zone. Within the southern zone, a small-vessel sub-zone is established bounded on the north by 24°15′ N. lat., on the south by 24°07′ N. lat., on the east by 81°22′ W. long., and on the west by 81°56′ W. long. No vessel with a documented length overall greater than 65 ft (19.8 m) may fish for golden crab in this sub-zone, and a vessel with a documented length overall of 65 ft (19.8 m) or less that is permitted for the southern zone may fish for golden crab only in this sub-zone.

(4) Procedure for changing zones. Upon request from an owner of a permitted vessel, the RA will change the zone specified on a permit from the middle or southern zone to the northern zone. No other changes in the zone specified on a permit are allowed. An owner of a permitted vessel who desires a change to the northern zone must submit his/her request with the existing permit to the RA.

(c) Transferring permits between vessels—(1) Procedure for transferring. An owner of a vessel who desires a golden crab permit may request that NMFS transfer an existing permit or permits to his or her vessel by returning an existing permit or permits to the RA with an application for a permit for the replacement vessel.

(2) Vessel size limitations on transferring. (i) To obtain a permit for the middle or southern zone via transfer, the documented length overall of the replacement vessel may not exceed the documented length overall, or aggregate documented lengths overall, of the replaced vessel(s) by more than 20 percent. The owner of a vessel permitted for the middle or southern zone who has requested that NMFS transfer that permit to a smaller vessel (i.e., downsized) may subsequently request NMFS transfer that permit to a vessel of a length calculated from the length of the permitted vessel immediately prior to downsizing.

(ii) There are no vessel size limitations to obtain a permit for the northern zone via transfer.

(d) Permit renewal. NMFS will not renew a commercial vessel permit for South Atlantic golden crab if the permit is revoked or if the RA does not receive a required application for renewal within 6 months after the permit's expiration. See § 622.4(g) for the applicable general procedures and requirements for permit renewals.

§ 622.242 Recordkeeping and reporting.

(a) Commercial vessel owners and operators. (1) The owner or operator of a vessel for which a commercial permit for golden crab has been issued, as required under § 622.240(a), who is selected to report by the SRD must maintain a fishing record on a form available from the SRD.

(2) Reporting forms required in paragraph (a)(1) of this section must be submitted to the SRD postmarked not later than 30 days after sale of the golden crab offloaded from a trip. If no fishing occurred during a calendar month, a report so stating must be submitted on one of the forms postmarked not later than 7 days after the end of that month. Information to be reported is indicated on the form and its accompanying instructions.

(b) Dealers. A dealer who receives from a fishing vessel golden crab harvested from the South Atlantic EEZ and who is selected by the SRD must provide information on receipts of, and prices paid for, South Atlantic golden crab to the SRD at monthly intervals, postmarked not later than 5 days after the end of each month. Reporting frequency and reporting deadlines may be modified upon notification by the SRD.

§ 622.243 Gear identification.

(a) Golden crab traps and associated buoys—(1) Golden crab traps. A golden crab trap used or possessed in the South Atlantic EEZ or on board a vessel with a commercial permit for golden crab must have the commercial vessel permit number permanently affixed so as to be easily distinguished, located, and identified; an identification tag issued by the RA may be used for this purpose but is not required.

(2) Associated buoys. In the South Atlantic EEZ, buoys are not required to be used, but, if used, each buoy must display the official number assigned by the RA so as to be easily distinguished, located, and identified.

(3) Presumption of ownership. A golden crab trap in the EEZ will be presumed to be the property of the most recently documented owner. This presumption will not apply with respect to such traps that are lost or sold if the owner reports the loss or sale within 15 days to the RA.

(4) Unmarked golden crab traps. An unmarked golden crab trap or a buoy deployed in the EEZ where such trap or buoy is required to be marked is illegal and may be disposed of in any appropriate manner by the Assistant Administrator or an authorized officer.

(b) [Reserved]

§ 622.244 At-sea observer coverage.

(a) Required coverage. A vessel for which a Federal commercial permit for golden crab has been issued must carry a NMFS-approved observer, if the vessel's trip is selected by the SRD for observer coverage.

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.245 Prohibited species.

(a) General. The harvest and possession restrictions of this section apply without regard to whether the species is harvested by a vessel operating under a commercial vessel permit. The operator of a vessel that fishes in the EEZ is responsible for the limit applicable to that vessel.

(b) Female golden crabs. It is intended that no female golden crabs in or from the South Atlantic EEZ be retained on board a vessel and that any female golden crab in or from the South Atlantic EEZ be released in a manner that will ensure maximum probability of survival. However, to accommodate legitimate incidental catch and retention, the number of female golden crabs in or from the South Atlantic EEZ retained on board a vessel may not exceed 0.5 percent, by number, of all golden crabs on board. See § 622.250(a) regarding the prohibition of sale of female golden crabs.

(c) Snapper-grouper aboard a golden crab vessel. South Atlantic snapper-grouper may not be possessed in whole, gutted, or filleted form by a person aboard a vessel fishing for or possessing golden crab in or from the South Atlantic EEZ or possessing a golden crab trap in the South Atlantic. Only the head, fins, and backbone (collectively the “rack”) of South Atlantic snapper-grouper may be possessed for use as bait.

§ 622.246 Area closures.

(a) Golden crab trap closed areas. In the golden crab northern zone, a golden crab trap may not be deployed in waters less than 900 ft (274 m) deep. In the golden crab middle and southern zones, a golden crab trap may not be deployed in waters less than 700 ft (213 m) deep. See § 622.241(b)(1) for specification of the golden crab zones.

(b) [Reserved]

§ 622.247 Landing golden crab intact.

The operator of a vessel that fishes in the EEZ is responsible for ensuring that golden crab on that vessel in the EEZ are maintained intact and, if taken from the EEZ, are maintained intact through offloading ashore.

(a) A golden crab in or from the South Atlantic EEZ must be maintained in whole condition through landing ashore. For the purposes of this paragraph, whole means a crab that is in its natural condition and that has not been gutted or separated into component pieces, e.g., clusters.

(b) [Reserved]

§ 622.248 Authorized gear.

(a) Traps. Traps are the only fishing gear authorized in directed fishing for golden crab in the South Atlantic EEZ. Golden crab in or from the South Atlantic EEZ may not be retained on board a vessel possessing or using unauthorized gear.

(b) Buoy line or mainline. Rope is the only material allowed to be used for a buoy line or mainline attached to a golden crab trap.

§ 622.249 Gear restrictions and requirements.

(a) Maximum trap sizes. A golden crab trap deployed or possessed in the South Atlantic EEZ may not exceed 64 ft³ (1.8 m³) in volume in the northern zone or 48 ft³ (1.4 m³) in volume in the middle and southern zones. See § 622.241(b)(1) for specification of the golden crab zones.

(b) Required escape mechanisms for traps. (1) A golden crab trap that is used or possessed in the South Atlantic EEZ must have at least one escape gap or escape ring on each of two opposite vertical sides. The minimum allowable inside dimensions of an escape gap are 2.75 by 3.75 inches (7.0 by 9.5 cm); the minimum allowable inside diameter of an escape ring is 4.5 inches (11.4 cm). In addition to the escape gaps—

(i) A golden crab trap constructed of webbing must have an opening (slit) at least 1 ft (30.5 cm) long that may be closed (relaced) only with untreated cotton string no larger than 3/16 inch (0.48 cm) in diameter.

(ii) A golden crab trap constructed of material other than webbing must have an escape panel or door measuring at least 11⅞ by 11⅞ inches (30.2 by 30.2 cm), located on at least one side, excluding top and bottom. The hinges or fasteners of such door or panel must be made of either ungalvanized or uncoated iron wire no larger than 19 gauge (0.04 inch (1.0 mm) in diameter) or untreated cotton string no larger than 3/16 inch (4.8 mm) in diameter.

(2) [Reserved]

(c) Restriction on tending traps. A golden crab trap in the South Atlantic EEZ may be pulled or tended only by a person (other than an authorized officer) aboard the vessel permitted to fish such pot or trap or aboard another vessel if such vessel has on board written consent of the owner or operator of the vessel so permitted. A vessel with written consent on board must also possess a valid commercial vessel permit for golden crab.

§ 622.250 Restrictions on sale/purchase.

(a) A female golden crab in or from the South Atlantic EEZ may not be sold or purchased.

(b) A golden crab harvested in the South Atlantic EEZ on board a vessel that does not have a valid commercial permit for golden crab, as required under § 622.240(a), may not be sold or purchased.

(c) A golden crab harvested on board a vessel that has a valid commercial permit for golden crab may be sold only to a dealer who has a valid permit for golden crab, as required under § 622.240(b)(1).

(d) A golden crab harvested in the South Atlantic EEZ may be purchased by a dealer who has a valid permit for golden crab, as required under § 622.240(b)(1), only from a vessel that has a valid commercial permit for golden crab.

§ 622.251 Annual catch limits (ACLs), annual catch targets (ACTs), and accountability measures (AMs).

(a) Commercial sector—(1) If commercial landings for golden crab, as estimated by the SRD, reach or are projected to reach the ACL of 2 million lb (907,185 kg), round weight, the AA will file a notification with the Office of the Federal Register to close the golden crab fishery for the remainder of the fishing year. On and after the effective date of such a notification, all harvest, possession, sale or purchase of golden crab in or from the South Atlantic EEZ is prohibited.

(2) If commercial landings exceed the ACL, and golden crab are overfished, based on the most recent Status of U.S. Fisheries Report to Congress, the AA will file a notification with the Office of the Federal Register, at or near the beginning of the following fishing year to reduce the ACL for that following year by the amount of the overage in the prior fishing year.

(b) [Reserved]

§ 622.252 Adjustment of management measures.

In accordance with the framework procedures of the FMP for the Golden Crab Fishery of the South Atlantic Region, the RA may establish or modify the following:

(a) South Atlantic golden crab. Biomass levels, age-structured analyses, MSY, ABC, TAC, quotas (including quotas equal to zero), trip limits, minimum sizes, gear regulations and restrictions, permit requirements, seasonal or area closures, sub-zones and their management measures, time frame for recovery of golden crab if overfished, fishing year (adjustment not to exceed 2 months), observer requirements, authority for the RA to close the fishery when a quota is reached or is projected to be reached, definitions of essential fish habitat, and essential fish habitat HAPCs or Coral HAPCs.

(b) [Reserved]

§ 622.253 Prohibitions.

In addition to the prohibitions in § 600.725 of this chapter and the general prohibitions in § 622.13, it is unlawful for any person to violate any provisions of §§ 622.240 through 622.252.

Subpart M—Dolphin and Wahoo Fishery Off the Atlantic States

§ 622.270 Permits.

(a) Commercial vessel permits. (1) For a person aboard a vessel to be eligible for exemption from the bag and possession limits for dolphin or wahoo in or from the Atlantic EEZ or to sell such dolphin or wahoo, a commercial vessel permit for Atlantic dolphin and wahoo must be issued to the vessel and must be on board, except as provided in paragraph (a)(2) of this section. (See paragraph (c)(1) of this section for the requirements for operator permits in the Atlantic dolphin and wahoo fishery).

(2) The provisions of paragraph (a)(1) of this section notwithstanding, a fishing vessel, except a vessel operating as a charter vessel or headboat, that does not have a commercial vessel permit for Atlantic dolphin and wahoo but has a Federal commercial vessel permit in any other fishery, is exempt from the bag and possession limits for dolphin and wahoo and may sell dolphin and wahoo, subject to the trip and geographical limits specified in § 622.278(a)(2). (A charter vessel/headboat permit is not a commercial vessel permit.)

(b) Charter vessel/headboat permits. (1) For a person aboard a vessel that is operating as a charter vessel or headboat to fish for or possess Atlantic dolphin or wahoo, in or from the Atlantic EEZ, a valid charter vessel/headboat permit for Atlantic dolphin and wahoo must have been issued to the vessel and must be on board. (See paragraph (c)(1) of this section for the requirements for operator permits in the dolphin and wahoo fishery.)

(2) A charter vessel or headboat may have both a charter vessel/headboat permit and a commercial vessel permit. However, when a vessel is operating as a charter vessel or headboat, a person aboard must adhere to the bag limits. See the definitions of “Charter vessel” and “Headboat” in § 622.2 for an explanation of when vessels are considered to be operating as a charter vessel or headboat, respectively.

(c) Operator permits. (1) An operator of a vessel that has or is required to have a charter vessel/headboat or commercial permit for Atlantic dolphin and wahoo issued under this section is required to have an operator permit.

(2) A person required to have an operator permit under paragraph (c)(1) of this section must carry on board such permit and one other form of personal identification that includes a picture (driver's license, passport, etc.).

(3) An owner of a vessel that is required to have a permitted operator under paragraph (c)(1) of this section must ensure that at least one person with a valid operator permit is aboard while the vessel is at sea or offloading.

(4) An owner of a vessel that is required to have a permitted operator under paragraph (c)(1) of this section and the operator of such vessel are responsible for ensuring that a person whose operator permit is suspended, revoked, or modified pursuant to subpart D of 15 CFR part 904 is not aboard that vessel.

(d) Dealer permits. (1) For a dealer to receive dolphin or wahoo harvested from the Atlantic EEZ, a dealer permit for Atlantic dolphin and wahoo must be issued to the dealer.

(2) State license and facility requirements. To obtain a dealer permit, the applicant must have a valid state wholesaler's license in the state(s) where the dealer operates, if required by such state(s), and must have a physical facility at a fixed location in such state(s).

(e) Permit procedures. See § 622.4 for information regarding general permit procedures including, but not limited to application, fees, duration, transfer, renewal, display, sanctions and denials, and replacement.

§ 622.271 Recordkeeping and reporting.

(a) Commercial vessel owners and operators—(1) Reporting requirement. The owner or operator of a vessel for which a commercial permit for Atlantic dolphin and wahoo has been issued, as required under § 622.270(a)(1), or whose vessel fishes for or lands Atlantic dolphin or wahoo in or from state waters adjoining the Atlantic EEZ, who is selected to report by the SRD must maintain a fishing record on a form available from the SRD and must submit such record as specified in paragraph (a)(2) of this section.

(2) Reporting deadlines. Completed fishing records required by paragraph (a)(1) of this section must be submitted to the SRD postmarked not later than 7 days after the end of each fishing trip. If no fishing occurred during a calendar month, a report so stating must be submitted on one of the forms postmarked not later than 7 days after the end of that month. Information to be reported is indicated on the form and its accompanying instructions.

(b) Charter vessel/headboat owners and operators—(1) Reporting requirement. The owner or operator of a vessel for which a charter vessel/headboat permit for Atlantic dolphin and wahoo has been issued, as required under § 622.270(b)(1), or whose vessel fishes for or lands such Atlantic dolphin or wahoo in or from state waters adjoining the Atlantic EEZ, who is selected to report by the SRD must maintain a fishing record for each trip, or a portion of such trips as specified by the SRD, on forms provided by the SRD and must submit such record as specified in paragraph (b)(2) of this section.

(2) Reporting deadlines—(i) Charter vessels. Completed fishing records required by paragraph (b)(1) of this section for charter vessels must be submitted to the SRD weekly, postmarked not later than 7 days after the end of each week (Sunday). Information to be reported is indicated on the form and its accompanying instructions.

(ii) Headboats. Completed fishing records required by paragraph (b)(1) of this section for headboats must be submitted to the SRD monthly and must either be made available to an authorized statistical reporting agent or be postmarked not later than 7 days after the end of each month. Information to be reported is indicated on the form and its accompanying instructions.

(c) Dealers. (1) A dealer who has been issued a permit for Atlantic dolphin and wahoo, as required under § 622.270(d)(1), and who is selected by the SRD must provide information on receipts of Atlantic dolphin and wahoo and prices paid on forms available from the SRD. The required information must be submitted to the SRD at monthly intervals postmarked not later than 5 days after the end of each month. Reporting frequencies and reporting deadlines may be modified upon notification by the SRD.

(2) For the purposes of paragraph (c)(1) of this section, in the states from Maine through Virginia, or in the waters off those states, “SRD” means the Science and Research Director, Northeast Fisheries Science Center, NMFS, (see Table 1 of § 600.502 of this chapter), or a designee.

(3) On demand, a dealer who has been issued a dealer permit for Atlantic dolphin and wahoo, as required under § 622.270(d)(1), must make available to an authorized officer all records of offloadings, purchases, or sales of dolphin and wahoo.

§ 622.272 Authorized gear.

(a) Atlantic dolphin and wahoo—(1) Authorized gear. The following are the only authorized gear types in the fisheries for dolphin and wahoo in the Atlantic EEZ: Automatic reel, bandit gear, handline, pelagic longline, rod and reel, and spearfishing gear (including powerheads). A person aboard a vessel in the Atlantic EEZ that has on board gear types other than authorized gear types may not possess a dolphin or wahoo.

(2) [Reserved]

(b) [Reserved]

§ 622.273 Conservation measures for protected species.

(a) Atlantic dolphin and wahoo pelagic longliners. The owner or operator of a vessel for which a commercial permit for Atlantic dolphin and wahoo has been issued, as required under § 622.270(a)(1), and that has on board a pelagic longline must post inside the wheelhouse the sea turtle handling and release guidelines provided by NMFS. Such owner or operator must also comply with the sea turtle bycatch mitigation measures, including gear requirements and sea turtle handling requirements, as specified in § 635.21(c)(5)(i) and (ii) of this chapter, respectively. For the purpose of this paragraph, a vessel is considered to have pelagic longline gear on board when a power-operated longline hauler, a mainline, floats capable of supporting the mainline, and leaders (gangions) with hooks are on board. Removal of any one of these elements constitutes removal of pelagic longline gear.

(b) [Reserved]

§ 622.274 Pelagic longline closed areas.

(a) If pelagic longline gear is on board a vessel, a person aboard such vessel may not fish for or retain a dolphin or wahoo—

(1) In the Northeastern United States closed area from June 1 through June 30 each year. The Northeastern United States closed area is that portion of the EEZ between 40° N. lat. and 39° N. lat. from 68° W. long. to 74° W. long.

(2) In the Charleston Bump closed area from February 1 through April 30 each year. The Charleston Bump closed area is that portion of the EEZ off North Carolina, South Carolina, and Georgia between 34° N. lat. and 31° N. lat. and west of 76° W. long.

(3) In the East Florida Coast closed area year round. The East Florida Coast closed area is that portion of the EEZ off Georgia and the east coast of Florida from the inner boundary of the EEZ at 31° N. lat.; thence due east to 78° W. long.; thence by a rhumb line to 28°17′ N. lat., 79°12′ W. long.; thence proceeding in a southerly direction along the outer boundary of the EEZ to 24° N. lat.; thence due west to 24° N. lat., 81°47′ W. long.; thence due north to the innermost boundary of the EEZ at 81°47′ W. long.

(b) A vessel is considered to have pelagic longline gear on board when a power-operated longline hauler, a mainline, floats capable of supporting the mainline, and gangions with hooks are on board. Removal of any one of these elements constitutes removal of pelagic longline gear.

(c) If a vessel is in a closed area during a time specified in paragraph (a) of this section with pelagic longline gear on board, it is a rebuttable presumption that fish on board such vessel were taken with pelagic longline gear in the closed area.

§ 622.275 Size limits.

All size limits in this section are minimum size limits unless specified otherwise. A fish not in compliance with its size limit, as specified in this section, in or from the Atlantic EEZ, may not be possessed, sold, or purchased. A fish not in compliance with its size limit must be released immediately with a minimum of harm. The operator of a vessel that fishes in the EEZ is responsible for ensuring that fish on board are in compliance with the size limits specified in this section.

(a) Dolphin in the Atlantic off Florida, Georgia, and South Carolina—20 inches (50.8 cm), fork length.

(b) [Reserved]

§ 622.276 Landing fish intact.

(a) Dolphin and wahoo in or from the Atlantic EEZ must be maintained with head and fins intact. Such fish may be eviscerated, gilled, and scaled, but must otherwise be maintained in a whole condition.

(b) The operator of a vessel that fishes in the EEZ is responsible for ensuring that fish on that vessel in the EEZ are maintained intact and, if taken from the EEZ, are maintained intact through offloading ashore, as specified in this section.

§ 622.277 Bag and possession limits.

Section 622.11(a) provides the general applicability for bag and possession limits.

(a) Atlantic dolphin and wahoo. Bag and possession limits are as follows:

(1) Dolphin—10, not to exceed 60 per vessel, whichever is less, except, on board a headboat, 10 per paying passenger.

(2) Wahoo—2.

(b) [Reserved]

§ 622.278 Commercial trip limits.

Commercial trip limits are limits on the amount of Atlantic dolphin and wahoo that may be possessed on board or landed, purchased, or sold from a vessel per day. A person who fishes in the EEZ may not combine a trip limit specified in this section with any trip or possession limit applicable to state waters. A species subject to a trip limit specified in this section taken in the EEZ may not be transferred at sea, regardless of where such transfer takes place, and such species may not be transferred in the EEZ. Commercial trip limits apply as follows (all weights are round or eviscerated weights unless specified otherwise):

(a) Atlantic dolphin and wahoo. (1) The trip limit for wahoo in or from the Atlantic EEZ is 500 lb (227 kg). This trip limit applies to a vessel that has a Federal commercial permit for Atlantic dolphin and wahoo, provided that the vessel is not operating as a charter vessel or headboat.

(2) The trip limit for a vessel that does not have a Federal commercial vessel permit for Atlantic dolphin and wahoo but has a Federal commercial vessel permit in any other fishery is 200 lb (91 kg) of dolphin and wahoo, combined, provided that all fishing on and landings from that trip are north of 39° N. lat. (A charter vessel/headboat permit is not a commercial vessel permit.)

(b) [Reserved]

§ 622.279 Restrictions on sale/purchase.

(a) Atlantic dolphin and wahoo. (1) A person may sell dolphin or wahoo harvested in the Atlantic EEZ only if it is harvested by a vessel that has a commercial permit for Atlantic dolphin and wahoo, as required under § 622.270(a)(1), or by a vessel authorized a 200-lb (91-kg) trip limit for dolphin or wahoo, as specified in § 622.278(a)(2), and only to a dealer who has a permit for Atlantic dolphin or wahoo, as required under § 622.270(d)(1).

(2) In addition to the provisions of paragraph (a)(1) of this section, a person may not sell dolphin or wahoo possessed under the bag limit harvested in the Atlantic EEZ by a vessel while it is operating as a charter vessel or headboat. A dolphin or wahoo harvested or possessed by a vessel that is operating as a charter vessel or headboat with a Federal charter vessel/headboat permit for Atlantic dolphin and wahoo may not be purchased or sold if harvested from the Atlantic EEZ.

(3) Dolphin or wahoo harvested in the Atlantic EEZ may be purchased only by a dealer who has a permit for Atlantic dolphin and wahoo and only from a vessel authorized to sell dolphin or wahoo under paragraph (a)(1) of this section.

(b) [Reserved]

§ 622.280 Annual catch limits (ACLs) and accountability measures (AMs).

(a) Atlantic dolphin—(1) Commercial sector. If commercial landings for Atlantic dolphin, as estimated by the SRD, reach or are projected to reach the commercial ACL of 1,065,524 lb (483,314 kg), round weight, the AA will file a notification with the Office of the Federal Register to close the commercial sector for the remainder of the fishing year. On and after the effective date of such a notification, all sale or purchase of Atlantic dolphin is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(2) Recreational sector. If recreational landings for Atlantic dolphin, as estimated by the SRD, exceed the recreational ACL of 13,530,692 lb (6,137,419 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(b) Atlantic wahoo—(1) Commercial sector. If commercial landings for Atlantic wahoo, as estimated by the SRD, reach or are projected to reach the commercial ACL of 64,147 lb (29,097 kg), round weight, the AA will file a notification with the Office of the Federal Register to close the commercial sector for the remainder of the fishing year. On and after the effective date of such a notification, all sale or purchase of Atlantic wahoo is prohibited and harvest or possession of this species in or from the South Atlantic EEZ is limited to the bag and possession limit. This bag and possession limit applies in the South Atlantic on board a vessel for which a valid Federal charter vessel/headboat permit for South Atlantic snapper-grouper has been issued, without regard to where such species were harvested, i.e., in state or Federal waters.

(2) Recreational sector. If recreational landings for Atlantic wahoo, as estimated by the SRD, exceed the recreational ACL of 1,427,638 lb (647,566 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

§ 622.281 Adjustment of management measures.

In accordance with the framework procedures of the FMP for the Dolphin and Wahoo Fishery off the Atlantic States, the RA may establish or modify the following items specified in paragraph (a) of this section for Atlantic dolphin and wahoo.

(a) Atlantic dolphin and wahoo. Biomass levels, age-structured analyses, MSY, OY, ABC, TAC, trip limits, minimum sizes, gear regulations and restrictions, permit requirements, seasonal or area closures, sub-zones and their management measures, overfishing definitions and other status determination criteria, time frame for recovery of Atlantic dolphin or wahoo if overfished, fishing year (adjustment not to exceed 2 months), authority for the RA to close a fishery when a quota is reached or is projected to be reached or reopen a fishery when additional quota becomes available, definitions of essential fish habitat, and essential fish habitat HAPCs or Coral HAPCs.

(b) [Reserved]

§ 622.282 Prohibitions.

In addition to the prohibitions in § 600.725 of this chapter and the general prohibitions in § 622.13, it is unlawful for any person to violate any provisions of §§ 622.270 through 622.281.

Subpart N—Pelagic Sargassum Habitat of the South Atlantic Region

§ 622.300 At-sea observer coverage.

(a) Required coverage. (1) A vessel that harvests or possesses pelagic sargassum on any trip in the South Atlantic EEZ must carry a NMFS-approved observer.

(2) [Reserved]

(b) Notification to the SRD. When observer coverage is required, an owner or operator must advise the SRD in writing not less than 5 days in advance of each trip of the following:

(1) Departure information (port, dock, date, and time).

(2) Expected landing information (port, dock, and date).

(c) Observer accommodations and access. An owner or operator of a vessel on which a NMFS-approved observer is embarked must:

(1) Provide accommodations and food that are equivalent to those provided to the crew.

(2) Allow the observer access to and use of the vessel's communications equipment and personnel upon request for the transmission and receipt of messages related to the observer's duties.

(3) Allow the observer access to and use of the vessel's navigation equipment and personnel upon request to determine the vessel's position.

(4) Allow the observer free and unobstructed access to the vessel's bridge, working decks, holding bins, weight scales, holds, and any other space used to hold, process, weigh, or store fish.

(5) Allow the observer to inspect and copy the vessel's log, communications logs, and any records associated with the catch and distribution of fish for that trip.

§ 622.301 Area and seasonal restrictions.

(a) Pelagic sargassum area and seasonal restrictions—(1) Area restrictions. (i) No person may harvest pelagic sargassum in the South Atlantic EEZ between 36°33′01.0″ N. lat. (directly east from the Virginia/North Carolina boundary) and 34° N. lat., within 100 nautical miles east of the North Carolina coast.

(ii) No person may harvest or possess pelagic sargassum in or from the South Atlantic EEZ south of 34° N. lat.

(2) Seasonal restriction. No person may harvest or possess pelagic sargassum in or from the South Atlantic EEZ during the months of July through October. This prohibition on possession does not apply to pelagic sargassum that was harvested and landed ashore prior to the closed period.

(b) [Reserved]

§ 622.302 Minimum mesh size.

(a) The minimum allowable mesh size for a net used to fish for pelagic sargassum in the South Atlantic EEZ is 4.0 inches (10.2 cm), stretched mesh, and such net must be attached to a frame no larger than 4 ft by 6 ft (1.2 m by 1.8 m). A vessel in the South Atlantic EEZ with a net on board that does not meet these requirements may not possess any pelagic sargassum.

(b) [Reserved]

§ 622.303 Quotas.

See § 622.8 for general provisions regarding quota applicability and closure and reopening procedures. This section provides quotas and specific quota closure restrictions for South Atlantic pelagic sargassum.

(a) Quota. The quota for all persons who harvest pelagic sargassum in the South Atlantic EEZ is 5,000 lb (2,268 kg), wet, landed weight. See § 622.301(a) for area and seasonal limitations on the harvest of pelagic sargassum.

(b) Restrictions applicable after a quota closure. Pelagic sargassum may not be fished for or possessed in the South Atlantic EEZ and the sale or purchase of pelagic sargassum in or from the South Atlantic EEZ is prohibited. The prohibition on sale/purchase during a closure for pelagic sargassum does not apply to pelagic sargassum that was harvested and landed ashore prior to the effective date of the closure.

§ 622.304 Prohibitions.

In addition to the prohibitions in § 600.725 of this chapter and the general prohibitions in § 622.13, it is unlawful for any person to violate any provisions of §§ 622.300 through 622.303.

Subparts O-P [Reserved]

Subpart Q—Coastal Migratory Pelagic Resources (Gulf of Mexico and South Atlantic)

§ 622.370 Permits.

(a) Commercial vessel permits—(1) King mackerel. For a person aboard a vessel to be eligible for exemption from the bag limits and to fish under a quota for king mackerel in or from the Gulf, Mid-Atlantic, or South Atlantic EEZ, a commercial vessel permit for king mackerel must have been issued to the vessel and must be on board. To obtain or renew a commercial vessel permit for king mackerel, at least 25 percent of the applicant's earned income, or at least $10,000, must have been derived from commercial fishing (i.e., harvest and first sale of fish) or from charter fishing during one of the three calendar years preceding the application. See § 622.371 regarding a limited access system applicable to commercial vessel permits for king mackerel, transfers of permits under the limited access system, and limited exceptions to the earned income or gross sales requirement for a permit.

(2) Gillnets for king mackerel in the southern Florida west coast subzone. For a person aboard a vessel to use a run-around gillnet for king mackerel in the southern Florida west coast subzone (see § 622.384(b)(1)(i)(C)), a commercial vessel permit for king mackerel and a king mackerel gillnet permit must have been issued to the vessel and must be on board. See § 622.372 regarding a limited access system applicable to king mackerel gillnet permits in the southern Florida west coast subzone and restrictions on transferability of king mackerel gillnet permits.

(3) Spanish mackerel. For a person aboard a vessel to be eligible for exemption from the bag limits, a commercial vessel permit for Spanish mackerel must have been issued to the vessel and must be on board. To obtain or renew a commercial vessel permit for Spanish mackerel, at least 25 percent of the applicant's earned income, or at least $10,000, must have been derived from commercial fishing (i.e., harvest and first sale of fish) or from charter fishing during one of the 3 calendar years preceding the application.

(b) Charter vessel/headboat permits. (1) For a person aboard a vessel that is operating as a charter vessel or headboat to fish for or possess, in or from the EEZ, Gulf coastal migratory pelagic fish or South Atlantic coastal migratory pelagic fish, a valid charter vessel/headboat permit for Gulf coastal migratory pelagic fish or South Atlantic coastal migratory pelagic fish, respectively, must have been issued to the vessel and must be on board.

(i) See § 622.373 regarding a limited access system for charter vessel/headboat permits for Gulf coastal migratory pelagic fish.

(ii) A charter vessel or headboat may have both a charter vessel/headboat permit and a commercial vessel permit. However, when a vessel is operating as a charter vessel or headboat, a person aboard must adhere to the bag limits. See the definitions of “Charter vessel” and “Headboat” in § 622.2 for an explanation of when vessels are considered to be operating as a charter vessel or headboat, respectively.

(2) [Reserved]

(c) Permit procedures. See § 622.4 of this part for information regarding general permit procedures including, but not limited to application, fees, duration, transfer, renewal, display, sanctions and denials, and replacement.

§ 622.371 Limited access system for commercial vessel permits for king mackerel.

(a) No applications for additional commercial vessel permits for king mackerel will be accepted. Existing vessel permits may be renewed, are subject to the restrictions on transfer or change in paragraphs (b) through (e) of this section, and are subject to the requirement for timely renewal in paragraph (f) of this section.

(b) An owner of a permitted vessel may transfer the commercial vessel permit for king mackerel issued under this limited access system to another vessel owned by the same entity.

(c) An owner whose percentage of earned income or gross sales qualified him/her for the commercial vessel permit for king mackerel issued under this limited access system may request that NMFS transfer that permit to the owner of another vessel, or to the new owner when he or she transfers ownership of the permitted vessel. Such owner of another vessel, or new owner, may receive a commercial vessel permit for king mackerel for his or her vessel, and renew it through April 15 following the first full calendar year after obtaining it, without meeting the percentage of earned income or gross sales requirement of § 622.370(a)(1). However, to further renew the commercial vessel permit, the owner of the other vessel, or new owner, must meet the earned income or gross sales requirement not later than the first full calendar year after the permit transfer takes place.

(d) An owner of a permitted vessel, the permit for which is based on an operator's earned income and, thus, is valid only when that person is the operator of the vessel, may request that NMFS transfer the permit to the income-qualifying operator when such operator becomes an owner of a vessel.

(e) An owner of a permitted vessel, the permit for which is based on an operator's earned income and, thus, is valid only when that person is the operator of the vessel, may have the operator qualification on the permit removed, and renew it without such qualification through April 15 following the first full calendar year after removing it, without meeting the earned income or gross sales requirement of § 622.370(a)(1). However, to further renew the commercial vessel permit, the owner must meet the earned income or gross sales requirement not later than the first full calendar year after the operator qualification is removed. To have an operator qualification removed from a permit, the owner must return the original permit to the RA with an application for the changed permit.

(f) NMFS will not reissue a commercial vessel permit for king mackerel if the permit is revoked or if the RA does not receive an application for renewal within one year of the permit's expiration date.

§ 622.372 Limited access system for king mackerel gillnet permits applicable in the southern Florida west coast subzone.

(a) Except for applications for renewals of king mackerel gillnet permits, no applications for king mackerel gillnet permits will be accepted. Application forms for permit renewal are available from the RA.

(b) An owner of a vessel with a king mackerel gillnet permit issued under this limited access system may transfer that permit upon a change of ownership of a permitted vessel with such permit from one to another of the following: Husband, wife, son, daughter, brother, sister, mother, or father. Such permit also may be transferred to another vessel owned by the same entity.

(c) A king mackerel gillnet permit that is not renewed or that is revoked will not be reissued. A permit is considered to be not renewed when an application for renewal is not received by the RA within one year after the expiration date of the permit.

§ 622.373 Limited access system for charter vessel/headboat permits for Gulf coastal migratory pelagic fish.

(a) No applications for additional charter vessel/headboat permits for Gulf coastal migratory pelagic fish will be accepted. Existing permits may be renewed, are subject to the restrictions on transfer in paragraph (b) of this section, and are subject to the renewal requirements in paragraph (c) of this section.

(b) Transfer of permits—(1) Permits without a historical captain endorsement. A charter vessel/headboat permit for Gulf coastal migratory pelagic fish that does not have a historical captain endorsement is fully transferable, with or without sale of the permitted vessel, except that no transfer is allowed to a vessel with a greater authorized passenger capacity than that of the vessel to which the moratorium permit was originally issued, as specified on the face of the permit being transferred. An application to transfer a permit to an inspected vessel must include a copy of that vessel's current USCG Certificate of Inspection (COI). A vessel without a valid COI will be considered an uninspected vessel with an authorized passenger capacity restricted to six or fewer passengers.

(2) Permits with a historical captain endorsement. A charter vessel/headboat permit for Gulf coastal migratory pelagic fish that has a historical captain endorsement may only be transferred to a vessel operated by the historical captain, cannot be transferred to a vessel with a greater authorized passenger capacity than that of the vessel to which the moratorium permit was originally issued, as specified on the face of the permit being transferred, and is not otherwise transferable.

(3) Procedure for permit transfer. To request that the RA transfer a charter vessel/headboat permit for Gulf coastal migratory pelagic fish, the owner of the vessel who is transferring the permit and the owner of the vessel that is to receive the transferred permit must complete the transfer information on the reverse side of the permit and return the permit and a completed application for transfer to the RA. See § 622.4(f) for additional transfer-related requirements applicable to all permits issued under this section.

(c) Renewal. (1) Renewal of a charter vessel/headboat permit for Gulf coastal migratory pelagic fish is contingent upon the permitted vessel and/or captain, as appropriate, being included in an active survey frame for, and, if selected to report, providing the information required in one of the approved fishing data surveys. Surveys include, but are not limited to—

(i) NMFS' Marine Recreational Fishing Vessel Directory Telephone Survey (conducted by the Gulf States Marine Fisheries Commission);

(ii) NMFS' Southeast Headboat Survey (as required by § 622.26(b)(1));

(iii) Texas Parks and Wildlife Marine Recreational Fishing Survey; or

(iv) A data collection system that replaces one or more of the surveys in paragraphs (c)(1)(i), (ii), or (iii) of this section.

(2) A charter vessel/headboat permit for Gulf coastal migratory pelagic fish that is not renewed or that is revoked will not be reissued. A permit is considered to be not renewed when an application for renewal, as required, is not received by the RA within 1 year of the expiration date of the permit.

(d) Requirement to display a vessel decal. Upon renewal or transfer of a charter vessel/headboat permit for Gulf coastal migratory pelagic fish, the RA will issue the owner of the permitted vessel a vessel decal for that fishery. The vessel decal must be displayed on the port side of the deckhouse or hull and must be maintained so that it is clearly visible.

§ 622.374 Recordkeeping and reporting.

(a) Commercial vessel owners and operators. The owner or operator of a vessel that fishes for or lands coastal migratory pelagic fish for sale in or from the Gulf, Mid-Atlantic, or South Atlantic EEZ or adjoining state waters, or whose vessel is issued a commercial permit for king or Spanish mackerel, as required under § 622.370(a)(1) or (3), respectively, who is selected to report by the SRD, must maintain a fishing record on a form available from the SRD. These completed fishing records must be submitted to the SRD postmarked not later than 7 days after the end of each fishing trip. If no fishing occurred during a calendar month, a report so stating must be submitted on one of the forms postmarked not later than 7 days after the end of that month. Information to be reported is indicated on the form and its accompanying instructions.

(b) Charter vessel/headboat owners and operators—(1) Reporting requirement. The owner or operator of a vessel for which a charter vessel/headboat permit for Gulf coastal migratory pelagic fish or South Atlantic coastal migratory pelagic fish has been issued, as required under § 622.370(b)(1), or whose vessel fishes for or lands such Gulf or South Atlantic coastal migratory pelagic fish in or from state waters adjoining the Gulf or South Atlantic EEZ, who is selected to report by the SRD must maintain a fishing record for each trip, or a portion of such trips as specified by the SRD, on forms provided by the SRD and must submit such record as specified in paragraph (b)(2) of this section.

(2) Reporting deadlines—(i) Charter vessels. Completed fishing records required by paragraph (b)(1) of this section for charter vessels must be submitted to the SRD weekly, postmarked not later than 7 days after the end of each week (Sunday). Information to be reported is indicated on the form and its accompanying instructions.

(ii) Headboats. Completed fishing records required by paragraph (b)(1) of this section for headboats must be submitted to the SRD monthly and must either be made available to an authorized statistical reporting agent or be postmarked not later than 7 days after the end of each month. Information to be reported is indicated on the form and its accompanying instructions.

(c) Dealers. (1) A person who purchases coastal migratory pelagic fish from a fishing vessel, or person, that fishes for or lands such fish in or from the EEZ or adjoining state waters who is selected to report by the SRD must submit information on forms provided by the SRD. This information must be submitted to the SRD at monthly intervals, postmarked not later than 5 days after the end of each month. Reporting frequency and reporting deadlines may be modified upon notification by the SRD. If no coastal migratory pelagic fish were received during a calendar month, a report so stating must be submitted on one of the forms, in accordance with the instructions on the form, and must be postmarked not later than 5 days after the end of the month. The information to be reported is as follows:

(i) Dealer's or processor's name and address.

(ii) County where fish were landed.

(iii) Total poundage of each species received during that month, or other requested interval.

(iv) Average monthly price paid for each species.

(v) Proportion of total poundage landed by each gear type.

(2) Alternate SRD. For the purposes of paragraph (c)(1) of this section, in the states from New York through Virginia, or in the waters off those states, “SRD” means the Science and Research Director, Northeast Fisheries Science Center, NMFS (see Table 1 of § 600.502 of this chapter), or a designee.

§ 622.375 Authorized and unauthorized gear.

(a) Authorized gear. Subject to the prohibitions on gear/methods specified in § 622.9, the following are the only fishing gears that may be used in the Gulf, Mid-Atlantic, and South Atlantic EEZ in directed fisheries for coastal migratory pelagic fish:

(1) King mackerel, Atlantic migratory group—

(i) North of 34°37.3′ N. lat., the latitude of Cape Lookout Light, NC—all gear except drift gillnet and long gillnet.

(ii) South of 34°37.3′ N. lat.—automatic reel, bandit gear, handline, and rod and reel.

(2) King mackerel, Gulf migratory group—hook-and-line gear and, in the southern Florida west coast subzone only, run-around gillnet. (See § 622.384(b)(1)(i)(C) for a description of the southern Florida west coast subzone.)

(3) Spanish mackerel, Atlantic migratory group—automatic reel, bandit gear, handline, rod and reel, cast net, run-around gillnet, and stab net.

(4) Spanish mackerel, Gulf migratory group—all gear except drift gillnet, long gillnet, and purse seine.

(5) Cobia in the Mid-Atlantic and South Atlantic EEZ—automatic reel, bandit gear, handline, rod and reel, and pelagic longline.

(6) Cobia in the Gulf EEZ—all gear except drift gillnet and long gillnet.

(b) Unauthorized gear. Gear types other than those specified in paragraph (a) of this section are unauthorized gear and the following possession limitations apply:

(1) Long gillnets. A vessel with a long gillnet on board in, or that has fished on a trip in, the Gulf, Mid-Atlantic, or South Atlantic EEZ may not have on board on that trip a coastal migratory pelagic fish.

(2) Drift gillnets. A vessel with a drift gillnet on board in, or that has fished on a trip in, the Gulf EEZ may not have on board on that trip a coastal migratory pelagic fish.

(3) Other unauthorized gear. Except as specified in paragraph (b)(4) of this section, a person aboard a vessel with unauthorized gear other than a drift gillnet in the Gulf EEZ or a long gillnet on board in, or that has fished in, the EEZ where such gear is not authorized in paragraph (a) of this section, is subject to the bag limits for king and Spanish mackerel specified in § 622.382(a)(1)(ii) and (iv), respectively, and to the limit on cobia specified in § 622.383(b).

(4) Exception for king mackerel in the Gulf EEZ. The provisions of this paragraph (b)(4) apply to king mackerel taken in the Gulf EEZ and to such king mackerel possessed in the Gulf. Paragraph (b)(3) of this section notwithstanding, a person aboard a vessel that has a valid commercial permit for king mackerel is not subject to the bag limit for king mackerel when the vessel has on board on a trip unauthorized gear other than a drift gillnet in the Gulf EEZ, a long gillnet, or a run-around gillnet in an area other than the southern Florida west coast subzone. Thus, the following applies to a vessel that has a commercial permit for king mackerel:

(i) Such vessel may not use unauthorized gear in a directed fishery for king mackerel in the Gulf EEZ.

(ii) If such a vessel has a drift gillnet or a long gillnet on board or a run-around gillnet in an area other than the southern Florida west coast subzone, no king mackerel may be possessed.

(iii) If such a vessel has unauthorized gear on board other than a drift gillnet in the Gulf EEZ, a long gillnet, or a run-around gillnet in an area other than the southern Florida west coast subzone, the possession of king mackerel taken incidentally is restricted only by the closure provisions of § 622.384(e) and the trip limits specified in § 622.385(a). See also § 622.379 regarding the purse seine incidental catch allowance of king mackerel.

§ 622.376 Gear identification.

(a) Spanish mackerel gillnet buoys. On board a vessel with a valid Spanish mackerel permit that is fishing for Spanish mackerel in, or that possesses Spanish mackerel in or from, the South Atlantic EEZ off Florida north of 25°20.4′ N. lat., which is a line directly east from the Miami-Dade/Monroe County, FL, boundary, the float line of each gillnet possessed, including any net in use, must have a maximum of nine distinctive floats, i.e., different from the usual net buoys, spaced uniformly at a distance of 100 yd (91.4 m) or less. Each such distinctive float must display the official number of the vessel.

(b) [Reserved]

§ 622.377 Gillnet restrictions.

(a) Gillnets for king mackerel. The minimum allowable mesh size for a gillnet used to fish in the Gulf, Mid-Atlantic, or South Atlantic EEZ for king mackerel is 4.75 inches (12.1 cm), stretched mesh. A vessel in such EEZ, or having fished on a trip in such EEZ, with a gillnet on board that has a mesh size less than 4.75 (12.1 cm) inches, stretched mesh, may not possess on that trip an incidental catch of king mackerel that exceeds 10 percent, by number, of the total lawfully possessed Spanish mackerel on board.

(b) Gillnets for Spanish mackerel. (1) The minimum allowable mesh size for a gillnet used to fish for Spanish mackerel in the Gulf, Mid-Atlantic, or South Atlantic EEZ is 3.5 inches (8.9 cm), stretched mesh.

(i) A vessel in the Gulf EEZ, or having fished on a trip in the Gulf EEZ, with a gillnet on board that has a mesh size less than 3.5 inches (8.9 cm), stretched mesh, may not possess on that trip any Spanish mackerel.

(ii) A vessel in the South Atlantic or Mid-Atlantic EEZ, or having fished on a trip in such EEZ, with a gillnet on board that has a mesh size less than 3.5 inches (8.9 cm), stretched mesh, may possess or land on the day of that trip no more than 500 lb (227 kg) of incidentally caught Spanish mackerel.

(2) On board a vessel with a valid Spanish mackerel permit that is fishing for Spanish mackerel in, or that possesses Spanish mackerel in or from, the South Atlantic EEZ off Florida north of 25°20.4′ N. lat., which is a line directly east from the Miami-Dade/Monroe County, FL, boundary—

(i) No person may fish with, set, place in the water, or have on board a gillnet with a float line longer than 800 yd (732 m).

(ii) No person may fish with, set, or place in the water more than one gillnet at any one time.

(iii) No more than two gillnets, including any net in use, may be possessed at any one time; provided, however, that if two gillnets, including any net in use, are possessed at any one time, they must have stretched mesh sizes (as allowed under the regulations) that differ by at least .25 inch (.64 cm).

(iv) No person may soak a gillnet for more than 1 hour. The soak period begins when the first mesh is placed in the water and ends either when the first mesh is retrieved back on board the vessel or the gathering of the gillnet is begun to facilitate retrieval on board the vessel, whichever occurs first; providing that, once the first mesh is retrieved or the gathering is begun, the retrieval is continuous until the gillnet is completely removed from the water.

(v) The float line of each gillnet possessed, including any net in use, must have the distinctive floats specified in § 622.376(a).

§ 622.378 Seasonal closures of the Gulf group king mackerel gillnet fishery.

(a) The gillnet fishery for Gulf group king mackerel in or from the Gulf EEZ is closed each fishing year from July 1 until 6 a.m. on the day after the Martin Luther King Jr. Federal holiday. The gillnet fishery also is closed during all subsequent weekends and observed Federal holidays, except for the first weekend following the Martin Luther King Jr. holiday which will remain open to the gillnet fishery provided a notification of closure of that fishery has not been filed under § 622.8(b). Weekend closures are effective from 6 a.m. Saturday to 6 a.m. Monday. Holiday closures are effective from 6 a.m. on the observed Federal holiday to 6 a.m. the following day. All times are eastern standard time. During these closures, a person aboard a vessel using or possessing a gillnet with a stretched-mesh size of 4.75 inches (12.1 cm) or larger in the southern Florida west coast subzone may not fish for or possess Gulf group king mackerel.

(b) [Reserved]

§ 622.379 Purse seine incidental catch allowance.

(a) A vessel in the EEZ, or having fished in the EEZ, with a purse seine on board will not be considered as fishing, or having fished, for king or Spanish mackerel in violation of a prohibition of purse seines under § 622.375(b), in violation of the possession limits under § 622.375(b)(3), or, in the case of king mackerel from the Atlantic migratory group, in violation of a closure effected in accordance with § 622.8(b), provided the king mackerel on board does not exceed 1 percent, or the Spanish mackerel on board does not exceed 10 percent, of all fish on board the vessel. Incidental catch will be calculated by number and/or weight of fish. Neither calculation may exceed the allowable percentage. Incidentally caught king or Spanish mackerel are counted toward the quotas provided for under § 622.384 and are subject to the prohibition of sale under § 622.384(e)(3).

(b) [Reserved]

§ 622.380 Size limits.

All size limits in this section are minimum size limits unless specified otherwise. A fish not in compliance with its size limit, as specified in this section, in or from the Gulf, South Atlantic, or Mid-Atlantic EEZ, as appropriate, may not be possessed, sold, or purchased. A fish not in compliance with its size limit must be released immediately with a minimum of harm. The operator of a vessel that fishes in the EEZ is responsible for ensuring that fish on board are in compliance with the size limits specified in this section.

(a) Cobia in the Gulf, Mid-Atlantic, or South Atlantic—33 inches (83.8 cm), fork length.

(b) King mackerel in the Gulf, South Atlantic, or Mid-Atlantic—24 inches (61.0 cm), fork length, except that a vessel fishing under a quota for king mackerel specified in § 622.384(b) may possess undersized king mackerel in quantities not exceeding 5 percent, by weight, of the king mackerel on board.

(c) Spanish mackerel in the Gulf, South Atlantic, or Mid-Atlantic—12 inches (30.5 cm), fork length, except that a vessel fishing under a quota for Spanish mackerel specified in § 622.384(c) may possess undersized Spanish mackerel in quantities not exceeding 5 percent, by weight, of the Spanish mackerel on board.

§ 622.381 Landing fish intact.

(a) Cobia, king mackerel, and Spanish mackerel in or from the Gulf, Mid-Atlantic, or South Atlantic EEZ, except as specified for king mackerel and Spanish mackerel in paragraph (b) of this section, must be maintained with head and fins intact. Such fish may be eviscerated, gilled, and scaled, but must otherwise be maintained in a whole condition. The operator of a vessel that fishes in the EEZ is responsible for ensuring that fish on that vessel in the EEZ are maintained intact and, if taken from the EEZ, are maintained intact through offloading ashore, as specified in this section.

(b) Cut-off (damaged) king or Spanish mackerel that comply with the minimum size limits in § 622.380(b) and (c), respectively, and the trip limits in § 622.385(a) and (b), respectively, may be possessed in the Gulf, Mid-Atlantic, or South Atlantic EEZ on, and offloaded ashore from, a vessel that is operating under the respective trip limits. Such cut-off fish also may be sold. A maximum of five additional cut-off (damaged) king mackerel, not subject to the size limits or trip limits, may be possessed or offloaded ashore but may not be sold or purchased and are not counted against the trip limit.

§ 622.382 Bag and possession limits.

Section 622.11(a) provides the general applicability for bag and possession limits.

(a) King and Spanish mackerel—(1) Bag limits. (i) Atlantic migratory group king mackerel—

(A) Mid-Atlantic and South Atlantic, other than off Florida—3.

(B) Off Florida—2, which is the daily bag limit specified by Florida for its waters (Rule 68B-12.004(1), Florida Administrative Code, in effect as of July 15, 1996 (incorporated by reference, see § 622.413). If Florida changes its limit, the bag limit specified in this paragraph (a)(1)(i)(B) will be changed to conform to Florida's limit, provided such limit does not exceed 5.

(ii) Gulf migratory group king mackerel—2.

(iii) Atlantic migratory group Spanish mackerel—15.

(iv) Gulf migratory group Spanish mackerel—15.

(v) Coastal migratory pelagic fish within certain South Atlantic SMZs—§ 622.11(a) notwithstanding, all harvest and possession of coastal migratory pelagic fish within the South Atlantic SMZs specified in § 622.182(a)(1)(i) through (xi), (a)(1)(xx), and (a)(1)(xxii) through (xxxix) is limited to the bag limits specified in paragraphs (a)(1)(i) through (iv) of this section.

(2) Possession limits. A person who is on a trip that spans more than 24 hours may possess no more than two daily bag limits, provided such trip is on a vessel that is operating as a charter vessel or headboat, the vessel has two licensed operators aboard, and each passenger is issued and has in possession a receipt issued on behalf of the vessel that verifies the length of the trip.

(b) [Reserved]

§ 622.383 Limited harvest species.

(a) General. (1) The harvest and possession restrictions of this section apply without regard to whether the species is harvested by a vessel operating under a commercial vessel permit. The operator of a vessel that fishes in the EEZ is responsible for the limit applicable to that vessel.

(2) A person who fishes in the EEZ may not combine a harvest limitation specified in this section with a harvest limitation applicable to state waters. A species subject to a harvest limitation specified in this section taken in the EEZ may not be transferred at sea, regardless of where such transfer takes place, and such species may not be transferred in the EEZ.

(b) Cobia. No person may possess more than two cobia per day in or from the Gulf, Mid-Atlantic, or South Atlantic EEZ, regardless of the number of trips or duration of a trip.

§ 622.384 Quotas.

See § 622.8 for general provisions regarding quota applicability and closure and reopening procedures. This section provides quotas and specific quota closure restrictions for coastal migratory pelagic fish.

(a) Specific quota applicability. King and Spanish mackerel quotas apply to persons who fish under commercial vessel permits for king or Spanish mackerel, as required under § 622.370(a)(1) or (3). Cobia quotas apply to persons who fish for cobia and sell their catch. A fish is counted against the quota for the area where it is caught.

(b) Quotas for migratory groups of king mackerel—(1) Gulf migratory group. For the 2012 to 2013 fishing year, the quota for the Gulf migratory group of king mackerel is 3.808 million lb (1.728 million kg). For the 2013 to 2014 fishing year and subsequent fishing years, the quota for the Gulf migratory group of king mackerel is 3.456 million lb (1.568 million kg). The Gulf migratory group is divided into eastern and western zones separated by 87°31.1′ W. long., which is a line directly south from the Alabama/Florida boundary. Quotas for the eastern and western zones are as follows:

(i) Eastern zone. The eastern zone is divided into subzones with quotas as follows:

(A) Florida east coast subzone. For the 2012 to 2013 fishing year, the quota is 1,215,228 lb (551,218 kg). For the 2013 to 2014 fishing year and subsequent fishing years, the quota is 1,102,896 lb (500,265 kg).

(B) Florida west coast subzone—(1) Southern. For the 2012 to 2013 fishing year, the quota is 1,215,228, (515,218 kg). For the 2013 to 2014 fishing year and subsequent fishing years, the quota is 1,102,896 lb (500,265 kg), which is further divided into a quota for vessels fishing with hook-and-line and a quota for vessels fishing with run-around gillnets. For the 2012 to 2013 fishing year, the hook-and-line quota is 607,614 lb (275,609 kg) and the run-around gillnet quota is 607,614 lb (275,609 kg). For the 2013 to 2014 fishing year and subsequent fishing years, the hook-and-line quota is 551,448 lb (250,133 kg) and the run-around gillnet quota is 551,448 lb (250,133 kg).

(2) Northern. For the 2012 to 2013 fishing year, the quota is 197,064 lb (89,387 kg). For the 2013 to 2014 fishing year and subsequent fishing years, the quota is 178,848 lb (81,124 kg).

(C) Description of Florida subzones. From November 1 through March 31, the Florida east coast subzone is that part of the eastern zone south of 29°25′ N. lat. (a line directly east from the Flagler/Volusia County, FL, boundary) and north of 25°20.4′ N. lat. (a line directly east from the Miami-Dade/Monroe County, FL, boundary). From April 1 through October 31, the Florida east coast subzone is no longer part of the Gulf migratory group king mackerel area; it is part of the Atlantic migratory group king mackerel area. The Florida west coast subzone is that part of the eastern zone south and west of 25°20.4′ N. lat. The Florida west coast subzone is further divided into southern and northern subzones. From November 1 through March 31, the southern subzone is that part of the Florida west coast subzone that extends south and west from 25°20.4′ N. lat., north to 26°19.8′ N. lat. (a line directly west from the Lee/Collier County, FL, boundary). From April 1 through October 31, the southern subzone is that part of the Florida west coast subzone that is between 26°19.8′ N. lat. and 25°48′ N. lat. (a line directly west from the Monroe/Collier County, FL, boundary). The northern subzone is that part of the Florida west coast subzone that is between 26°19.8′ N. lat. north and west to 87°31.1′ W. long. (a line directly south from the Alabama/Florida boundary) year round.

(ii) Western zone. For the 2012 to 2013 fishing year, the quota is 1,180,480 lb (535,457 kg). For the 2013 to 2014 fishing year and subsequent fishing years, the quota is 1,071,360 lb (485,961 kg).

(2) Atlantic migratory group. The quota for the Atlantic migratory group of king mackerel is 3.88 million lb (1.76 million kg). No more than 0.40 million lb (0.18 million kg) may be harvested by purse seines.

(c) Quotas for migratory groups of Spanish mackerel—(1) Gulf migratory group. [Reserved]

(2) Atlantic migratory group. The quota for the Atlantic migratory group of Spanish mackerel is 3.13 million lb (1.42 million kg).

(d) Quotas for migratory groups of cobia—(1) Gulf migratory group. [Reserved]

(2) Atlantic migratory group. The quota for the Atlantic migratory group of cobia is 125,712 lb (57,022 kg).

(e) Restrictions applicable after a quota closure. (1) A person aboard a vessel for which a commercial permit for king or Spanish mackerel has been issued, as required under § 622.370(a)(1) or (3), may not fish for king or Spanish mackerel in the EEZ or retain king or Spanish mackerel in or from the EEZ under a bag or possession limit specified in § 622.382(a) for the closed species, migratory group, zone, subzone, or gear, except as provided for under paragraph (e)(2) of this section.

(2) A person aboard a vessel for which valid charter vessel/headboat permits for Gulf coastal migratory pelagic fish or South Atlantic coastal migratory pelagic fish and a valid commercial vessel permit for king or Spanish mackerel have been issued may continue to retain fish under a bag and possession limit specified in § 622.382(a), provided the vessel is operating as a charter vessel or headboat.

(3) The sale or purchase of king mackerel, Spanish mackerel, or cobia of the closed species, migratory group, subzone, or gear type, is prohibited, including any king or Spanish mackerel taken under the bag limits, or cobia taken under the limited-harvest species possession limit specified in § 622.383(b). The prohibition on sale/purchase during a closure for coastal migratory pelagic fish does not apply to coastal migratory pelagic fish that were harvested, landed ashore, and sold prior to the effective date of the closure and were held in cold storage by a dealer or processor.

§ 622.385 Commercial trip limits.

Commercial trip limits are limits on the amount of the applicable species that may be possessed on board or landed, purchased, or sold from a vessel per day. A person who fishes in the EEZ may not combine a trip limit specified in this section with any trip or possession limit applicable to state waters. A species subject to a trip limit specified in this section taken in the EEZ may not be transferred at sea, regardless of where such transfer takes place, and such species may not be transferred in the EEZ. Commercial trip limits apply as follows (all weights are round or eviscerated weights unless specified otherwise):

(a) King mackerel—(1) Atlantic group. The following trip limits apply to vessels for which commercial permits for king mackerel have been issued, as required under § 622.370(a)(1):

(i) North of 29°25′ N. lat., which is a line directly east from the Flagler/Volusia County, FL, boundary, king mackerel in or from the EEZ may not be possessed on board or landed from a vessel in a day in amounts exceeding 3,500 lb (1,588 kg).

(ii) In the area between 29°25′ N. lat. and 28°47.8′ N. lat., which is a line directly east from the Volusia/Brevard County, FL, boundary, king mackerel in or from the EEZ may not be possessed on board or landed from a vessel in a day in amounts exceeding 3,500 lb (1,588 kg) from April 1 through October 31.

(iii) In the area between 28°47.8′ N. lat. and 25°20.4′ N. lat., which is a line directly east from the Miami-Dade/Monroe County, FL, boundary, king mackerel in or from the EEZ may not be possessed on board or landed from a vessel in a day in amounts exceeding 75 fish from April 1 through October 31.

(iv) In the area between 25°20.4′ N. lat. and 25°48′ N. lat., which is a line directly west from the Monroe/Collier County, FL, boundary, king mackerel in or from the EEZ may not be possessed on board or landed from a vessel in a day in amounts exceeding 1,250 lb (567 kg) from April 1 through October 31.

(2) Gulf group. Commercial trip limits are established in the eastern and western zones as follows. (See § 622.384(b)(1) for specification of the eastern and western zones and § 622.384(b)(1)(i)(C) for specifications of the subzones in the eastern zone.)

(i) Eastern zone-Florida east coast subzone. In the Florida east coast subzone, king mackerel in or from the EEZ may be possessed on board at any time or landed in a day from a vessel with a commercial permit for king mackerel as required under § 622.370(a)(1) as follows:

(A) From November 1 through January 31—not to exceed 50 fish.

(B) Beginning on February 1 and continuing through March 31—

(1) If 75 percent or more of the Florida east coast subzone quota as specified in § 622.384(b)(1)(i)(A) has been taken—not to exceed 50 fish.

(2) If less than 75 percent of the Florida east coast subzone quota as specified in § 622.384(b)(1)(i)(A) has been taken—not to exceed 75 fish.

(ii) Eastern zone-Florida west coast subzone—(A) Gillnet gear. (1) In the southern Florida west coast subzone, king mackerel in or from the EEZ may be possessed on board or landed from a vessel for which a commercial vessel permit for king mackerel and a king mackerel gillnet permit have been issued, as required under § 622.370(a)(2), in amounts not exceeding 25,000 lb (11,340 kg) per day, provided the gillnet fishery for Gulf group king mackerel is not closed under § 622.378(a) or § 622.8(b).

(2) In the southern Florida west coast subzone:

(i) King mackerel in or from the EEZ may be possessed on board or landed from a vessel that uses or has on board a run-around gillnet on a trip only when such vessel has on board a commercial vessel permit for king mackerel and a king mackerel gillnet permit.

(ii) King mackerel from the southern west coast subzone landed by a vessel for which a commercial vessel permit for king mackerel and a king mackerel gillnet permit have been issued will be counted against the run-around gillnet quota of § 622.384(b)(1)(i)(B)(1).

(iii) King mackerel in or from the EEZ harvested with gear other than run-around gillnet may not be retained on board a vessel for which a commercial vessel permit for king mackerel and a king mackerel gillnet permit have been issued.

(B) Hook-and-line gear. In the Florida west coast subzone, king mackerel in or from the EEZ may be possessed on board or landed from a vessel with a commercial permit for king mackerel, as required by § 622.370(a)(1), and operating under the hook-and-line gear quotas in § 622.384(b)(1)(i)(B)(1) or (b)(1)(i)(B)(2):

(1) From July 1, each fishing year, until 75 percent of the respective northern or southern subzone's hook-and-line gear quota has been harvested—in amounts not exceeding 1,250 lb (567 kg) per day.

(2) From the date that 75 percent of the respective northern or southern subzone's hook-and-line gear quota has been harvested, until a closure of the respective northern or southern subzone's fishery for vessels fishing with hook-and-line gear has been effected under § 622.8(b)—in amounts not exceeding 500 lb (227 kg) per day.

(iii) Notice of trip limit changes. The Assistant Administrator, by filing a notification of trip limit change with the Office of the Federal Register, will effect the trip limit changes specified in paragraphs (a)(2)(i) and (a)(2)(ii)(B) of this section when the requisite harvest level has been reached or is projected to be reached.

(iv) Western zone. In the western zone, king mackerel in or from the EEZ may be possessed on board or landed from a vessel for which a commercial permit for king mackerel has been issued, as required under § 622.370(a)(1), from July 1, each fishing year, until a closure of the western zone's fishery has been effected under § 622.8(b)—in amounts not exceeding 3,000 lb (1,361 kg) per day.

(b) Spanish mackerel. (1) Commercial trip limits are established for Atlantic migratory group Spanish mackerel as follows:

(i) North of 30°42′45.6″ N. lat., which is a line directly east from the Georgia/Florida boundary, Spanish mackerel in or from the EEZ may not be possessed on board or landed in a day from a vessel for which a permit for Spanish mackerel has been issued, as required under § 622.370(a)(3), in amounts exceeding 3,500 lb (1,588 kg).

(ii) South of 30°42′45.6″ N. lat., Spanish mackerel in or from the EEZ may not be possessed on board or landed in a day from a vessel for which a permit for Spanish mackerel has been issued, as required under § 622.370(a)(3)—

(A) From March 1 through November 30, in amounts exceeding 3,500 lb (1,588 kg).

(B) From December 1 until 75 percent of the adjusted quota is taken, in amounts as follows:

(1) Mondays through Fridays—unlimited.

(2) Saturdays and Sundays—not exceeding 1,500 lb (680 kg).

(C) After 75 percent of the adjusted quota is taken until 100 percent of the adjusted quota is taken, in amounts not exceeding 1,500 lb (680 kg).

(D) After 100 percent of the adjusted quota is taken through the end of the fishing year, in amounts not exceeding 500 lb (227 kg).

(2) For the purpose of paragraph (b)(1)(ii) of this section, the adjusted quota is 2.88 million (1.31 million kg). The adjusted quota is the quota for Atlantic migratory group Spanish mackerel reduced by an amount calculated to allow continued harvests of Atlantic migratory group Spanish mackerel at the rate of 500 lb (227 kg) per vessel per day for the remainder of the fishing year after the adjusted quota is reached. Total commercial harvest is still subject to the annual catch limit and accountability measures. By filing a notification with the Office of the Federal Register, the Assistant Administrator will announce when 75 percent and 100 percent of the adjusted quota is reached or projected to be reached.

(3) For the purpose of paragraph (b)(1)(ii) of this section, a day starts at 6 a.m., local time, and extends for 24 hours. If a vessel terminates a trip prior to 6 a.m., but retains Spanish mackerel on board after that time, the Spanish mackerel retained on board will not be considered in possession during the succeeding day, provided the vessel is not underway between 6 a.m. and the time such Spanish mackerel are unloaded, and provided such Spanish mackerel are unloaded prior to 6 p.m.

§ 622.386 Restrictions on sale/purchase.

The restrictions in this section are in addition to the restrictions on sale/purchase related to quota closures as specified in § 622.384(e)(3).

(a) Cut-off (damaged) king or Spanish mackerel. A person may not sell or purchase a cut-off (damaged) king or Spanish mackerel that does not comply with the minimum size limits specified in § 622.380(b) or (c), respectively, or that is in excess of the trip limits specified in § 622.385(a) or (b), respectively.

(b) [Reserved]

§ 622.387 Prevention of gear conflicts.

(a) In accordance with the procedures and restrictions of the FMP for Coastal Migratory Pelagic Resources, when the RA determines that a conflict exists in the king mackerel fishery between hook-and-line and gillnet fishermen in the South Atlantic EEZ off the east coast of Florida between 27°00.6′ N. lat. and 27°50.0′ N. lat., the RA may prohibit or restrict the use of hook-and-line and/or gillnets in all or a portion of that area. Necessary prohibitions or restrictions will be published in the Federal Register.

(b) [Reserved]

§ 622.388 Annual catch limits (ACLs), annual catch targets (ACTs), and accountability measures (AMs).

(a) Gulf migratory group king mackerel—(1) Commercial sector. If commercial landings, as estimated by the SRD, reach or are projected to reach the applicable quota specified in § 622.384(b)(1) (commercial ACL), the AA will file a notification with the Office of the Federal Register to close the commercial sector for that zone, subzone, or gear type for the remainder of the fishing year.

(2) Recreational sector. If recreational landings, as estimated by the SRD, reach or are projected to reach the recreational ACL of 8.092 million lb (3.670 million kg), the AA will file a notification with the Office of the Federal Register to implement a bag and possession limit for Gulf migratory group king mackerel of zero, unless the best scientific information available determines that a bag limit reduction is unnecessary. This bag and possession limit would also apply in the Gulf on board a vessel for which a valid Federal charter vessel/headboat permit for coastal migratory pelagic fish has been issued, without regard to where such species were harvested, i.e. in state or Federal waters.

(3) For purposes of tracking the ACL, recreational landings will be monitored based on the commercial fishing year, July 1 through June 1.

(b) Atlantic migratory group king mackerel—(1) Commercial sector—(i) If commercial landings, as estimated by the SRD, reach or are projected to reach the quota specified in § 622.384(b)(2) (commercial ACL), the AA will file a notification with the Office of the Federal Register to close the commercial sector for the remainder of the fishing year.

(ii) In addition to the measures specified in paragraph (b)(1)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the commercial quota (commercial ACL) for that following year by the amount of any commercial sector overage in the prior fishing year.

(2) Recreational sector. (i) If the sum of the commercial and recreational landings, as estimated by the SRD, exceeds the stock ACL, as specified in paragraph (b)(3) of this section, the AA will file a notification with the Office of the Federal Register, at or near the beginning of the following fishing year to reduce the bag limit by the amount necessary to ensure recreational landings may achieve the recreational annual catch target (ACT), but do not exceed the recreational ACL, in the following fishing year. The recreational ACT is 6.11 million lb (2.77 million kg). The recreational ACL is 6.58 million lb (2.99 million lb).

(ii) In addition to the measures specified in paragraph (b)(2)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the recreational ACL and ACT for that following year by the amount of any recreational sector overage in the prior fishing year.

(iii) For purposes of tracking the ACL, recreational landings will be evaluated based on the commercial fishing year, March through February. Recreational landings will be evaluated relative to the ACL based on a moving multi-year average of landings, as described in the FMP.

(3) The stock ACL for Atlantic migratory group king mackerel is 10.46 million lb (4.75 million kg).

(c) Gulf migratory group Spanish mackerel. (1) If the sum of the commercial and recreational landings, as estimated by the SRD, reaches or is projected to reach the stock ACL, as specified in paragraph (c)(3) of this section, the AA will file a notification with the Office of the Federal Register to close the commercial and recreational sectors for the remainder of the fishing year. On and after the effective date of such a notification, all sale and purchase of Gulf migratory group Spanish mackerel is prohibited and the harvest and possession limit of this species in or from the Gulf EEZ is zero. This possession limit also applies in the Gulf on board a vessel for which a valid Federal charter vessel/headboat permit for coastal migratory pelagic fish has been issued, without regard to where such species were harvested, i.e. in state or Federal waters.

(2) For purposes of tracking the ACL, recreational landings will be evaluated based on the commercial fishing year, April through March.

(3) The stock ACL for Gulf migratory group Spanish mackerel is 5.15 million lb (4.75 million kg).

(d) Atlantic migratory group Spanish mackerel—(1) Commercial sector. (i) If commercial landings, as estimated by the SRD, reach or are projected to reach the quota specified in § 622.384(c)(2) (commercial ACL), the AA will file a notification with the Office of the Federal Register to close the commercial sector for the remainder of the fishing year.

(ii) In addition to the measures specified in paragraph (d)(1)(i) of this section, if the sum of the commercial and recreational landings, as estimated by the SRD, exceeds the stock ACL, as specified in paragraph (d)(3) of this section, and Atlantic migratory group Spanish mackerel are overfished, based on the most recent status of U.S. Fisheries Report to Congress, the AA will file a notification with the Office of the Federal Register, at or near the beginning of the following fishing year to reduce the commercial quota (commercial ACL) for that following year by the amount of any commercial sector overage in the prior fishing year.

(2) Recreational sector. (i) If the sum of the commercial and recreational landings, as estimated by the SRD, exceeds the stock ACL, as specified in paragraph (d)(3) of this section, the AA will file a notification with the Office of the Federal Register, at or near the beginning of the following fishing year to reduce the bag limit by the amount necessary to ensure recreational landings may achieve the recreational ACT, but do not exceed the recreational ACL, in the following fishing year. The recreational ACT is 2.32 million lb (1.05 million kg). The recreational ACL is 2.56 million lb (1.16 million kg).

(ii) In addition to the measures specified in paragraph (d)(2)(i) of this section, if the sum of the commercial and recreational landings, as estimated by the SRD, exceeds the stock ACL, as specified in paragraph (d)(3) of this section, and Atlantic migratory group Spanish mackerel are overfished, based on the most recent status of U.S. Fisheries Report to Congress, the AA will file a notification with the Office of the Federal Register, at or near the beginning of the following fishing year to reduce the recreational ACT for that following year by the amount of any recreational sector overage in the prior fishing year.

(iii) For purposes of tracking the ACL and ACT, recreational landings will be evaluated based on the commercial fishing year, March through February. Recreational landings will be evaluated relative to the ACL based on a moving multi-year average of landings, as described in the FMP.

(3) The stock ACL for Atlantic migratory group Spanish mackerel is 5.69 million lb (2.58 million kg).

(e) Gulf migratory group cobia. (1) If the sum of the commercial and recreational landings, as estimated by the SRD, reaches or is projected to reach the stock ACT, as specified in paragraph (e)(2) of this section, the AA will file a notification with the Office of the Federal Register to close the commercial and recreational sectors for the remainder of the fishing year. On and after the effective date of such a notification, all sale and purchase of Gulf migratory group cobia is prohibited and the harvest and possession limit of this species in or from the Gulf EEZ is zero. This bag and possession limit also applies in the Gulf on board a vessel for which a valid Federal charter vessel/headboat permit for coastal migratory pelagic fish has been issued, without regard to where such species were harvested, i.e. in state or Federal water.

(2) The stock ACT for Gulf migratory group cobia is 1.31 million lb (0.59 million kg). The stock ACL for Gulf migratory group cobia is 1.46 million lb (0.66 million kg).

(f) Atlantic migratory group cobia—(1) Commercial sector. (i) If commercial landings, as estimated by the SRD, reach or are projected to reach the quota specified in § 622.384(d)(2) (commercial ACL), the AA will file a notification with the Office of the Federal Register to close the commercial sector for the remainder of the fishing year.

(ii) In addition to the measures specified in paragraph (f)(1)(i) of this section, if the sum of the commercial and recreational landings, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the commercial quota (commercial ACL) for that following year by the amount of any commercial sector overage in the prior fishing year.

(2) Recreational sector. (i) If the sum of the commercial and recreational landings, as estimated by the SRD, exceeds the stock ACL, as specified in paragraph (f)(3) of this section, the AA will file a notification with the Office of the Federal Register, at or near the beginning of the following fishing year to reduce the length of the following recreational fishing season by the amount necessary to ensure recreational landings may achieve the recreational ACT, but do not exceed the recreational ACL in the following fishing year. Further, during that following year, if necessary, the AA may file additional notification with the Office of the Federal Register to readjust the reduced fishing season to ensure recreational harvest achieves but does not exceed the intended harvest level. The recreational ACT is 1,184,688 lb (537,365 kg). The recreational ACL is 1,445,687 (655,753 kg).

(ii) In addition to the measures specified in paragraph (f)(2)(i) of this section, if the sum of the commercial and recreational landings, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the recreational ACL and ACT for that following year by the amount of any recreational sector overage in the prior fishing year.

(iii) Recreational landings will be evaluated relative to the ACL based on a moving multi-year average of landings, as described in the FMP.

(3) The stock ACL for Atlantic migratory group cobia is 1,571,399 lb (712,775 kg).

§ 622.389 Adjustment of management measures.

In accordance with the framework procedures of the FMP for Coastal Migratory Pelagic Resources, the RA may establish or modify the following items specified in paragraph (a) of this section for coastal migratory pelagic fish.

(a) For a species or species group: Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested fish (maintaining fish in whole condition, use as bait).

(b) [Reserved]

§ 622.390 Prohibitions.

In addition to the prohibitions in § 600.725 of this chapter and the general prohibitions in § 622.13, it is unlawful for any person to violate any provisions of §§ 622.370 through 622.389.

Subpart R—Spiny Lobster Fishery of the Gulf of Mexico and South Atlantic

§ 622.400 Permits and fees.

(a) Applicability—(1) Licenses, certificates, and permits—(i) EEZ off Florida and spiny lobster landed in Florida. For a person to sell, trade, or barter, or attempt to sell, trade, or barter, a spiny lobster harvested or possessed in the EEZ off Florida, or harvested in the EEZ other than off Florida and landed from a fishing vessel in Florida, or for a person to be exempt from the daily bag and possession limit specified in § 622.408(b)(1) for such spiny lobster, such person must have the licenses and certificates specified to be a “commercial harvester,” as defined in Rule 68B-24.002, Florida Administrative Code, in effect as of July 1, 2008 (incorporated by reference, see § 622.413).

(ii) EEZ other than off Florida. For a person to sell, trade, or barter, or attempt to sell, trade, or barter, a spiny lobster harvested in the EEZ other than off Florida or for a person to be exempt from the daily bag and possession limit specified in § 622.408(b)(1) for such spiny lobster, a Federal vessel permit must be issued to the harvesting vessel and must be on board. However, see paragraph (a)(1)(i) of this section for the licenses and certificates required for a person to possess or land spiny lobster harvested in the EEZ other than off Florida and subsequently possessed in the EEZ off Florida or landed from a fishing vessel in Florida.

(2) Tail-separation permits. For a person to possess aboard a fishing vessel a separated spiny lobster tail in or from the EEZ, a valid Federal tail-separation permit must be issued to the vessel and must be on board. Permitting prerequisites for the tail-separation permit are either a valid Federal vessel permit for spiny lobster or a valid Florida Saltwater Products License with a valid Florida Restricted Species Endorsement and a valid Crawfish Endorsement.

(3) Corporation/partnership-owned vessels. For a vessel owned by a corporation or partnership to be eligible for a Federal vessel permit specified in paragraph (a)(1)(ii) of this section, the earned income qualification specified in paragraph (b)(2)(vi) of this section must be met by, and the statement required by that paragraph must be submitted by, an officer or shareholder of the corporation, a general partner of the partnership, or the vessel operator.

(4) Operator-qualified permits. A vessel permit issued upon the qualification of an operator is valid only when that person is the operator of the vessel.

(b) Applications for permits. (1) An application for a Federal vessel and/or tail-separation permit must be submitted and signed by the owner (in the case of a corporation, a qualifying officer or shareholder; in the case of a partnership, a qualifying general partner) or operator of the vessel. The application must be submitted to the RA at least 30 days prior to the date on which the applicant desires to have the permit made effective.

(2) An applicant must provide the following information:

(i) A copy of the vessel's U.S. Coast Guard certificate of documentation or, if not documented, a copy of its state registration certificate.

(ii) The vessel's name and official number.

(iii) Name, mailing address including zip code, telephone number, social security number, and date of birth of the owner (if the owner is a corporation/partnership, in lieu of the social security number, provide the employer identification number, if one has been assigned by the Internal Revenue Service, and, in lieu of the date of birth, provide the date the corporation/partnership was formed).

(iv) If the owner does not meet the earned income qualification specified in paragraph (b)(2)(vi) of this section and the operator does meet that qualification, the name, mailing address including zip code, telephone number, social security number, and date of birth of the operator.

(v) Information concerning vessel, gear used, fishing areas, and fisheries vessel is used in, as requested by the RA and included on the application form.

(vi) A sworn statement by the applicant for a vessel permit certifying that at least 10 percent of his or her earned income was derived from commercial fishing, that is, sale of the catch, during the calendar year preceding the application.

(vii) Documentation supporting the statement of income, if required under paragraph (b)(3) of this section.

(viii) If a tail-separation permit is desired, a sworn statement by the applicant certifying that his or her fishing activity—

(A) Is routinely conducted in the EEZ on trips of 48 hours or more; and

(B) Necessitates the separation of carapace and tail to maintain a quality product.

(ix) Any other information that may be necessary for the issuance or administration of the permit.

(3) The RA may require the applicant to provide documentation supporting the sworn statement under paragraph (b)(2)(vi) of this section before a permit is issued or to substantiate why such permit should not be revoked or otherwise sanctioned under paragraph (i) of this section. Such required documentation may include copies of appropriate forms and schedules from the applicant's income tax return. Copies of income tax forms and schedules are treated as confidential.

(c) Change in application information. The owner or operator of a vessel with a permit must notify the RA within 30 days after any change in the application information specified in paragraph (b) of this section. The permit is void if any change in the information is not reported within 30 days.

(d) Fees. A fee is charged for each permit application submitted under paragraph (b) of this section. The amount of the fee is calculated in accordance with the procedures of the NOAA Finance Handbook for determining the administrative costs of each special product or service. The fee may not exceed such costs and is specified with each application form. The appropriate fee must accompany each application.

(e) Issuance. (1) The RA will issue a permit at any time to an applicant if the application is complete and the applicant meets the earned income requirement specified in paragraph (b)(2)(vi) of this section. An application is complete when all requested forms, information, and documentation have been received.

(2) Upon receipt of an incomplete application, the RA will notify the applicant of the deficiency. If the applicant fails to correct the deficiency within 30 days of the date of the RA's letter of notification, the application will be considered abandoned.

(f) Duration. A permit remains valid for the period specified on it unless the vessel is sold or the permit is revoked, suspended, or modified pursuant to subpart D of 15 CFR part 904.

(g) Transfer. A permit issued pursuant to this section is not transferable or assignable. A person purchasing a permitted vessel who desires to conduct activities for which a permit is required must apply for a permit in accordance with the provisions of paragraph (b) of this section. The application must be accompanied by a copy of a signed bill of sale.

(h) Display. A permit issued pursuant to this section must be carried on board the vessel, and such vessel must be identified as required by § 622.402. The operator of a vessel must present the permit for inspection upon the request of an authorized officer.

(i) Sanctions and denials. A permit issued pursuant to this section may be revoked, suspended, or modified, and a permit application may be denied, in accordance with the procedures governing enforcement-related permit sanctions and denials found at subpart D of 15 CFR part 904.

(j) Alteration. A permit that is altered, erased, or mutilated is invalid.

(k) Replacement. A replacement permit may be issued. An application for a replacement permit will not be considered a new application. A fee, the amount of which is stated with the application form, must accompany each request for a replacement permit.

§ 622.401 Recordkeeping and reporting. [Reserved]

§ 622.402 Vessel and gear identification.

(a) EEZ off Florida. (1) An owner or operator of a vessel that is used to harvest spiny lobster by traps in the EEZ off Florida must comply with the vessel and gear identification requirements specified in sections 379.367(2)(a)(1) and 379.367(3), Florida Statutes, in effect as of July 1, 2008 and in Rule 68B-24.006(3), (4), and (5), Florida Administrative Code, in effect as of July 1, 2008 (incorporated by reference, see § 622.413).

(2) An owner or operator of a vessel that is used to harvest spiny lobsters by diving in the EEZ off Florida must comply with the vessel identification requirements applicable to the harvesting of spiny lobsters by diving in Florida's waters in Rule 68B-24.006(6), Florida Administrative Code, in effect as of July 1, 2008 (incorporated by reference, see § 622.413).

(b) EEZ other than off Florida. (1) The owner or operator of a vessel that is used to harvest spiny lobsters in the EEZ other than off Florida, must meet the following vessel and gear identification requirements:

(i) The vessel's Florida crawfish license or trap number or, if not licensed by Florida, the vessel's Federal vessel permit number must be permanently and conspicuously displayed horizontally on the uppermost structural portion of the vessel in numbers at least 10 inches (25.4 cm) high so as to be readily identifiable from the air and water;

(ii) If the vessel uses spiny lobster traps in the EEZ, other than off Florida—

(A) The vessel's color code, as assigned by Florida or, if a color code has not been assigned by Florida, as assigned by the RA, must be permanently and conspicuously displayed above the number specified in paragraph (b)(1)(i) of this section so as to be readily identifiable from the air and water, such color code being in the form of a circle at least 20 inches (50.8 cm) in diameter on a background of colors contrasting to those contained in the assigned color code;

(B) A buoy or timed-release buoy of such strength and buoyancy to float must be attached to each spiny lobster trap or at each end of a string of traps;

(C) A buoy used to mark spiny lobster traps must bear the vessel's assigned color code and be of such color, hue, and brilliancy as to be easily distinguished, seen, and located;

(D) A buoy used to mark spiny lobster traps must bear the vessel's Florida crawfish license or trap number or, if not licensed by Florida, the vessel's Federal vessel permit number in numbers at least 2 inches (5.08 cm) high; and

(E) A spiny lobster trap must bear the vessel's Florida crawfish license or trap number or, if not licensed by Florida, the vessel's Federal vessel permit number permanently and legibly affixed.

(2) A spiny lobster trap in the EEZ, other than off Florida, will be presumed to be the property of the most recently documented owner. Upon the sale or transfer of a spiny lobster trap used in the EEZ, other than off Florida, within 5 days of acquiring ownership, the person acquiring ownership must notify the Florida Division of Law Enforcement of the Department of Environmental Protection for a trap that bears a Florida crawfish license or trap number, or the RA, for a trap that bears a Federal vessel permit number, as to the number of traps purchased, the vendor, and the crawfish license or trap number, or Federal vessel permit number, currently displayed on the traps, and must request issuance of a crawfish license or trap number, or Federal vessel permit, if the acquiring owner does not possess such license or trap number or permit.

(c) Unmarked traps and buoys. An unmarked spiny lobster trap or buoy in the EEZ is illegal gear.

(1) EEZ off Florida. Such trap or buoy, and any connecting lines, during times other than the authorized fishing season, will be considered derelict and may be disposed of in accordance with Rules 68B-55.002 and 68B-55.004 of the Florida Administrative Code, in effect as of October 15, 2007 (incorporated by reference, see § 622.413). An owner of such trap or buoy remains subject to appropriate civil penalties.

(2) EEZ other than off Florida. Such trap or buoy, and any connecting lines, will be considered unclaimed or abandoned property and may be disposed of in any manner considered appropriate by the Assistant Administrator or an authorized officer. An owner of such trap or buoy remains subject to appropriate civil penalties.

§ 622.403 Seasons.

(a) EEZ off the southern Atlantic states, other than Florida. In the EEZ off the southern Atlantic states, other than Florida, there are no seasonal restrictions on the harvest of spiny lobster or on the possession of traps.

(b) EEZ off Florida and off the Gulf states, other than Florida—(1) Commercial and recreational fishing season. The commercial and recreational fishing season for spiny lobster in the EEZ off Florida and the EEZ off the Gulf states, other than Florida, begins on August 6 and ends on March 31.

(2) Special recreational fishing seasons—(i) EEZ off Florida. There is a 2-day special recreational fishing season in the EEZ off Florida on the last Wednesday and successive Thursday of July each year during which fishing for spiny lobster is limited to diving or use of a bully net or hoop net. (See § 622.404 for general prohibitions on gear and methods.) In the EEZ off Monroe County, Florida, no person may harvest spiny lobster by diving at night, that is, from 1 hour after official sunset to 1 hour before official sunrise, during this 2-day special recreational fishing season.

(ii) EEZ off the Gulf states, other than Florida. There is a 2-day special recreational fishing season in the EEZ off the Gulf states, other than Florida, during the last Saturday and successive Sunday of July each year during which fishing for spiny lobster may be conducted by authorized gear and methods other than traps. (See § 622.404 for prohibitions on gear and methods.)

(3) Possession of traps. (i) In the EEZ off Florida, the rules and regulations applicable to the possession of spiny lobster traps in Florida's waters in Rule 68B-24.005(3), (4), and (5), Florida Administrative Code, in effect as of June 1, 1994 (incorporated by reference, see § 622.413), apply in their entirety to the possession of spiny lobster traps in the EEZ off Florida. A spiny lobster trap, buoy, or rope in the EEZ off Florida, during periods not authorized in this paragraph will be considered derelict and may be disposed of in accordance with Rules 68B-55.002 and 68B-55.004 of the Florida Administrative Code, in effect as of October 15, 2007 (incorporated by reference, see § 622.413). An owner of such trap, buoy, or rope remains subject to appropriate civil penalties.

(ii) In the EEZ off the Gulf states, other than Florida, a spiny lobster trap may be placed in the water prior to the commercial and recreational fishing season, which is specified in paragraph (b)(1) of this section, beginning on August 1 and must be removed from the water after such season not later than April 5. A spiny lobster trap, buoy, or rope in the EEZ off the Gulf states, other than Florida, during periods not authorized in this paragraph will be considered unclaimed or abandoned property and may be disposed of in any manner considered appropriate by the Assistant Administrator or an authorized officer. An owner of such trap, buoy, or rope remains subject to appropriate civil penalties.

(4) Possession of spiny lobsters. In the EEZ off Florida and the Gulf states, a whole or a part of a spiny lobster subject to these regulations may only be possessed during the commercial and recreational fishing season and the special recreational fishing season specified in § 622.403, unless accompanied by proof of lawful harvest in the waters of a foreign nation. Consistent with the provisions of paragraphs (b)(3)(i) and (ii) of this section, a spiny lobster in a trap in this area will not be deemed to be possessed provided such spiny lobster is returned immediately to the water unharmed when a trap is removed from the water between March 31 and April 15.

(c) Primacy of seasonal restrictions in the EEZ off Florida. The seasonal restrictions applicable in the EEZ off Florida apply to all spiny lobsters and traps in the EEZ off Florida, without regard to harvest or use elsewhere, unless accompanied by proof of lawful harvest elsewhere.

§ 622.404 Prohibited gear and methods.

Also see § 622.9 for additional prohibited gear and methods that apply more broadly to multiple fisheries or in some cases all fisheries.

(a) A spiny lobster may not be taken in the EEZ with a spear, hook, or similar device, or gear containing such devices. In the EEZ, the possession of a speared, pierced, or punctured spiny lobster is prima facie evidence that prohibited gear was used to take such lobster. Hook, as used in this paragraph (a), does not include a hook in a hook-and-line fishery for species other than spiny lobster; and possession of a spiny lobster that has been speared, pierced, or punctured by such hook is not considered evidence that prohibited gear was used to take the spiny lobster, provided no prohibited gear is on board the vessel.

(b) A spiny lobster may not be taken in a directed fishery by the use of a net or trawl. See § 622.408(b)(4) for the bycatch limits applicable to a vessel that uses or has on board a net or trawl.

(c) Poisons and explosives may not be used to take a spiny lobster in the EEZ. For the purposes of this paragraph (c), chlorine, bleach, and similar substances, which are used to flush a spiny lobster out of rocks or coral, are poisons. A vessel in the spiny lobster fishery may not possess on board in the EEZ any dynamite or similar explosive substance.

§ 622.405 Trap construction specifications and tending restrictions.

(a) Construction specifications. In the EEZ, a spiny lobster trap may be no larger in dimension than 3 feet by 2 feet by 2 feet (91.4 cm by 61.0 cm by 61.0 cm), or the volume equivalent. A trap constructed of material other than wood must have a panel constructed of wood, cotton, or other material that will degrade at the same rate as a wooden trap. Such panel must be located in the upper half of the sides or on top of the trap, so that, when removed, there will be an opening in the trap no smaller than the diameter found at the throat or entrance of the trap.

(b) Tending restrictions. (1) A spiny lobster trap in the EEZ may be pulled or tended during daylight hours only, that is, from 1 hour before official sunrise to 1 hour after official sunset.

(2) A spiny lobster trap in the EEZ may be pulled or tended only by the owner's vessel, except that permission to pull or work traps belonging to another person may be granted—

(i) For traps in the EEZ off Florida, by the Division of Law Enforcement, Florida Fish and Wildlife Conservation Commission, in accordance with the procedures in Rule 68B-24.006(7), Florida Administrative Code, in effect as of July 1, 2008 (incorporated by reference, see § 622.413).

(ii) For traps in the EEZ, other than off Florida, by the RA, as may be arranged upon written request.

§ 622.406 Areas closed to lobster trap gear.

(a) Fishing with spiny lobster trap gear is prohibited year-round in the following areas bounded by rhumb lines connecting, in order, the points listed.

(1) Lobster Trap Gear Closed Area 1.

Point | North lat. | West long.
A | 24°31′15.002″ | 81°31′00.000″
B | 24°31′15.002″ | 81°31′19.994″
C | 24°31′29.999″ | 81°31′19.994″
D | 24°31′29.999″ | 81°31′00.000″
A | 24°31′15.002″ | 81°31′00.000″

(2) Lobster Trap Gear Closed Area 2.

Point | North lat. | West long.
A | 24°31′20.205″ | 81°30′17.213″
B | 24°31′17.858″ | 81°30′27.700″
C | 24°31′27.483″ | 81°30′30.204″
D | 24°31′29.831″ | 81°30′19.483″
A | 24°31′20.205″ | 81°30′17.213″

(3) Lobster Trap Gear Closed Area 3.

Point | North lat. | West long.
A | 24°31′42.665″ | 81°30′02.892″
B | 24°31′45.013″ | 81°29′52.093″
C | 24°31′34.996″ | 81°29′49.745″
D | 24°31′32.335″ | 81°30′00.466″
A | 24°31′42.665″ | 81°30′02.892″

(4) Lobster Trap Gear Closed Area 4.

Point | North lat. | West long.
A | 24°31′50.996″ | 81°28′39.999″
B | 24°31′50.996″ | 81°29′03.002″
C | 24°31′56.998″ | 81°29′03.002″
D | 24°31′56.998″ | 81°28′39.999″
A | 24°31′50.996″ | 81°28′39.999″

(5) Lobster Trap Gear Closed Area 5.

Point | North lat. | West long.
A | 24°32′20.014″ | 81°26′20.390″
B | 24°32′13.999″ | 81°26′41.999″
C | 24°32′27.004″ | 81°26′45.611″
D | 24°32′33.005″ | 81°26′23.995″
A | 24°32′20.014″ | 81°26′20.390″

(6) Lobster Trap Gear Closed Area 6.

Point | North lat. | West long.
A | 24°32′30.011″ | 81°24′47.000″
B | 24°32′23.790″ | 81°24′56.558″
C | 24°32′45.997″ | 81°25′10.998″
D | 24°32′52.218″ | 81°25′01.433″
A | 24°32′30.011″ | 81°24′47.000″

(7) Lobster Trap Gear Closed Area 7.

Point | North lat. | West long.
A | 24°32′46.834″ | 81°27′17.615″
B | 24°32′41.835″ | 81°27′35.619″
C | 24°32′54.003″ | 81°27′38.997″
D | 24°32′59.002″ | 81°27′21.000″
A | 24°32′46.834″ | 81°27′17.615″

(8) Lobster Trap Gear Closed Area 8.

Point | North lat. | West long.
A | 24°33′10.002″ | 81°25′50.995″
B | 24°33′04.000″ | 81°26′18.996″
C | 24°33′17.253″ | 81°26′21.839″
D | 24°33′23.254″ | 81°25′53.838″
A | 24°33′10.002″ | 81°25′50.995″

(9) Lobster Trap Gear Closed Area 9.

Point | North lat. | West long.
A | 24°33′22.004″ | 81°30′31.998″
B | 24°33′22.004″ | 81°30′41.000″
C | 24°33′29.008″ | 81°30′41.000″
D | 24°33′29.008″ | 81°30′31.998″
A | 24°33′22.004″ | 81°30′31.998″

(10) Lobster Trap Gear Closed Area 10.

Point | North lat. | West long.
A | 24°33′33.004″ | 81°30′00.000″
B | 24°33′33.004″ | 81°30′09.998″
C | 24°33′41.999″ | 81°30′09.998″
D | 24°33′41.999″ | 81°30′00.000″
A | 24°33′33.004″ | 81°30′00.000″

(11) Lobster Trap Gear Closed Area 11.

Point | North lat. | West long.
A | 24°33′50.376″ | 81°23′35.039″
B | 24°33′27.003″ | 81°24′51.003″
C | 24°33′40.008″ | 81°24′54.999″
D | 24°34′03.382″ | 81°23′39.035″
A | 24°33′50.376″ | 81°23′35.039″

(12) Lobster Trap Gear Closed Area 12.

Point | North lat. | West long.
A | 24°34′00.003″ | 81°19′29.996″
B | 24°34′00.003″ | 81°20′04.994″
C | 24°34′24.997″ | 81°20′04.994″
D | 24°34′24.997″ | 81°19′29.996″
A | 24°34′00.003″ | 81°19′29.996″

(13) Lobster Trap Gear Closed Area 13.

Point | North lat. | West long.
A | 24°35′19.997″ | 81°14′25.002″
B | 24°35′19.997″ | 81°14′34.999″
C | 24°35′29.006″ | 81°14′34.999″
D | 24°35′29.006″ | 81°14′25.002″
A | 24°35′19.997″ | 81°14′25.002″

(14) Lobster Trap Gear Closed Area 14.

Point | North lat. | West long.
A | 24°44′37.004″ | 80°46′47.000″
B | 24°44′37.004″ | 80°46′58.000″
C | 24°44′47.002″ | 80°46′58.000″
D | 24°44′47.002″ | 80°46′47.000″
A | 24°44′37.004″ | 80°46′47.000″

(15) Lobster Trap Gear Closed Area 15.

Point | North lat. | West long.
A | 24°49′53.946″ | 80°38′17.646″
B | 24°48′32.331″ | 80°40′15.530″
C | 24°48′44.389″ | 80°40′23.879″
D | 24°50′06.004″ | 80°38′26.003″
A | 24°49′53.946″ | 80°38′17.646″

(16) Lobster Trap Gear Closed Area 16.

Point | North lat. | West long.
A | 24°53′32.085″ | 80°33′22.065″
B | 24°53′38.992″ | 80°33′14.670″
C | 24°53′31.673″ | 80°33′07.155″
D | 24°53′24.562″ | 80°33′14.886″
A | 24°53′32.085″ | 80°33′22.065″

(17) Lobster Trap Gear Closed Area 17.

Point | North lat. | West long.
A | 24°53′33.410″ | 80°32′50.247″
B | 24°53′40.149″ | 80°32′42.309″
C | 24°53′32.418″ | 80°32′35.653″
D | 24°53′25.348″ | 80°32′43.302″
A | 24°53′33.410″ | 80°32′50.247″

(18) Lobster Trap Gear Closed Area 18.

Point | North lat. | West long.
A | 24°54′06.317″ | 80°32′34.115″
B | 24°53′59.368″ | 80°32′41.542″
C | 24°54′06.667″ | 80°32′48.994″
D | 24°54′13.917″ | 80°32′41.238″
A | 24°54′06.317″ | 80°32′34.115″

(19) Lobster Trap Gear Closed Area 19.

Point | North lat. | West long.
A | 24°54′06.000″ | 80°31′33.995″
B | 24°54′06.000″ | 80°31′45.002″
C | 24°54′36.006″ | 80°31′45.002″
D | 24°54′36.006″ | 80°31′33.995″
A | 24°54′06.000″ | 80°31′33.995″

(20) Lobster Trap Gear Closed Area 20.

Point | North lat. | West long.
A | 24°56′21.104″ | 80°28′52.331″
B | 24°56′17.012″ | 80°29′05.995″
C | 24°56′26.996″ | 80°29′08.996″
D | 24°56′31.102″ | 80°28′55.325″
A | 24°56′21.104″ | 80°28′52.331″

(21) Lobster Trap Gear Closed Area 21.

Point | North lat. | West long.
A | 24°56′53.006″ | 80°27′46.997″
B | 24°56′21.887″ | 80°28′25.367″
C | 24°56′35.002″ | 80°28′36.003″
D | 24°57′06.107″ | 80°27′57.626″
A | 24°56′53.006″ | 80°27′46.997″

(22) Lobster Trap Gear Closed Area 22.

Point | North lat. | West long.
A | 24°57′35.001″ | 80°27′14.999″
B | 24°57′28.011″ | 80°27′21.000″
C | 24°57′33.999″ | 80°27′27.997″
D | 24°57′40.200″ | 80°27′21.106″
A | 24°57′35.001″ | 80°27′14.999″

(23) Lobster Trap Gear Closed Area 23.

Point | North lat. | West long.
A | 24°58′58.154″ | 80°26′03.911″
B | 24°58′48.005″ | 80°26′10.001″
C | 24°58′52.853″ | 80°26′18.090″
D | 24°59′03.002″ | 80°26′11.999″
A | 24°58′58.154″ | 80°26′03.911″

(24) Lobster Trap Gear Closed Area 24.

Point | North lat. | West long.
A | 24°59′17.009″ | 80°24′32.999″
B | 24°58′41.001″ | 80°25′21.998″
C | 24°58′57.591″ | 80°25′34.186″
D | 24°59′33.598″ | 80°24′45.187″
A | 24°59′17.009″ | 80°24′32.999″

(25) Lobster Trap Gear Closed Area 25.

Point | North lat. | West long.
A | 24°59′44.008″ | 80°25′38.999″
B | 24°59′27.007″ | 80°25′48.997″
C | 24°59′32.665″ | 80°25′58.610″
D | 24°59′49.666″ | 80°25′48.612″
A | 24°59′44.008″ | 80°25′38.999″

(26) Lobster Trap Gear Closed Area 26.

Point | North lat. | West long.
A | 25°01′00.006″ | 80°21′55.002″
B | 25°01′00.006″ | 80°22′11.996″
C | 25°01′18.010″ | 80°22′11.996″
D | 25°01′18.010″ | 80°21′55.002″
A | 25°01′00.006″ | 80°21′55.002″

(27) Lobster Trap Gear Closed Area 27.

Point | North lat. | West long.
A | 25°01′34.997″ | 80°23′12.998″
B | 25°01′18.010″ | 80°23′44.000″
C | 25°01′22.493″ | 80°23′46.473″
D | 25°01′36.713″ | 80°23′37.665″
E | 25°01′46.657″ | 80°23′19.390″
A | 25°01′34.997″ | 80°23′12.998″

(28) Lobster Trap Gear Closed Area 28.

Point | North lat. | West long.
A | 25°01′38.005″ | 80°21′25.998″
B | 25°01′28.461″ | 80°21′46.158″
C | 25°01′45.009″ | 80°21′53.999″
D | 25°01′54.553″ | 80°21′33.839″
A | 25°01′38.005″ | 80°21′25.998″

(29) Lobster Trap Gear Closed Area 29.

Point | North lat. | West long.
A | 25°01′53.001″ | 80°23′08.995″
B | 25°01′53.001″ | 80°23′17.997″
C | 25°02′01.008″ | 80°23′17.997″
D | 25°02′01.008″ | 80°23′08.995″
A | 25°01′53.001″ | 80°23′08.995″

(30) Lobster Trap Gear Closed Area 30.

Point | North lat. | West long.
A | 25°02′20.000″ | 80°22′11.001″
B | 25°02′10.003″ | 80°22′50.002″
C | 25°02′22.252″ | 80°22′53.140″
D | 25°02′32.250″ | 80°22′14.138″
A | 25°02′20.000″ | 80°22′11.001″

(31) Lobster Trap Gear Closed Area 31.

Point | North lat. | West long.
A | 25°02′29.503″ | 80°20′30.503″
B | 25°02′16.498″ | 80°20′43.501″
C | 25°02′24.999″ | 80°20′52.002″
D | 25°02′38.004″ | 80°20′38.997″
A | 25°02′29.503″ | 80°20′30.503″

(32) Lobster Trap Gear Closed Area 32.

Point | North lat. | West long.
A | 25°02′34.008″ | 80°21′57.000″
B | 25°02′34.008″ | 80°22′14.997″
C | 25°02′50.007″ | 80°22′14.997″
D | 25°02′50.007″ | 80°21′57.000″
A | 25°02′34.008″ | 80°21′57.000″

(33) Lobster Trap Gear Closed Area 33.

Point | North lat. | West long.
A | 25°03′11.294″ | 80°21′36.864″
B | 25°03′02.540″ | 80°21′43.143″
C | 25°03′08.999″ | 80°21′51.994″
D | 25°03′17.446″ | 80°21′45.554″
A | 25°03′11.294″ | 80°21′36.864″

(34) Lobster Trap Gear Closed Area 34.

Point | North lat. | West long.
A | 25°03′30.196″ | 80°21′34.263″
B | 25°03′39.267″ | 80°21′29.506″
C | 25°03′35.334″ | 80°21′19.801″
D | 25°03′26.200″ | 80°21′24.304″
A | 25°03′30.196″ | 80°21′34.263″

(35) Lobster Trap Gear Closed Area 35.

Point | North lat. | West long.
A | 25°03′26.001″ | 80°19′43.001″
B | 25°03′26.001″ | 80°19′54.997″
C | 25°03′41.011″ | 80°19′54.997″
D | 25°03′41.011″ | 80°19′43.001″
A | 25°03′26.001″ | 80°19′43.001″

(36) Lobster Trap Gear Closed Area 36.

Point | North lat. | West long.
A | 25°07′03.008″ | 80°17′57.999″
B | 25°07′03.008″ | 80°18′10.002″
C | 25°07′14.997″ | 80°18′10.002″
D | 25°07′14.997″ | 80°17′57.999″
A | 25°07′03.008″ | 80°17′57.999″

(37) Lobster Trap Gear Closed Area 37.

Point | North lat. | West long.
A | 25°07′51.156″ | 80°17′27.910″
B | 25°07′35.857″ | 80°17′37.091″
C | 25°07′43.712″ | 80°17′50.171″
D | 25°07′59.011″ | 80°17′40.998″
A | 25°07′51.156″ | 80°17′27.910″

(38) Lobster Trap Gear Closed Area 38.

Point | North lat. | West long.
A | 25°08′12.002″ | 80°17′09.996″
B | 25°07′55.001″ | 80°17′26.997″
C | 25°08′04.998″ | 80°17′36.995″
D | 25°08′22.000″ | 80°17′20.000″
A | 25°08′12.002″ | 80°17′09.996″

(39) Lobster Trap Gear Closed Area 39.

Point | North lat. | West long.
A | 25°08′18.003″ | 80°17′34.001″
B | 25°08′18.003″ | 80°17′45.997″
C | 25°08′29.003″ | 80°17′45.997″
D | 25°08′29.003″ | 80°17′34.001″
A | 25°08′18.003″ | 80°17′34.001″

(40) Lobster Trap Gear Closed Area 40.

Point | North lat. | West long.
A | 25°08′45.002″ | 80°15′50.002″
B | 25°08′37.999″ | 80°15′56.998″
C | 25°08′42.009″ | 80°16′00.995″
D | 25°08′48.999″ | 80°15′53.998″
A | 25°08′45.002″ | 80°15′50.002″

(41) Lobster Trap Gear Closed Area 41.

Point | North lat. | West long.
A | 25°08′58.007″ | 80°17′24.999″
B | 25°08′58.007″ | 80°17′35.999″
C | 25°09′09.007″ | 80°17′35.999″
D | 25°09′09.007″ | 80°17′24.999″
A | 25°08′58.007″ | 80°17′24.999″

(42) Lobster Trap Gear Closed Area 42.

Point | North lat. | West long.
A | 25°09′10.999″ | 80°16′00.000″
B | 25°09′10.999″ | 80°16′09.997″
C | 25°09′20.996″ | 80°16′09.997″
D | 25°09′20.996″ | 80°16′00.000″
A | 25°09′10.999″ | 80°16′00.000″

(43) Lobster Trap Gear Closed Area 43.

Point | North lat. | West long.
A | 25°09′28.316″ | 80°17′03.713″
B | 25°09′14.006″ | 80°17′17.000″
C | 25°09′21.697″ | 80°17′25.280″
D | 25°09′36.006″ | 80°17′12.001″
A | 25°09′28.316″ | 80°17′03.713″

(44) Lobster Trap Gear Closed Area 44.

Point | North lat. | West long.
A | 25°10′00.011″ | 80°16′06.000″
B | 25°10′00.011″ | 80°16′17.000″
C | 25°10′09.995″ | 80°16′17.000″
D | 25°10′09.995″ | 80°16′06.000″
A | 25°10′00.011″ | 80°16′06.000″

(45) Lobster Trap Gear Closed Area 45.

Point | North lat. | West long.
A | 25°10′29.002″ | 80°15′52.995″
B | 25°10′29.002″ | 80°16′04.002″
C | 25°10′37.997″ | 80°16′04.002″
D | 25°10′37.997″ | 80°15′52.995″
A | 25°10′29.002″ | 80°15′52.995″

(46) Lobster Trap Gear Closed Area 46.

Point | North lat. | West long.
A | 25°11′05.998″ | 80°14′25.997″
B | 25°11′05.998″ | 80°14′38.000″
C | 25°11′20.006″ | 80°14′38.000″
D | 25°11′20.006″ | 80°14′25.997″
A | 25°11′05.998″ | 80°14′25.997″

(47) Lobster Trap Gear Closed Area 47.

Point | North lat. | West long.
A | 25°12′00.998″ | 80°13′24.996″
B | 25°11′43.008″ | 80°13′35.000″
C | 25°11′48.007″ | 80°13′44.002″
D | 25°12′06.011″ | 80°13′33.998″
A | 25°12′00.998″ | 80°13′24.996″

(48) Lobster Trap Gear Closed Area 48.

Point | North lat. | West long.
A | 25°12′18.343″ | 80°14′32.768″
B | 25°12′02.001″ | 80°14′44.001″
C | 25°12′07.659″ | 80°14′52.234″
D | 25°12′24.001″ | 80°14′41.001″
A | 25°12′18.343″ | 80°14′32.768″

(49) Lobster Trap Gear Closed Area 49.

Point | North lat. | West long.
A | 25°15′23.998″ | 80°12′29.000″
B | 25°15′04.676″ | 80°12′36.120″
C | 25°15′09.812″ | 80°12′50.066″
D | 25°15′29.148″ | 80°12′42.946″
A | 25°15′23.998″ | 80°12′29.000″

(50) Lobster Trap Gear Closed Area 50.

Point | North lat. | West long.
A | 25°16′01.997″ | 80°12′32.996″
B | 25°15′33.419″ | 80°12′52.394″
C | 25°15′44.007″ | 80°13′08.001″
D | 25°16′12.585″ | 80°12′48.597″
A | 25°16′01.997″ | 80°12′32.996″

(51) Lobster Trap Gear Closed Area 51.

Point | North lat. | West long.
A | 25°16′33.006″ | 80°13′30.001″
B | 25°16′33.006″ | 80°13′41.001″
C | 25°16′34.425″ | 80°13′41.026″
D | 25°16′41.850″ | 80°13′37.475″
E | 25°16′42.001″ | 80°13′30.001″
A | 25°16′33.006″ | 80°13′30.001″

(52) Lobster Trap Gear Closed Area 52.

Point | North lat. | West long.
A | 25°17′04.715″ | 80°12′11.305″
B | 25°16′17.007″ | 80°12′27.997″
C | 25°16′23.997″ | 80°12′47.999″
D | 25°17′11.705″ | 80°12′31.300″
A | 25°17′04.715″ | 80°12′11.305″

(53) Lobster Trap Gear Closed Area 53.

Point | North lat. | West long.
A | 25°17′23.008″ | 80°12′40.000″
B | 25°17′23.008″ | 80°12′49.997″
C | 25°17′33.005″ | 80°12′49.997″
D | 25°17′33.005″ | 80°12′40.000″
A | 25°17′23.008″ | 80°12′40.000″

(54) Lobster Trap Gear Closed Area 54.

Point | North lat. | West long.
A | 25°20′57.996″ | 80°09′50.000″
B | 25°20′57.996″ | 80°10′00.000″
C | 25°21′07.005″ | 80°10′00.000″
D | 25°21′07.005″ | 80°09′50.000″
A | 25°20′57.996″ | 80°09′50.000″

(55) Lobster Trap Gear Closed Area 55.

Point | North lat. | West long.
A | 25°21′45.004″ | 80°09′51.998″
B | 25°21′38.124″ | 80°09′56.722″
C | 25°21′49.124″ | 80°10′12.728″
D | 25°21′56.004″ | 80°10′07.997″
A | 25°21′45.004″ | 80°09′51.998″

(56) Lobster Trap Gear Closed Area 56.

Point | North lat. | West long.
A | 25°21′49.000″ | 80°09′21.999″
B | 25°21′49.000″ | 80°09′31.996″
C | 25°21′58.998″ | 80°09′31.996″
D | 25°21′58.998″ | 80°09′21.999″
A | 25°21′49.000″ | 80°09′21.999″

(57) Lobster Trap Gear Closed Area 57.

Point | North lat. | West long.
A | 25°24′31.008″ | 80°07′36.997″
B | 25°24′31.008″ | 80°07′48.999″
C | 25°24′41.005″ | 80°07′48.999″
D | 25°24′41.005″ | 80°07′36.997″
A | 25°24′31.008″ | 80°07′36.997″

(58) Lobster Trap Gear Closed Area 58.

Point | North lat. | West long.
A | 25°25′14.005″ | 80°07′27.995″
B | 25°25′14.005″ | 80°07′44.001″
C | 25°25′26.008″ | 80°07′44.001″
D | 25°25′26.008″ | 80°07′27.995″
A | 25°25′14.005″ | 80°07′27.995″

(59) Lobster Trap Gear Closed Area 59.

Point | North lat. | West long.
A | 25°35′13.996″ | 80°05′39.999″
B | 25°35′13.996″ | 80°05′50.999″
C | 25°35′24.007″ | 80°05′50.999″
D | 25°35′24.007″ | 80°05′39.999″
A | 25°35′13.996″ | 80°05′39.999″

(60) Lobster Trap Gear Closed Area 60.

Point | North lat. | West long.
A | 25°40′57.003″ | 80°05′43.000″
B | 25°40′57.003″ | 80°05′54.000″
C | 25°41′06.550″ | 80°05′53.980″
D | 25°41′18.136″ | 80°05′49.158″
E | 25°41′18.001″ | 80°05′43.000″
A | 25°40′57.003″ | 80°05′43.000″

(b) [Reserved]

§ 622.407 Minimum size limits and other harvest limitations.

(a) Minimum size limits. (1) Except as provided in paragraph (c) of this section—

(i) No person may possess a spiny lobster in or from the EEZ with a carapace length of 3.0 inches (7.62 cm) or less; and

(ii) A spiny lobster, harvested in the EEZ by means other than diving, with a carapace length of 3.0 inches (7.62 cm) or less must be returned immediately to the water unharmed.

(2) No person may harvest or attempt to harvest a spiny lobster by diving in the EEZ unless he or she possesses, while in the water, a measuring device capable of measuring the carapace length. A spiny lobster captured by a diver must be measured in the water using such measuring device and, if the spiny lobster has a carapace length of 3.0 inches (7.62 cm) or less, it must be released unharmed immediately without removal from the water.

(3) Aboard a vessel authorized under paragraph (d) of this section to possess a separated spiny lobster tail, no person may possess in or from the EEZ a separated spiny lobster tail with a tail length less than 5.5 inches (13.97 cm).

(b) Berried lobsters. A berried (egg-bearing) spiny lobster in or from the EEZ must be returned immediately to the water unharmed. If found in a trap in the EEZ, a berried spiny lobster may not be retained in the trap. A berried spiny lobster in or from the EEZ may not be stripped of its eggs or otherwise molested. The possession of a spiny lobster, or part thereof, in or from the EEZ from which eggs, swimmerettes, or pleopods have been removed or stripped is prohibited.

(c) Undersized attractants. A live spiny lobster under the minimum size limit specified in paragraph (a)(1) of this section that is harvested in the EEZ by a trap may be retained aboard the harvesting vessel for future use as an attractant in a trap provided it is held in a live well aboard the vessel. No more than fifty undersized spiny lobsters, and one per trap aboard the vessel, whichever is greater, may be retained aboard for use as attractants. The live well must provide a minimum of ¾ gallons (1.7 liters) of seawater per spiny lobster. An undersized spiny lobster so retained must be released to the water alive and unharmed immediately upon leaving the trap lines and prior to one hour after official sunset each day. No more than fifty undersized spiny lobsters and one per trap aboard the vessel, may be retained aboard for use as attractants.

(d) Tail separation. (1) The possession aboard a fishing vessel of a separated spiny lobster tail in or from the EEZ, is authorized only when the possession is incidental to fishing exclusively in the EEZ on a trip of 48 hours or more and a valid Federal tail-separation permit, and either a valid Federal vessel permit for spiny lobster or a valid Florida Saltwater Products License with a valid Florida Restricted Species Endorsement and a valid Crawfish Endorsement, as specified in § 622.400(a)(2), has been issued to and are on board the vessel.

(2) Spiny lobster must be landed either all whole or all tailed on a single fishing trip.

§ 622.408 Bag/possession limits.

(a) EEZ off the southern Atlantic states, other than Florida. The daily bag or possession limit for spiny lobster in or from the EEZ off the southern Atlantic states, other than Florida, is two per person for commercial and recreational fishing, year-round.

(b) EEZ off Florida and off the Gulf states, other than Florida—(1) Commercial and recreational fishing season. Except as specified in paragraphs (b)(3) and (b)(4) of this section, during the commercial and recreational fishing season specified in § 622.403(b)(1), the daily bag or possession limit of spiny lobster in or from the EEZ off Florida and off the Gulf states, other than Florida, is six per person.

(2) Special recreational fishing seasons. During the special recreational fishing seasons specified in § 622.403(b)(2), the daily bag or possession limit of spiny lobster—

(i) In or from the EEZ off the Gulf states, other than Florida, is six per person;

(ii) In or from the EEZ off Florida other than off Monroe County, Florida, is twelve per person; and

(iii) In or from the EEZ off Monroe County, Florida, is six per person.

(3) Exemption from the bag/possession limit. During the commercial and recreational fishing season specified in § 622.403(b)(1), a person is exempt from the bag and possession limit specified in paragraph (b)(1) of this section, provided—

(i) The harvest of spiny lobsters is by diving, or by the use of a bully net, hoop net, or spiny lobster trap; and

(ii) The vessel from which the person is operating has on board the required licenses, certificates, or permits, as specified in § 622.400(a)(1).

(4) Harvest by net or trawl. During the commercial and recreational fishing season specified in § 622.403(b)(1), aboard a vessel with the required licenses, certificates, or permits specified in § 622.400(a)(1) that harvests spiny lobster by net or trawl or has on board a net or trawl, the possession of spiny lobster in or from the EEZ off Florida and off the Gulf states, other than Florida, may not exceed at any time 5 percent, whole weight, of the total whole weight of all fish lawfully in possession on board such vessel. If such vessel lawfully possesses a separated spiny lobster tail, the possession of spiny lobster in or from the EEZ may not exceed at any time 1.6 percent, by weight of the spiny lobster or parts thereof, of the total whole weight of all fish lawfully in possession on board such vessel. For the purposes of this paragraph (b)(4), the term “net or trawl” does not include a hand-held net, a loading or dip net, a bully net, or a hoop net.

(5) Diving at night. The provisions of paragraph (b)(3) of this section notwithstanding, a person who harvests spiny lobster in the EEZ by diving at night, that is, from 1 hour after official sunset to 1 hour before official sunrise, is limited to the bag limit specified in paragraph (b)(1) of this section, whether or not a Federal vessel permit specified in § 622.400(a)(1) has been issued to and is on board the vessel from which the diver is operating.

(c) Combination of bag/possession limits. A person who fishes for or possesses spiny lobster in or from the EEZ under a bag or possession limit specified in paragraph (a) or (b) of this section may not combine the bag or possession limits of those paragraphs or combine such bag or possession limit with a bag or possession limit applicable to state waters.

(d) Responsibility for bag/possession limits. The operator of a vessel that fishes for or possesses spiny lobster in or from the EEZ is responsible for the cumulative bag or possession limit specified in paragraphs (a) and (b) of this section applicable to that vessel, based on the number of persons aboard.

(e) Transfer at sea. A person who fishes for or possesses spiny lobster in or from the EEZ under a bag or possession limit specified in paragraph (a) or (b) of this section may not transfer a spiny lobster at sea from a fishing vessel to any other vessel, and no person may receive at sea such spiny lobster.

§ 622.409 Spiny lobster import prohibitions.

(a) Minimum size limits for imported spiny lobster. There are two minimum size limits that apply to importation of spiny lobster into the United States—one that applies any place subject to the jurisdiction of the United States other than Puerto Rico or the U.S. Virgin Islands, and a more restrictive minimum size limit that applies to Puerto Rico and the U.S. Virgin Islands.

(1) No person may import a spiny lobster with less than a 5-ounce (142-gram) tail weight into any place subject to the jurisdiction of the United States excluding Puerto Rico and the U.S. Virgin Islands. For the purposes of paragraph (a) of this section, a 5-ounce (142-gram) tail weight is defined as a tail that weighs 4.2-5.4 ounces (119-153 grams). If the documentation accompanying an imported spiny lobster (including but not limited to product packaging, customs entry forms, bills of lading, brokerage forms, or commercial invoices) indicates that the product does not satisfy the minimum tail-weight requirement, the person importing such spiny lobster has the burden to prove that such spiny lobster actually does satisfy the minimum tail-weight requirement or that such spiny lobster has a tail length of 5.5 inches (13.97 cm) or greater or that such spiny lobster has or had a carapace length of greater than 3.0 inches (7.62 cm). If the imported product itself does not satisfy the minimum tail-weight requirement, the person importing such spiny lobster has the burden to prove that such spiny lobster has a tail length of 5.5 inches (13.97 cm) or greater or that such spiny lobster has or had a carapace length of greater than 3.0 inches (7.62 cm). If the burden is satisfied, such spiny lobster will be considered to be in compliance with the minimum 5-ounce (142-gram) tail-weight requirement.

(2) See § 622.458 regarding a more restrictive minimum size limit that applies to spiny lobster imported into Puerto Rico or the U.S. Virgin Islands.

(b) Additional spiny lobster import prohibitions—(1) Prohibition related to tail meat. No person may import into any place subject to the jurisdiction of the United States spiny lobster tail meat that is not in whole tail form with the exoskeleton attached.

(2) Prohibitions related to egg-bearing spiny lobster. No person may import into any place subject to the jurisdiction of the United States spiny lobster with eggs attached or spiny lobster from which eggs or pleopods (swimmerets) have been removed or stripped. Pleopods (swimmerets) are the first five pairs of abdominal appendages.

§ 622.410 Restrictions within the Tortugas marine reserves.

The following activities are prohibited within the Tortugas marine reserves: Fishing for any species and anchoring by fishing vessels.

(a) EEZ portion of Tortugas North. The area is bounded by rhumb lines connecting the following points: From point A at 24°40′00″ N. lat., 83°06′00″ W. long. to point B at 24°46′00″ N. lat., 83°06′00″ W. long. to point C at 24°46′00″ N. lat., 83°00′00″ W. long.; thence along the line denoting the seaward limit of Florida's waters, as shown on the current edition of NOAA chart 11438, to point A at 24°40′00″ N. lat., 83°06′00″ W. long.

(b) Tortugas South. The area is bounded by rhumb lines connecting, in order, the following points:

Point | North lat. | West long.
A | 24°33′00″ | 83°09′00″
B | 24°33′00″ | 83°05′00″
C | 24°18′00″ | 83°05′00″
D | 24°18′00″ | 83°09′00″
A | 24°33′00″ | 83°09′00″

§ 622.411 Annual catch limits (ACLs), annual catch targets (ACTs), and accountability measures (AMs).

For recreational and commercial spiny lobster landings combined, the ACL is 7.32 million lb (3.32 million kg), whole weight. The ACT is 6.59 million lb, (2.99 million kg) whole weight.

§ 622.412 Adjustment of management measures.

In accordance with the framework procedure of the Fishery Management Plan for the Spiny Lobster Fishery of the Gulf of Mexico and South Atlantic, the RA may establish or modify the following items:

(a) Reporting and monitoring requirements, permitting requirements, bag and possession limits, size limits, vessel trip limits, closed seasons, closed areas, reopening of sectors that have been prematurely closed, annual catch limits (ACLs), annual catch targets (ACTs), quotas, accountability measures (AMs), maximum sustainable yield (or proxy), optimum yield, total allowable catch (TAC), management parameters such as overfished and overfishing definitions, gear restrictions, gear markings and identification, vessel identification requirements, allowable biological catch (ABC) and ABC control rule, rebuilding plans, and restrictions relative to conditions of harvested fish (such as tailing lobster, undersized attractants, and use as bait).

(b) [Reserved]

§ 622.413 Incorporation by reference.

(a) Certain material is incorporated by reference into this subpart with the approval of the Director of the Federal Register under U.S.C. 552(a) and 1 CFR part 51. These materials are incorporated as they exist on the date of approval and a notice of any change in these materials will be published in the Federal Register. This incorporation by reference was approved by the Director of the Office of the Federal Register in accordance with 5 U.S.C. 552(a) and 1 CFR part 51. These materials are incorporated as they exist on the date of approval and a notice of any change in these materials will be published in the Federal Register. All material incorporated by reference is available for inspection at the NMFS, Office of Sustainable Fisheries, Office of the RA, 1315 East-West Highway, Silver Spring, MD; and the National Archives and Records Administration (NARA), Office of the Federal Register, 800 North Capitol Street NW., Suite 700, Washington, DC. For more information on the availability of this material at NARA, call 202-741-6030 or go to http://www.archives.gov/federal-register/cfr/ibr-locations.html.

(b) Florida Administrative Code (F.A.C.): Florida Division of Marine Fisheries Management, 620 South Meridian Street, Tallahassee, FL 32399; telephone: 850-488-4676; http://laws.flrules.org.

(1) F.A.C., Chapter 68B-12: King mackerel resource renewal, Rule 68B-12.004: Bag limits, in effect as of July 15, 1996, IBR approved for § 622.382(a).

(2) F.A.C., Chapter 68B-24: Spiny lobster (crawfish) and slipper lobster, Rule 68B-24.002: Definitions, in effect as of July 1, 2008, IBR approved for § 622.400(a).

(3) F.A.C., Chapter 68B-24: Spiny lobster (crawfish) and slipper lobster, Rule 68B-24.005: Seasons, in effect as of June 1, 2004, IBR approved for § 622.403(b).

(4) F.A.C., Chapter 68B-24: Spiny lobster (crawfish) and slipper lobster, Rule 68B-24.006: Gear: Traps, Buoys, Identification Requirements, Prohibited Devices, in effect as of July 1, 2008, IBR approved for § 622.402(a) and § 622.405(b).

(5) F.A.C., Chapter 68B-38: Shrimping and trapping: Closed areas and seasons, Rule 68B-38.001: Citrus-Hernando Shrimping and Trapping Closed Areas and Seasons, in effect as of March 1, 2005, IBR approved for § 622.55(e).

(6) F.A.C., Chapter 68B-55: Trap retrieval and trap debris removal, Rule 68B-55.002: Retrieval of Trap Debris, in effect as of October 15, 2007, IBR approved for § 622.402(c), § 622.403(b), and § 622.450(c).

(7) F.A.C., Chapter 68B-55: Trap retrieval and trap debris removal, Rule 68B-55.004: Retrieval of Derelict and Traps Located in Areas Permanently Closed to Trapping, in effect as of October 15, 2007, IBR approved for § 622.402(c), § 622.403(b), and § 622.450(c).

(c) Florida Statute: Florida Division of Marine Fisheries Management, 620 South Meridian Street, Tallahassee, FL 32399; telephone: 850-488-4676; http://www.leg.state.fl.us/Statutes/index.cfm.

(1) Florida Statutes, Chapter 379: Fish and Wildlife Conservation, Part VII: Nonrecreational Licenses, Section 379.367: Spiny lobster; regulation, 379.367, in effect as of July 1, 2008, IBR approved for § 622.402(a).

(2) [Reserved]

§ 622.414 Prohibitions.

In addition to the prohibitions in § 600.725 of this chapter and the general prohibitions in § 622.13, it is unlawful for any person to violate any provisions of §§ 622.400 through 622.413.

§ 622.415 Limited exemption regarding harvest in waters of a foreign nation.

(a) An owner or operator of a vessel that has legally harvested spiny lobsters in the waters of a foreign nation and possesses spiny lobster, or separated tails, in the EEZ incidental to such foeign harvesting is exempt from the requirements of this subpart, except for § 622.409 with which such an owner or operator must comply, provided proof of lawful harvest in the waters of a foreign nation accompanies such lobsters or tails.

Subpart S—Reef Fish Fishery of Puerto Rico and the U.S. Virgin Islands

§ 622.430 Gear identification.

(a) Fish traps and associated buoys. A fish trap used or possessed in the Caribbean EEZ must display the official number specified for the vessel by Puerto Rico or the U.S. Virgin Islands so as to be easily identified. Traps used in the Caribbean reef fish fishery that are fished individually, rather than tied together in a trap line, must have at least one buoy attached that floats on the surface. Traps used in the Caribbean reef fish fishery that are tied together in a trap line must have at least one buoy that floats at the surface attached at each end of the trap line. Each buoy must display the official number and color code assigned to the vessel by Puerto Rico or the U.S. Virgin Islands, whichever is applicable, so as to be easily distinguished, located, and identified.

(b) Presumption of ownership of fish traps. A fish trap in the EEZ will be presumed to be the property of the most recently documented owner. This presumption will not apply with respect to such traps that are lost or sold if the owner reports the loss or sale within 15 days to the RA.

(c) Disposition of unmarked fish traps or buoys. An unmarked fish trap or a buoy deployed in the EEZ where such trap or buoy is required to be marked is illegal and may be disposed of in any appropriate manner by the Assistant Administrator or an authorized officer.

§ 622.431 Trap construction specifications and tending restrictions.

(a) Construction specifications—(1) Minimum mesh size. A bare-wire fish trap used or possessed in the EEZ that has hexagonal mesh openings must have a minimum mesh size of 1.5 inches (3.8 cm) in the smallest dimension measured between centers of opposite strands. A bare-wire fish trap used or possessed in the EEZ that has other than hexagonal mesh openings or a fish trap of other than bare wire, such as coated wire or plastic, used or possessed in the EEZ, must have a minimum mesh size of 2.0 inches (5.1 cm) in the smallest dimension measured between centers of opposite strands.

(2) Escape mechanisms. A fish trap used or possessed in the Caribbean EEZ must have a panel located on one side of the trap, excluding the top, bottom, and side containing the trap entrance. The opening covered by the panel must measure not less than 8 by 8 inches (20.3 by 20.3 cm). The mesh size of the panel may not be smaller than the mesh size of the trap. The panel must be attached to the trap with untreated jute twine with a diameter not exceeding ⅛ inch (3.2 mm). An access door may serve as the panel, provided it is on an appropriate side, it is hinged only at its bottom, its only other fastening is untreated jute twine with a diameter not exceeding ⅛ inch (3.2 mm), and such fastening is at the top of the door so that the door will fall open when such twine degrades. Jute twine used to secure a panel may not be wrapped or overlapped.

(b) Tending restrictions. A fish trap in the Caribbean EEZ may be pulled or tended only by a person (other than an authorized officer) aboard the fish trap owner's vessel, or aboard another vessel if such vessel has on board written consent of the trap owner, or if the trap owner is aboard and has documentation verifying his identification number and color code. An owner's written consent must specify the time period such consent is effective and the trap owner's gear identification number and color code.

§ 622.432 Anchoring restriction.

(a) The owner or operator of any fishing vessel, recreational or commercial, that fishes for or possesses Caribbean reef fish in or from the Caribbean EEZ must ensure that the vessel uses only an anchor retrieval system that recovers the anchor by its crown, thereby preventing the anchor from dragging along the bottom during recovery. For a grapnel hook, this could include an incorporated anchor rode reversal bar that runs parallel along the shank, which allows the rode to reverse and slip back toward the crown. For a fluke- or plow-type anchor, a trip line consisting of a line from the crown of the anchor to a surface buoy would be required.

(b) [Reserved]

§ 622.433 Prohibited gear and methods.

Also see § 622.9 for additional prohibited gear and methods that apply more broadly to multiple fisheries or in some cases all fisheries.

(a) Poisons. A poison, drug, or other chemical may not be used to fish for Caribbean reef fish in the Caribbean EEZ.

(b) Powerheads. A powerhead may not be used in the Caribbean EEZ to harvest Caribbean reef fish. The possession of a mutilated Caribbean reef fish in or from the Caribbean EEZ and a powerhead is prima facie evidence that such fish was harvested by a powerhead.

(c) Gillnets and trammel nets in the Caribbean EEZ. A gillnet or trammel net may not be used in the Caribbean EEZ to fish for Caribbean reef fish. Possession of a gillnet or trammel net and any Caribbean reef fish in or from the Caribbean EEZ is prima facie evidence of violation of this paragraph (c). A gillnet or trammel net used in the Caribbean EEZ to fish for any other species must be tended at all times.

§ 622.434 Prohibited species.

(a) General. The harvest and possession restrictions of this section apply without regard to whether the species is harvested by a vessel operating under a commercial vessel permit. The operator of a vessel that fishes in the EEZ is responsible for the limit applicable to that vessel.

(b) No person may fish for or possess goliath grouper and Nassau grouper in or from the Caribbean EEZ. Such fish caught in the Caribbean EEZ must be released immediately with a minimum of harm.

(c) No person may fish for or possess midnight parrotfish, blue parrotfish, or rainbow parrotfish in or from the Caribbean EEZ. Such fish caught in the Caribbean EEZ must be released with a minimum of harm.

§ 622.435 Seasonal and area closures.

(a) Seasonal closures—(1) Seasonal closures applicable to specific species only—(i) Red, black, tiger, yellowfin, or yellowedge grouper closure. From February 1 through April 30, each year, no person may fish for or possess red, black, tiger, yellowfin, or yellowedge grouper in or from the Caribbean EEZ. This prohibition on possession does not apply to such grouper harvested and landed ashore prior to the closure.

(ii) Red hind closure. From December 1 through the last day of February, each year, no person may fish for or possess red hind in or from the Caribbean EEZ west of 67°10′ W. longitude. This prohibition on possession does not apply to red hind harvested and landed ashore prior to the closure.

(iii) Vermilion, black, silk, or blackfin snapper closure. From October 1 through December 31, each year, no person may fish for or possess vermilion, black, silk, or blackfin snapper in or from the Caribbean EEZ. This prohibition on possession does not apply to such snapper harvested and landed ashore prior to the closure.

(iv) Lane or mutton snapper closure. From April 1 through June 30, each year, no person may fish for or possess lane or mutton snapper in or from the Caribbean EEZ. This prohibition on possession does not apply to such snapper harvested and landed ashore prior to the closure.

(2) Seasonal closures applicable to broad categories of fish or to all fishing—(i) Mutton snapper spawning aggregation area. From March 1 through June 30, each year, fishing is prohibited in that part of the following area that is in the EEZ. The area is bounded by rhumb lines connecting, in order, the points listed.

Point | North lat. | West long.
A | 17°37.8′ | 64°53.0′
B | 17°39.0′ | 64°53.0′
C | 17°39.0′ | 64°50.5′
D | 17°38.1′ | 64°50.5′
E | 17°37.8′ | 64°52.5′
A | 17°37.8′ | 64°53.0′

(ii) Red hind spawning aggregation areas. From December 1 through February 28, each year, fishing is prohibited in those parts of the following areas that are in the EEZ. Each area is bounded by rhumb lines connecting, in order, the points listed.

(A) East of St. Croix.

Point | North lat. | West long.
A | 17°50.2′ | 64°27.9′
B | 17°50.1′ | 64°26.1′
C | 17°49.2′ | 64°25.8′
D | 17°48.6′ | 64°25.8′
E | 17°48.1′ | 64°26.1′
F | 17°47.5′ | 64°26.9′
A | 17°50.2′ | 64°27.9′

(B) West of Puerto Rico—(1) [Reserved]

(2) Tourmaline Bank.

Point | North lat. | West long.
A | 18°11.2′ | 67°22.4′
B | 18°11.2′ | 67°19.2′
C | 18°08.2′ | 67°19.2′
D | 18°08.2′ | 67°22.4′
A | 18°11.2′ | 67°22.4′

(3) Abrir La Sierra Bank.

Point | North lat. | West long.
A | 18°06.5′ | 67°26.9′
B | 18°06.5′ | 67°23.9′
C | 18°03.5′ | 67°23.9′
D | 18°03.5′ | 67°26.9′
A | 18°06.5′ | 67°26.9′

(iii) Grammanik Bank closed area. (A) The Grammanik Bank closed area is bounded by rhumb lines connecting, in order, the following points:

Point | North lat. | West long.
A | 18°11.898′ | 64°56.328′
B | 18°11.645′ | 64°56.225′
C | 18°11.058′ | 64°57.810′
D | 18°11.311′ | 64°57.913′
A | 18°11.898′ | 64°56.328′

(B) From February 1 through April 30, each year, no person may fish for or possess any species of fish, except highly migratory species, in or from the Grammanik Bank closed area. This prohibition on possession does not apply to such fish harvested and landed ashore prior to the closure. For the purpose of this paragraph, “fish” means finfish, mollusks, crustaceans, and all other forms of marine animal and plant life other than marine mammals and birds. “Highly migratory species” means bluefin, bigeye, yellowfin, albacore, and skipjack tunas; swordfish; sharks (listed in Appendix A to part 635 of this title); and white marlin, blue marlin, sailfish, and longbill spearfish.

(iv) Bajo de Sico closed area. (A) The Bajo de Sico closed area is bounded by rhumb lines connecting, in order the following points:

Point A | North lat. | West long.
A | 18°15.7′ | 67°26.4′
B | 18°15.7′ | 67°23.2′
C | 18°12.7′ | 67°23.2′
D | 18°12.7′ | 67°26.4′
A | 18°15.7′ | 67°26.4′

(B) From October 1 through March 31, each year, no person may fish for or possess any Caribbean reef fish, as listed in Table 2 of Appendix A to part 622, in or from those parts of the Bajo de Sico closed area that are in the EEZ. The prohibition on possession does not apply to such Caribbean reef fish harvested and landed ashore prior to the closure.

(b) Year-round closures—(1) Hind Bank Marine Conservation District (MCD). The following activities are prohibited within the Hind Bank MCD: Fishing for any species and anchoring by fishing vessels. The Hind Bank MCD is bounded by rhumb lines connecting, in order, the points listed.

Point | North lat. | West long.
A | 18°13.2′ | 65°06.0′
B | 18°13.2′ | 64°59.0′
C | 18°11.8′ | 64°59.0′
D | 18°10.7′ | 65°06.0′
A | 18°13.2′ | 65°06.0′

(2) Areas closed year-round to certain fishing gear. Fishing with pots, traps, bottom longlines, gillnets or trammel nets is prohibited year-round in the closed areas specified in paragraphs (a)(2)(i), (ii), (iii), and (iv) of this section.

(3) Anchoring prohibition year-round in Bajo de Sico. Anchoring, by fishing vessels, is prohibited year-round in those parts of the Bajo de Sico closed area, described in paragraph (a)(2)(iv) of this section, that are in the EEZ.

§ 622.436 Size limits.

All size limits in this section are minimum size limits unless specified otherwise. A fish not in compliance with its size limit, as specified in this section, in or from the Caribbean EEZ, may not be possessed, sold, or purchased. A fish not in compliance with its size limit must be released immediately with a minimum of harm. The operator of a vessel that fishes in the EEZ is responsible for ensuring that fish on board are in compliance with the size limits specified in this section. See § 622.10 regarding requirements for landing fish intact.

(a) Yellowtail snapper. The minimum size limit for yellowtail snapper is 12 inches (30.5 cm), TL.

(b) [Reserved]

§ 622.437 Bag limits.

(a) Applicability. Section 622.11(a) provides the general applicability for bag and possession limits. However, § 622.11(a)(1) notwithstanding, the bag limits of paragraph (b) of this section do not apply to a person who has a valid commercial fishing license issued by Puerto Rico or the U.S. Virgin Islands.

(b) Bag limits. (1) Groupers, snappers, and parrotfishes combined—5 per person per day or, if 3 or more persons are aboard, 15 per vessel per day; but not to exceed 2 parrotfish per person per day or 6 parrotfish per vessel per day.

(2) Other reef fish species combined—5 per person per day or, if 3 or more persons are aboard, 15 per vessel per day, but not to exceed 1 surgeonfish per person per day or 4 surgeonfish per vessel per day.

§ 622.438 Restrictions on sale/purchase.

(a) Live red hind or live mutton snapper. A live red hind or live mutton snapper in or from the Caribbean EEZ may not be sold or purchased and used in the marine aquarium trade.

(b) [Reserved]

§ 622.439 Annual catch limits (ACLs), annual catch targets (ACTs), and accountability measures (AMs).

See § 622.12 for applicable ACLs and AMs.

§ 622.440 Adjustment of management measures.

In accordance with the framework procedure of the Fishery Management Plan for the Reef Fish Fishery of Puerto Rico and the U.S. Virgin Islands, the RA may establish or modify the following items:

(a) Fishery management units (FMUs), quotas, trip limits, bag limits, size limits, closed seasons or areas, gear restrictions, fishing years, MSY, OY, TAC, maximum fishing mortality threshold (MFMT), minimum stock size threshold (MSST), overfishing limit (OFL), acceptable biological catch (ABC) control rules, ACLs, AMs, ACTs, and actions to minimize the interaction of fishing gear with endangered species or marine mammals.

(b) [Reserved]

§ 622.441 Prohibitions.

In addition to the prohibitions in § 600.725 of this chapter and the general prohibitions in § 622.13, it is unlawful for any person to violate any provisions of §§ 622.430 through 622.440.

Subpart T—Spiny Lobster Fishery of Puerto Rico and the U.S. Virgin Islands

§ 622.450 Gear identification.

(a) Caribbean spiny lobster traps and associated buoys. A Caribbean spiny lobster trap used or possessed in the Caribbean EEZ must display the official number specified for the vessel by Puerto Rico or the U.S. Virgin Islands so as to be easily identified. Traps used in the Caribbean spiny lobster fishery that are fished individually, rather than tied together in a trap line, must have at least one buoy attached that floats on the surface. Traps used in the Caribbean spiny lobster fishery that are tied together in a trap line must have at least one buoy that floats at the surface attached at each end of the trap line. Each buoy must display the official number and color code assigned to the vessel by Puerto Rico or the U.S. Virgin Islands, whichever is applicable, so as to be easily distinguished, located, and identified.

(b) Presumption of ownership of Caribbean spiny lobster traps. A Caribbean spiny lobster trap in the EEZ will be presumed to be the property of the most recently documented owner. This presumption will not apply with respect to such traps that are lost or sold if the owner reports the loss or sale within 15 days to the RA.

(c) Disposition of unmarked Caribbean spiny lobster traps or buoys. An unmarked Caribbean spiny lobster trap or a buoy deployed in the EEZ where such trap or buoy is required to be marked is illegal and may be disposed of in any appropriate manner by the Assistant Administrator or an authorized officer. In the EEZ off Florida, during times other than the authorized fishing season, a Caribbean spiny lobster trap, buoy, or any connecting lines will be considered derelict and may be disposed of in accordance with Rules 68B-55.002 and 68B-55.004 of the Florida Administrative Code, in effect as of October 15, 2007 (incorporated by reference, see § 622.413).

§ 622.451 Trap construction specifications and tending restrictions.

(a) Construction specifications—(1) Escape mechanisms. A spiny lobster trap used or possessed in the Caribbean EEZ must contain on any vertical side or on the top a panel no smaller in diameter than the throat or entrance of the trap. The panel must be made of or attached to the trap by one of the following degradable materials:

(i) Untreated fiber of biological origin with a diameter not exceeding ⅛ inch (3.2 mm). This includes, but is not limited to tyre palm, hemp, jute, cotton, wool, or silk.

(ii) Ungalvanized or uncoated iron wire with a diameter not exceeding 1/16 inch (1.6 mm), that is, 16 gauge wire.

(2) [Reserved]

(b) Tending restrictions. A Caribbean spiny lobster trap in the Caribbean EEZ may be pulled or tended only by a person (other than an authorized officer) aboard the spiny lobster trap owner's vessel, or aboard another vessel if such vessel has on board written consent of the trap owner, or if the trap owner is aboard and has documentation verifying his identification number and color code. An owner's written consent must specify the time period such consent is effective and the trap owner's gear identification number and color code.

§ 622.452 Prohibited gear and methods.

Also see § 622.9 for additional prohibited gear and methods that apply more broadly to multiple fisheries or in some cases all fisheries.

(a) Spears and hooks. A spear, hook, or similar device may not be used in the Caribbean EEZ to harvest a Caribbean spiny lobster. The possession of a speared, pierced, or punctured Caribbean spiny lobster in or from the Caribbean EEZ is prima facie evidence of violation of this section.

(b) Gillnets and trammel nets in the Caribbean EEZ. A gillnet or trammel net may not be used in the Caribbean EEZ to fish for Caribbean spiny lobster. Possession of a gillnet or trammel net and any Caribbean spiny lobster in or from the Caribbean EEZ is prima facie evidence of violation of this paragraph (b). A gillnet or trammel net used in the Caribbean EEZ to fish for any other species must be tended at all times.

§ 622.453 Prohibition on harvest of egg-bearing spiny lobster.

(a) Egg-bearing spiny lobster in the Caribbean EEZ must be returned to the water unharmed. An egg-bearing spiny lobster may be retained in a trap, provided the trap is returned immediately to the water. An egg-bearing spiny lobster may not be stripped, scraped, shaved, clipped, or in any other manner molested, in order to remove the eggs.

(b) [Reserved]

§ 622.454 Minimum size limit.

(a) The minimum size limit for Caribbean spiny lobster is 3.5 inches (8.9 cm), carapace length.

(b) A spiny lobster not in compliance with its size limit, as specified in this section, in or from the Caribbean EEZ, may not be possessed, sold, or purchased and must be released immediately with a minimum of harm. The operator of a vessel that fishes in the EEZ is responsible for ensuring that spiny lobster on board are in compliance with the size limit specified in this section.

§ 622.455 Landing spiny lobster intact.

(a) A Caribbean spiny lobster in or from the Caribbean EEZ must be maintained with head and carapace intact.

(b) The operator of a vessel that fishes in the EEZ is responsible for ensuring that spiny lobster on that vessel in the EEZ are maintained intact and, if taken from the EEZ, are maintained intact through offloading ashore, as specified in this section.

§ 622.456 Bag limits.

(a) Applicability. Section 622.11(a) provides the general applicability for bag and possession limits. However, § 622.11(a)(1) notwithstanding, the bag limit of paragraph (b) of this section does not apply to a person who has a valid commercial fishing license issued by Puerto Rico or the U.S. Virgin Islands.

(b) Bag limit. The bag limit for spiny lobster in or from the Caribbean EEZ is 3 per person per day, not to exceed 10 per vessel per day, whichever is less.

§ 622.457 Annual catch limits (ACLs), annual catch targets (ACTs), and accountability measures (AMs).

See § 622.12 for applicable ACLs and AMs.

§ 622.458 Caribbean spiny lobster import prohibitions.

(a) Minimum size limits for imported spiny lobster. There are two minimum size limits that apply to importation of spiny lobster into the United States—one that applies any place subject to the jurisdiction of the United States other than Puerto Rico or the U.S. Virgin Islands, and a more restrictive minimum size limit that applies to Puerto Rico and the U.S. Virgin Islands.

(1) No person may import a Caribbean spiny lobster with less than a 6-ounce (170-gram) tail weight into Puerto Rico or the U.S. Virgin Islands. For the purposes of paragraph (a) of this section, a 6-ounce (170-gram) tail weight is defined as a tail that weighs 5.9-6.4 ounces (167-181 grams). If the documentation accompanying an imported Caribbean spiny lobster (including but not limited to product packaging, customs entry forms, bills of lading, brokerage forms, or commercial invoices) indicates that the product does not satisfy the minimum tail-weight, the person importing such Caribbean spiny lobster has the burden to prove that such Caribbean spiny lobster actually does satisfy the minimum tail-weight requirement or that such Caribbean spiny lobster has a tail length of 6.2 inches (15.75 cm) or greater or that such Caribbean spiny lobster has or had a carapace length of 3.5 inches (8.89 cm) or greater. If the imported product itself does not satisfy the minimum tail-weight requirement, the person importing such Caribbean spiny lobster has the burden to prove that such Caribbean spiny lobster has a tail length of 6.2 inches (15.75 cm) or greater or that such Caribbean spiny lobster has or had a carapace length of 3.5 inches (8.89 cm) or greater. If the burden is satisfied such Caribbean spiny lobster will be considered to be in compliance with the minimum 6-ounce (170-gram) tail-weight requirement.

(2) See § 622.409 regarding the minimum size limit that applies to spiny lobster imported into any place subject to the jurisdiction of the United States other than Puerto Rico or the U.S. Virgin Islands.

(b) Additional Caribbean spiny lobster import prohibitions—(1) Prohibition related to tail meat. No person may import into any place subject to the jurisdiction of the United States Caribbean spiny lobster tail meat that is not in whole tail form with the exoskeleton attached.

(2) Prohibitions related to egg-bearing spiny lobster. No person may import into any place subject to the jurisdiction of the United States Caribbean spiny lobster with eggs attached or Caribbean spiny lobster from which eggs or pleopods (swimmerets) have been removed or stripped. Pleopods (swimmerets) are the first five pairs of abdominal appendages.

§ 622.459 Adjustment of management measures.

In accordance with the framework procedure of the Fishery Management Plan for the Spiny Lobster Fishery of Puerto Rico and the U.S. Virgin Islands, the RA may establish or modify the following items:

(a) Fishery management unit (FMU), quotas, trip limits, bag limits, size limits, closed seasons or areas, gear restrictions, fishing years, MSY, OY, TAC, maximum fishing mortality threshold (MFMT), minimum stock size threshold (MSST), overfishing limit (OFL), acceptable biological catch (ABC) control rules, ACLs, AMs, ACTs, and actions to minimize the interaction of fishing gear with endangered species or marine mammals.

(b) [Reserved]

§ 622.460 Prohibitions.

In addition to the prohibitions in § 600.725 of this chapter and the general prohibitions in § 622.13, it is unlawful for any person to violate any provisions of §§ 622.450 through 622.459.

Subpart U—Corals and Reef Associated Plants and Invertebrates of Puerto Rico and the U.S. Virgin Islands

§ 622.470 Permits.

See § 622.4 of this part for information regarding general permit procedures including, but not limited to fees, duration, transfer, renewal, display, sanctions and denials, and replacement.

(a) Required permits—(1) Prohibited coral. A Federal permit may be issued to take or possess Caribbean prohibited coral only as scientific research activity, exempted fishing, or exempted educational activity. See § 600.745 of this chapter for the procedures and limitations for such activities and fishing.

(2) [Reserved]

(b) Application. (1) The applicant for a coral permit must be the individual who will be conducting the activity that requires the permit.

(2) An applicant must provide the following:

(i) Name, address, telephone number, and other identifying information of the applicant.

(ii) Name and address of any affiliated company, institution, or organization.

(iii) Information concerning vessels, harvesting gear/methods, or fishing areas, as specified on the application form.

(iv) Any other information that may be necessary for the issuance or administration of the permit.

§ 622.471 Prohibited gear and methods.

Also see § 622.9 for additional prohibited gear and methods that apply more broadly to multiple fisheries or in some cases all fisheries.

(a) Power-assisted tools. A power-assisted tool may not be used in the Caribbean EEZ to take a Caribbean coral reef resource.

(b) [Reserved]

§ 622.472 Prohibited species.

(a) General. The harvest and possession restrictions of this section apply without regard to whether the species is harvested by a vessel operating under a commercial vessel permit. The operator of a vessel that fishes in the EEZ is responsible for the limit applicable to that vessel.

(b) Caribbean prohibited coral. Caribbean prohibited coral may not be fished for or possessed in or from the Caribbean EEZ. The taking of Caribbean prohibited coral in the Caribbean EEZ is not considered unlawful possession provided it is returned immediately to the sea in the general area of fishing.

§ 622.473 Restrictions on sale/purchase.

(a) Caribbean prohibited coral. (1) No person may sell or purchase a Caribbean prohibited coral harvested in the Caribbean EEZ.

(2) A Caribbean prohibited coral that is sold in Puerto Rico or the U.S. Virgin Islands will be presumed to have been harvested in the Caribbean EEZ, unless it is accompanied by documentation showing that it was harvested elsewhere. Such documentation must contain:

(i) The information specified in subpart K of part 300 of this title for marking containers or packages of fish or wildlife that are imported, exported, or transported in interstate commerce.

(ii) The name and home port of the vessel, or the name and address of the individual, harvesting the Caribbean prohibited coral.

(iii) The port and date of landing the Caribbean prohibited coral.

(iv) A statement signed by the person selling the Caribbean prohibited coral attesting that, to the best of his or her knowledge, information, and belief, such Caribbean prohibited coral was harvested other than in the Caribbean EEZ or the waters of Puerto Rico or the U.S. Virgin Islands.

(b) [Reserved]

§ 622.474 Adjustment of management measures.

In accordance with the framework procedure of the Fishery Management Plan for Corals and Reef Associated Plants and Invertebrates of Puerto Rico and the U.S. Virgin Islands, the RA may establish or modify the following items:

(a) Fishery management units (FMUs), quotas, trip limits, bag limits, size limits, closed seasons or areas, gear restrictions, fishing years, MSY, OY, TAC, MFMT, MSST, OFL, ABC control rules, ACLs, AMs, ACTs, and actions to minimize the interaction of fishing gear with endangered species or marine mammals.

(b) [Reserved]

§ 622.475 Prohibitions.

In addition to the prohibitions in § 600.725 of this chapter and the general prohibitions in § 622.13, it is unlawful for any person to violate any provisions of §§ 622.470 through 622.474.

Subpart V—Queen Conch Resources of Puerto Rico and the U.S. Virgin Islands

§ 622.490 Prohibited gear and methods.

Also see § 622.9 for additional prohibited gear and methods that apply more broadly to multiple fisheries or in some cases all fisheries.

(a) In the Caribbean EEZ, no person may harvest queen conch by diving while using a device that provides a continuous air supply from the surface.

(b) [Reserved]

§ 622.491 Seasonal and area closures.

(a) No person may fish for or possess on board a fishing vessel a Caribbean queen conch in or from the Caribbean EEZ, in the area east of 64°34′ W. longitude which includes Lang Bank east of St. Croix, U.S. Virgin Islands, except during November 1 through May 31.

(b) Pursuant to the procedures and criteria established in the FMP for Queen Conch Resources in Puerto Rico and the U.S. Virgin Islands, when the ACL, as specified in § 622.12(a)(2)(i)(A), is reached or projected to be reached, the Regional Administrator will close the Caribbean EEZ to the harvest and possession of queen conch, in the area east of 64°34′ W. longitude which includes Lang Bank, east of St. Croix, U.S. Virgin Islands, by filing a notification of closure with the Office of the Federal Register. During the closure, no person may fish for or possess on board a fishing vessel, a Caribbean queen conch, in or from the Caribbean EEZ, in the area east of 64°34′ W. longitude which includes Lang Bank, east of St. Croix, U.S. Virgin Islands.

§ 622.492 Minimum size limit.

(a) The minimum size limit for Caribbean queen conch is 9 inches (22.9 cm) in length, that is, from the tip of the spire to the distal end of the shell, and ⅜ inch (9.5 mm) in lip width at its widest point. A queen conch with a length of at least 9 inches (22.9 cm) or a lip width of at least ⅜ inch (9.5 mm) is not undersized.

(b) A Caribbean queen conch not in compliance with its size limit, as specified in this section, in or from the Caribbean EEZ, may not be possessed, sold, or purchased and must be released immediately with a minimum of harm. The operator of a vessel that fishes in the EEZ is responsible for ensuring that Caribbean queen conch on board are in compliance with the size limit specified in this section.

§ 622.493 Landing Caribbean queen conch intact.

(a) A Caribbean queen conch in or from the Caribbean EEZ must be maintained with meat and shell intact.

(b) The operator of a vessel that fishes in the EEZ is responsible for ensuring that Caribbean queen conch on that vessel in the EEZ are maintained intact and, if taken from the EEZ, are maintained intact through offloading ashore, as specified in this section.

§ 622.494 Bag limit.

(a) Applicability. Section 622.11(a) provides the general applicability for bag and possession limits. However, § 622.11(a)(1) notwithstanding, the bag limit of paragraph (b) of this section does not apply to a person who has a valid commercial fishing license issued by Puerto Rico or the U.S. Virgin Islands.

(b) Bag limit. The bag limit for queen conch in or from the Caribbean EEZ is 3 per person or, if more than 4 persons are aboard, 12 per boat.

§ 622.495 Commercial trip limit.

Commercial trip limits are limits on the amount of the applicable species that may be possessed on board or landed, purchased, or sold from a vessel per day. A person who fishes in the EEZ may not combine a trip limit specified in this section with any trip or possession limit applicable to state waters. A species subject to a trip limit specified in this section taken in the EEZ may not be transferred at sea, regardless of where such transfer takes place, and such species may not be transferred in the EEZ.

(a) A person who fishes in the Caribbean EEZ and is not subject to the bag limit may not possess in or from the Caribbean EEZ more than 150 queen conch per day.

(b) [Reserved]

§ 622.496 Annual catch limits (ACLs), annual catch targets (ACTs), and accountability measures (AMs).

See § 622.12 for applicable ACLs and AMs.

§ 622.497 Adjustment of management measures.

In accordance with the framework procedure of the Fishery Management Plan for Queen Conch Resources of Puerto Rico and the U.S. Virgin Islands, the RA may establish or modify the following items:

(a) Quotas, trip limits, bag limits, size limits, closed seasons or areas, gear restrictions, fishing year, MSY, OY, TAC, MFMT, MSST, OFL, ABC control rules, ACLs, AMs, ACTs, and actions to minimize the interaction of fishing gear with endangered species or marine mammals.

(b) [Reserved]

§ 622.498 Prohibitions.

In addition to the prohibitions in § 600.725 of this chapter and the general prohibitions in § 622.13, it is unlawful for any person to violate any provisions of §§ 622.490 through 622.497.

Appendix A to Part 622—Species Tables

Table 1 of Appendix A to Part 622—Caribbean Coral Reef Resources

I. Coelenterates—Phylum Coelenterata

A. Hydrocorals—Class Hydrozoa

1. Hydroids—Order Athecatae

Family Milleporidae

Millepora spp., Fire corals

Family Stylasteridae

Stylaster roseus, Rose lace corals

B. Anthozoans—Class Anthozoa

1. Soft corals—Order Alcyonacea

Family Anthothelidae

Erythropodium caribaeorum, Encrusting gorgonian

Iciligorgia schrammi, Deepwater sea fan

Family Briaridae

Briareum asbestinum, Corky sea finger Family Clavulariidae

Carijoa riisei

Telesto spp.

2. Gorgonian corals—Order Gorgonacea

Family Ellisellidae

Ellisella spp., Sea whips

Family Gorgoniidae

Gorgonia flabellum, Venus sea fan

G. mariae, Wide-mesh sea fan

G. ventalina, Common sea fan

Pseudopterogorgia acerosa, Sea plume

P. albatrossae

P. americana, Slimy sea plume

P. bipinnata, Bipinnate plume

P. rigida

Pterogorgia anceps, Angular sea whip

P. citrina, Yellow sea whip Family Plexauridae

Eunicea calyculata, Warty sea rod

E. clavigera

E. fusca, Doughnut sea rod

E. knighti

E. laciniata

E. laxispica

E. mammosa, Swollen-knob

E. succinea, Shelf-knob sea rod

E. touneforti

Muricea atlantica

M. elongata, Orange spiny rod

M. laxa, Delicate spiny rod

M. muricata, Spiny sea fan

M. pinnata, Long spine sea fan

Muriceopsis spp.

M. flavida, Rough sea plume

M. sulphurea

Plexaura flexuosa, Bent sea rod

P. homomalla, Black sea rod

Plexaurella dichotoma, Slit-pore sea rod

P. fusifera

P. grandiflora

P. grisea

P. nutans, Giant slit-pore

Pseudoplexaura crucis

P. flagellosa

P. porosa, Porous sea rod

P. wagenaari

3. Hard Corals—Order Scleractinia

Family Acroporidae

Acropora cervicornis, Staghorn coral

A. palmata, Elkhorn coral

A. prolifera, Fused staghorn

Family Agaricidae

Agaricia agaricities, Lettuce leaf coral

A. fragilis, Fragile saucer

A. lamarcki, Lamarck's sheet

A. tenuifolia, Thin leaf lettuce

Leptoseris cucullata, Sunray lettuce

Family Astrocoeniidae

Stephanocoenia michelinii, Blushing star

Family Caryophyllidae

Eusmilia fastigiata, Flower coral

Tubastrea aurea, Cup coral

Family Faviidae

Cladocora arbuscula, Tube coral

Colpophyllia natans, Boulder coral

Diploria clivosa, Knobby brain coral

D. labyrinthiformis, Grooved brain

D. strigosa, Symmetrical brain

Favia fragum, Golfball coral

Manicina areolata, Rose coral

M. mayori, Tortugas rose coral

Montastrea annularis, Boulder star coral

M. cavernosa, Great star coral

Solenastrea bournoni, Smooth star coral

Family Meandrinidae

Dendrogyra cylindrus, Pillar coral

Dichocoenia stellaris, Pancake star

D. stokesi, Elliptical star

Meandrina meandrites, Maze coral

Family Mussidae

Isophyllastrea rigida, Rough star coral

Isophyllia sinuosa, Sinuous cactus

Mussa angulosa, Large flower coral

Mycetophyllia aliciae, Thin fungus coral

M. danae, Fat fungus coral

M. ferox, Grooved fungus

M. lamarckiana, Fungus coral

Scolymia cubensis, Artichoke coral

S. lacera, Solitary disk

Family Oculinidae

Oculina diffusa, Ivory bush coral

Family Pocilloporidae

Madracis decactis, Ten-ray star coral

M. mirabilis, Yellow pencil

Family Poritidae

Porites astreoides, Mustard hill coral

P. branneri, Blue crust coral

P. divaricata, Small finger coral

P. porites, Finger coral

Family Rhizangiidae

Astrangia solitaria, Dwarf cup coral

Phyllangia americana, Hidden cup coral

Family Siderastreidae

Siderastrea radians, Lesser starlet

S. siderea, Massive starlet

4. Black Corals—Order Antipatharia

Antipathes spp., Bushy black coral

Stichopathes spp., Wire coral

II. Sea grasses—Phylum Angiospermae

Halodule wrightii, Shoal grass

Halophila spp., Sea vines

Ruppia maritima, Widgeon grass

Syringodium filiforme, Manatee grass

Thalassia testudium, Turtle grass

Aquarium Trade Species in the Coral FMP—The following species are included for data collection purposes only.

I. Sponges—Phylum Porifera

A. Demosponges—Class Demospongiae

Aphimedon compressa, Erect rope sponge

Chondrilla nucula, Chicken liver sponge

Cynachirella alloclada

Geodia neptuni, Potato sponge

Haliclona spp., Finger sponge

Myriastra spp.

Niphates digitalis, Pink vase sponge

N. erecta, Lavender rope sponge

Spinosella policifera

S. vaginalis

Tethya crypta

II. Coelenterates—Phylum Coelenterata

A. Anthozoans—Class Anthozoa

1. Anemones—Order Actiniaria

Aiptasia tagetes, Pale anemone

Bartholomea annulata, Corkscrew anemone

Condylactis gigantea, Giant pink-tipped anemone

Hereractis lucida, Knobby anemone

Lebrunia spp., Staghorn anemone

Stichodactyla helianthus, Sun anemone

2. Colonial Anemones—Order Zoanthidea

Zoanthus spp., Sea mat

3. False Corals—Order Corallimorpharia

Discosoma spp. (formerly Rhodactis), False coral

Ricordia florida, Florida false coral

III. Annelid Worms—Phylum Annelida

A. Polychaetes—Class Polychaeta

Family Sabellidae, Feather duster worms

Sabellastarte spp., Tube worms

S. magnifica, Magnificent duster

Family Serpulidae

Spirobranchus giganteus, Christmas tree worm

IV. Mollusks—Phylum Mollusca

A. Gastropods—Class Gastropoda

Family Elysiidae

Tridachia crispata, Lettuce sea slug

Family Olividae

Oliva reticularis, Netted olive

Family Ovulidae

Cyphoma gibbosum, Flamingo tongue

B. Bivalves—Class Bivalvia

Family Limidae

Lima spp., Fileclams

L. scabra, Rough fileclam

Family Spondylidae

Spondylus americanus, Atlantic thorny oyster

C. Cephalopods—Class Cephalopoda

1. Octopuses—Order Octopoda

Family Octopodidae

Octopus spp. (except the Common octopus, O. vulgaris)

V. Arthropods—Phylum Arthropoda

A. Crustaceans—Subphylum Crustacea

1. Decapods—Order Decapoda

Family Alpheidae

Alpheaus armatus, Snapping shrimp

Family Diogenidae

Paguristes spp., Hermit crabs

P. cadenati, Red reef hermit

Family Grapsidae

Percnon gibbesi, Nimble spray crab

Family Hippolytidae

Lysmata spp., Peppermint shrimp

Thor amboinensis, Anemone shrimp

Family Majidae, Coral crabs

Mithrax spp., Clinging crabs

M. cinctimanus, Banded clinging

M. sculptus, Green clinging

Stenorhynchus seticornis, Yellowline arrow

Family Palaemonida

Periclimenes spp., Cleaner shrimp

Family Squillidae, Mantis crabs

Gonodactylus spp.

Lysiosquilla spp.

Family Stenopodidae, Coral shrimp

Stenopus hispidus, Banded shrimp

S. scutellatus, Golden shrimp

VI. Echinoderms—Phylum Echinodermata

A. Feather stars—Class Crinoidea

Analcidometra armata, Swimming crinoid

Davidaster spp., Crinoids

Nemaster spp., Crinoids

B. Sea stars—Class Asteroidea

Astropecten spp., Sand stars

Linckia guildingii, Common comet star

Ophidiaster guildingii, Comet star

Oreaster reticulatus, Cushion sea star

C. Brittle and basket stars—Class Ophiuroidea

Astrophyton muricatum, Giant basket star

Ophiocoma spp., Brittlestars

Ophioderma spp., Brittlestars

O. rubicundum, Ruby brittlestar

D. Sea Urchins—Class Echinoidea

Diadema antillarum, Long-spined urchin

Echinometra spp., Purple urchin

Eucidaris tribuloides, Pencil urchin

Lytechinus spp., Pin cushion urchin

Tripneustes ventricosus, Sea egg

E. Sea Cucumbers—Class Holothuroidea

Holothuria spp., Sea cucumbers

VII. Chordates—Phylum Chordata

A. Tunicates—Subphylum Urochordata

Table 2 of Appendix A to Part 622—Caribbean Reef Fish

Lutjanidae—Snappers

Unit 1

Black snapper, Apsilus dentatus

Blackfin snapper, Lutjanus buccanella

Silk snapper, Lutjanus vivanus

Vermilion snapper, Rhomboplites aurorubens

Wenchman, Pristipomoides aquilonaris

Unit 2

Cardinal, Pristipomoides macrophthalmus

Queen snapper, Etelis oculatus

Unit 3

Gray snapper, Lutjanus griseus

Lane snapper, Lutjanus synagris

Mutton snapper, Lutjanus analis

Dog snapper, Lutjanus jocu

Schoolmaster, Lutjanus apodus

Mahogany snapper, Lutjanus mahogani

Unit 4

Yellowtail snapper, Ocyurus chrysurus

Serranidae—Sea basses and Groupers

Unit 1

Nassau Grouper, Epinephelus striatus

Unit 2

Goliath grouper, Epinephelus itajara

Unit 3

Coney, Epinephelus fulvus

Graysby, Epinephelus cruentatus

Red hind, Epinephelus guttatus

Rock hind, Epinephelus adscensionis

Unit 4

Black grouper, Mycteroperca bonaci

Red grouper, Epinephelus morio

Tiger grouper, Mycteroperca tigris

Yellowfin grouper, Mycteroperca venenosa

Unit 5

Misty grouper, Epinephelus mystacinus

Yellowedge grouper, Epinephelus flavolimbatus

Haemulidae—Grunts

White grunt, Haemulon plumieri

Margate, Haemulon album

Tomtate, Haemulon aurolineatum

Bluestriped grunt, Haemulon sciurus

French grunt, Haemulon flavolineatum

Porkfish, Anisotremus virginicus

Mullidae—Goatfishes

Spotted goatfish, Pseudupeneus maculatus

Yellow goatfish, Mulloidichthys martinicus

Sparidae—Porgies

Jolthead porgy, Calamus bajonado

Sea bream, Archosargus rhomboidalis

Sheepshead porgy, Calamus penna

Pluma, Calamus pennatula

Holocentridae—Squirrelfishes

Blackbar soldierfish, Myripristis jacobus

Bigeye, Priacanthus arenatus

Longspine squirrelfish, Holocentrus rufus

Squirrelfish, Holocentrus adscensionis

Malacanthidae—Tilefishes

Blackline tilefish, Caulolatilus cyanops

Sand tilefish, Malacanthus plumieri

Carangidae—Jacks

Blue runner, Caranx crysos

Horse-eye jack, Caranx latus

Black jack, Caranx lugubris

Almaco jack, Seriola rivoliana

Bar jack, Caranx ruber

Greater amberjack, Seriola dumerili

Yellow jack, Caranx bartholomaei

Scaridae—Parrotfishes

Blue parrotfish, Scarus coeruleus

Midnight parrotfish, Scarus coelestinus

Princess parrotfish, Scarus taeniopterus

Queen parrotfish, Scarus vetula

Rainbow parrotfish, Scarus guacamaia

Redfin parrotfish, Sparisoma rubripinne

Redtail parrotfish, Sparisoma chrysopterum

Stoplight parrotfish, Sparisoma viride

Redband parrotfish, Sparisoma aurofrenatum

Striped parrotfish, Scarus croicensis

Acanthuridae—Surgeonfishes

Blue tang, Acanthurus coeruleus

Ocean surgeonfish, Acanthurus bahianus

Doctorfish, Acanthurus chirurgus

Balistidae—Triggerfishes

Ocean triggerfish, Canthidermis sufflamen

Queen triggerfish, Balistes vetula

Sargassum triggerfish, Xanthichthys ringens

Monacanthidae—Filefishes

Scrawled filefish, Aluterus scriptus

Whitespotted filefish, Cantherhines macrocerus

Black durgon, Melichthys niger

Ostraciidae—Boxfishes

Honeycomb cowfish, Lactophrys polygonia

Scrawled cowfish, Lactophrys quadricornis

Trunkfish, Lactophrys trigonus

Spotted trunkfish, Lactophrys bicaudalis

Smooth trunkfish, Lactophrys triqueter

Labridae—Wrasses

Hogfish, Lachnolaimus maximus

Puddingwife, Halichoeres radiatus

Spanish hogfish, Bodianus rufus

Pomacanthidae—Angelfishes

Queen angelfish, Holacanthus ciliaris

Gray angelfish, Pomacanthus arcuatus

French angelfish, Pomacanthus paru

Aquarium Trade—The following aquarium trade species are included for data collection purposes only:

Frogfish, Antennarius spp.

Flamefish, Apogon maculatus

Conchfish, Astrapogen stellatus

Redlip blenny, Ophioblennius atlanticus

Peacock flounder, Bothus lunatus

Longsnout butterflyfish, Chaetodon aculeatus

Foureye butterflyfish, Chaetodon capistratus

Spotfin butterflyfish, Chaetodon ocellatus

Banded butterflyfish, Chaetodon striatus

Redspotted hawkfish, Amblycirrhitus pinos

Flying gurnard, Dactylopterus volitans

Atlantic spadefish, Chaetodipterus faber

Neon goby, Gobiosoma oceanops

Rusty goby, Priolepis hipoliti

Royal gramma, Gramma loreto

Creole wrasse, Clepticus parrae

Yellowcheek wrasse, Halichoeres cyanocephalus

Yellowhead wrasse, Halichoeres garnoti

Clown wrasse, Halichoeres maculipinna

Pearly razorfish, Hemipteronotus novacula

Green razorfish, Hemipteronotus splendens

Bluehead wrasse, Thalassoma bifasciatum

Chain moray, Echidna catenata

Green moray, Gymnothorax funebris

Goldentail moray, Gymnothorax miliaris

Batfish, Ogcocepahalus spp.

Goldspotted eel, Myrichthys ocellatus

Yellowhead jawfish, Opistognathus aurifrons

Dusky jawfish, Opistognathus whitehursti

Cherubfish, Centropyge argi

Rock beauty, Holacanthus tricolor

Sergeant major, Abudefduf saxatilis

Blue chromis, Chromis cyanea

Sunshinefish, Chromis insolata

Yellowtail damselfish, Microspathodon chrysurus

Dusky damselfish, Pomacentrus fuscus

Beaugregory, Pomacentrus leucostictus

Bicolor damselfish, Pomacentrus partitus

Threespot damselfish, Pomacentrus planifrons

Glasseye snapper, Priacanthus cruentatus

High-hat, Equetus acuminatus

Jackknife-fish, Equetus lanceolatus

Spotted drum, Equetus punctatus

Scorpaenidae—Scorpionfishes

Butter hamlet, Hypoplectrus unicolor

Swissguard basslet, Liopropoma rubre

Greater soapfish, Rypticus saponaceus

Orangeback bass, Serranus annularis

Lantern bass, Serranus baldwini

Tobaccofish, Serranus tabacarius

Harlequin bass, Serranus tigrinus

Chalk bass, Serranus tortugarum

Caribbean tonguefish, Symphurus arawak

Seahorses, Hippocampus spp.

Pipefishes, Syngnathus spp.

Sand diver, Synodus intermedius

Sharpnose puffer, Canthigaster rostrata

Porcupinefish, Diodon hystrix

Table 3 of Appendix A to Part 622—Gulf Reef Fish

Balistidae—Triggerfishes

Gray triggerfish, Balistes capriscus

Carangidae—Jacks

Greater amberjack, Seriola dumerili

Lesser amberjack, Seriola fasciata

Almaco jack, Seriola rivoliana

Banded rudderfish, Seriola zonata

Labridae—Wrasses

Hogfish, Lachnolaimus maximus

Lutjanidae—Snappers

Queen snapper, Etelis oculatus

Mutton snapper, Lutjanus analis

Blackfin snapper, Lutjanus buccanella

Red snapper, Lutjanus campechanus

Cubera snapper, Lutjanus cyanopterus

Gray (mangrove) snapper, Lutjanus griseus

Lane snapper, Lutjanus synagris

Silk snapper, Lutjanus vivanus

Yellowtail snapper, Ocyurus chrysurus

Wenchman, Pristipomoides aquilonaris

Vermilion snapper, Rhomboplites aurorubens

Malacanthidae—Tilefishes

Goldface tilefish, Caulolatilus chrysops

Blueline tilefish, Caulolatilus microps

Tilefish, Lopholatilus chamaeleonticeps

Serranidae—Groupers

Speckled hind, Epinephelus drummondhayi

Yellowedge grouper, Epinephelus flavolimbatus

Goliath grouper, Epinephelus itajara

Red grouper, Epinephelus morio

Warsaw grouper, Epinephelus nigritus

Snowy grouper, Epinephelus niveatus

Black grouper, Mycteroperca bonaci

Yellowmouth grouper, Mycteroperca interstitialis

Gag, Mycteroperca microlepis

Scamp, Mycteroperca phenax

Yellowfin grouper, Mycteroperca venenosa

Table 4 of Appendix A to Part 622—South Atlantic Snapper-Grouper

Balistidae—Triggerfishes:

Gray triggerfish, Balistes capriscus

Carangidae—Jacks:

Blue runner, Caranx bartholomaei

Bar jack, Caranx ruber

Greater amberjack, Seriola dumerili

Lesser amberjack, Seriola fasciata

Almaco jack, Seriola rivoliana

Banded rudderfish, Seriola zonata

Ephippidae—Spadefishes:

Spadefish, Chaetodipterus faber

Haemulidae—Grunts:

Margate, Haemulon album

Tomtate, Haemulon aurolineatum

Sailor's choice, Haemulon parrai

White grunt, Haemulon plumieri

Labridae—Wrasses:

Hogfish, Lachnolaimus maximus

Lutjanidae—Snappers:

Black snapper, Apsilus dentatus

Queen snapper, Etelis oculatus

Mutton snapper, Lutjanus analis

Blackfin snapper, Lutjanus buccanella

Red snapper, Lutjanus campechanus

Cubera snapper, Lutjanus cyanopterus

Gray snapper, Lutjanus griseus

Mahogany snapper, Lutjanus mahogoni

Dog snapper, Lutjanus jocu

Lane snapper, Lutjanus synagris

Silk snapper, Lutjanus vivanus

Yellowtail snapper, Ocyurus chrysurus

Vermilion snapper, Rhomboplites aurorubens

Malacanthidae—Tilefishes:

Blueline tilefish, Caulolatilus microps

Golden tilefish, Lopholatilus chamaeleonticeps

Sand tilefish, Malacanthus plumieri

Percichthyidae—Temperate basses:

Wreckfish, Polyprion americanus

Serranidae—Groupers:

Rock hind, Epinephelus adscensionis

Graysby, Epinephelus cruentatus

Speckled hind, Epinephelus drummondhayi

Yellowedge grouper, Epinephelus flavolimbatus

Coney, Epinephelus fulvus

Red hind, Epinephelus guttatus

Goliath grouper, Epinephelus itajara

Red grouper, Epinephelus morio

Misty grouper, Epinephelus mystacinus

Warsaw grouper, Epinephelus nigritus

Snowy grouper, Epinephelus niveatus

Nassau grouper, Epinephelus striatus

Black grouper, Mycteroperca bonaci

Yellowmouth grouper, Mycteroperca interstitialis

Gag, Mycteroperca microlepis

Scamp, Mycteroperca phenax

Yellowfin grouper, Mycteroperca venenosa

Serranidae—Sea Basses:

Black sea bass, Centropristis striata

Sparidae—Porgies:

Grass porgy, Calamus arctifrons

Jolthead porgy, Calamus bajonado

Saucereye porgy, Calamus calamus

Whitebone porgy, Calamus leucosteus

Knobbed porgy, Calamus nodosus

Red porgy, Pagrus pagrus

Scup, Stenotomus chrysops

The following species are designated as ecosystem component species:

Cottonwick, Haemulon melanurum

Bank sea bass, Centropristis ocyurus

Rock sea bass, Centropristis philadelphica

Longspine porgy, Stenotomus caprinus

Ocean triggerfish, Canthidermis sufflamen

Schoolmaster, Lutjanus apodus

Table 5 of Appendix A to Part 622—Caribbean Conch Resources

Queen conch, Strombus gigas

Appendix B to Part 622—Gulf Areas

Table 1 of Appendix B to Part 622—Seaward Coordinates of the Longline and Buoy Gear Restricted Area
Point Number and reference location ¹ | North lat. | West long.
1 Seaward limit of Florida's waters north of Dry Tortugas | 24°48.0′ | 82°48.0′
2 North of Rebecca Shoal | 25°07.5′ | 82°34.0′
3 Off Sanibel Island—Offshore | 26°26.0′ | 82°59.0′
4 West of Egmont Key | 27°30.0′ | 83°21.5′
5 Off Anclote Keys—Offshore | 28°10.0′ | 83°45.0′
6 Southeast corner of Florida Middle Ground | 28°11.0′ | 84°00.0′
7 Southwest corner of Florida Middle Ground | 28°11.0′ | 84°07.0′
8 West corner of Florida Middle Ground | 28°26.6′ | 84°24.8′
9 Northwest corner of Florida Middle Ground | 28°42.5′ | 84°24.8′
10 South of Carrabelle | 29°05.0′ | 84°47.0′
11 South of Cape St. George | 29°02.5′ | 85°09.0′
12 South of Cape San Blas lighted bellbuoy—20 fathoms | 29°21.0′ | 85°30.0′
13 South of Cape San Blas lighted bell buoy—50 fathoms | 28°58.7′ | 85°30.0′
14 De Soto Canyon | 30°06.0′ | 86°55.0′
15 South of Pensacola | 29°46.0′ | 87°19.0′
16 South of Perdido Bay | 29°29.0′ | 87°27.5′
17 East of North Pass of the Mississippi River | 29°14.5′ | 88°28.0′
18 South of Southwest Pass of the Mississippi River | 28°46.5′ | 89°26.0′
19 Northwest tip of Mississippi Canyon | 28°38.5′ | 90°08.5′
20 West side of Mississippi Canyon | 28°34.5′ | 89°59.5′
21 South of Timbalier Bay | 28°22.5′ | 90°02.5′
22 South of Terrebonne Bay | 28°10.5′ | 90°31.5′
23 South of Freeport | 27°58.0′ | 95°00.0′
24 Off Matagorda Island | 27°43.0′ | 96°02.0′
25 Off Aransas Pass | 27°30.0′ | 96°23.5′
26 Northeast of Port Mansfield | 27°00.0′ | 96°39.0′
27 East of Port Mansfield | 26°44.0′ | 96°37.5′
28 Northeast of Port Isabel | 26°22.0′ | 96°21.0′
29 U.S./Mexico EEZ boundary | 26°00.5′ | 96°24.5′
Thence westerly along U.S./Mexico EEZ boundary to the seaward limit of Texas' waters.
¹ Nearest identifiable landfall, boundary, navigational aid, or submarine area.

Table 2 of Appendix B to Part 622—Seaward Coordinates of the Stressed Area
Point Number and reference location ¹ | North lat. | West long.
1 Seaward limit of Florida's waters northeast of Dry Tortugas | 24°45.5′ | 82°41.5′
2 North of Marquesas Keys | 24°48.0′ | 82°06.5′
3 Off Cape Sable | 25°15.0′ | 82°02.0′
4 Off Sanibel Island—Inshore | 26°26.0′ | 82°29.0′
5 Off Sanibel Island—Offshore | 26°26.0′ | 82°59.0′
6 West of Egmont Key | 27°30.0′ | 83°21.5′
7 Off Anclote Keys—Offshore | 28°10.0′ | 83°45.0′
8 Off Anclote Keys—Inshore | 28°10.0′ | 83°14.0′
9 Off Deadman Bay | 29°38.0′ | 84°00.0′
10 Seaward limit of Florida's waters east of Cape St. George | 29°35.5′ | 84°38.6′
Thence westerly along the seaward limit of Florida's waters to:
11 Seaward limit of Florida's waters south of Cape San Blas | 29°32.2′ | 85°27.1′
12 Southwest of Cape San Blas | 29°30.5′ | 85°52.0′
13 Off St. Andrew Bay | 29°53.0′ | 86°10.0′
14 De Soto Canyon | 30°06.0′ | 86°55.0′
15 South of Florida/Alabama border | 29°34.5′ | 87°38.0′
16 Off Mobile Bay | 29°41.0′ | 88°00.0′
17 South of Alabama/Mississippi border | 30°01.5′ | 88°23.7′
18 Horn/Chandeleur Islands | 30°01.5′ | 88°40.5′
19 Chandeleur Islands | 29°35.5′ | 88°37.0′
20 Seaward limit of Louisiana's waters off North Pass of the Mississippi River | 29°16.3′ | 89°00.0′
Thence southerly and westerly along the seaward limit of Louisiana's waters to:
21 Seaward limit of Louisiana's waters off Southwest Pass of the Mississippi River | 28°57.3′ | 89°28.2′
22 Southeast of Grand Isle | 29°09.0′ | 89°47.0′
23 Quick flashing horn buoy south of Isles Dernieres | 28°32.5′ | 90°42.0′
24 Southeast of Calcasieu Pass | 29°10.0′ | 92°37.0′
25 South of Sabine Pass—10 fathoms | 29°09.0′ | 93°41.0′
26 South of Sabine Pass—30 fathoms | 28°21.5′ | 93°28.0′
27 East of Aransas Pass | 27°49.0′ | 96°19.5′
28 East of Baffin Bay | 27°12.0′ | 96°51.0′
29 Northeast of Port Mansfield | 26°46.5′ | 96°52.0′
30 Northeast of Port Isabel | 26°21.5′ | 96°35.0′
31 U.S./Mexico EEZ boundary | 26°00.5′ | 96°36.0′
Thence westerly along U.S./Mexico EEZ boundary to the seaward limit of Texas' waters.
¹ Nearest identifiable landfall, boundary, navigational aid, or submarine area.

BILLING CODE 3510-22-P

Appendix C to Part 622—Fish Length Measurements

BILLING CODE 3510-22-C

Appendix D to Part 622—Specifications for Certified BRDs

A. Extended Funnel.

1. Description. The extended funnel BRD consists of an extension with large-mesh webbing in the center (the large-mesh escape section) and small-mesh webbing on each end held open by a semi-rigid hoop. A funnel of small-mesh webbing is placed inside the extension to form a passage for shrimp to the cod end. It also creates an area of reduced water flow to allow for fish escapement through the large mesh. One side of the funnel is extended vertically to form a lead panel and area of reduced water flow. There are two sizes of extended funnel BRDs, a standard size and an inshore size for small trawls.

2. Minimum Construction and Installation Requirements for Standard Size.

(a) Extension Material. The small-mesh sections used on both sides of the large-mesh escape section are constructed of 1⅝ inch (4.13 cm), No. 30 stretched mesh, nylon webbing. The front section is 120 meshes around by 6½ meshes deep. The back section is 120 meshes around by 23 meshes deep.

(b) Large-Mesh Escape Section. The large-mesh escape section is constructed of 8 to 10 inch (20.3 to 25.4 cm), stretched mesh, webbing. This section is cut on the bar to form a section that is 15 inches (38.1 cm) in length by 95 inches (241.3 cm) in circumference. The leading edge is attached to the 6½-mesh extension section and the rear edge is attached to the 23-mesh extension section.

(c) Funnel. The funnel is constructed of 1½ inch (3.81 cm), stretched mesh, No. 30 depth-stretched and heat-set polyethylene webbing. The circumference of the leading edge is 120 meshes and the back edge is 78 meshes. The short side of the funnel is 34 to 36 inches (86.4 to 91.4 cm) long and the opposite side of the funnel extends an additional 22 to 24 inches (55.9 to 61.0 cm). The circumference of the leading edge of the funnel is attached to the forward small-mesh section three meshes forward of the large-mesh escape section and is evenly sewn, mesh for mesh, to the small-mesh section. The after edge of the funnel is attached to the after small-mesh section at its top and bottom eight meshes back from the large-mesh escape panel. Seven meshes of the top and seven meshes of the bottom of the funnel are attached to eight meshes at the top and bottom of the small-mesh section, such eight meshes being located immediately adjacent to the top and bottom centers of the small-mesh section on the side of the funnel's extended side. The extended side of the funnel is sewn at its top and bottom to the top and bottom of the small-mesh section, extending at an angle toward the top and bottom centers of the small-mesh section.

(d) Semi-Rigid Hoop. A 30-inch (76.2-cm) diameter hoop constructed of plastic-coated trawl cable, swaged together with a ⅜-inch (9.53-mm) micropress sleeve, is installed five meshes behind the trailing edge of the large-mesh escape section. The extension webbing must be laced to the ring around the entire circumference and must be equally distributed on the hoop, that is, 30 meshes must be evenly attached to each quadrant.

(e) Installation. The extended funnel BRD is attached 8 inches (20.3 cm) behind the posterior edge of the TED. If it is attached behind a soft TED, a second semi-rigid hoop, as prescribed in paragraph A.2.(d), must be installed in the front section of the BRD extension webbing at the leading edge of the funnel. The cod end of the trawl net is attached to the trailing edge of the BRD.

3. Minimum Construction and Installation Requirements for Inshore Size.

(a) Extension Material. The small-mesh sections used on both sides of the large-mesh escape section are constructed of 1⅜ inch (3.5 cm), No. 18 stretched mesh, nylon webbing. The front section is 120 meshes around by 6½ meshes deep. The back section is 120 meshes around by 23 meshes deep.

(b) Large-Mesh Escape Section. The large-mesh escape section is constructed of 8 to 10 inch (20.3 to 25.4 cm), stretched mesh, webbing. This section is cut on the bar to form a section that is 15 inches (38.1 cm) by 75 inches (190.5 cm) in circumference. The leading edge is attached to the 6½-mesh extension section and the rear edge is attached to the 23-mesh extension section.

(c) Funnel. The funnel is constructed of 1⅜ inch (3.5 cm), stretched mesh, No. 18 depth-stretched and heat-set polyethylene webbing. The circumference of the leading edge is 120 meshes and the back edge is 78 meshes. The short side of the funnel is 30 to 32 inches (76.2 to 81.3 cm) long and the opposite side of the funnel extends an additional 20 to 22 inches (50.8 to 55.9 cm). The circumference of the leading edge of the funnel is attached to the forward small-mesh section three meshes forward of the large-mesh escape section and is evenly sewn, mesh for mesh, to the small-mesh section. The after edge of the funnel is attached to the after small-mesh section at its top and bottom eight meshes back from the large-mesh escape panel. Seven meshes of the top and seven meshes of the bottom of the funnel are attached to eight meshes at the top and bottom of the small-mesh section, such eight meshes being located immediately adjacent to the top and bottom centers of the small-mesh section on the side of the funnel's extended side. The extended side of the funnel is sewn at its top and bottom to the top and bottom of the small-mesh section, extending at an angle toward the top and bottom centers of the small-mesh section.

(d) Semi-Rigid Hoop. A 24-inch (61.0-cm) diameter hoop constructed of plastic-coated trawl cable, swaged together with a ⅜-inch (9.53-mm) micropress sleeve, is installed five meshes behind the trailing edge of the large mesh section. The extension webbing must be laced to the ring around the entire circumference and must be equally distributed on the hoop, that is, 30 meshes must be evenly attached to each quadrant.

(e) Installation. The extended funnel BRD is attached 8 inches (20.3 cm) behind the posterior edge of the TED. If it is attached behind a soft TED, a second semi-rigid hoop, as prescribed in paragraph A.3.(d), must be installed in the front section of the BRD extension webbing at the leading edge of the funnel. The cod end of the trawl net is attached to the trailing edge of the BRD.

B. Expanded Mesh. The expanded mesh BRD is constructed and installed exactly the same as the standard size extended funnel BRD, except that one side of the funnel is not extended to form a lead panel.

C. Fisheye.

1. Description. The fisheye BRD is a cone-shaped rigid frame constructed from aluminum or steel rod of at least ¼ inch (6.35-mm) diameter, which is inserted into the cod end to form an escape opening.

2. Minimum Construction and Installation Requirements. The fisheye has a minimum escape opening dimension of 5 inches (12.7 cm) and a minimum total escape opening area of 36 in² (91.4 cm²). When the fisheye BRD is installed, no part of the lazy line attachment system (i.e., any mechanism, such as elephant ears or choker straps, used to attach the lazy line to the cod end) may overlap the fisheye escape opening when the fisheye is installed aft of the attachment point of the cod end retrieval system.

(a) In the Gulf EEZ, the fisheye BRD must be installed at the top center of the cod end of the trawl to create an opening in the trawl facing in the direction of the mouth of the trawl no further forward than 9 ft (2.7 m) from the cod end drawstring (tie-off rings).

(b) In the South Atlantic EEZ, the fisheye BRD must be installed at the top center of the cod end of the trawl to create an escape opening in the trawl facing the direction of the mouth of the trawl no further forward than 11 ft (3.4 m) from the cod end tie-off rings.

D. Gulf fisheye.

1. Description. The Gulf fisheye is a cone-shaped rigid frame constructed from aluminum or steel rod of at least ¼ inch (6.35-mm) diameter, which is inserted into the top center of the cod end, and is offset not more than 15 meshes perpendicular to the top center of the cod end to form an escape opening.

2. Minimum Construction and Installation Requirements. The Gulf fisheye has a minimum escape opening dimension of 5 inches (12.7 cm) and a minimum total escape opening area of 36 in² (91.4 cm²). To be used in the South Atlantic EEZ, the Gulf fisheye BRD must be installed in the cod end of the trawl to create an escape opening in the trawl, facing in the direction of the mouth of the trawl, no less than 8.5 ft (2.59 m) and no further forward than 12.5 ft (3.81 m) from the cod end tie-off rings, and may be offset no more than 15 meshes perpendicular to the top center of the cod end. When the Gulf fisheye BRD is installed, no part of the lazy line attachment system (i.e., any mechanism, such as elephant ears or choker straps, used to attach the lazy line to the cod end) may overlap the fisheye escape opening when the fisheye is installed aft of the attachment point of the cod end retrieval system.

E. Jones-Davis.

1. Description. The Jones-Davis BRD is similar to the expanded mesh and the extended funnel BRDs except that the fish escape openings are windows cut around the funnel rather than large-mesh sections. In addition, a webbing cone fish deflector is installed behind the funnel.

2. Minimum Construction and Installation Requirements. The Jones-Davis BRD must contain all of the following.

(a) Webbing extension. The webbing extension must be constructed from a single piece of 1⅝-inch (3.5-cm) stretch mesh number 30 nylon 42 meshes by 120 meshes. A tube is formed from the extension webbing by sewing the 42-mesh side together.

(b) 28-inch (71.1-cm) cable hoop. A single hoop must be constructed of ½-inch (1.3-cm) steel cable 88 inches (223.5 cm) in length. The cable must be joined at its ends by a 3-inch (7.6-cm) piece of ½-inch (1.3-cm) aluminum pipe and pressed with a ⅜-inch (0.95-cm) die to form a hoop. The inside diameter of this hoop must be between 27 and 29 inches (68.6 and 73.7 cm). The hoop must be attached to the extension webbing 17½ meshes behind the leading edge. The extension webbing must be quartered and attached in four places around the hoop, and every other mesh must be attached all the way around the hoop using number 24 twine or larger. The hoop must be laced with ⅜-inch (0.95-cm) polypropylene or polyethylene rope for chaffing.

(c) 24-inch (61.0-cm) hoop. A single hoop must be constructed of either number 60 twine 80 inches (203.2 cm) in length or ⅜-inch (0.95-cm) steel cable 75½ inches (191.8 cm) in length. If twine is used, the twine must be laced in and out of the extension webbing 39 meshes behind the leading edge, and the ends must be tied together. If cable is used, the cable must be joined at its ends by a 3-inch (7.6-cm) piece of ⅜-inch (0.95-cm) aluminum pipe and pressed together with a ¼-inch (0.64-cm) die to form a hoop. The inside diameter of this hoop must be between 23 and 25 inches (58.4 and 63.4 cm). The hoop must be attached to the extension webbing 39 meshes behind the leading edge. The extension webbing must be quartered and attached in four places around the hoop, and every other mesh must be attached all the way around the hoop using number 24 twine or larger. The hoop must be laced with ⅜-inch (0.95-cm) polypropylene or polyethylene rope for chaffing.

(d) Funnel. The funnel must be constructed from four sections of 1½-inch (3.8-cm) heat-set and depth-stretched polypropylene or polyethylene webbing. The two side sections must be rectangular in shape, 29½ meshes on the leading edge by 23 meshes deep. The top and bottom sections are 29½ meshes on the leading edge by 23 meshes deep and tapered 1 point 2 bars on both sides down to 8 meshes across the back. The four sections must be sewn together down the 23-mesh edge to form the funnel.

(e) Attachment of the funnel in the webbing extension. The funnel must be installed two meshes behind the leading edge of the extension starting at the center seam of the extension and the center mesh of the funnel's top section leading edge. On the same row of meshes, the funnel must be sewn evenly all the way around the inside of the extension. The funnel's top and bottom back edges must be attached one mesh behind the 28-inch (71.1-cm) cable hoop (front hoop). Starting at the top center seam, the back edge of the top funnel section must be attached four meshes each side of the center. Counting around 60 meshes from the top center, the back edge of the bottom section must be attached 4 meshes on each side of the bottom center. Clearance between the side of the funnel and the 28-inch (71.1-cm) cable hoop (front hoop) must be at least 6 inches (15.2 cm) when measured in the hanging position.

(f) Cutting the escape openings. The leading edge of the escape opening must be located within 18 inches (45.7 cm) of the posterior edge of the turtle excluder device (TED) grid. The area of the escape opening must total at least 864 in² (5,574.2 cm²). Two escape openings 10 meshes wide by 13 meshes deep must be cut 6 meshes apart in the extension webbing, starting at the top center extension seam, 3 meshes back from the leading edge and 16 meshes to the left and to the right (total of four openings). The four escape openings must be double selvaged for strength.

(g) Alternative Method for Constructing the Funnel and Escape Openings. The following method for constructing the funnel and escape openings may be used instead of the method described in paragraphs F.2.d., F.2.e., and F.2.f. of this section. With this alternative method, the funnel and escape openings are formed by cutting a flap in each side of the extension webbing; pushing the flaps inward; and attaching the top and bottom edges along the bars of the extension webbing to form the v-shape of the funnel. Minimum requirements applicable to this method include: The funnel's top and bottom back edges must be attached one mesh behind the 28-inch (71.1-cm) cable hoop (front hoop); clearance between the side of the funnel and the 28-inch (71.1-cm) cable hoop (front hoop) must be at least 6 inches (15.2 cm) when measured in the hanging position; the leading edge of the escape opening must be located within 18 inches (45.7 cm) of the posterior edge of the turtle excluder device (TED) grid; and, the area of the escape opening must total at least 864 in² (5,574.2 cm²). To construct the funnel and escape openings using this method, begin 3½ meshes from the leading edge of the extension, at the top center seam, count over 18 meshes on each side, and cut 13 meshes toward the back of the extension. Turn parallel to the leading edge, and cut 26 meshes toward the bottom center of the extension. Next, turn parallel to the top center seam, and cut 13 meshes forward toward the leading edge, creating a flap of webbing 13 meshes by 26 meshes by 13 meshes. Lengthen the flap to 18 meshes by adding a 4½-mesh by 26-mesh rectangular section of webbing to the 26-mesh edge. Attach the 18-mesh edges to the top and bottom of the extension by sewing 2 bars of the extension to 1 mesh on the flap in toward the top center and bottom center of the extension, forming the exit opening and the funnel. Connect the two flaps together in the center with a 7-inch piece of number 42 twine to allow adequate clearance for fish escapement between the flaps and the side openings. On each side, sew a 6-mesh by 10½-mesh section of webbing to 6 meshes of the center of the 26-mesh cut on the extension and 6 meshes centered between the 13-mesh cuts 3½ meshes from the leading edge. This forms two 10-mesh by 13-mesh openings on each side.

(h) Cone fish deflector. The cone fish deflector is constructed of 2 pieces of 1⅝-inch (4.13-cm) polypropylene or polyethylene webbing, 40 meshes wide by 20 meshes in length and cut on the bar on each side forming a triangle. Starting at the apex of the two triangles, the two pieces must be sewn together to form a cone of webbing. The apex of the cone fish deflector must be positioned within 10-14 inches (25.4-35.6 cm) of the posterior edge of the funnel.

(i) 11-inch (27.9-cm) cable hoop for cone deflector. A single hoop must be constructed of 5/16-inch (0.79-cm) or ⅜-inch (0.95-cm) cable 34½ inches (87.6 cm) in length. The ends must be joined by a 3-inch (7.6-cm) piece of ⅜-inch (0.95-cm) aluminum pipe pressed together with a ¼-inch (0.64-cm) die. The hoop must be inserted in the webbing cone, attached 10 meshes from the apex and laced all the way around with heavy twine.

(j) Installation of the cone in the extension. The cone must be installed in the extension 12 inches (30.5 cm) behind the back edge of the funnel and attached in four places. The midpoint of a piece of number 60 twine 4 ft (1.22 m) in length must be attached to the apex of the cone. This piece of twine must be attached to the 28-inch (71.1-cm) cable hoop at the center of each of its sides; the points of attachment for the two pieces of twine must be measured 20 inches (50.8 cm) from the midpoint attachment. Two 8-inch (20.3-cm) pieces of number 60 twine must be attached to the top and bottom of the 11-inch (27.9-cm) cone hoop. The opposite ends of these two pieces of twine must be attached to the top and bottom center of the 24-inch (61-cm) cable hoop; the points of attachment for the two pieces of twine must be measured 4 inches (10.2 cm) from the points where they are tied to the 11-inch (27.9-cm) cone hoop.

F. Modified Jones-Davis.

1. Description. The Modified Jones-Davis BRD is a variation to the alternative funnel construction method of the Jones-Davis BRD except the funnel is assembled by using depth-stretched and heat-set polyethylene webbing instead of the flaps formed from the extension webbing. In addition, no hoops are used to hold the BRD open.

2. Minimum Construction and Installation Requirements. The Modified Jones-Davis BRD must contain all of the following.

(a) Webbing extension. The webbing extension must be constructed from a single rectangular piece of 1⅝-inch (4.1-cm) stretch mesh number 30 nylon with dimensions of 39½ meshes by 150 meshes. A tube is formed from the extension webbing by sewing the 39½-mesh-sides together.

(b) Funnel. The funnel must be constructed from two sections of 1⅝-inch (4.1-cm) heat-set and depth-stretched polypropylene or polyethylene webbing. The two side sections must be rectangular in shape, 25 meshes on the leading edge by 21 meshes deep. The 25-mesh leading edge of each polyethylene webbing section must be sewn evenly two meshes in from the front of the extension webbing starting 25 meshes from the top center on each side. The 21-mesh edge must be sewn to the extension webbing on a 9-bar and 1-mesh angle in the top and bottom, forming a V-shape funnel.

(c) Cutting the escape opening. The leading edge of the escape openings must be located within 18 inches (45.7 cm) of the posterior edge of the turtle excluder device (TED) grid. The area of the escape opening must total at least 635 in² (4,097 cm²). Two escape openings, 6 meshes wide by 12 meshes deep, must be cut 4 meshes apart in the extension webbing, starting at the top center extension seam, 7 meshes back from the leading edge, and 30 meshes to the left and to the right (total of four openings). The four escape openings must be double selvaged for strength.

(d) Cone fish deflector. The cone fish deflector is constructed of 2 pieces of 1⅝-inch (4.1-cm) polypropylene or polyethylene webbing, 40 meshes wide by 20 meshes in length and cut on the bar on each side forming a triangle. Starting at the apex of the two triangles, the two pieces must be sewn together to form a cone of webbing. The apex of the cone fish deflector must be positioned within 12 inches (30.5 cm) of the posterior edge of the funnel.

(e) 11-inch (27.9-cm) cable hoop for cone deflector. A single hoop must be constructed of 5/16-inch (0.79-cm) or ⅜-inch (0.95-cm) cable 34½ inches (87.6 cm) in length. The ends must be joined by a 3-inch (7.6-cm) piece of ⅜-inch (0.95-cm) aluminum pipe pressed together with a ¼-inch (0.64-cm) die. The hoop must be inserted in the webbing cone, attached 10 meshes from the apex and laced all the way around with heavy twine.

(f) Installation of the cone in the extension. The apex of the cone must be installed in the extension within 12 inches (30.5 cm) behind the back edge of the funnel and attached in four places. The midpoint of a piece of number 60 twine (or at least 4-mesh wide strip of number 21 or heavier webbing) 3 ft (1.22 m) in length must be attached to the apex of the cone. This piece of twine or webbing must be attached within 5 meshes of the aft edge of the funnel at the center of each of its sides. Two 12-inch (30.5-cm) pieces of number 60 (or heavier) twine must be attached to the top and bottom of the 11-inch (27.9-cm) cone hoop. The opposite ends of these two pieces of twine must be attached to the top and bottom center of the extension webbing to keep the cone from inverting into the funnel.

G. [Reserved]

H. Cone Fish Deflector Composite Panel. 1. Description. The Cone Fish Deflector Composite Panel BRD is a variation to the alternative funnel construction method of the Jones-Davis BRD, except the funnel is assembled by using depth-stretched and heat-set polyethylene webbing with square mesh panels on the inside instead of the flaps formed from the extension webbing. In addition, no hoops are used to hold the BRD open.

2. Minimum Construction and Installation Requirements. The Cone Fish Deflector Composite Panel BRD must contain all of the following:

(a) Webbing extension. The webbing extension must be constructed from a single rectangular piece of 1½-inch to 1¾-inch (3.8-cm to 4.5-cm) stretch mesh with dimensions of 24½ meshes by 150 to 160 meshes. A tube is formed from the extension webbing piece by sewing the 24½-mesh sides together. The leading edge of the webbing extension must be attached no more than 4 meshes from the posterior edge of the TED grid.

(b) Funnel. The V-shaped funnel consists of two webbing panels attached to the extension along the leading edge of the panels. The top and bottom edges of the panels are sewn diagonally across the extension toward the center to form the funnel. The panels are 2-ply in design, each with an inner layer of 1½-inch to 1⅝-inch (3.8-cm to 4.1-cm) heat-set and depth-stretched polyethylene webbing and an outer layer constructed of no larger than 2-inch (5.1-cm) square mesh webbing (1-inch bar). The inner webbing layer must be rectangular in shape, 36 meshes on the leading edge by 20 meshes deep. The 36-mesh leading edges of the polyethylene webbing should be sewn evenly to 24 meshes of the extension webbing 1½ meshes from and parallel to the leading edge of the extension starting 12 meshes up from the bottom center on each side. Alternately sew 2 meshes of the polyethylene webbing to 1 mesh of the extension webbing then 1 mesh of the polyethylene webbing to 1 mesh of the extension webbing toward the top. The bottom 20-mesh edges of the polyethylene layers are sewn evenly to the extension webbing on a 2 bar 1 mesh angle toward the bottom back center forming a v-shape in the bottom of the extension webbing. The top 20-mesh edges of the polyethylene layers are sewn evenly along the bars of the extension webbing toward the top back center. The square mesh layers must be rectangular in shape and constructed of no larger than 2-inch (5.1-cm) webbing that is 18 inches (45.7 cm) in length on the leading edge. The depth of the square mesh layer must be no more than 2 inches (5.1 cm) less than the 20 mesh side of the inner polyethylene layer when stretched taught. The 18-inch (45.7-cm) leading edge of each square mesh layer must be sewn evenly to the 36-mesh leading edge of the polyethylene section and the sides are sewn evenly (in length) to the 20-mesh edges of the polyethylene webbing. This will form a v-shape funnel using the top of the extension webbing as the top of the funnel and the bottom of the extension webbing as the bottom of the funnel.

(c) Cutting the escape opening. There are two escape openings on each side of the funnel. The leading edge of the escape openings must be located on the same row of meshes in the extension webbing as the leading edge of the composite panels. The lower openings are formed by starting at the first attachment point of the composite panels and cutting 9 meshes in the extension webbing on an even row of meshes toward the top of the extension. Next, turn 90 degrees and cut 15 points on an even row toward the back of the extension webbing. At this point turn and cut 18 bars toward the bottom front of the extension webbing. Finish the escape opening by cutting 6 points toward the original starting point. The top escape openings start 5 meshes above and mirror the lower openings. Starting at the leading edge of the composite panel and 5 meshes above the lower escape opening, cut 9 meshes in the extension on an even row of meshes toward the top of the extension. Next, turn 90 degrees, and cut 6 points on an even row toward the back of the extension webbing. Then cut 18 bars toward the bottom back of the extension. To complete the escape opening, cut 15 points forward toward the original starting point. The area of each escape opening must total at least 212 in² (1,368 cm²). The four escape openings must be double selvaged for strength.

(d) Cone fish deflector. The cone fish deflector is constructed of 2 pieces of 1⅝-inch (4.1-cm) polypropylene or polyethylene webbing, 40 meshes wide by 20 meshes in length and cut on the bar on each side forming a triangle. Starting at the apex of the two triangles, the two pieces must be sewn together to form a cone of webbing. The apex of the cone fish deflector must be positioned within 12 inches (30.5 cm) of the posterior edge of the funnel.

(e) 11-inch (27.9-cm) cable hoop for cone deflector. A single hoop must be constructed of 5/16-inch (0.79-cm) or ⅜-inch (0.95-cm) cable 34½ inches (87.6 cm) in length. The ends must be joined by a 3-inch (7.6-cm) piece of ⅜-inch (0.95-cm) aluminum pipe pressed together with a ¼-inch (0.64-cm) die. The hoop must be inserted in the webbing cone, attached 10 meshes from the apex and laced all the way around with heavy twine.

(f) Installation of the cone in the extension. The apex of the cone must be installed in the extension within 12 inches (30.5 cm) behind the back edge of the funnel and attached in four places. The midpoint of a piece of number 60 twine (or at least 4-mesh wide strip of number 21 or heavier webbing) 3 ft (1.22 m) in length must be attached to the apex of the cone. This piece of twine or webbing must be attached within 5 meshes of the aft edge of the funnel at the center of each of its sides. Two 12-inch (30.5-cm) pieces of number 60 (or heavier) twine must be attached to the top and bottom of the 11-inch (27.9-cm) cone hoop. The opposite ends of these two pieces of twine must be attached to the top and bottom center of the extension webbing to keep the cone from inverting into the funnel.

I. Square Mesh Panel (SMP) Composite Panel

1. Description. The SMP is a panel of square mesh webbing placed in the top of the cod end to provide finfish escape openings.

2. Minimum Construction and Installation Requirements. The SMP Composite Panel BRD must contain all of the following:

(a) Webbing extension. The webbing extension must be constructed from a single rectangular piece of 1½-inch to 1¾-inch (3.8-cm to 4.5-cm) stretch mesh with dimensions of 24½ meshes by 150 to 160 meshes. A tube is formed from the extension webbing piece by sewing the 24½-mesh sides together. The leading edge of the webbing extension must be attached no more than 4 meshes from the posterior edge of the TED grid.

(b) Funnel. The V-shaped funnel consists of two webbing panels attached to the extension along the leading edge of the panels. The top and bottom edges of the panels are sewn diagonally across the extension toward the center to form the funnel. The panels are 2-ply in design, each with an inner layer of 1½-inch to 1⅝-inch (3.8-cm to 4.1-cm) heat-set and depth-stretched polyethylene webbing and an outer layer constructed of no larger than 2-inch (5.1-cm) square mesh webbing (1-inch bar). The inner webbing layer must be rectangular in shape, 36 meshes on the leading edge by 20 meshes deep. The 36-mesh leading edges of the polyethylene webbing should be sewn evenly to 24 meshes of the extension webbing 1½ meshes from and parallel to the leading edge of the extension starting 12 meshes up from the bottom center on each side. Alternately sew 2 meshes of the polyethylene webbing to 1 mesh of the extension webbing then 1 mesh of the polyethylene webbing to 1 mesh of the extension webbing toward the top. The bottom 20-mesh edges of the polyethylene layers are sewn evenly to the extension webbing on a 2 bar 1 mesh angle toward the bottom back center forming a v-shape in the bottom of the extension webbing. The top 20-mesh edges of the polyethylene layers are sewn evenly along the bars of the extension webbing toward the top back center. The square mesh layers must be rectangular in shape and constructed of no larger than 2-inch (5.1-cm) webbing that is 18 inches (45.7 cm) in length on the leading edge. The depth of the square mesh layer must be no more than 2 inches (5.1 cm) less than the 20 mesh side of the inner polyethylene layer when stretched taught. The 18-inch (45.7-cm) leading edge of each square mesh layer must be sewn evenly to the 36-mesh leading edge of the polyethylene section and the sides are sewn evenly (in length) to the 20-mesh edges of the polyethylene webbing. This will form a v-shape funnel using the top of the extension webbing as the top of the funnel and the bottom of the extension webbing as the bottom of the funnel.

(c) Cutting the escape opening. There are two escape openings on each side of the funnel. The leading edge of the escape openings must be located on the same row of meshes in the extension webbing as the leading edge of the composite panels. The lower openings are formed by starting at the first attachment point of the composite panels and cutting 9 meshes in the extension webbing on an even row of meshes toward the top of the extension. Next, turn 90 degrees and cut 15 points on an even row toward the back of the extension webbing. At this point turn and cut 18 bars toward the bottom front of the extension webbing. Finish the escape opening by cutting 6 points toward the original starting point. The top escape openings start 5 meshes above and mirror the lower openings. Starting at the leading edge of the composite panel and 5 meshes above the lower escape opening, cut 9 meshes in the extension on an even row of meshes toward the top of the extension. Next, turn 90 degrees, and cut 6 points on an even row toward the back of the extension webbing. Then cut 18 bars toward the bottom back of the extension. To complete the escape opening, cut 15 points forward toward the original starting point. The area of each escape opening must total at least 212 in² (1,368 cm²). The four escape openings must be double selvaged for strength.

(d) SMP. The SMP is constructed from a single piece of square mesh webbing with a minimum dimension of 5 squares wide and 12 squares in length with a minimum mesh size of 3-inch (76-mm) stretched mesh. The maximum twine diameter of the square mesh is number 96 twine (4 mm).

(e) Cutting the SMP escape opening. The escape opening is a rectangular hole cut in the top center of the cod end webbing. The posterior edge of the escape opening must be placed no farther forward that 8 ft (2.4 m) from the cod end drawstring (tie-off rings). The width of the escape opening, as measured across the cod end, must be four cod end meshes per square of the SMP (i.e., a cut of 20 cod end meshes for a SMP that is 5 meshes wide). The stretched mesh length of the escape opening must be equal to the total length of the SMP. No portion of the SMP escape opening may be covered with additional material or netting such as chaffing webbing, which might impede or prevent fish escapement.

(f) Installation of the SMP. The SMP must be attached to the edge of the escape opening evenly around the perimeter of the escape opening cut with heavy twine.

Appendix E to Part 622—Caribbean Island/Island Group Management Areas

Table 1 of Appendix E to Part 622—Coordinates of the Puerto Rico Management Area.

The Puerto Rico management area is bounded by rhumb lines connecting, in order, the following points.

Point | North lat. | West long.
A (intersects with the International/EEZ boundary) | 19°37′29″ | 65°20′ 57″
B (intersects with the EEZ/Territorial boundary) | 18°25′46.3015″ | 65°06′31.866″
From Point B, proceed southerly along the EEZ/Territorial boundary to Point C
C (intersects with the EEZ/Territorial boundary) | 18°13′59.0606″ | 65°05′33.058″
D | 18°01′16.9636″ | 64°57′38.817″
E | 17°30′00.000″ | 65°20′00.1716″
F | 16°02′53.5812″ | 65°20′00.1716″
From Point F, proceed southwesterly, then northerly, then easterly, and finally southerly along the International/EEZ boundary to Point A
A (intersects with the International/EEZ boundary) | 19°37′29″ | 65°20′57″

Table 2 of Appendix E to Part 622—Coordinates of the St. Croix Management Area.

The St. Croix management area is bounded by rhumb lines connecting, in order, the following points.

Point | North lat. | West long.
G | 18°03′03″ | 64°38′03″
From Point G, proceed easterly, then southerly, then southwesterly along the EEZ/Territorial boundary to Point F
F | 16°02′53.5812″ | 65°20′00.1716″
E | 17°30′00.000″ | 65°20′00.1716″
D | 18°01′16.9636″ | 64°57′38.817″
G | 18°03′03″ | 64°38′03″

Table 3 of Appendix E to Part 622—Coordinates of the St. Thomas/St. John Management Area.

The St. Thomas/St. John management area is bounded by rhumb lines connecting, in order, the following points.

Point | North lat. | West long.
A (intersects with the International/EEZ boundary) | 19°37′29″ | 65°20′57″
From Point A, proceed southeasterly along the EEZ/Territorial boundary to Point G
G | 18°03′03″ | 64°38′03″
D | 18°01′16.9636″ | 64°57′38.817″
C (intersects with the EEZ/Territorial boundary) | 18°13′59.0606″ | 65°05′33.058″
From Point C, proceed northerly along the EEZ/Territorial boundary to Point B
B (intersects with the EEZ/Territorial boundary) | 18°25′46.3015″ | 65°06′31.866″
A (intersects with the International/EEZ boundary) | 19°37′29″ | 65°20′57″

Appendix F to Part 622—Specifications for Sea Turtle Mitigation Gear and Sea Turtle Handling and Release Requirements

A. Sea turtle mitigation gear.

1. Long-handled line clipper or cutter. Line cutters are intended to cut high test monofilament line as close as possible to the hook, and assist in removing line from entangled sea turtles to minimize any remaining gear upon release. NMFS has established minimum design standards for the line cutters. The LaForce line cutter and the Arceneaux line clipper are models that meet these minimum design standards, and may be purchased or fabricated from readily available and low-cost materials. One long-handled line clipper or cutter and a set of replacement blades are required to be onboard. The minimum design standards for line cutters are as follows:

(a) A protected and secured cutting blade. The cutting blade(s) must be capable of cutting 2.0-2.1 mm (0.078 in.-0.083 in.) monofilament line (400-lb test) or polypropylene multistrand material, known as braided or tarred mainline, and must be maintained in working order. The cutting blade must be curved, recessed, contained in a holder, or otherwise designed to facilitate its safe use so that direct contact between the cutting surface and the sea turtle or the user is prevented. The cutting instrument must be securely attached to an extended reach handle and be easily replaceable. One extra set of replacement blades meeting these standards must also be carried on board to replace all cutting surfaces on the line cutter or clipper.

(b) An extended reach handle. The line cutter blade must be securely fastened to an extended reach handle or pole with a minimum length equal to, or greater than, 150 percent of the freeboard, or a minimum of 6 ft (1.83 m), whichever is greater. It is recommended, but not required, that the handle break down into sections. There is no restriction on the type of material used to construct this handle as long as it is sturdy and facilitates the secure attachment of the cutting blade.

2. Long-handled dehooker for internal hooks. A long-handled dehooking device is intended to remove internal hooks from sea turtles that cannot be boated. It should also be used to engage a loose hook when a turtle is entangled but not hooked, and line is being removed. The design must shield the barb of the hook and prevent it from re-engaging during the removal process. One long-handled device to remove internal hooks is required onboard. The minimum design standards are as follows:

(a) Hook removal device. The hook removal device must be constructed of approximately 3/16-inch (4.76 mm) to 5/16-inch (7.94 mm) 316 L stainless steel or similar material and have a dehooking end no larger than 1⅞-inches (4.76 cm) outside diameter. The device must securely engage and control the leader while shielding the barb to prevent the hook from re-engaging during removal. It may not have any unprotected terminal points (including blunt ones), as these could cause injury to the esophagus during hook removal. The device must be of a size appropriate to secure the range of hook sizes and styles used in the South Atlantic snapper-grouper fishery.

(b) Extended reach handle. The dehooking end must be securely fastened to an extended reach handle or pole with a minimum length equal to or greater than 150 percent of the freeboard, or a minimum of 6 ft (1.83 m), whichever is greater. It is recommended, but not required, that the handle break down into sections. The handle must be sturdy and strong enough to facilitate the secure attachment of the hook removal device.

3. Long-handled dehooker for external hooks. A long-handled dehooker is required for use on externally-hooked sea turtles that cannot be boated. The long-handled dehooker for internal hooks described in paragraph 2. of this Appendix F would meet this requirement. The minimum design standards are as follows:

(a) Construction. A long-handled dehooker must be constructed of approximately 3/16-inch (4.76 mm) to 5/16-inch (7.94 mm) 316 L stainless steel rod and have a dehooking end no larger than 1⅞-inches (4.76 cm) outside diameter. The design should be such that a fish hook can be rotated out, without pulling it out at an angle. The dehooking end must be blunt with all edges rounded. The device must be of a size appropriate to secure the range of hook sizes and styles used in the South Atlantic snapper-grouper fishery.

(b) Extended reach handle. The handle must be a minimum length equal to the freeboard of the vessel or 6 ft (1.83 m), whichever is greater.

4. Long-handled device to pull an “inverted V”. This tool is used to pull a “V” in the fishing line when implementing the “inverted V” dehooking technique, as described in the document entitled “Careful Release Protocols for Sea Turtle Release With Minimal Injury,” for disentangling and dehooking entangled sea turtles. One long-handled device to pull an “inverted V” is required onboard. If a 6-ft (1.83 m) J-style dehooker is used to comply with paragraph 4. of this Appendix F, it will also satisfy this requirement. Minimum design standards are as follows:

(a) Hook end. This device, such as a standard boat hook, gaff, or long-handled J-style dehooker, must be constructed of stainless steel or aluminum. The semicircular or “J” shaped end must be securely attached to a handle. A sharp point, such as on a gaff hook, is to be used only for holding the monofilament fishing line and should never contact the sea turtle.

(b) Extended reach handle. The handle must have a minimum length equal to the freeboard of the vessel, or 6 ft (1.83 m), whichever is greater. The handle must be sturdy and strong enough to facilitate the secure attachment of the gaff hook.

5. Dipnet. One dipnet is required onboard. Dipnets are to be used to facilitate safe handling of sea turtles by allowing them to be brought onboard for fishing gear removal, without causing further injury to the animal. Turtles must not be brought onboard without the use of a dipnet or hoist. The minimum design standards for dipnets are as follows:

(a) Size of dipnet. The dipnet must have a sturdy net hoop of at least 31 inches (78.74 cm) inside diameter and a bag depth of at least 38 inches (96.52 cm) to accommodate turtles below 3 ft (0.914 m) carapace length. The bag mesh openings may not exceed 3 inches (7.62 cm) by 3 inches (7.62 cm). There must be no sharp edges or burrs on the hoop, or where it is attached to the handle. There is no requirement for the hoop to be circular as long as it meets the minimum specifications.

(b) Extended reach handle. The dipnet hoop must be securely fastened to an extended reach handle or pole with a minimum length equal to, or greater than, 150 percent of the freeboard, or at least 6 ft (1.83 m), whichever is greater. The handle must be made of a rigid material strong enough to facilitate the sturdy attachment of the net hoop and be able to support a minimum of 100 lb (34.1 kg) without breaking or significant bending or distortion. It is recommended, but not required, that the extended reach handle break down into sections.

6. Cushion/support device. A standard automobile tire (free of exposed steel belts), a boat cushion, a large turtle hoist, or any other comparable cushioned elevated surface, is required for supporting a turtle in an upright orientation while the turtle is onboard. The cushion/support device must be appropriately sized to fully support a range of turtle sizes.

7. Short-handled dehooker for internal hooks. One short-handled device for removing internal hooks is required onboard. This dehooker is designed to remove ingested hooks from boated sea turtles. It can also be used on external hooks or hooks in the front of the mouth. Minimum design standards are as follows:

(a) Hook removal device. The hook removal device must be constructed of approximately 3/16-inch (4.76 mm) to 5/16-inch (7.94 mm) 316 L stainless steel, and must allow the hook to be secured and the barb shielded without re-engaging during the removal process. It must be no larger than 1⅞-inches (4.76 cm) outside diameter. It may not have any unprotected terminal points (including blunt ones), as this could cause injury to the esophagus during hook removal. A sliding PVC bite block must be used to protect the beak and facilitate hook removal if the turtle bites down on the dehooking device. The bite block should be constructed of a ¾-inch (1.91 cm) inside diameter high impact plastic cylinder (e.g., Schedule 80 PVC) that is 4 to 6 inches (10.2 to 15.2 cm) long to allow for 5 inches (12.7 cm) of slide along the shaft. The device must be of a size appropriate to secure the range of hook sizes and styles used in the South Atlantic snapper-grouper fishery.

(b) Handle length. The handle should be approximately 16 to 24 inches (40.64 cm to 60.69 cm) in length, with approximately a 4 to 6-inch (10.2 to 15.2-cm) long tube T-handle of approximately 1 inch (2.54 cm) in diameter.

8. Short-handled dehooker for external hooks. One short-handled dehooker for external hooks is required onboard. The short-handled dehooker for internal hooks required to comply with paragraph 7. of this Appendix F will also satisfy this requirement. Minimum design standards are as follows:

(a) Hook removal device. The dehooker must be constructed of approximately 3/16-inch (4.76 cm) to 5/16-inch (7.94 cm) 316 L stainless steel, and the design must be such that a hook can be rotated out without pulling it out at an angle. The dehooking end must be blunt, and all edges rounded. The device must be of a size appropriate to secure the range of hook sizes and styles used in the South Atlantic snapper-grouper fishery.

(b) Handle length. The handle should be approximately 16 to 24 inches (40.64 to 60.69 cm) long with approximately a 5-inch (12.7 cm) long tube T-handle, wire loop handle or similar, of approximately 1 inch (2.54 cm) in diameter.

9. Long-nose or needle-nose pliers. One pair of long-nose or needle-nose pliers is required on board. Required long-nose or needle-nose pliers can be used to remove deeply embedded hooks from the turtle's flesh that must be twisted during removal or for removing hooks from the front of the mouth. They can also hold PVC splice couplings, when used as mouth openers, in place. Minimum design standards are as follows:

(a) General. They must be approximately 12 inches (30.48 cm) in length, and should be constructed of stainless steel material.

(b) [Reserved]

10. Bolt cutters. One pair of bolt cutters is required on board. Required bolt cutters may be used to cut hooks to facilitate their removal. They should be used to cut off the eye or barb of a hook, so that it can safely be pushed through a sea turtle without causing further injury. They should also be used to cut off as much of the hook as possible, when the remainder of the hook cannot be removed. Minimum design standards are as follows:

(a) General. They must be approximately 14 to 17 inches (35.56 to 43.18 cm) in total length, with approximately 4-inch (10.16 cm) long blades that are 2¼ inches (5.72 cm) wide, when closed, and with approximately 10 to 13-inch (25.4 to 33.02-cm) long handles. Required bolt cutters must be able to cut hard metals, such as stainless or carbon steel hooks, up to ¼-inch (6.35 mm) diameter.

(b) [Reserved]

11. Monofilament line cutters. One pair of monofilament line cutters is required on board. Required monofilament line cutters must be used to remove fishing line as close to the eye of the hook as possible, if the hook is swallowed or cannot be removed. Minimum design standards are as follows:

(a) General. Monofilament line cutters must be approximately 7½ inches (19.05 cm) in length. The blades must be 1 inch (4.45 cm) in length and ⅝ inches (1.59 cm) wide, when closed.

(b) [Reserved]

12. Mouth openers/mouth gags. Required mouth openers and mouth gags are used to open sea turtle mouths, and to keep them open when removing internal hooks from boated turtles. They must allow access to the hook or line without causing further injury to the turtle. Design standards are included in the item descriptions. At least two of the seven different types of mouth openers/gags described below are required:

(a) A block of hard wood. Placed in the corner of the jaw, a block of hard wood may be used to gag open a turtle's mouth. A smooth block of hard wood of a type that does not splinter (e.g. maple) with rounded edges should be sanded smooth, if necessary, and soaked in water to soften the wood. The dimensions should be approximately 11 inches (27.94 cm) by 1 inch (2.54 cm) by 1 inch (2.54 cm). A long-handled, wire shoe brush with a wooden handle, and with the wires removed, is an inexpensive, effective and practical mouth-opening device that meets these requirements.

(b) A set of three canine mouth gags. Canine mouth gags are highly recommended to hold a turtle's mouth open, because the gag locks into an open position to allow for hands-free operation after it is in place. These tools are only for use on small and medium sized turtles, as larger turtles may be able to crush the mouth gag. A set of canine mouth gags must include one of each of the following sizes: small (5 inches) (12.7 cm), medium (6 inches) (15.24 cm), and large (7 inches) (17.78 cm). They must be constructed of stainless steel. The ends must be covered with clear vinyl tubing, friction tape, or similar, to pad the surface.

(c) A set of two sturdy dog chew bones. Placed in the corner of a turtle's jaw, canine chew bones are used to gag open a sea turtle's mouth. Required canine chews must be constructed of durable nylon, zylene resin, or thermoplastic polymer, and strong enough to withstand biting without splintering. To accommodate a variety of turtle beak sizes, a set must include one large (5½-8 inches (13.97 cm-20.32 cm) in length), and one small (3½-4½ inches (8.89 cm-11.43 cm) in length) canine chew bones.

(d) A set of two rope loops covered with protective tubing. A set of two pieces of poly braid rope covered with light duty garden hose or similar flexible tubing each tied or spliced into a loop to provide a one-handed method for keeping the turtle's mouth open during hook and/or line removal. A required set consists of two 3-ft (0.91 m) lengths of poly braid rope (⅜-inch (9.52 mm) diameter suggested), each covered with an 8-inch (20.32 cm) section of ½ inch (1.27 cm) or ¾ inch (1.91 cm) tubing, and each tied into a loop. The upper loop of rope covered with hose is secured on the upper beak to give control with one hand, and the second piece of rope covered with hose is secured on the lower beak to give control with the user's foot.

(e) A hank of rope. Placed in the corner of a turtle's jaw, a hank of rope can be used to gag open a sea turtle's mouth. A 6-ft (1.83 m) lanyard of approximately 3/16-inch (4.76 mm) braided nylon rope may be folded to create a hank, or looped bundle, of rope. Any size soft-braided nylon rope is allowed, however it must create a hank of approximately 2-4 inches (5.08 cm-10.16 cm) in thickness.

(f) A set of four PVC splice couplings. PVC splice couplings can be positioned inside a turtle's mouth to allow access to the back of the mouth for hook and line removal. They are to be held in place with the needle-nose pliers. To ensure proper fit and access, a required set must consist of the following Schedule 40 PVC splice coupling sizes: 1 inch (2.54 cm), 1¼ inch (3.18 cm), 1½ inch (3.81 cm), and 2 inches (5.08 cm).

(g) A large avian oral speculum. A large avian oral speculum provides the ability to hold a turtle's mouth open and to control the head with one hand, while removing a hook with the other hand. The avian oral speculum must be 9-inches (22.86 cm) long, and constructed of 3/16-inch (4.76 mm) wire diameter surgical stainless steel (Type 304). It must be covered with 8 inches (20.32 cm) of clear vinyl tubing (5/16-inch (7.9 mm) outside diameter, 3/16-inch (4.76 mm) inside diameter), friction tape, or similar to pad the surface.

B. Sea turtle handling and release requirements. Sea turtle bycatch mitigation gear, as specified in paragraphs A.1. through 4. of this Appendix F, must be used to disengage any hooked or entangled sea turtles that cannot be brought onboard. Sea turtle bycatch mitigation gear, as specified in paragraphs A.5. through 12. of this Appendix F, must be used to facilitate access, safe handling, disentanglement, and hook removal or hook cutting of sea turtles that can be brought onboard, where feasible. Sea turtles must be handled, and bycatch mitigation gear must be used, in accordance with the careful release protocols and handling/release guidelines provided by NMFS and in accordance with the onboard handling and resuscitation requirements specified in § 223.206(d)(1)of this title.

1. Boated turtles. When practicable, active and comatose sea turtles must be brought on board, with a minimum of injury, using a dipnet as specified in paragraph A.5. of this Appendix F. All turtles less than 3 ft (.91 m) carapace length should be boated, if sea conditions permit.

(a) A boated turtle should be placed on a cushioned/support device, as specified in paragraph A.6. of this Appendix F, in an upright orientation to immobilize it and facilitate gear removal. Then, it should be determined if the hook can be removed without causing further injury. All externally embedded hooks should be removed, unless hook removal would result in further injury to the turtle. No attempt to remove a hook should be made if it has been swallowed and the insertion point is not visible, or if it is determined that removal would result in further injury. If a hook cannot be removed, as much line as possible should be removed from the turtle using monofilament cutters as specified in paragraph A.11. of this Appendix F, and the hook should be cut as close as possible to the insertion point before releasing the turtle, using bolt cutters as specified in paragraph A.10. of this Appendix F. If a hook can be removed, an effective technique may be to cut off either the barb, or the eye, of the hook using bolt cutters, and then to slide the hook out. When the hook is visible in the front of the mouth, a mouth-opener, as specified in paragraph A.12. of this Appendix F, may facilitate opening the turtle's mouth and a gag may facilitate keeping the mouth open. Short-handled dehookers for internal hooks, or long-nose or needle-nose pliers, as specified in paragraphs A.7. and A.8. of this Appendix F, respectively, should be used to remove visible hooks from the mouth that have not been swallowed on boated turtles, as appropriate. As much gear as possible must be removed from the turtle without causing further injury prior to its release. Refer to the careful release protocols and handling/release guidelines required in § 622.10(c)(1), and the handling and resuscitation requirements specified in § 223.206(d)(1) of this title, for additional information.

(b) [Reserved]

2. Non-boated turtles. If a sea turtle is too large, or hooked in a manner that precludes safe boating without causing further damage or injury to the turtle, sea turtle bycatch mitigation gear specified in paragraphs A.1. through 4. of this Appendix F must be used to disentangle sea turtles from fishing gear and disengage any hooks, or to clip the line and remove as much line as possible from a hook that cannot be removed, prior to releasing the turtle, in accordance with the protocols specified in § 622.10(c)(1).

(a) Non-boated turtles should be brought close to the boat and provided with time to calm down. Then, it must be determined whether or not the hook can be removed without causing further injury. All externally embedded hooks must be removed, unless hook removal would result in further injury to the turtle. No attempt should be made to remove a hook if it has been swallowed, or if it is determined that removal would result in further injury. If the hook cannot be removed and/or if the animal is entangled, as much line as possible must be removed prior to release, using a line cutter as specified in paragraph A.1. of this Appendix F. If the hook can be removed, it must be removed using a long-handled dehooker as specified in paragraphs A.2. and A.3. of this Appendix F. Without causing further injury, as much gear as possible must be removed from the turtle prior to its release. Refer to the careful release protocols and handling/release guidelines required in § 622.10(c)(1), and the handling and resuscitation requirements specified in § 223.206(d)(1) for additional information.

(b) [Reserved]

4. Effective April 17, 2013 through September 23, 2013, definitions for “Off Alabama”, “Off Louisiana”, and “Off Mississippi” are added to § 622.2 to read as follows:

§ 622.2 Definitions and acronyms.

* * * * *

Off Alabama means the waters in the Gulf west of a rhumb line at 87°31.1′ W. long., which is a line directly south from the Alabama/Florida boundary, to a rhumb line at 88°23.1′ W. long., which is a line directly south from the Mississippi/Alabama boundary.

* * * * *

Off Louisiana means the waters in the Gulf west of a rhumb line at 89°10.0′ W. long., which is a line extending directly south from South Pass Light, to a rhumb line beginning at 29°32.1′ N. lat., 93°47.7′ W. long. and extending to 26°11.4′ N. lat., 92°53.0′ W. long., which line is an extension of the boundary between Louisiana and Texas.

* * * * *

Off Mississippi means the waters in the Gulf west of a rhumb line at 88°23.1′ W. long., which is a line directly south from the Mississippi/Alabama boundary, to a rhumb line at 89°10.0′ W. long., which is a line extending directly south from South Pass Light.

* * * * *

5. Effective April 17, 2013 through May 15, 2013, § 622.39(a)(1)(vi) is suspended, and § 622.39(a)(1)(vii) is added to read as follows:

§ 622.39 Quotas.

* * * * *

(a) * * *

(1) * * *

(vii) Gray triggerfish—60,900 lb (27,624 kg), round weight.

* * * * *

6. Effective April 17, 2013 through September 23, 2013, § 622.39(c)(1) is suspended, and § 622.39(c)(3) is added to read as follows:

§ 622.39 Quotas.

* * * * *

(c) * * *

(3) After closure of the recreational quota for red snapper. The bag and possession limit for red snapper in or from the Gulf EEZ is zero.

* * * * *

7. Effective April 17, 2013 through May 15, 2013, § 622.41(b) is suspended, and § 622.41(q) is added to read as follows:

§ 622.41 Annual catch limits (ACLs), annual catch targets (ACTs), and accountability measures (AMs).

* * * * *

(q) Gray triggerfish—(1) Commercial sector. If commercial landings, as estimated by the SRD, reach or are projected to reach the applicable quota specified in § 622.39(a)(1)(vi), the AA will file a notification with the Office of the Federal Register to close the commercial sector for the remainder of the fishing year. In addition, if despite such closure, commercial landings exceed the applicable annual catch limit (ACL), the AA will file a notification with the Office of the Federal Register, at or near the beginning of the following fishing year, to reduce the quota for that following year by the amount the prior-year ACL was exceeded. The commercial ACL for 2010 and subsequent fishing years is 138,000 lb (62,596 kg).

(2) Recreational sector. If recreational landings, as estimated by the SRD, exceed the ACL, the AA will file a notification with the Office of the Federal Register reducing the length of the following recreational fishing season by the amount necessary to ensure recreational landings do not exceed the recreational target catch for that following fishing year. The recreational ACL for 2010 and subsequent fishing years is 457,000 lb (207,291 kg). The recreational ACT for 2010 and subsequent fishing years is 405,000 lb (183,705 kg). Recreational landings will be evaluated relative to the ACL based on a moving multi-year average of landings, as described in the FMP.

8. Effective April 17, 2013 through May 6, 2013, § 622.193(n)(1) is suspended, and § 622.193(n)(3) is added to read as follows:

§ 622.193 Annual catch limits (ACLs), annual catch targets (ACTs), and accountability measures (AMs).

* * * * *

(n) * * *

(3) Commercial sector—(i) If commercial landings for yellowtail snapper, as estimated by the SRD, reach or are projected to reach the commercial ACL of 1,596,510 lb (724,165 kg), round weight, the AA will file a notification with the Office of the Federal Register to close the commercial sector for the remainder of the fishing year. On and after the effective date of such a notification, all sale or purchase of yellowtail snapper is prohibited and harvest or possession of this species in or from the South Atlantic EEZ is limited to the bag and possession limit. This bag and possession limit applies in the South Atlantic on board a vessel for which a valid Federal commercial or charter vessel/headboat permit for South Atlantic snapper-grouper has been issued, without regard to where such species were harvested, i.e., in state or Federal waters.

(ii) If commercial landings exceed the ACL, and yellowtail snapper is overfished, based on the most recent Status of U.S. Fisheries Report to Congress, the AA will file a notification with the Office of the Federal Register, at or near the beginning of the following fishing year to reduce the ACL for that following year by the amount of the overage in the prior fishing year.

* * * * *

PART 640—[REMOVED]

9. Under the authority of 16 U.S.C. 1801 et seq., part 640 is removed.

[FR Doc. 2013-08127 Filed 4-16-13; 8:45 am]

BILLING CODE 3510-22-P